FEDERAL COMMUNICATIONS COMMISSION

47 CFR Part 2

[ET Docket No. 23-108, DA 23-241; FR ID 145484]

Table of Frequency Allocations and Radio Regulations

AGENCY: Federal Communications Commission.

ACTION: Final rule.

SUMMARY: In this document, the Federal Communications Commission's (Commission) Office of Engineering and Technology (OET) makes non-substantive editorial revisions to conform certain of the Commission's rules to the formatting requirements of the Code of Federal Regulations (CFR). The purpose of this administrative action is to implement formatting revisions to the Table of Frequency Allocations (Allocation Table) footnotes to comply with the standard CFR codification structure. This document also makes non-substantive, editorial revisions to the descriptions of the Radio Regulations of the International Telecommunication Union; the United States Table of Frequency Allocations; and the United States, Non-Federal Government, and Federal Government Footnotes, and adds descriptions of the Allocation Table and International Footnotes to clarify the descriptions of the contents and structure of the Allocation Table.

DATES: Effective July 7, 2023.

FOR FURTHER INFORMATION CONTACT: Patrick Forster, Office of Engineering and Technology, at (202) 418-7061, Patrick.Forster@fcc.gov.

SUPPLEMENTARY INFORMATION: This is a summary of OET's Order in ET Docket No. 23-108, DA 23-241, adopted and released on March 31, 2023. The full text of this document is available on the FCC's website at https://www.fcc.gov/document/oet-makes-non-substantive-editorial-revisions-part-2. To request materials in accessible formats for people with disabilities, send an email to FCC504@fcc.gov (mail to: FCC504@fcc.gov), or call the Consumer & Governmental Affairs Bureau at 202-418-0530 (voice), 202-418-0432 (TTY).

Synopsis

By this administrative action, the Commission makes non-substantive, editorial revisions to conform Commission rules to formatting requirements of the Code of Federal Regulations (CFR). These actions do not modify or otherwise change any entity's underlying rights or responsibilities. Specifically, this action implements formatting revisions to the § 2.106 Table of Frequency Allocations (Allocation Table) footnotes to conform to the Office of the Federal Register's (OFR) standard CFR codification structure. This action also makes non-substantive, editorial revisions to descriptions of the Radio Regulations of the International Telecommunication Union (Radio Regulations) (ITU); the United States Table of Frequency Allocations (U.S. Table); and the United States, Non-Federal Government, and Federal Government Footnotes categories in §§ 2.100, 2.105, and 2.106 of the rules, respectively; and adds descriptions of the Allocation Table and International Footnotes categories in § 2.106, to clarify the descriptions of the contents and structure of the International Table and the U.S. Table and describe the structure and contents of the Allocation Table.

The Allocation Table in § 2.106 of the Commission's rules is the Commission's means of organizing and presenting the use of radiofrequency spectrum in the United States and its insular areas by radio services under specified conditions. The Allocation Table consists of six columns that are divided into cells, with each cell representing a specific frequency band(s). The Allocation Table is comprised of the International Table, administered by the International Telecommunication Union (ITU) (columns 1-3), the United States Table of Frequency Allocations (U.S. Table) (columns 4 and 5), and cross-references to FCC rule part(s) (column 6). The International Table is subdivided into the Region 1, Region 2, and Region 3 columns, which reflect the corresponding regional or worldwide frequency allocations in the ITU Radio Regulations. The U.S. Table is subdivided into the Federal Table of Frequency Allocations in column 4 (Federal Table) and the non-Federal Table of Frequency Allocations in column 5 (non-Federal Table). The FCC rule part(s) column contains cross-references to the relevant service rules in the Code of Federal Regulations, where applicable. The International Table, the Federal Table, and the FCC rule part(s) are included in the Allocation Table for informational purposes only.

The U.S. Table contains references to U.S., non-Federal, Federal, and certain international footnotes. The footnotes denote specific use restrictions affecting radiofrequency operations in the particular frequency band. The text of the international, U.S., non-Federal, and Federal footnotes immediately follows the Allocation Table in § 2.106. Any footnote number consisting of “5.” followed by one or more digits/letters (e.g., “5.53”) denotes an international footnote that is binding on users in the band. Any footnote consisting of the letters “US” followed by one or more digits/letters (e.g., “US7”) denotes a stipulation affecting both Federal and non-Federal radiofrequency operations in the particular frequency band in the United States. Any footnote consisting of the letters “NG” followed by one or more digits/letters (e.g., “NG3”) denotes a stipulation applicable only to non-Federal radiofrequency operations in the particular frequency band in the United States. Any footnote consisting of the letter “G” followed by one or more digits/letters (e.g., “G2”) denotes a stipulation applicable only to Federal radiofrequency operations in the particular frequency band in the United States. In some cases, a letter has, or letters have, been appended to the digit(s) of a footnote number to preserve the sequential order.

The Federal Register Act and its implementing regulations require that regulatory material be codified in the CFR in standard codified structure. As currently structured, the international, U.S., non-Federal, and Federal footnotes that follow the Allocation Table in § 2.106 are not formatted in the standard CFR codification structure contained in 1 CFR 21.11—Standard organization of the Code of Federal Regulations. This Order implements formatting revisions to all of the Allocation Table footnotes to comply with the standard CFR organizational structure.

Through the process of reformatting § 2.106, the Commission found additional issues in § 2.106 that must be addressed to conform to the Office of the Federal Register's (OFR's) standard CFR codification structure. Specifically, Appendix C of the OFR's Document Drafting Handbook lists certain drafting conventions that are no longer permitted in the CFR and states that agencies must make conforming changes unless they have a formally approved deviation. In this Order, the Commission addresses the following issues: (1) Footnotes that are “[Reserved];” (2) Footnotes or notes that include multiple paragraphs; (3) Footnotes or notes with multiple paragraph levels; (4) Footnotes or notes that include regulatory content; and (5) Paragraph designations in the middle of a paragraph.

Discussion

Section 553(b)(B) of the Administrative Procedure Act (APA) provides exceptions to the notice and comment rulemaking procedures when, among other things, the agency finds for good cause that the notice and comment requirements are “impracticable, unnecessary, or contrary to the public interest” with respect to the rules at issue. This Final Rule consists of several non-substantive, editorial actions to add new or revise existing explanatory paragraphs before the Allocation Table and footnote categories in § 2.106, revise the format used for the footnotes that are listed after the Allocation Table in § 2.106, and provide descriptions of the International Table and the U.S. Table portions of the Allocation Table in §§ 2.100 and 2.105 of the rules, respectively. The rules adopted in the Order do not modify or otherwise change any entity's underlying rights or responsibilities and, as such, entail no substantive regulatory decisions of any consequence or significance to industry or the general public. Accordingly, there is good cause to find that it is “unnecessary,” within the meaning of section 553(b)(B), to provide notice and an opportunity for public comment before implementing these rule revisions. The Acting Chief, Office of Engineering and Technology (OET) adopted the Order under delegated authority.

First, in § 2.106, the Commission adds paragraphs (a) through (e) to the existing table and footnotes categories, in accordance with the OFR's standard CFR codification structure contained in 1 CFR 21.11(h), to describe the structure and contents of the Allocation Table. The addition of paragraph (a) before the Allocation Table is administrative in nature because it merely notes that the Allocation Table is comprised of the International Table and the United States Table, and notes where those tables, the ITU Radio Regulations, and the terms and acronyms used in the Allocation Table are described in the Commission's rules.

In accordance with the OFR's standard CFR codification structure, the Commission adds paragraph (b) in § 2.106 before the list of international footnotes to provide a description of these footnotes' numbering format and their use in the Federal Table and non-Federal Table. The addition of this paragraph before the international footnotes is administrative in nature since it is based on descriptions contained in §§ 2.104 and 2.105 of the Commission's rules, and simply notes where the ITU Radio Regulations, and the terms and abbreviations used in the international footnotes, are described in the Commission's rules. The Commission also move the existing parenthetical text currently located before the lists of United States footnotes, non-Federal footnotes, and Federal footnotes to paragraphs (c), (d), and (e) of § 2.106, respectively, to provide a description of these footnotes' numbering format and their use in the Federal and non-Federal Tables.

Second, the Commission observe that: (1) most footnotes to the Allocation Table contain regulatory content; (2) many of these footnotes are multiple paragraphs long or contain multiple paragraph levels; and (3) some footnotes contain paragraph designations in the middle of a paragraph. The Commission addresses these issues by fully implementing the OFR's standard CFR codification structure formatting in the footnotes to the Allocation Table. For certain international footnotes with separate paragraphs, the Commission merges the paragraphs to form a single paragraph. The Commission labels the tables and notes within footnotes in ascending numerical order, and if there is not an additional paragraph, the Commission moves the table to the end of the footnote text. Consistent with the Radio Regulations, the Commission adds a space between the fourth and third digits for five and six digit numbers within international and domestic footnotes.

Third, as required in the standard CFR codification structure, the Commission updates the cross-references in the footnotes in § 2.106 to conform to the OFR's standard CFR codification structure.

The Commission also amends §§ 2.100 and 2.105, respectively, to clarify the descriptions of the contents and structure of the International Table and the U.S. Table. Specifically, the Commission adds paragraph (a) to section 2.100 to provide a brief description of the structure of the ITU and its regulations for informational purposes. These consist of: (1) Articles 1-59 in volume 1; Article 5 includes the ITU's Table of Frequency Allocations, which is the basis for the International Table in § 2.106, as well as the text of the footnotes to the ITU's Table of Frequency Allocations, which is the basis for the list of international footnotes in § 2.106; (2) Appendices (with Annexes) in volume 2; (3) Resolutions and Recommendations in volume 3; and (4) ITU-R Recommendations referenced in volume 4. The ITU Radio Regulations are available at https://www.itu.int/pub/R-REG-RR/en.

Finally, the Commission revises § 2.105(d)(5) to clarify that the footnotes to the Allocation Table are listed in ascending numerical order in paragraphs (b) through (e) of § 2.106 and to remove footnote 7 from paragraphs (d)(5)(i) through (iv) and include the text of the footnote in paragraph (d)(5). In section 2.105, the Commission replaces “consisting of” in the first line of paragraph (d)(5)(i) and “consisting of the letters” in each of the paragraphs (d)(5)(ii) through (iv) with “in the format.” In paragraphs (d)(5)(iii) and (iv), the Commission replaces “Non-Federal footnotes” and “Federal footnotes” with “Non-Federal Government (non-Federal) footnotes” and “Federal Government (Federal) footnotes.”

Paperwork Reduction Act Analysis

This document does not contain new or modified information collection requirements subject to the Paperwork Reduction Act of 1995 (PRA), Public Law 104-13. In addition, therefore, it does not contain any new or modified information collection burdens for small business concerns with fewer than 25 employees, pursuant to the Small Business Paperwork Relief Act of 2002, Public Law 107-198, see 44 U.S.C. 3506(c)(4).

Congressional Review Act

The Commission has determined, and the Administrator of the Office of Information and Regulatory Affairs, Office of Management and Budget, concurs, that this rule is “non-major” under the Congressional Review Act, 5 U.S.C. 804(2). The Commission will send a copy of the Order to Congress and the Government Accountability Office pursuant to 5 U.S.C. 801(a)(1)(A).

Administrative Procedure Act Requirements

The Commission amends part 2 of the Commission's rules herein by incorporating non-substantive, editorial revisions only. Therefore, there is good cause for not employing the notice and comment procedure in this case. Specifically, the Commission finds that the normal procedures for notice and comment and for publication as required under section 553 of the Administrative Procedure Act would be impracticable, unnecessary, or contrary to the public interest. See 5 U.S.C. 553(b)(3)(B); Kessler v. FCC, 326 F.2d 673 (D.C. Cir. 1963).

Ordering Clause

It is ordered that part 2 of the Commission's rules, 47 CFR part 2, is amended as set forth in the Appendix of the Order, effective 30 days after publication in the Federal Register. This action is taken pursuant to authority found in sections 4(i) and 303 of the Communications Act of 1934, as amended, 47 U.S.C. 154(i) and 303, and in §§ 0.11, 0.31, 0.231(b) and 0.241(i) of the Commission's rules, 47 CFR 0.11, 0.31, 0.231(b) and 0.241(i).

Petitions for reconsideration under 47 CFR 1.429 or applications for review by the Commission under 47 CFR 1.115 may be filed within 30 days after publication in the Federal Register. Should no petitions for reconsideration or applications for review be timely filed, this proceeding shall be terminated, and its docket closed.

List of Subjects in 47 CFR Part 2

Radio.

Federal Communications Commission.
Ronald T. Repasi,
Chief, Office of Engineering and Technology.

Final Rules

For the reasons discussed in the preamble, the Federal Communications Commission amends 47 CFR part 2 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Revise § 2.100 to read as follows:

§ 2.100 International Radio Regulations.

The United States is a Member State of the International Telecommunication Union (ITU). The legal framework of the ITU is comprised of the Constitution and Convention of the International Telecommunication Union—which have treaty status and are binding on ITU Member States—and the Administrative Regulations—which complement the Constitution and the Convention. The Radio Regulations form an integral part of the Administrative Regulations.

(a) The Radio Regulations are available at https://www.itu.int/pub/R-REG-RR/en and consist of:

(1) Articles in volume 1. Article 5 includes the ITU's Table of Frequency Allocations, which is the basis for the International Table in § 2.106, as well as the text of the footnotes to the ITU's Table of Frequency Allocations, which is the basis for the list of international footnotes in § 2.106. A description of terms and abbreviations used in the international footnotes is as follows:

(i) ITU-R (ITU Radiocommunication Sector).

(ii) No. (composite number indicating the number of the ITU Article and the provision number within that Article (e.g., No. 9.2B means provision No. 2B of Article 9).

(iii) Radio Regulations (ITU Radio Regulations).

(iv) WRC (World Radiocommunication Conference).

(2) Appendices (with Annexes) in volume 2.

(3) Resolutions and Recommendations in volume 3.

(4) ITU Radiocommunication Sector (ITU-R) Recommendations as referenced in volume 4.

(b) The Radio Regulations (Edition of 2012) have been incorporated to the extent practicable in this part, except that the International Table within § 2.106 has been updated to reflect the Radio Regulations (Edition of 2016).

3. Amend § 2.105 by revising paragraphs (b), (c) introductory text, (c)(1) introductory text, (d) introductory text, (d)(5), and (e) introductory text to read as follows:

§ 2.105 United States Table of Frequency Allocations.

* * * * *

(b) In the United States, radio spectrum may be allocated to either Federal or non-Federal use exclusively, or for shared use. In the case of shared use, the type of service(s) permitted need not be the same (e.g., Federal FIXED, non-Federal MOBILE). The terms used to designate categories of services and allocations in columns 4 and 5 of § 2.106 correspond to the terms in the ITU Radio Regulations.

(c) Any segment of the radio spectrum may be allocated to the Federal and/or non-Federal sectors either on an exclusive or shared basis for use by one or more radio services.

(1) In the case where an allocation has been made to more than one service, such services are listed in the following order:

* * * * *

(d) The format of the United States Table is as follows:

* * * * *

(5) The footnotes to the Allocation Table are listed in ascending numerical order in § 2.106(b) through (e); however, in some cases, a letter(s) has/have been appended after the digit(s) of a footnote number in order to preserve the sequential order. The following symbols are used to designate footnotes in the United States Table:

(i) Any footnote number in the format “5.” followed by one or more digits, e.g., 5.53, denotes an international footnote. Where an international footnote is applicable, without modification, to both Federal and non-Federal operations, the Commission places the footnote in both the Federal Table and the non-Federal Table (columns 4 and 5) and the international footnote is binding on both Federal users and non-Federal licensees. If, however, an international footnote pertains to a service allocated only for Federal or non-Federal use, the international footnote will be placed only in the relevant Table. For example, footnote 5.142 pertains only to the amateur service, and thus, footnote 5.142 is shown only in the non-Federal Table.

(ii) Any footnote in the format “US” followed by one or more digits, e.g., US7, denotes a stipulation affecting both Federal and non-Federal operations. United States footnotes appear in both the Federal Table and the non-Federal Table.

(iii) Any footnote in the format “NG” followed by one or more digits, e.g., NG2, denotes a stipulation applicable only to non-Federal operations. Non-Federal Government (non-Federal) footnotes appear solely in the non-Federal Table (column 5).

(iv) Any footnote in the format “G” followed by one or more digits, e.g., G2, denotes a stipulation applicable only to Federal operations. Federal Government (Federal) footnotes appear solely in the Federal Table (column 4).

* * * * *

(e) If a frequency or frequency band has been allocated to a radiocommunication service in the non-Federal Table, then a cross reference may be added to the pertinent FCC Rule part (column 6 of § 2.106) or, where greater specificity would be useful, to the pertinent subpart. For example, the band 849-851 MHz is allocated to the aeronautical mobile service for non-Federal use, rules for the use of the 849-851 MHz band have been added to part 22—Public Mobile Services (47 CFR part 22), and a cross reference, Public Mobile (22), has been added in column 6 of § 2.106. The exact use that can be made of any given frequency or frequency band (e.g., channeling plans, allowable emissions, etc.) is given in the FCC Rule part(s) so indicated. The FCC Rule parts in this column are not allocations, may apply to only a portion of a band, and are provided for informational purposes only. This column also may contain explanatory notes for informational purposes only.

* * * * *

4. Amend § 2.106 by:

a. Adding paragraph (a) before the Table of Frequency Allocations;

b. Removing the “International Footnotes,” “United States (US) Footnotes,” “Non-Federal Government (NG) Footnotes,” and “Federal Government (G) Footnotes;” and

c. Adding paragraphs (b) through (e) following the Table of Frequency Allocations.

The additions read as follows:

§ 2.106 Table of Frequency Allocations.

(a) Allocation Table. The Table of Frequency Allocations (Allocation Table) consists of the International Table of Frequency Allocations (International Table), the United States Table of Frequency Allocations (United States Table), and the FCC rule part(s) cross references as described in §§ 2.104 and 2.105, respectively. The International Telecommunication Union (ITU) Radio Regulations are described in § 2.100. The definitions of terms and acronyms used in the Allocation Table are specified in § 2.1. The footnotes to the Allocation Table are listed in ascending numerical order in paragraphs (b) through (e) of this section; however, in some cases, a letter(s) has/have been appended to the digit(s) of a footnote number in order to preserve the sequential order.

* * * * *

(b) International footnotes. International footnotes, each in the format “5.” followed by one or more digits, denote stipulations applicable in the relationship between the United States and other nations and thus appear at a minimum in the International Table. Where an international footnote is applicable, without modification, to both Federal and non-Federal operations, the footnote is placed in both the Federal Table and the non-Federal Table (columns 4 and 5) and the international footnote is binding on both Federal users and non-Federal licensees. If, however, an international footnote pertains to a service allocated only for Federal or non-Federal use, the international footnote will be placed only in the relevant Table. Annex, Appendix, Article, No., and Resolution are cross references to provisions in the International Telecommunication Union (ITU) Radio Regulations (see § 2.100 for descriptions of the structure of the ITU Radio Regulations and the terms and abbreviations used in the international footnotes). The ITU-R Recommendations referenced in certain of the international footnotes are available at https://www.itu.int/pub/R-REC. The list of international footnotes follows:

(1)-(52) [Reserved]

(53) 5.53 Administrations authorizing the use of frequencies below 8.3 kHz shall ensure that no harmful interference is caused to services to which the bands above 8.3 kHz are allocated.

(54) 5.54 Administrations conducting scientific research using frequencies below 8.3 kHz are urged to advise other administrations that may be concerned in order that such research may be afforded all practicable protection from harmful interference.

(i) 5.54A Use of the 8.3-11.3 kHz frequency band by stations in the meteorological aids service is limited to passive use only. In the band 9-11.3 kHz, meteorological aids stations shall not claim protection from stations of the radionavigation service submitted for notification to the Bureau prior to 1 January 2013. For sharing between stations of the meteorological aids service and stations in the radionavigation service submitted for notification after this date, the most recent version of Recommendation ITU-R RS.1881 should be applied.

(ii) 5.54B Additional allocation: in Algeria, Saudi Arabia, Bahrain, Egypt, the United Arab Emirates, the Russian Federation, Iran (Islamic Republic of), Iraq, Kuwait, Lebanon, Morocco, Qatar, the Syrian Arab Republic, Sudan and Tunisia, the frequency band 8.3-9 kHz is also allocated to the radionavigation, fixed and mobile services on a primary basis.

(iii) 5.54C Additional allocation: in China, the frequency band 8.3-9 kHz is also allocated to the maritime radionavigation and maritime mobile services on a primary basis.

(55) 5.55 Additional allocation: in Armenia, the Russian Federation, Georgia, Kyrgyzstan, Tajikistan and Turkmenistan, the frequency band 14-17 kHz is also allocated to the radionavigation service on a primary basis.

(56) 5.56 The stations of services to which the bands 14-19.95 kHz and 20.05-70 kHz and in Region 1 also the bands 72-84 kHz and 86-90 kHz are allocated may transmit standard frequency and time signals. Such stations shall be afforded protection from harmful interference. In Armenia, Azerbaijan, Belarus, the Russian Federation, Georgia, Kazakhstan, Kyrgyzstan, Tajikistan and Turkmenistan, the frequencies 25 kHz and 50 kHz will be used for this purpose under the same conditions.

(57) 5.57 The use of the bands 14-19.95 kHz, 20.05-70 kHz and 70-90 kHz (72-84 kHz and 86-90 kHz in Region 1) by the maritime mobile service is limited to coast radiotelegraph stations (A1A and F1B only). Exceptionally, the use of class J2B or J7B emissions is authorized subject to the necessary bandwidth not exceeding that normally used for class A1A or F1B emissions in the band concerned.

(58) 5.58 Additional allocation: in Armenia, Azerbaijan, the Russian Federation, Georgia, Kazakhstan, Kyrgyzstan, Tajikistan and Turkmenistan, the band 67-70 kHz is also allocated to the radionavigation service on a primary basis.

(59) 5.59 Different category of service: in Bangladesh and Pakistan, the allocation of the bands 70-72 kHz and 84-86 kHz to the fixed and maritime mobile services is on a primary basis (see No. 5.33).

(60) 5.60 In the bands 70-90 kHz (70-86 kHz in Region 1) and 110-130 kHz (112-130 kHz in Region 1), pulsed radionavigation systems may be used on condition that they do not cause harmful interference to other services to which these bands are allocated.

(61) 5.61 In Region 2, the establishment and operation of stations in the maritime radionavigation service in the bands 70-90 kHz and 110-130 kHz shall be subject to agreement obtained under No. 9.21 with administrations whose services, operating in accordance with the Table, may be affected. However, stations of the fixed, maritime mobile and radiolocation services shall not cause harmful interference to stations in the maritime radionavigation service established under such agreements.

(62) 5.62 Administrations which operate stations in the radionavigation service in the band 90-110 kHz are urged to coordinate technical and operating characteristics in such a way as to avoid harmful interference to the services provided by these stations.

(63) [Reserved]

(64) 5.64 Only classes A1A or F1B, A2C, A3C, F1C or F3C emissions are authorized for stations of the fixed service in the bands allocated to this service between 90 kHz and 160 kHz (148.5 kHz in Region 1) and for stations of the maritime mobile service in the bands allocated to this service between 110 kHz and 160 kHz (148.5 kHz in Region 1). Exceptionally, class J2B or J7B emissions are also authorized in the bands between 110 kHz and 160 kHz (148.5 kHz in Region 1) for stations of the maritime mobile service.

(65) 5.65 Different category of service: in Bangladesh, the allocation of the bands 112-117.6 kHz and 126-129 kHz to the fixed and maritime mobile services is on a primary basis (see No. 5.33).

(66) 5.66 Different category of service: in Germany, the allocation of the band 115-117.6 kHz to the fixed and maritime mobile services is on a primary basis (see No. 5.33) and to the radionavigation service on a secondary basis (see No. 5.32).

(67) 5.67 Additional allocation: in Mongolia, Kyrgyzstan and Turkmenistan, the band 130-148.5 kHz is also allocated to the radionavigation service on a secondary basis. Within and between these countries this service shall have an equal right to operate.

(i) 5.67A Stations in the amateur service using frequencies in the band 135.7-137.8 kHz shall not exceed a maximum radiated power of 1 W (e.i.r.p.) and shall not cause harmful interference to stations of the radionavigation service operating in countries listed in paragraph (b)(67) of this section.

(ii) 5.67B The use of the band 135.7-137.8 kHz in Algeria, Egypt, Iran (Islamic Republic of), Iraq, Lebanon, Syrian Arab Republic, Sudan, South Sudan and Tunisia is limited to the fixed and maritime mobile services. The amateur service shall not be used in the above-mentioned countries in the band 135.7-137.8 kHz, and this should be taken into account by the countries authorizing such use.

(68) 5.68 Alternative allocation: in Congo (Rep. of the), the Dem. Rep. of the Congo and South Africa, the frequency band 160-200 kHz is allocated to the fixed service on a primary basis.

(69) 5.69 Additional allocation: in Somalia, the band 200-255 kHz is also allocated to the aeronautical radionavigation service on a primary basis.

(70) 5.70 Alternative allocation: in Angola, Botswana, Burundi, the Central African Rep., Congo (Rep. of the), Ethiopia, Kenya, Lesotho, Madagascar, Malawi, Mozambique, Namibia, Nigeria, Oman, the Dem. Rep. of the Congo, South Africa, Swaziland, Tanzania, Chad, Zambia and Zimbabwe, the band 200-283.5 kHz is allocated to the aeronautical radionavigation service on a primary basis.

(71) 5.71 Alternative allocation: in Tunisia, the band 255-283.5 kHz is allocated to the broadcasting service on a primary basis.

(72) [Reserved]

(73) 5.73 The band 285-325 kHz (283.5-325 kHz in Region 1) in the maritime radionavigation service may be used to transmit supplementary navigational information using narrow-band techniques, on condition that no harmful interference is caused to radiobeacon stations operating in the radionavigation service.

(74) 5.74 Additional allocation: in Region 1, the frequency band 285.3-285.7 kHz is also allocated to the maritime radionavigation service (other than radiobeacons) on a primary basis.

(75) 5.75 Different category of service: in Armenia, Azerbaijan, Belarus, the Russian Federation, Georgia, Moldova, Kyrgyzstan, Tajikistan, Turkmenistan, Ukraine and the Black Sea areas of Romania, the allocation of the band 315-325 kHz to the maritime radionavigation service is on a primary basis under the condition that in the Baltic Sea area, the assignment of frequencies in this band to new stations in the maritime or aeronautical radionavigation services shall be subject to prior consultation between the administrations concerned.

(76) 5.76 The frequency 410 kHz is designated for radio direction-finding in the maritime radionavigation service. The other radionavigation services to which the band 405-415 kHz is allocated shall not cause harmful interference to radio direction-finding in the band 406.5-413.5 kHz.

(77) 5.77 Different category of service: in Australia, China, the French overseas communities of Region 3, Korea (Rep. of), India, Iran (Islamic Republic of), Japan, Pakistan, Papua New Guinea and Sri Lanka, the allocation of the frequency band 415-495 kHz to the aeronautical radionavigation service is on a primary basis. In Armenia, Azerbaijan, Belarus, the Russian Federation, Kazakhstan, Latvia, Uzbekistan and Kyrgyzstan, the allocation of the frequency band 435-495 kHz to the aeronautical radionavigation service is on a primary basis. Administrations in all the aforementioned countries shall take all practical steps necessary to ensure that aeronautical radionavigation stations in the frequency band 435-495 kHz do not cause interference to reception by coast stations of transmissions from ship stations on frequencies designated for ship stations on a worldwide basis.

(78) 5.78 Different category of service: in Cuba, the United States of America and Mexico, the allocation of the band 415-435 kHz to the aeronautical radionavigation service is on a primary basis.

(79) 5.79 The use of the bands 415-495 kHz and 505-526.5 kHz (505-510 kHz in Region 2) by the maritime mobile service is limited to radiotelegraphy.

(i) 5.79A When establishing coast stations in the NAVTEX service on the frequencies 490 kHz, 518 kHz and 4209.5 kHz, administrations are strongly recommended to coordinate the operating characteristics in accordance with the procedures of the International Maritime Organization (IMO) (see Resolution 339 (Rev.WRC-07)).

(ii) [Reserved]

(80) 5.80 In Region 2, the use of the band 435-495 kHz by the aeronautical radionavigation service is limited to non-directional beacons not employing voice transmission.

(i) 5.80A The maximum equivalent isotropically radiated power (e.i.r.p.) of stations in the amateur service using frequencies in the band 472-479 kHz shall not exceed 1 W. Administrations may increase this limit of e.i.r.p. to 5 W in portions of their territory which are at a distance of over 800 km from the borders of Algeria, Saudi Arabia, Azerbaijan, Bahrain, Belarus, China, Comoros, Djibouti, Egypt, United Arab Emirates, the Russian Federation, Iran (Islamic Republic of), Iraq, Jordan, Kazakhstan, Kuwait, Lebanon, Libya, Morocco, Mauritania, Oman, Uzbekistan, Qatar, Syrian Arab Republic, Kyrgyzstan, Somalia, Sudan, Tunisia, Ukraine and Yemen. In this frequency band, stations in the amateur service shall not cause harmful interference to, or claim protection from, stations of the aeronautical radionavigation service.

(ii) 5.80B The use of the frequency band 472-479 kHz in Algeria, Saudi Arabia, Azerbaijan, Bahrain, Belarus, China, Comoros, Djibouti, Egypt, United Arab Emirates, the Russian Federation, Iraq, Jordan, Kazakhstan, Kuwait, Lebanon, Libya, Mauritania, Oman, Uzbekistan, Qatar, Syrian Arab Republic, Kyrgyzstan, Somalia, Sudan, Tunisia and Yemen is limited to the maritime mobile and aeronautical radionavigation services. The amateur service shall not be used in the above-mentioned countries in this frequency band, and this should be taken into account by the countries authorizing such use.

(81) [Reserved]

(82) 5.82 In the maritime mobile service, the frequency 490 kHz is to be used exclusively for the transmission by coast stations of navigational and meteorological warnings and urgent information to ships, by means of narrow-band direct-printing telegraphy. The conditions for use of the frequency 490 kHz are prescribed in Articles 31 and 52. In using the frequency band 415-495 kHz for the aeronautical radionavigation service, administrations are requested to ensure that no harmful interference is caused to the frequency 490 kHz. In using the frequency band 472-479 kHz for the amateur service, administrations shall ensure that no harmful interference is caused to the frequency 490 kHz.

(83) [Reserved]

(84) 5.84 The conditions for the use of the frequency 518 kHz by the maritime mobile service are prescribed in Articles 31 and 52.

(85) [Reserved]

(86) 5.86 In Region 2, in the band 525-535 kHz the carrier power of broadcasting stations shall not exceed 1 kW during the day and 250 W at night.

(87) 5.87 Additional allocation: in Angola, Botswana, Lesotho, Malawi, Mozambique, Namibia, Niger and Swaziland, the band 526.5-535 kHz is also allocated to the mobile service on a secondary basis.

(i) 5.87A Additional allocation: in Uzbekistan, the band 526.5-1606.5 kHz is also allocated to the radionavigation service on a primary basis. Such use is subject to agreement obtained under No. 9.21 with administrations concerned and limited to ground-based radiobeacons in operation on 27 October 1997 until the end of their lifetime.

(ii) [Reserved]

(88) 5.88 Additional allocation: in China, the band 526.5-535 kHz is also allocated to the aeronautical radionavigation service on a secondary basis.

(89) 5.89 In Region 2, the use of the band 1605-1705 kHz by stations of the broadcasting service is subject to the Plan established by the Regional Administrative Radio Conference (Rio de Janeiro, 1988). The examination of frequency assignments to stations of the fixed and mobile services in the band 1625-1705 kHz shall take account of the allotments appearing in the Plan established by the Regional Administrative Radio Conference (Rio de Janeiro, 1988).

(90) 5.90 In the band 1605-1705 kHz, in cases where a broadcasting station of Region 2 is concerned, the service area of the maritime mobile stations in Region 1 shall be limited to that provided by ground-wave propagation.

(91) 5.91 Additional allocation: in the Philippines and Sri Lanka, the band 1606.5-1705 kHz is also allocated to the broadcasting service on a secondary basis.

(92) 5.92 Some countries of Region 1 use radiodetermination systems in the bands 1606.5-1625 kHz, 1635-1800 kHz, 1850-2160 kHz, 2194-2300 kHz, 2502-2850 kHz and 3500-3800 kHz, subject to agreement obtained under No. 9.21. The radiated mean power of these stations shall not exceed 50 W.

(93) 5.93 Additional allocation: in Armenia, Azerbaijan, Belarus, the Russian Federation, Georgia, Hungary, Kazakhstan, Latvia, Lithuania, Mongolia, Nigeria, Uzbekistan, Poland, Kyrgyzstan, Slovakia, Tajikistan, Chad, Turkmenistan and Ukraine, the frequency bands 1625-1635 kHz, 1800-1810 kHz and 2160-2170 kHz are also allocated to the fixed and land mobile services on a primary basis, subject to agreement obtained under No. 9.21.

(94)-(95) [Reserved]

(96) 5.96 In Germany, Armenia, Austria, Azerbaijan, Belarus, Croatia, Denmark, Estonia, the Russian Federation, Finland, Georgia, Hungary, Ireland, Iceland, Israel, Kazakhstan, Latvia, Liechtenstein, Lithuania, Malta, Moldova, Norway, Uzbekistan, Poland, Kyrgyzstan, Slovakia, the Czech Rep., the United Kingdom, Sweden, Switzerland, Tajikistan, Turkmenistan and Ukraine, administrations may allocate up to 200 kHz to their amateur service in the frequency bands 1715-1800 kHz and 1850-2000 kHz. However, when allocating the frequency bands within this range to their amateur service, administrations shall, after prior consultation with administrations of neighbouring countries, take such steps as may be necessary to prevent harmful interference from their amateur service to the fixed and mobile services of other countries. The mean power of any amateur station shall not exceed 10 W.

(97) 5.97 In Region 3, the Loran system operates either on 1850 kHz or 1950 kHz, the bands occupied being 1825-1875 kHz and 1925-1975 kHz respectively. Other services to which the band 1800-2000 kHz is allocated may use any frequency therein on condition that no harmful interference is caused to the Loran system operating on 1850 kHz or 1950 kHz.

(98) 5.98 Alternative allocation: in Armenia, Azerbaijan, Belarus, Belgium, Cameroon, Congo (Rep. of the), Denmark, Egypt, Eritrea, Spain, Ethiopia, the Russian Federation, Georgia, Greece, Italy, Kazakhstan, Lebanon, Lithuania, the Syrian Arab Republic, Kyrgyzstan, Somalia, Tajikistan, Tunisia, Turkmenistan and Turkey, the frequency band 1810-1830 kHz is allocated to the fixed and mobile, except aeronautical mobile, services on a primary basis.

(99) 5.99 Additional allocation: in Saudi Arabia, Austria, Iraq, Libya, Uzbekistan, Slovakia, Romania, Slovenia, Chad, and Togo, the band 1810-1830 kHz is also allocated to the fixed and mobile, except aeronautical mobile, services on a primary basis.

(100) 5.100 In Region 1, the authorization to use the band 1810-1830 kHz by the amateur service in countries situated totally or partially north of 40° N shall be given only after consultation with the countries mentioned in paragraphs (b)(98) and (99) of this section to define the necessary steps to be taken to prevent harmful interference between amateur stations and stations of other services operating in accordance with paragraphs (b)(98) and (99) of this section.

(101) [Reserved]

(102) 5.102 Alternative allocation: in Bolivia, Chile, Paraguay and Peru, the frequency band 1850-2000 kHz is allocated to the fixed, mobile except aeronautical mobile, radiolocation and radionavigation services on a primary basis.

(103) 5.103 In Region 1, in making assignments to stations in the fixed and mobile services in the bands 1850-2045 kHz, 2194-2498 kHz, 2502-2625 kHz and 2650-2850 kHz, administrations should bear in mind the special requirements of the maritime mobile service.

(104) 5.104 In Region 1, the use of the band 2025-2045 kHz by the meteorological aids service is limited to oceanographic buoy stations.

(105) 5.105 In Region 2, except in Greenland, coast stations and ship stations using radiotelephony in the band 2065-2107 kHz shall be limited to class J3E emissions and to a peak envelope power not exceeding 1 kW. Preferably, the following carrier frequencies should be used: 2065.0 kHz, 2079.0 kHz, 2082.5 kHz, 2086.0 kHz, 2093.0 kHz, 2096.5 kHz, 2100.0 kHz and 2103.5 kHz. In Argentina and Uruguay, the carrier frequencies 2068.5 kHz and 2075.5 kHz are also used for this purpose, while the frequencies within the band 2072-2075.5 kHz are used as provided in No. 52.165.

(106) 5.106 In Regions 2 and 3, provided no harmful interference is caused to the maritime mobile service, the frequencies between 2065 kHz and 2107 kHz may be used by stations of the fixed service communicating only within national borders and whose mean power does not exceed 50 W. In notifying the frequencies, the attention of the Bureau should be drawn to these provisions.

(107) 5.107 Additional allocation: in Saudi Arabia, Eritrea, Ethiopia, Iraq, Libya, Somalia and Swaziland, the band 2160-2170 kHz is also allocated to the fixed and mobile, except aeronautical mobile (R), services on a primary basis. The mean power of stations in these services shall not exceed 50 W.

(108) 5.108 The carrier frequency 2182 kHz is an international distress and calling frequency for radiotelephony. The conditions for the use of the band 2173.5-2190.5 kHz are prescribed in Articles 31 and 52.

(109) 5.109 The frequencies 2187.5 kHz, 4207.5 kHz, 6312 kHz, 8414.5 kHz, 12 577 kHz and 16 804.5 kHz are international distress frequencies for digital selective calling. The conditions for the use of these frequencies are prescribed in Article 31.

(110) 5.110 The frequencies 2174.5 kHz, 4177.5 kHz, 6268 kHz, 8376.5 kHz, 12 520 kHz and 16 695 kHz are international distress frequencies for narrow-band direct-printing telegraphy. The conditions for the use of these frequencies are prescribed in Article 31.

(111) 5.111 The carrier frequencies 2182 kHz, 3023 kHz, 5680 kHz, 8364 kHz and the frequencies 121.5 MHz, 156.525 MHz, 156.8 MHz and 243 MHz may also be used, in accordance with the procedures in force for terrestrial radiocommunication services, for search and rescue operations concerning manned space vehicles. The conditions for the use of the frequencies are prescribed in Article 31. The same applies to the frequencies 10 003 kHz, 14 993 kHz and 19 993 kHz, but in each of these cases emissions must be confined in a band of ± 3 kHz about the frequency.

(112) 5.112 Alternative allocation: in Denmark and Sri Lanka, the band 2194-2300 kHz is allocated to the fixed and mobile, except aeronautical mobile, services on a primary basis.

(113) 5.113 For the conditions for the use of the bands 2300-2495 kHz (2498 kHz in Region 1), 3200-3400 kHz, 4750-4995 kHz and 5005-5060 kHz by the broadcasting service, see Nos. 5.16 to 5.20, 5.21 and 23.3 to 23.10.

(114) 5.114 Alternative allocation: in Denmark and Iraq, the band 2502-2625 kHz is allocated to the fixed and mobile, except aeronautical mobile, services on a primary basis.

(115) 5.115 The carrier (reference) frequencies 3023 kHz and 5680 kHz may also be used, in accordance with Article 31, by stations of the maritime mobile service engaged in coordinated search and rescue operations.

(116) 5.116 Administrations are urged to authorize the use of the band 3155-3195 kHz to provide a common worldwide channel for low power wireless hearing aids. Additional channels for these devices may be assigned by administrations in the bands between 3155 kHz and 3400 kHz to suit local needs. It should be noted that frequencies in the range 3000 kHz to 4000 kHz are suitable for hearing aid devices which are designed to operate over short distances within the induction field.

(117) 5.117 Alternative allocation: in Côte d'Ivoire, Denmark, Egypt, Liberia, Sri Lanka and Togo, the band 3155-3200 kHz is allocated to the fixed and mobile, except aeronautical mobile, services on a primary basis.

(118) 5.118 Additional allocation: in the United States, Mexico, Peru and Uruguay, the band 3230-3400 kHz is also allocated to the radiolocation service on a secondary basis.

(119) 5.119 Additional allocation: in Peru, the frequency band 3500-3750 kHz is also allocated to the fixed and mobile services on a primary basis.

(120)-(121) [Reserved]

(122) 5.122 Alternative allocation: in Bolivia, Chile, Ecuador, Paraguay and Peru, the frequency band 3750-4000 kHz is allocated to the fixed and mobile, except aeronautical mobile, services on a primary basis.

(123) 5.123 Additional allocation: in Botswana, Lesotho, Malawi, Mozambique, Namibia, South Africa, Swaziland, Zambia and Zimbabwe, the band 3900-3950 kHz is also allocated to the broadcasting service on a primary basis, subject to agreement obtained under No. 9.21.

(124) [Reserved]

(125) 5.125 Additional allocation: in Greenland, the band 3950-4000 kHz is also allocated to the broadcasting service on a primary basis. The power of the broadcasting stations operating in this band shall not exceed that necessary for a national service and shall in no case exceed 5 kW.

(126) 5.126 In Region 3, the stations of those services to which the band 3995-4005 kHz is allocated may transmit standard frequency and time signals.

(127) 5.127 The use of the band 4000-4063 kHz by the maritime mobile service is limited to ship stations using radiotelephony (see No. 52.220 and Appendix 17).

(128) 5.128 Frequencies in the bands 4063-4123 kHz and 4130-4438 kHz may be used exceptionally by stations in the fixed service, communicating only within the boundary of the country in which they are located, with a mean power not exceeding 50 W, on condition that harmful interference is not caused to the maritime mobile service. In addition, in Afghanistan, Argentina, Armenia, Azerbaijan, Belarus, Botswana, Burkina Faso, the Central African Rep., China, the Russian Federation, Georgia, India, Kazakhstan, Mali, Niger, Pakistan, Kyrgyzstan, Tajikistan, Chad, Turkmenistan and Ukraine, in the bands 4063-4123 kHz, 4130-4133 kHz and 4408-4438 kHz, stations in the fixed service, with a mean power not exceeding 1 kW, can be operated on condition that they are situated at least 600 km from the coast and that harmful interference is not caused to the maritime mobile service.

(129) [Reserved]

(130) 5.130 The conditions for the use of the carrier frequencies 4125 kHz and 6215 kHz are prescribed in Articles 31 and 52.

(131) 5.131 The frequency 4209.5 kHz is used exclusively for the transmission by coast stations of meteorological and navigational warnings and urgent information to ships by means of narrow-band direct-printing techniques.

(132) 5.132 The frequencies 4210 kHz, 6314 kHz, 8416.5 kHz, 12 579 kHz, 16 806.5 kHz, 19 680.5 kHz, 22 376 kHz and 26 100.5 kHz are the international frequencies for the transmission of maritime safety information (MSI) (see Appendix 17).

(i) 5.132A Stations in the radiolocation service shall not cause harmful interference to, or claim protection from, stations operating in the fixed or mobile services. Applications of the radiolocation service are limited to oceanographic radars operating in accordance with Resolution 612 (Rev.WRC-12).

(ii) 5.132B Alternative allocation: in Armenia, Belarus, Moldova, Uzbekistan and Kyrgyzstan, the frequency band 4438-4488 kHz is allocated to the fixed and mobile, except aeronautical mobile (R), services on a primary basis.

(133) 5.133 Different category of service: in Armenia, Azerbaijan, Belarus, the Russian Federation, Georgia, Kazakhstan, Latvia, Lithuania, Niger, Uzbekistan, Kyrgyzstan, Tajikistan, Turkmenistan and Ukraine, the allocation of the band 5130-5250 kHz to the mobile, except aeronautical mobile, service is on a primary basis (see No. 5.33).

(i) 5.133A Alternative allocation: in Armenia, Belarus, Moldova, Uzbekistan and Kyrgyzstan, the frequency bands 5250-5275 kHz and 26 200-26 350 kHz are allocated to the fixed and mobile, except aeronautical mobile, services on a primary basis.

(ii) 5.133B Stations in the amateur service using the frequency band 5351.5-5366.5 kHz shall not exceed a maximum radiated power of 15 W (e.i.r.p.). However, in Region 2 in Mexico, stations in the amateur service using the frequency band 5351.5-5366.5 kHz shall not exceed a maximum radiated power of 20 W (e.i.r.p.). In the following Region 2 countries: Antigua and Barbuda, Argentina, Bahamas, Barbados, Belize, Bolivia, Brazil, Chile, Colombia, Costa Rica, Cuba, Dominican Republic, Dominica, El Salvador, Ecuador, Grenada, Guatemala, Guyana, Haiti, Honduras, Jamaica, Nicaragua, Panama, Paraguay, Peru, Saint Lucia, Saint Kitts and Nevis, Saint Vincent and the Grenadines, Suriname, Trinidad and Tobago, Uruguay, Venezuela, as well as the overseas territories of the Netherlands in Region 2, stations in the amateur service using the frequency band 5351.5-5366.5 kHz shall not exceed a maximum radiated power of 25 W (e.i.r.p.).

(134) 5.134 The use of the bands 5900-5950 kHz, 7300-7350 kHz, 9400-9500 kHz, 11 600-11 650 kHz, 12 050-12 100 kHz, 13 570-13 600 kHz, 13 800-13 870 kHz, 15 600-15 800 kHz, 17 480-17 550 kHz and 18 900-19 020 kHz by the broadcasting service is subject to the application of the procedure of Article 12. Administrations are encouraged to use these bands to facilitate the introduction of digitally modulated emissions in accordance with the provisions of Resolution 517 (Rev.WRC-15).

(135) [Reserved]

(136) 5.136 Additional allocation: frequencies in the band 5900-5950 kHz may be used by stations in the following services, communicating only within the boundary of the country in which they are located: fixed service (in all three Regions), land mobile service (in Region 1), mobile except aeronautical mobile (R) service (in Regions 2 and 3), on condition that harmful interference is not caused to the broadcasting service. When using frequencies for these services, administrations are urged to use the minimum power required and to take account of the seasonal use of frequencies by the broadcasting service published in accordance with the Radio Regulations.

(137) 5.137 On condition that harmful interference is not caused to the maritime mobile service, the bands 6200-6213.5 kHz and 6220.5-6525 kHz may be used exceptionally by stations in the fixed service, communicating only within the boundary of the country in which they are located, with a mean power not exceeding 50 W. At the time of notification of these frequencies, the attention of the Bureau will be drawn to the above conditions.

(138) 5.138 The bands 6765-6795 kHz (centre frequency 6780 kHz), 433.05-434.79 MHz (centre frequency 433.92 MHz) in Region 1 except in the countries mentioned in No. 5.280, 61-61.5 GHz (centre frequency 61.25 GHz), 122-123 GHz (centre frequency 122.5 GHz), and 244-246 GHz (centre frequency 245 GHz) are designated for industrial, scientific and medical (ISM) applications. The use of these frequency bands for ISM applications shall be subject to special authorization by the administration concerned, in agreement with other administrations whose radiocommunication services might be affected. In applying this provision, administrations shall have due regard to the latest relevant ITU-R Recommendations.

(139) [Reserved]

(140) 5.140 Additional allocation: in Angola, Iraq, Somalia and Togo, the frequency band 7000-7050 kHz is also allocated to the fixed service on a primary basis.

(141) 5.141 Alternative allocation: in Egypt, Eritrea, Ethiopia, Guinea, Libya, Madagascar and Niger, the band 7000-7050 kHz is allocated to the fixed service on a primary basis.

(i) 5.141A Additional allocation: in Uzbekistan and Kyrgyzstan, the bands 7000-7100 kHz and 7100-7200 kHz are also allocated to the fixed and land mobile services on a secondary basis.

(ii) 5.141B Additional allocation: in Algeria, Saudi Arabia, Australia, Bahrain, Botswana, Brunei Darussalam, China, Comoros, Korea (Rep. of), Diego Garcia, Djibouti, Egypt, United Arab Emirates, Eritrea, Guinea, Indonesia, Iran (Islamic Republic of), Japan, Jordan, Kuwait, Libya, Mali, Morocco, Mauritania, Niger, New Zealand, Oman, Papua New Guinea, Qatar, the Syrian Arab Republic, Singapore, Sudan, South Sudan, Tunisia, Viet Nam and Yemen, the frequency band 7100-7200 kHz is also allocated to the fixed and the mobile, except aeronautical mobile (R), services on a primary basis.

(142) 5.142 The use of the band 7200-7300 kHz in Region 2 by the amateur service shall not impose constraints on the broadcasting service intended for use within Region 1 and Region 3.

(143) 5.143 Additional allocation: frequencies in the band 7300-7350 kHz may be used by stations in the fixed service and in the land mobile service, communicating only within the boundary of the country in which they are located, on condition that harmful interference is not caused to the broadcasting service. When using frequencies for these services, administrations are urged to use the minimum power required and to take account of the seasonal use of frequencies by the broadcasting service published in accordance with the Radio Regulations.

(i) 5.143A In Region 3, frequencies in the band 7350-7450 kHz may be used by stations in the fixed service on a primary basis and land mobile service on a secondary basis, communicating only within the boundary of the country in which they are located, on condition that harmful interference is not caused to the broadcasting service. When using frequencies for these services, administrations are urged to use the minimum power required and to take account of the seasonal use of frequencies by the broadcasting service published in accordance with the Radio Regulations.

(ii) 5.143B In Region 1, frequencies in the band 7350-7450 kHz may be used by stations in the fixed and land mobile services communicating only within the boundary of the country in which they are located on condition that harmful interference is not caused to the broadcasting service. The total radiated power of each station shall not exceed 24 dBW.

(iii) 5.143C Additional allocation: in Algeria, Saudi Arabia, Bahrain, Comoros, Djibouti, Egypt, United Arab Emirates, Iran (Islamic Republic of), Jordan, Kuwait, Libya, Morocco, Mauritania, Niger, Oman, Qatar, the Syrian Arab Republic, Sudan, South Sudan, Tunisia and Yemen, the bands 7350-7400 kHz and 7400-7450 kHz are also allocated to the fixed service on a primary basis.

(iv) 5.143D In Region 2, frequencies in the band 7350-7400 kHz may be used by stations in the fixed service and in the land mobile service, communicating only within the boundary of the country in which they are located, on condition that harmful interference is not caused to the broadcasting service. When using frequencies for these services, administrations are urged to use the minimum power required and to take account of the seasonal use of frequencies by the broadcasting service published in accordance with the Radio Regulations.

(144) 5.144 In Region 3, the stations of those services to which the band 7995-8005 kHz is allocated may transmit standard frequency and time signals.

(145) 5.145 The conditions for the use of the carrier frequencies 8291 kHz, 12 290 kHz and 16 420 kHz are prescribed in Articles 31 and 52.

(i) 5.145A Stations in the radiolocation service shall not cause harmful interference to, or claim protection from, stations operating in the fixed service. Applications of the radiolocation service are limited to oceanographic radars operating in accordance with Resolution 612 (Rev.WRC-12).

(ii) 5.145B Alternative allocation: in Armenia, Belarus, Moldova, Uzbekistan and Kyrgyzstan, the frequency bands 9305-9355 kHz and 16 100-16 200 kHz are allocated to the fixed service on a primary basis.

(146) 5.146 Additional allocation: frequencies in the bands 9400-9500 kHz, 11 600-11 650 kHz, 12 050-12 100 kHz, 15 600-15 800 kHz, 17 480-17 550 kHz and 18 900-19 020 kHz may be used by stations in the fixed service, communicating only within the boundary of the country in which they are located, on condition that harmful interference is not caused to the broadcasting service. When using frequencies in the fixed service, administrations are urged to use the minimum power required and to take account of the seasonal use of frequencies by the broadcasting service published in accordance with the Radio Regulations.

(147) 5.147 On condition that harmful interference is not caused to the broadcasting service, frequencies in the bands 9775-9900 kHz, 11 650-11 700 kHz and 11 975-12 050 kHz may be used by stations in the fixed service communicating only within the boundary of the country in which they are located, each station using a total radiated power not exceeding 24 dBW.

(148) [Reserved]

(149) 5.149 In making assignments to stations of other services to which the bands listed in table 1 to this paragraph (b)(149) are allocated, administrations are urged to take all practicable steps to protect the radio astronomy service from harmful interference. Emissions from spaceborne or airborne stations can be particularly serious sources of interference to the radio astronomy service (see Nos. 4.5 and 4.6 and Article 29).

(i) 5.149A Alternative allocation: in Armenia, Belarus, Moldova, Uzbekistan and Kyrgyzstan, the frequency band 13 450-13 550 kHz is allocated to the fixed service on a primary basis and to the mobile, except aeronautical mobile (R), service on a secondary basis.

(ii) [Reserved]

Table 1 to Paragraph (b)(149)
13 360-13 410 kHz | 23.07-23.12 GHz.
25 550-25 670 kHz | 31.2-31.3 GHz.
37.5-38.25 MHz | 31.5-31.8 GHz in Regions 1 and 3.
73-74.6 MHz in Regions 1 and 3 | 36.43-36.5 GHz.
150.05-153 MHz in Region 1 | 42.5-43.5 GHz.
322-328.6 MHz | 48.94-49.04 GHz.
406.1-410 MHz | 76-86 GHz.
608-614 MHz in Regions 1 and 3 | 92-94 GHz.
1330-1400 MHz | 94.1-100 GHz.
1610.6-1613.8 MHz | 102-109.5 GHz.
1660-1670 MHz | 111.8-114.25 GHz.
1718.8-1722.2 MHz | 128.33-128.59 GHz.
2655-2690 MHz | 129.23-129.49 GHz.
3260-3267 MHz | 130-134 GHz.
3332-3339 MHz | 136-148.5 GHz.
3345.8-3352.5 MHz | 151.5-158.5 GHz.
4825-4835 MHz | 168.59-168.93 GHz.
4950-4990 MHz | 171.11-171.45 GHz.
4990-5000 MHz | 172.31-172.65 GHz.
6650-6675.2 MHz | 173.52-173.85 GHz.
10.6-10.68 GHz | 195.75-196.15 GHz.
14.47-14.5 GHz | 209-226 GHz.
22.01-22.21 GHz | 241-250 GHz.
22.21-22.5 GHz | 252-275 GHz.
22.81-22.86 GHz

(150) 5.150 The bands 13 553-13 567 kHz (centre frequency 13 560 kHz), 26 957-27 283 kHz (centre frequency 27 120 kHz), 40.66-40.70 MHz (centre frequency 40.68 MHz), 902-928 MHz in Region 2 (centre frequency 915 MHz), 2400-2500 MHz (centre frequency 2450 MHz), 5725-5875 MHz (centre frequency 5800 MHz), and24-24.25 GHz (centre frequency 24.125 GHz) are also designated for industrial, scientific and medical (ISM) applications. Radiocommunication services operating within these bands must accept harmful interference which may be caused by these applications. ISM equipment operating in these bands is subject to the provisions of No. 15.13.

(151) 5.151 Additional allocation: frequencies in the bands 13 570-13 600 kHz and 13 800-13 870 kHz may be used by stations in the fixed service and in the mobile except aeronautical mobile (R) service, communicating only within the boundary of the country in which they are located, on the condition that harmful interference is not caused to the broadcasting service. When using frequencies in these services, administrations are urged to use the minimum power required and to take account of the seasonal use of frequencies by the broadcasting service published in accordance with the Radio Regulations.

(152) 5.152 Additional allocation: in Armenia, Azerbaijan, China, Côte d'Ivoire, the Russian Federation, Georgia, Iran (Islamic Republic of), Kazakhstan, Uzbekistan, Kyrgyzstan, Tajikistan, Turkmenistan and Ukraine, the band 14 250-14 350 kHz is also allocated to the fixed service on a primary basis. Stations of the fixed service shall not use a radiated power exceeding 24 dBW.

(153) 5.153 In Region 3, the stations of those services to which the band 15 995-16 005 kHz is allocated may transmit standard frequency and time signals.

(154) 5.154 Additional allocation: in Armenia, Azerbaijan, the Russian Federation, Georgia, Kazakhstan, Kyrgyzstan, Tajikistan, Turkmenistan and Ukraine, the band 18 068-18 168 kHz is also allocated to the fixed service on a primary basis for use within their boundaries, with a peak envelope power not exceeding 1 kW.

(155) 5.155 Additional allocation: in Armenia, Azerbaijan, Belarus, the Russian Federation, Georgia, Kazakhstan, Moldova, Mongolia, Uzbekistan, Kyrgyzstan, Slovakia, Tajikistan, Turkmenistan and Ukraine, the band 21 850-21 870 kHz is also allocated to the aeronautical mobile (R) service on a primary basis.

(i) 5.155A In Armenia, Azerbaijan, Belarus, the Russian Federation, Georgia, Kazakhstan, Moldova, Mongolia, Uzbekistan, Kyrgyzstan, Slovakia, Tajikistan, Turkmenistan and Ukraine, the use of the band 21 850-21 870 kHz by the fixed service is limited to provision of services related to aircraft flight safety.

(ii) 5.155B The band 21 870-21 924 kHz is used by the fixed service for provision of services related to aircraft flight safety.

(156) 5.156 Additional allocation: in Nigeria, the band 22 720-23 200 kHz is also allocated to the meteorological aids service (radiosondes) on a primary basis.

(i) 5.156A The use of the band 23 200-23 350 kHz by the fixed service is limited to provision of services related to aircraft flight safety.

(ii) [Reserved]

(157) 5.157 The use of the band 23 350-24 000 kHz by the maritime mobile service is limited to inter-ship radiotelegraphy.

(158) 5.158 Alternative allocation: in Armenia, Belarus, Moldova, Uzbekistan and Kyrgyzstan, the frequency band 24 450-24 600 kHz is allocated to the fixed and land mobile services on a primary basis.

(159) 5.159 Alternative allocation: in Armenia, Belarus, Moldova, Uzbekistan and Kyrgyzstan, the frequency band 39-39.5 MHz is allocated to the fixed and mobile services on a primary basis.

(160) 5.160 Additional allocation: in Botswana, Burundi, Dem. Rep. of the Congo and Rwanda, the band 41-44 MHz is also allocated to the aeronautical radionavigation service on a primary basis.

(161) 5.161 Additional allocation: in Iran (Islamic Republic of) and Japan, the band 41-44 MHz is also allocated to the radiolocation service on a secondary basis.

(i) 5.161A Additional allocation: in Korea (Rep. of) and the United States, the frequency bands 41.015-41.665 MHz and 43.35-44 MHz are also allocated to the radiolocation service on a primary basis. Stations in the radiolocation service shall not cause harmful interference to, or claim protection from, stations operating in the fixed or mobile services. Applications of the radiolocation service are limited to oceanographic radars operating in accordance with Resolution 612 (Rev.WRC-12).

(ii) 5.161B Alternative allocation: in Albania, Germany, Armenia, Austria, Belarus, Belgium, Bosnia and Herzegovina, Cyprus, Vatican, Croatia, Denmark, Spain, Estonia, Finland, France, Greece, Hungary, Ireland, Iceland, Italy, Latvia, The Former Yugoslav Rep. of Macedonia, Liechtenstein, Lithuania, Luxembourg, Malta, Moldova, Monaco, Montenegro, Norway, Uzbekistan, Netherlands, Portugal, Kyrgyzstan, Slovakia, Czech Rep., Romania, United Kingdom, San Marino, Slovenia, Sweden, Switzerland, Turkey and Ukraine, the frequency band 42-42.5 MHz is allocated to the fixed and mobile services on a primary basis.

(162) 5.162 Additional allocation: in Australia, the band 44-47 MHz is also allocated to the broadcasting service on a primary basis.

(i) 5.162A Additional allocation: in Germany, Austria, Belgium, Bosnia and Herzegovina, China, Vatican, Denmark, Spain, Estonia, the Russian Federation, Finland, France, Ireland, Iceland, Italy, Latvia, The Former Yugoslav Republic of Macedonia, Liechtenstein, Lithuania, Luxembourg, Monaco, Montenegro, Norway, the Netherlands, Poland, Portugal, the Czech Rep., the United Kingdom, Serbia, Slovenia, Sweden and Switzerland the band 46-68 MHz is also allocated to the radiolocation service on a secondary basis. This use is limited to the operation of wind profiler radars in accordance with Resolution 217 (WRC-97).

(ii) [Reserved]

(163) 5.163 Additional allocation: in Armenia, Belarus, the Russian Federation, Georgia, Hungary, Kazakhstan, Latvia, Moldova, Uzbekistan, Kyrgyzstan, Tajikistan, Turkmenistan and Ukraine, the bands 47-48.5 MHz and 56.5-58 MHz are also allocated to the fixed and land mobile services on a secondary basis.

(164) 5.164 Additional allocation: in Albania, Algeria, Germany, Austria, Belgium, Bosnia and Herzegovina, Botswana, Bulgaria, Côte d'Ivoire, Croatia, Denmark, Spain, Estonia, Finland, France, Gabon, Greece, Ireland, Israel, Italy, Jordan, Lebanon, Libya, Liechtenstein, Lithuania, Luxembourg, Madagascar, Mali, Malta, Morocco, Mauritania, Monaco, Montenegro, Nigeria, Norway, the Netherlands, Poland, Syrian Arab Republic, Slovakia, Czech Rep., Romania, the United Kingdom, Serbia, Slovenia, Sweden, Switzerland, Swaziland, Chad, Togo, Tunisia and Turkey, the frequency band 47-68 MHz, in South Africa the frequency band 47-50 MHz, and in Latvia the frequency band 48.5-56.5 MHz, are also allocated to the land mobile service on a primary basis. However, stations of the land mobile service in the countries mentioned in connection with each frequency band referred to in this footnote shall not cause harmful interference to, or claim protection from, existing or planned broadcasting stations of countries other than those mentioned in connection with the frequency band.

(165) 5.165 Additional allocation: in Angola, Cameroon, Congo (Rep. of the), Madagascar, Mozambique, Niger, Somalia, Sudan, South Sudan, Tanzania and Chad, the band 47-68 MHz is also allocated to the fixed and mobile, except aeronautical mobile, services on a primary basis.

(166) [Reserved]

(167) 5.167 Alternative allocation: in Bangladesh, Brunei Darussalam, India, Iran (Islamic Republic of), Pakistan and Singapore, the frequency band 50-54 MHz is allocated to the fixed, mobile and broadcasting services on a primary basis.

(i) 5.167A Additional allocation: in Indonesia and Thailand, the frequency band 50-54 MHz is also allocated to the fixed, mobile and broadcasting services on a primary basis.

(ii) [Reserved]

(168) 5.168 Additional allocation: in Australia, China and the Dem. People's Rep. of Korea, the band 50-54 MHz is also allocated to the broadcasting service on a primary basis.

(169) 5.169 Alternative allocation: in Botswana, Lesotho, Malawi, Namibia, the Dem. Rep. of the Congo, Rwanda, South Africa, Swaziland, Zambia and Zimbabwe, the band 50-54 MHz is allocated to the amateur service on a primary basis. In Senegal, the band 50-51 MHz is allocated to the amateur service on a primary basis.

(170) 5.170 Additional allocation: in New Zealand, the frequency band 51-54 MHz is also allocated to the fixed and mobile services on a primary basis.

(171) 5.171 Additional allocation: in Botswana, Lesotho, Malawi, Mali, Namibia, Dem. Rep. of the Congo, Rwanda, South Africa, Swaziland, Zambia and Zimbabwe, the band 54-68 MHz is also allocated to the fixed and mobile, except aeronautical mobile, services on a primary basis.

(172) 5.172 Different category of service: in the French overseas departments and communities in Region 2 and Guyana, the allocation of the frequency band 54-68 MHz to the fixed and mobile services is on a primary basis (see No. 5.33).

(173) 5.173 Different category of service: in the French overseas departments and communities in Region 2 and Guyana, the allocation of the frequency band 68-72 MHz to the fixed and mobile services is on a primary basis (see IRU RR No. 5.33).

(174) [Reserved]

(175) 5.175 Alternative allocation: in Armenia, Azerbaijan, Belarus, the Russian Federation, Georgia, Kazakhstan, Moldova, Uzbekistan, Kyrgyzstan, Tajikistan, Turkmenistan and Ukraine, the bands 68-73 MHz and 76-87.5 MHz are allocated to the broadcasting service on a primary basis. In Latvia and Lithuania, the bands 68-73 MHz and 76-87.5 MHz are allocated to the broadcasting and mobile, except aeronautical mobile, services on a primary basis. The services to which these bands are allocated in other countries and the broadcasting service in the countries listed above are subject to agreements with the neighbouring countries concerned.

(176) 5.176 Additional allocation: in Australia, China, Korea (Rep. of), the Philippines, the Dem. People's Rep. of Korea and Samoa, the band 68-74 MHz is also allocated to the broadcasting service on a primary basis.

(177) 5.177 Additional allocation: in Armenia, Azerbaijan, Belarus, the Russian Federation, Georgia, Kazakhstan, Uzbekistan, Kyrgyzstan, Tajikistan, Turkmenistan and Ukraine, the band 73-74 MHz is also allocated to the broadcasting service on a primary basis, subject to agreement obtained under No. 9.21.

(178) 5.178 Additional allocation: in Colombia, Cuba, El Salvador, Guatemala, Guyana, Honduras and Nicaragua, the band 73-74.6 MHz is also allocated to the fixed and mobile services on a secondary basis.

(179) 5.179 Additional allocation: in Armenia, Azerbaijan, Belarus, China, the Russian Federation, Georgia, Kazakhstan, Lithuania, Mongolia, Kyrgyzstan, Tajikistan, Turkmenistan and Ukraine, the bands 74.6-74.8 MHz and 75.2-75.4 MHz are also allocated to the aeronautical radionavigation service, on a primary basis, for ground-based transmitters only.

(180) 5.180 The frequency 75 MHz is assigned to marker beacons. Administrations shall refrain from assigning frequencies close to the limits of the guardband to stations of other services which, because of their power or geographical position, might cause harmful interference or otherwise place a constraint on marker beacons. Every effort should be made to improve further the characteristics of airborne receivers and to limit the power of transmitting stations close to the limits 74.8 MHz and 75.2 MHz.

(181) 5.181 Additional allocation: in Egypt, Israel and the Syrian Arab Republic, the band 74.8-75.2 MHz is also allocated to the mobile service on a secondary basis, subject to agreement obtained under No. 9.21. In order to ensure that harmful interference is not caused to stations of the aeronautical radionavigation service, stations of the mobile service shall not be introduced in the band until it is no longer required for the aeronautical radionavigation service by any administration which may be identified in the application of the procedure invoked under No. 9.21.

(182) 5.182 Additional allocation: in Western Samoa, the band 75.4-87 MHz is also allocated to the broadcasting service on a primary basis.

(183) 5.183 Additional allocation: in China, Korea (Rep. of), Japan, the Philippines and the Dem. People's Rep. of Korea, the band 76-87 MHz is also allocated to the broadcasting service on a primary basis.

(184) [Reserved]

(185) 5.185 Different category of service: in the United States, the French overseas departments and communities in Region 2, Guyana and Paraguay, the allocation of the frequency band 76-88 MHz to the fixed and mobile services is on a primary basis (see No. 5.33).

(186) [Reserved]

(187) 5.187 Alternative allocation: in Albania, the band 81-87.5 MHz is allocated to the broadcasting service on a primary basis and used in accordance with the decisions contained in the Final Acts of the Special Regional Conference (Geneva, 1960).

(188) 5.188 Additional allocation: in Australia, the band 85-87 MHz is also allocated to the broadcasting service on a primary basis. The introduction of the broadcasting service in Australia is subject to special agreements between the administrations concerned.

(189) [Reserved]

(190) 5.190 Additional allocation: in Monaco, the band 87.5-88 MHz is also allocated to the land mobile service on a primary basis, subject to agreement obtained under No. 9.21.

(191) [Reserved]

(192) 5.192 Additional allocation: in China and Korea (Rep. of), the band 100-108 MHz is also allocated to the fixed and mobile services on a primary basis.

(193) [Reserved]

(194) 5.194 Additional allocation: in Azerbaijan, Kyrgyzstan, Somalia and Turkmenistan, the band 104-108 MHz is also allocated to the mobile, except aeronautical mobile (R), service on a secondary basis.

(195)-(196) [Reserved]

(197) 5.197 Additional allocation: in the Syrian Arab Republic, the band 108-111.975 MHz is also allocated to the mobile service on a secondary basis, subject to agreement obtained under No. 9.21. In order to ensure that harmful interference is not caused to stations of the aeronautical radionavigation service, stations of the mobile service shall not be introduced in the band until it is no longer required for the aeronautical radionavigation service by any administration which may be identified in the application of the procedures invoked under No. 9.21.

(i) 5.197A Additional allocation: the band 108-117.975 MHz is also allocated on a primary basis to the aeronautical mobile (R) service, limited to systems operating in accordance with recognized international aeronautical standards. Such use shall be in accordance with Resolution 413 (Rev.WRC-12). The use of the band 108-112 MHz by the aeronautical mobile (R) service shall be limited to systems composed of ground-based transmitters and associated receivers that provide navigational information in support of air navigation functions in accordance with recognized international aeronautical standards.

(ii) [Reserved]

(198)-(199) [Reserved]

(200) 5.200 In the band 117.975-137 MHz, the frequency 121.5 MHz is the aeronautical emergency frequency and, where required, the frequency 123.1 MHz is the aeronautical frequency auxiliary to 121.5 MHz. Mobile stations of the maritime mobile service may communicate on these frequencies under the conditions laid down in Article 31 for distress and safety purposes with stations of the aeronautical mobile service.

(201) 5.201 Additional allocation: in Armenia, Azerbaijan, Belarus, Bulgaria, Estonia, the Russian Federation, Georgia, Hungary, Iran (Islamic Republic of), Iraq (Republic of), Japan, Kazakhstan, Moldova, Mongolia, Mozambique, Uzbekistan, Papua New Guinea, Poland, Kyrgyzstan, Romania, Tajikistan, Turkmenistan and Ukraine, the frequency band 132-136 MHz is also allocated to the aeronautical mobile (OR) service on a primary basis. In assigning frequencies to stations of the aeronautical mobile (OR) service, the administration shall take account of the frequencies assigned to stations in the aeronautical mobile (R) service.

(202) 5.202 Additional allocation: in Saudi Arabia, Armenia, Azerbaijan, Belarus, Bulgaria, the United Arab Emirates, the Russian Federation, Georgia, Iran (Islamic Republic of), Jordan, Oman, Uzbekistan, Poland, the Syrian Arab Republic, Kyrgyzstan, Romania, Tajikistan, Turkmenistan and Ukraine, the frequency band 136-137 MHz is also allocated to the aeronautical mobile (OR) service on a primary basis. In assigning frequencies to stations of the aeronautical mobile (OR) service, the administration shall take account of the frequencies assigned to stations in the aeronautical mobile (R) service.

(203) [Reserved]

(204) 5.204 Different category of service: in Afghanistan, Saudi Arabia, Bahrain, Bangladesh, Brunei Darussalam, China, Cuba, the United Arab Emirates, India, Indonesia, Iran (Islamic Republic of), Iraq, Kuwait, Montenegro, Oman, Pakistan, the Philippines, Qatar, Serbia, Singapore, Thailand and Yemen, the band 137-138 MHz is allocated to the fixed and mobile, except aeronautical mobile (R), services on a primary basis (see No. 5.33).

(205) 5.205 Different category of service: in Israel and Jordan, the allocation of the band 137-138 MHz to the fixed and mobile, except aeronautical mobile, services is on a primary basis (see ITU No. 5.33).

(206) 5.206 Different category of service: in Armenia, Azerbaijan, Belarus, Bulgaria, Egypt, the Russian Federation, Finland, France, Georgia, Greece, Kazakhstan, Lebanon, Moldova, Mongolia, Uzbekistan, Poland, Kyrgyzstan, the Syrian Arab Republic, Slovakia, the Czech Rep., Romania, Tajikistan, Turkmenistan and Ukraine, the allocation of the band 137-138 MHz to the aeronautical mobile (OR) service is on a primary basis (see No. 5.33).

(207) 5.207 Additional allocation: in Australia, the band 137-144 MHz is also allocated to the broadcasting service on a primary basis until that service can be accommodated within regional broadcasting allocations.

(208) 5.208 The use of the band 137-138 MHz by the mobile-satellite service is subject to coordination under No. 9.11A.

(i) 5.208A In making assignments to space stations in the mobile-satellite service in the bands 137-138 MHz, 387-390 MHz and 400.15-401 MHz, administrations shall take all practicable steps to protect the radio astronomy service in the bands 150.05-153 MHz, 322-328.6 MHz, 406.1-410 MHz and 608-614 MHz from harmful interference from unwanted emissions. The threshold levels of interference detrimental to the radio astronomy service are shown in the relevant ITU-R Recommendation.

(ii) 5.208B In the frequency bands 137-138 MHz, 387-390 MHz, 400.15-401 MHz, 1452-1492 MHz, 1525-1610 MHz, 1613.8-1626.5 MHz, 2655-2690 MHz, and 21.4-22 GHz, Resolution 739 (Rev. WRC-15) applies.

(209) 5.209 The use of the bands 137-138 MHz, 148-150.05 MHz, 399.9-400.05 MHz, 400.15-401 MHz, 454-456 MHz and 459-460 MHz by the mobile-satellite service is limited to non-geostationary-satellite systems.

(210) 5.210 Additional allocation: in Italy, the Czech Rep. and the United Kingdom, the bands 138-143.6 MHz and 143.65-144 MHz are also allocated to the space research service (space-to-Earth) on a secondary basis.

(211) 5.211 Additional allocation: in Germany, Saudi Arabia, Austria, Bahrain, Belgium, Denmark, the United Arab Emirates, Spain, Finland, Greece, Guinea, Ireland, Israel, Kenya, Kuwait, The Former Yugoslav Republic of Macedonia, Lebanon, Liechtenstein, Luxembourg, Mali, Malta, Montenegro, Norway, the Netherlands, Qatar, Slovakia, the United Kingdom, Serbia, Slovenia, Somalia, Sweden, Switzerland, Tanzania, Tunisia and Turkey, the frequency band 138-144 MHz is also allocated to the maritime mobile and land mobile services on a primary basis.

(212) 5.212 Alternative allocation: in Angola, Botswana, Cameroon, the Central African Rep., Congo (Rep. of the), Gabon, Gambia, Ghana, Guinea, Iraq, Jordan, Lesotho, Liberia, Libya, Malawi, Mozambique, Namibia, Niger, Oman, Uganda, Syrian Arab Republic, the Dem. Rep. of the Congo, Rwanda, Sierra Leone, South Africa, Swaziland, Chad, Togo, Zambia and Zimbabwe, the band 138-144 MHz is allocated to the fixed and mobile services on a primary basis.

(213) 5.213 Additional allocation: in China, the band 138-144 MHz is also allocated to the radiolocation service on a primary basis.

(214) 5.214 Additional allocation: in Eritrea, Ethiopia, Kenya, The Former Yugoslav Republic of Macedonia, Montenegro, Serbia, Somalia, Sudan, South Sudan and Tanzania, the band 138-144 MHz is also allocated to the fixed service on a primary basis.

(215) [Reserved]

(216) 5.216 Additional allocation: in China, the band 144-146 MHz is also allocated to the aeronautical mobile (OR) service on a secondary basis.

(217) 5.217 Alternative allocation: in Afghanistan, Bangladesh, Cuba, Guyana and India, the band 146-148 MHz is allocated to the fixed and mobile services on a primary basis.

(218) 5.218 Additional allocation: the band 148-149.9 MHz is also allocated to the space operation service (Earth-to-space) on a primary basis, subject to agreement obtained under No. 9.21. The bandwidth of any individual transmission shall not exceed ± 25 kHz.

(219) 5.219 The use of the band 148-149.9 MHz by the mobile-satellite service is subject to coordination under No. 9.11A. The mobile-satellite service shall not constrain the development and use of the fixed, mobile and space operation services in the band 148-149.9 MHz.

(220) 5.220 The use of the frequency bands 149.9-150.05 MHz and 399.9-400.05 MHz by the mobile-satellite service is subject to coordination under No. 9.11A.

(221) 5.221 Stations of the mobile-satellite service in the frequency band 148-149.9 MHz shall not cause harmful interference to, or claim protection from, stations of the fixed or mobile services operating in accordance with the Table of Frequency Allocations in the following countries: Albania, Algeria, Germany, Saudi Arabia, Australia, Austria, Bahrain, Bangladesh, Barbados, Belarus, Belgium, Benin, Bosnia and Herzegovina, Botswana, Brunei Darussalam, Bulgaria, Cameroon, China, Cyprus, Congo (Rep. of the), Korea (Rep. of), Côte d'Ivoire, Croatia, Cuba, Denmark, Djibouti, Egypt, the United Arab Emirates, Eritrea, Spain, Estonia, Ethiopia, the Russian Federation, Finland, France, Gabon, Georgia, Ghana, Greece, Guinea, Guinea Bissau, Hungary, India, Iran (Islamic Republic of), Ireland, Iceland, Israel, Italy, Jamaica, Japan, Jordan, Kazakhstan, Kenya, Kuwait, The Former Yugoslav Republic of Macedonia, Lesotho, Latvia, Lebanon, Libya, Liechtenstein, Lithuania, Luxembourg, Malaysia, Mali, Malta, Mauritania, Moldova, Mongolia, Montenegro, Mozambique, Namibia, Norway, New Zealand, Oman, Uganda, Uzbekistan, Pakistan, Panama, Papua New Guinea, Paraguay, the Netherlands, the Philippines, Poland, Portugal, Qatar, the Syrian Arab Republic, Kyrgyzstan, Dem. People's Rep. of Korea, Slovakia, Romania, the United Kingdom, Senegal, Serbia, Sierra Leone, Singapore, Slovenia, Sudan, Sri Lanka, South Africa, Sweden, Switzerland, Swaziland, Tanzania, Chad, Togo, Tonga, Trinidad and Tobago, Tunisia, Turkey, Ukraine, Viet Nam, Yemen, Zambia and Zimbabwe.

(222)-(224) [Reserved]

(225) 5.225 Additional allocation: in Australia and India, the band 150.05-153 MHz is also allocated to the radio astronomy service on a primary basis.

(i) 5.225A Additional allocation: in Algeria, Armenia, Azerbaijan, Belarus, China, the Russian Federation, France, Iran (Islamic Republic of), Kazakhstan, Uzbekistan, Kyrgyzstan, Tajikistan, Turkmenistan, Ukraine and Viet Nam, the frequency band 154-156 MHz is also allocated to the radiolocation service on a primary basis. The usage of the frequency band 154-156 MHz by the radiolocation service shall be limited to space-object detection systems operating from terrestrial locations. The operation of stations in the radiolocation service in the frequency band 154-156 MHz shall be subject to agreement obtained under No. 9.21. For the identification of potentially affected administrations in Region 1, the instantaneous field-strength value of 12 dB(μV/m) for 10% of the time produced at 10 m above ground level in the 25 kHz reference frequency band at the border of the territory of any other administration shall be used. For the identification of potentially affected administrations in Region 3, the interference-to-noise ratio (I/N) value of −6 dB (N =−161 dBW/4 kHz), or −10 dB for applications with greater protection requirements, such as public protection and disaster relief (PPDR (N =−161 dBW/4 kHz)), for 1% of the time produced at 60 m above ground level at the border of the territory of any other administration shall be used. In the frequency bands 156.7625-156.8375 MHz, 156.5125-156.5375 MHz, 161.9625-161.9875 MHz, 162.0125-162.0375 MHz, out-of-band e.i.r.p. of space surveillance radars shall not exceed −16 dBW. Frequency assignments to the radiolocation service under this allocation in Ukraine shall not be used without the agreement of Moldova.

(ii) [Reserved]

(226) 5.226 The frequency 156.525 MHz is the international distress, safety and calling frequency for the maritime mobile VHF radiotelephone service using digital selective calling (DSC). The conditions for the use of this frequency and the band 156.4875-156.5625 MHz are contained in Articles 31 and 52, and in Appendix 18. The frequency 156.8 MHz is the international distress, safety and calling frequency for the maritime mobile VHF radiotelephone service. The conditions for the use of this frequency and the band 156.7625-156.8375 MHz are contained in Article 31 and Appendix 18. In the bands 156-156.4875 MHz, 156.5625-156.7625 MHz, 156.8375-157.45 MHz, 160.6-160.975 MHz and 161.475-162.05 MHz, each administration shall give priority to the maritime mobile service on only such frequencies as are assigned to stations of the maritime mobile service by the administration (see Articles 31 and 52, and Appendix 18). Any use of frequencies in these bands by stations of other services to which they are allocated should be avoided in areas where such use might cause harmful interference to the maritime mobile VHF radiocommunication service. However, the frequencies 156.8 MHz and 156.525 MHz and the frequency bands in which priority is given to the maritime mobile service may be used for radiocommunications on inland waterways subject to agreement between interested and affected administrations and taking into account current frequency usage and existing agreements.

(227) 5.227 Additional allocation: the bands 156.4875-156.5125 MHz and 156.5375-156.5625 MHz are also allocated to the fixed and land mobile services on a primary basis. The use of these bands by the fixed and land mobile services shall not cause harmful interference to nor claim protection from the maritime mobile VHF radiocommunication service.

(228) 5.228 The use of the frequency bands 156.7625-156.7875 MHz and 156.8125-156.8375 MHz by the mobile-satellite service (Earth-to-space) is limited to the reception of automatic identification system (AIS) emissions of long-range AIS broadcast messages (Message 27, see the most recent version of Recommendation ITU-R M.1371). With the exception of AIS emissions, emissions in these frequency bands by systems operating in the maritime mobile service for communications shall not exceed 1 W.

(i) 5.228A The frequency bands 161.9625-161.9875 MHz and 162.0125-162.0375 MHz may be used by aircraft stations for the purpose of search and rescue operations and other safety-related communications.

(ii) 5.228AA The use of the frequency bands 161.9375-161.9625 MHz and 161.9875-162.0125 MHz by the maritime mobile-satellite (Earth-to-space) service is limited to the systems which operate in accordance with Appendix 18.

(iii) 5.228B The use of the frequency bands 161.9625-161.9875 MHz and 162.0125-162.0375 MHz by the fixed and land mobile services shall not cause harmful interference to, or claim protection from, the maritime mobile service.

(iv) 5.228C The use of the frequency bands 161.9625-161.9875 MHz and 162.0125-162.0375 MHz by the maritime mobile service and the mobile-satellite (Earth-to-space) service is limited to the automatic identification system (AIS). The use of these frequency bands by the aeronautical mobile (OR) service is limited to AIS emissions from search and rescue aircraft operations. The AIS operations in these frequency bands shall not constrain the development and use of the fixed and mobile services operating in the adjacent frequency bands.

(v) 5.228D The frequency bands 161.9625-161.9875 MHz (AIS 1) and 162.0125-162.0375 MHz (AIS 2) may continue to be used by the fixed and mobile services on a primary basis until 1 January 2025, at which time this allocation shall no longer be valid. Administrations are encouraged to make all practicable efforts to discontinue the use of these bands by the fixed and mobile services prior to the transition date. During this transition period, the maritime mobile service in these frequency bands has priority over the fixed, land mobile and aeronautical mobile services.

(vi) 5.228E The use of the automatic identification system in the frequency bands 161.9625-161.9875 MHz and 162.0125-162.0375 MHz by the aeronautical mobile (OR) service is limited to aircraft stations for the purpose of search and rescue operations and other safety-related communications.

(vii) 5.228F The use of the frequency bands 161.9625-161.9875 MHz and 162.0125-162.0375 MHz by the mobile-satellite service (Earth-to-space) is limited to the reception of automatic identification system emissions from stations operating in the maritime mobile service.

(229) 5.229 Alternative allocation: in Morocco, the band 162-174 MHz is allocated to the broadcasting service on a primary basis. The use of this band shall be subject to agreement with administrations having services, operating or planned, in accordance with the Table which are likely to be affected. Stations in existence on 1 January 1981, with their technical characteristics as of that date, are not affected by such agreement.

(230) 5.230 Additional allocation: in China, the band 163-167 MHz is also allocated to the space operation service (space-to-Earth) on a primary basis, subject to agreement obtained under No. 9.21.

(231) 5.231 Additional allocation: in Afghanistan and China, the band 167-174 MHz is also allocated to the broadcasting service on a primary basis. The introduction of the broadcasting service into this band shall be subject to agreement with the neighbouring countries in Region 3 whose services are likely to be affected.

(232) [Reserved]

(233) 5.233 Additional allocation: in China, the band 174-184 MHz is also allocated to the space research (space-to-Earth) and the space operation (space-to-Earth) services on a primary basis, subject to agreement obtained under No. 9.21. These services shall not cause harmful interference to, or claim protection from, existing or planned broadcasting stations.

(234) [Reserved]

(235) 5.235 Additional allocation: in Germany, Austria, Belgium, Denmark, Spain, Finland, France, Israel, Italy, Liechtenstein, Malta, Monaco, Norway, the Netherlands, the United Kingdom, Sweden and Switzerland, the band 174-223 MHz is also allocated to the land mobile service on a primary basis. However, the stations of the land mobile service shall not cause harmful interference to, or claim protection from, broadcasting stations, existing or planned, in countries other than those listed in this footnote.

(236) [Reserved]

(237) 5.237 Additional allocation: in Congo (Rep. of the), Egypt, Eritrea, Ethiopia, Gambia, Guinea, Libya, Mali, Sierra Leone, Somalia and Chad, the band 174-223 MHz is also allocated to the fixed and mobile services on a secondary basis.

(238) 5.238 Additional allocation: in Bangladesh, India, Pakistan and the Philippines, the band 200-216 MHz is also allocated to the aeronautical radionavigation service on a primary basis.

(239) [Reserved]

(240) 5.240 Additional allocation: in China and India, the band 216-223 MHz is also allocated to the aeronautical radionavigation service on a primary basis and to the radiolocation service on a secondary basis.

(241) 5.241 In Region 2, no new stations in the radiolocation service may be authorized in the band 216-225 MHz. Stations authorized prior to 1 January 1990 may continue to operate on a secondary basis.

(242) 5.242 Additional allocation: in Canada, the band 216-220 MHz is also allocated to the land mobile service on a primary basis.

(243) 5.243 Additional allocation: in Somalia, the band 216-225 MHz is also allocated to the aeronautical radionavigation service on a primary basis, subject to not causing harmful interference to existing or planned broadcasting services in other countries.

(244) [Reserved]

(245) 5.245 Additional allocation: in Japan, the band 222-223 MHz is also allocated to the aeronautical radionavigation service on a primary basis and to the radiolocation service on a secondary basis.

(246) 5.246 Alternative allocation: in Spain, France, Israel and Monaco, the band 223-230 MHz is allocated to the broadcasting and land mobile services on a primary basis (see No. 5.33) on the basis that, in the preparation of frequency plans, the broadcasting service shall have prior choice of frequencies; and allocated to the fixed and mobile, except land mobile, services on a secondary basis. However, the stations of the land mobile service shall not cause harmful interference to, or claim protection from, existing or planned broadcasting stations in Morocco and Algeria.

(247) 5.247 Additional allocation: in Saudi Arabia, Bahrain, the United Arab Emirates, Jordan, Oman, Qatar and Syrian Arab Republic, the band 223-235 MHz is also allocated to the aeronautical radionavigation service on a primary basis.

(248)-(249) [Reserved]

(250) 5.250 Additional allocation: in China, the band 225-235 MHz is also allocated to the radio astronomy service on a secondary basis.

(251) 5.251 Additional allocation: in Nigeria, the band 230-235 MHz is also allocated to the aeronautical radionavigation service on a primary basis, subject to agreement obtained under No. 9.21.

(252) 5.252 Alternative allocation: in Botswana, Lesotho, Malawi, Mozambique, Namibia, South Africa, Swaziland, Zambia and Zimbabwe, the bands 230-238 MHz and 246-254 MHz are allocated to the broadcasting service on a primary basis, subject to agreement obtained under No. 9.21.

(253) [Reserved]

(254) 5.254 The bands 235-322 MHz and 335.4-399.9 MHz may be used by the mobile-satellite service, subject to agreement obtained under No. 9.21, on condition that stations in this service do not cause harmful interference to those of other services operating or planned to be operated in accordance with the Table of Frequency Allocations except for the additional allocation made in paragraph (b)(256)(i) of this section.

(255) 5.255 The bands 312-315 MHz (Earth-to-space) and 387-390 MHz (space-to-Earth) in the mobile-satellite service may also be used by non-geostationary-satellite systems. Such use is subject to coordination under No. 9.11A.

(256) 5.256 The frequency 243 MHz is the frequency in this band for use by survival craft stations and equipment used for survival purposes.

(i) 5.256A Additional allocation: in China, the Russian Federation and Kazakhstan, the frequency band 258-261 MHz is also allocated to the space research service (Earth-to-space) and space operation service (Earth-to-space) on a primary basis. Stations in the space research service (Earth-to-space) and space operation service (Earth-to-space) shall not cause harmful interference to, or claim protection from, or constrain the use and development of, the mobile service systems and mobile-satellite service systems operating in the frequency band. Stations in space research service (Earth-to-space) and space operation service (Earth-to-space) shall not constrain the future development of fixed service systems of other countries.

(ii) [Reserved]

(257) 5.257 The band 267-272 MHz may be used by administrations for space telemetry in their countries on a primary basis, subject to agreement obtained under No. 9.21.

(258) 5.258 The use of the band 328.6-335.4 MHz by the aeronautical radionavigation service is limited to Instrument Landing Systems (glide path).

(259) 5.259 Additional allocation: in Egypt and the Syrian Arab Republic, the band 328.6-335.4 MHz is also allocated to the mobile service on a secondary basis, subject to agreement obtained under No. 9.21. In order to ensure that harmful interference is not caused to stations of the aeronautical radionavigation service, stations of the mobile service shall not be introduced in the band until it is no longer required for the aeronautical radionavigation service by any administration which may be identified in the application of the procedure invoked under No. 9.21.

(260) [Reserved]

(261) 5.261 Emissions shall be confined in a band of ± 25 kHz about the standard frequency 400.1 MHz.

(262) 5.262 Additional allocation: in Saudi Arabia, Armenia, Azerbaijan, Bahrain, Belarus, Botswana, Colombia, Cuba, Egypt, the United Arab Emirates, Ecuador, the Russian Federation, Georgia, Hungary, Iran (Islamic Republic of), Iraq, Israel, Jordan, Kazakhstan, Kuwait, Liberia, Malaysia, Moldova, Oman, Uzbekistan, Pakistan, the Philippines, Qatar, the Syrian Arab Republic, Kyrgyzstan, Singapore, Somalia, Tajikistan, Chad, Turkmenistan and Ukraine, the band 400.05-401 MHz is also allocated to the fixed and mobile services on a primary basis.

(263) 5.263 The band 400.15-401 MHz is also allocated to the space research service in the space-to-space direction for communications with manned space vehicles. In this application, the space research service will not be regarded as a safety service.

(264) 5.264 The use of the band 400.15-401 MHz by the mobile-satellite service is subject to coordination under No. 9.11A. The power flux-density limit indicated in Annex 1 of Appendix 5 shall apply until such time as a competent world radiocommunication conference revises it.

(265) 5.265 In the frequency band 403-410 MHz, Resolution 205 (Rev.WRC-15) applies.

(266) 5.266 The use of the band 406-406.1 MHz by the mobile-satellite service is limited to low power satellite emergency position-indicating radiobeacons (see also Article 31).

(267) 5.267 Any emission capable of causing harmful interference to the authorized uses of the band 406-406.1 MHz is prohibited.

(268) 5.268 Use of the frequency band 410-420 MHz by the space research service is limited to space-to-space communication links with an orbiting, manned space vehicle. The power flux-density at the surface of the Earth produced by emissions from transmitting stations of the space research service (space-to-space) in the frequency band 410-420 MHz shall not exceed −153 dB(W/m²) for 0° ≤ δ ≤ 5°, −153 + 0.077 (δ−5) dB(W/m²) for 5° ≤ δ ≤ 70° and −148 dB(W/m²) for 70° ≤ δ ≤ 90°, where δ is the angle of arrival of the radio-frequency wave and the reference bandwidth is 4 kHz. In this frequency band, stations of the space research service (space-to-space) shall not claim protection from, nor constrain the use and development of, stations of the fixed and mobile services. No. 4.10 does not apply.

(269) 5.269 Different category of service: in Australia, the United States, India, Japan and the United Kingdom, the allocation of the bands 420-430 MHz and 440-450 MHz to the radiolocation service is on a primary basis (see No. 5.33).

(270) 5.270 Additional allocation: in Australia, the United States, Jamaica and the Philippines, the bands 420-430 MHz and 440-450 MHz are also allocated to the amateur service on a secondary basis.

(271) 5.271 Additional allocation: in Belarus, China, India, Kyrgyzstan and Turkmenistan, the band 420-460 MHz is also allocated to the aeronautical radionavigation service (radio altimeters) on a secondary basis.

(272) and (273) [Reserved]

(274) 5.274 Alternative allocation: in Denmark, Norway, Sweden and Chad, the bands 430-432 MHz and 438-440 MHz are allocated to the fixed and mobile, except aeronautical mobile, services on a primary basis.

(275) 5.275 Additional allocation: in Croatia, Estonia, Finland, Libya, The Former Yugoslav Republic of Macedonia, Montenegro and Serbia, the frequency bands 430-432 MHz and 438-440 MHz are also allocated to the fixed and mobile, except aeronautical mobile, services on a primary basis.

(276) 5.276 Additional allocation: in Afghanistan, Algeria, Saudi Arabia, Bahrain, Bangladesh, Brunei Darussalam, Burkina Faso, Djibouti, Egypt, the United Arab Emirates, Ecuador, Eritrea, Ethiopia, Greece, Guinea, India, Indonesia, Iran (Islamic Republic of), Iraq, Israel, Italy, Jordan, Kenya, Kuwait, Libya, Malaysia, Niger, Nigeria, Oman, Pakistan, the Philippines, Qatar, the Syrian Arab Republic, the Dem. People's Rep. of Korea, Singapore, Somalia, Sudan, Switzerland, Thailand, Togo, Turkey and Yemen, the frequency band 430-440 MHz is also allocated to the fixed service on a primary basis and the frequency bands 430-435 MHz and 438-440 MHz are also allocated, except in Ecuador, to the mobile, except aeronautical mobile, service on a primary basis.

(277) 5.277 Additional allocation: in Angola, Armenia, Azerbaijan, Belarus, Cameroon, Congo (Rep. of the), Djibouti, the Russian Federation, Georgia, Hungary, Israel, Kazakhstan, Mali, Mongolia, Uzbekistan, Poland, the Dem. Rep. of the Congo, Kyrgyzstan, Slovakia, Romania, Rwanda, Tajikistan, Chad, Turkmenistan and Ukraine, the band 430-440 MHz is also allocated to the fixed service on a primary basis.

(278) 5.278 Different category of service: in Argentina, Colombia, Costa Rica, Cuba, Guyana, Honduras, Panama and Venezuela, the allocation of the band 430-440 MHz to the amateur service is on a primary basis (see No. 5.33).

(279) 5.279 Additional allocation: in Mexico, the bands 430-435 MHz and 438-440 MHz are also allocated on a primary basis to the land mobile service, subject to agreement obtained under No. 9.21.

(i) 5.279A The use of the frequency band 432-438 MHz by sensors in the Earth exploration-satellite service (active) shall be in accordance with Recommendation ITU-R RS.1260-1. Additionally, the Earth exploration-satellite service (active) in the frequency band 432-438 MHz shall not cause harmful interference to the aeronautical radionavigation service in China. The provisions of this footnote in no way diminish the obligation of the Earth exploration-satellite service (active) to operate as a secondary service in accordance with Nos. 5.29 and 5.30.

(ii) [Reserved]

(280) 5.280 In Germany, Austria, Bosnia and Herzegovina, Croatia, The Former Yugoslav Republic of Macedonia, Liechtenstein, Montenegro, Portugal, Serbia, Slovenia and Switzerland, the band 433.05-434.79 MHz (centre frequency 433.92 MHz) is designated for industrial, scientific and medical (ISM) applications. Radiocommunication services of these countries operating within this band must accept harmful interference which may be caused by these applications. ISM equipment operating in this band is subject to the provisions of No. 15.13.

(281) 5.281 Additional allocation: in the French overseas departments and communities in Region 2 and India, the band 433.75-434.25 MHz is also allocated to the space operation service (Earth-to-space) on a primary basis. In France and in Brazil, the band is allocated to the same service on a secondary basis.

(282) 5.282 In the bands 435-438 MHz, 1260-1270 MHz, 2400-2450 MHz, 3400-3410 MHz (in Regions 2 and 3 only) and 5650-5670 MHz, the amateur-satellite service may operate subject to not causing harmful interference to other services operating in accordance with the Table (see No. 5.43). Administrations authorizing such use shall ensure that any harmful interference caused by emissions from a station in the amateur-satellite service is immediately eliminated in accordance with the provisions of No. 25.11. The use of the bands 1260-1270 MHz and 5650-5670 MHz by the amateur-satellite service is limited to the Earth-to-space direction.

(283) 5.283 Additional allocation: in Austria, the band 438-440 MHz is also allocated to the fixed and mobile, except aeronautical mobile, services on a primary basis.

(284) 5.284 Additional allocation: in Canada, the band 440-450 MHz is also allocated to the amateur service on a secondary basis.

(285) 5.285 Different category of service: in Canada, the allocation of the band 440-450 MHz to the radiolocation service is on a primary basis (see No. 5.33).

(286) 5.286 The band 449.75-450.25 MHz may be used for the space operation service (Earth-to-space) and the space research service (Earth-to-space), subject to agreement obtained under No. 9.21.

(i) 5.286A The use of the bands 454-456 MHz and 459-460 MHz by the mobile-satellite service is subject to coordination under No. 9.11A.

(ii) 5.286AA The frequency band 450-470 MHz is identified for use by administrations wishing to implement International Mobile Telecommunications (IMT). See Resolution 224 (Rev.WRC-15). This identification does not preclude the use of this frequency band by any application of the services to which it is allocated and does not establish priority in the Radio Regulations.

(iii) 5.286B The use of the band 454-455 MHz in the countries listed in paragraph (b)(286)(v) of this section, 455-456 MHz and 459-460 MHz in Region 2, and 454-456 MHz and 459-460 MHz in the countries listed in No. 5.286E, by stations in the mobile-satellite service, shall not cause harmful interference to, or claim protection from, stations of the fixed or mobile services operating in accordance with the Table of Frequency Allocations.

(iv) 5.286C The use of the band 454-455 MHz in the countries listed in No. 5.286D, 455-456 MHz and 459-460 MHz in Region 2, and 454-456 MHz and 459-460 MHz in the countries listed in No. 5.286E, by stations in the mobile-satellite service, shall not constrain the development and use of the fixed and mobile services operating in accordance with the Table of Frequency Allocations.

(v) 5.286D Additional allocation: in Canada, the United States and Panama, the band 454-455 MHz is also allocated to the mobile-satellite service (Earth-to-space) on a primary basis.

(vi) 5.286E Additional allocation: in Cape Verde, Nepal and Nigeria, the bands 454-456 MHz and 459-460 MHz are also allocated to the mobile-satellite (Earth-to-space) service on a primary basis.

(287) 5.287 Use of the frequency bands 457.5125-457.5875 MHz and 467.5125-467.5875 MHz by the maritime mobile service is limited to on-board communication stations. The characteristics of the equipment and the channelling arrangement shall be in accordance with Recommendation ITU-R M.1174-3. The use of these frequency bands in territorial waters is subject to the national regulations of the administration concerned.

(288) 5.288 In the territorial waters of the United States and the Philippines, the preferred frequencies for use by on-board communication stations shall be 457.525 MHz, 457.550 MHz, 457.575 MHz and 457.600 MHz paired, respectively, with 467.750 MHz, 467.775 MHz, 467.800 MHz and 467.825 MHz. The characteristics of the equipment used shall conform to those specified in Recommendation ITU-R M.1174-3.

(289) 5.289 Earth exploration-satellite service applications, other than the meteorological-satellite service, may also be used in the bands 460-470 MHz and 1690-1710 MHz for space-to-Earth transmissions subject to not causing harmful interference to stations operating in accordance with the Table.

(290) 5.290 Different category of service: in Afghanistan, Azerbaijan, Belarus, China, the Russian Federation, Japan, Kyrgyzstan, Tajikistan and Turkmenistan, the allocation of the band 460-470 MHz to the meteorological-satellite service (space-to-Earth) is on a primary basis (see No. 5.33), subject to agreement obtained under No. 9.21.

(291) 5.291 Additional allocation: in China, the band 470-485 MHz is also allocated to the space research (space-to-Earth) and the space operation (space-to-Earth) services on a primary basis subject to agreement obtained under No. 9.21 and subject to not causing harmful interference to existing and planned broadcasting stations.

(i) 5.291A Additional allocation: in Germany, Austria, Denmark, Estonia, Liechtenstein, the Czech Rep., Serbia and Switzerland, the frequency band 470-494 MHz is also allocated to the radiolocation service on a secondary basis. This use is limited to the operation of wind profiler radars in accordance with Resolution 217 (WRC-97).

(ii) [Reserved]

(292) 5.292 Different category of service: in Argentina, Uruguay and Venezuela, the allocation of the frequency band 470-512 MHz to the mobile service is on a primary basis (see No. 5.33), subject to agreement obtained under No. 9.21.

(293) 5.293 Different category of service: in Canada, Chile, Cuba, the United States, Guyana, Jamaica and Panama, the allocation of the frequency bands 470-512 MHz and 614-806 MHz to the fixed service is on a primary basis (see No. 5.33), subject to agreement obtained under No. 9.21. In the Bahamas, Barbados, Canada, Chile, Cuba, the United States, Guyana, Jamaica, Mexico and Panama, the allocation of the frequency bands 470-512 MHz and 614-698 MHz to the mobile service is on a primary basis (see No. 5.33), subject to agreement obtained under No. 9.21. In Argentina and Ecuador, the allocation of the frequency band 470-512 MHz to the fixed and mobile services is on a primary basis (see No. 5.33), subject to agreement obtained under No. 9.21.

(294) 5.294 Additional allocation: in Saudi Arabia, Cameroon, Côte d'Ivoire, Egypt, Ethiopia, Israel, Libya, the Syrian Arab Republic, Chad and Yemen, the frequency band 470-582 MHz is also allocated to the fixed service on a secondary basis.

(295) 5.295 In the Bahamas, Barbados, Canada, the United States and Mexico, the frequency band 470-608 MHz, or portions thereof, is identified for International Mobile Telecommunications (IMT)—see Resolution 224 (Rev.WRC-15). This identification does not preclude the use of these frequency bands by any application of the services to which they are allocated and does not establish priority in the Radio Regulations. Mobile service stations of the IMT system within the frequency band are subject to agreement obtained under No. 9.21 and shall not cause harmful interference to, or claim protection from, the broadcasting service of neighbouring countries. Nos. 5.43 and 5.43A apply. In Mexico, the use of IMT in this frequency band will not start before 31 December 2018 and may be extended if agreed by the neighbouring countries.

(296) 5.296 Additional allocation: in Albania, Germany, Angola, Saudi Arabia, Austria, Bahrain, Belgium, Benin, Bosnia and Herzegovina, Botswana, Bulgaria, Burkina Faso, Burundi, Cameroon, Vatican, Congo (Rep. of the), Côte d'Ivoire, Croatia, Denmark, Djibouti, Egypt, United Arab Emirates, Spain, Estonia, Finland, France, Gabon, Georgia, Ghana, Hungary, Iraq, Ireland, Iceland, Israel, Italy, Jordan, Kenya, Kuwait, Lesotho, Latvia, The Former Yugoslav Republic of Macedonia, Lebanon, Libya, Liechtenstein, Lithuania, Luxembourg, Malawi, Mali, Malta, Morocco, Mauritius, Mauritania, Moldova, Monaco, Mozambique, Namibia, Niger, Nigeria, Norway, Oman, Uganda, the Netherlands, Poland, Portugal, Qatar, the Syrian Arab Republic, Slovakia, the Czech Republic, the United Kingdom, Rwanda, San Marino, Serbia, Sudan, South Africa, Sweden, Switzerland, Swaziland, Tanzania, Chad, Togo, Tunisia, Turkey, Ukraine, Zambia and Zimbabwe, the frequency band 470-694 MHz is also allocated on a secondary basis to the land mobile service, intended for applications ancillary to broadcasting and programme-making. Stations of the land mobile service in the countries listed in this footnote shall not cause harmful interference to existing or planned stations operating in accordance with the Table in countries other than those listed in this footnote.

(i) 5.296A In Micronesia, the Solomon Islands, Tuvalu and Vanuatu, the frequency band 470-698 MHz, or portions thereof, and in Bangladesh, Maldives and New Zealand, the frequency band 610-698 MHz, or portions thereof, are identified for use by these administrations wishing to implement International Mobile Telecommunications (IMT)—see Resolution 224 (Rev.WRC-15). This identification does not preclude the use of these frequency bands by any application of the services to which they are allocated and does not establish priority in the Radio Regulations. The mobile allocation in this frequency band shall not be used for IMT systems unless subject to agreement obtained under No. 9.21 and shall not cause harmful interference to, or claim protection from, the broadcasting service of neighbouring countries. Nos. 5.43 and 5.43A apply.

(ii) [Reserved]

(297) 5.297 Additional allocation: in Canada, Costa Rica, Cuba, El Salvador, the United States, Guatemala, Guyana and Jamaica, the frequency band 512-608 MHz is also allocated to the fixed and mobile services on a primary basis, subject to agreement obtained under No. 9.21. In the Bahamas, Barbados and Mexico, the frequency band 512-608 MHz is also allocated to the mobile service on a primary basis, subject to agreement obtained under No. 9.21.

(298) 5.298 Additional allocation: in India, the band 549.75-550.25 MHz is also allocated to the space operation service (space-to-Earth) on a secondary basis.

(299) [Reserved]

(300) 5.300 Additional allocation: in Saudi Arabia, Cameroon, Egypt, United Arab Emirates, Israel, Jordan, Libya, Oman, Qatar, the Syrian Arab Republic and Sudan, the frequency band 582-790 MHz is also allocated to the fixed and mobile, except aeronautical mobile, services on a secondary basis.

(301)-(303) [Reserved]

(304) 5.304 Additional allocation: in the African Broadcasting Area (see Nos. 5.10 to 5.13), the band 606-614 MHz is also allocated to the radio astronomy service on a primary basis.

(305) 5.305 Additional allocation: in China, the band 606-614 MHz is also allocated to the radio astronomy service on a primary basis.

(306) 5.306 Additional allocation: in Region 1, except in the African Broadcasting Area (see Nos. 5.10 to 5.13), and in Region 3, the band 608-614 MHz is also allocated to the radio astronomy service on a secondary basis.

(307) 5.307 Additional allocation: in India, the band 608-614 MHz is also allocated to the radio astronomy service on a primary basis.

(308) 5.308 Additional allocation: in Belize and Colombia, the frequency band 614-698 MHz is also allocated to the mobile service on a primary basis. Stations of the mobile service within the frequency band are subject to agreement obtained under No. 9.21.

(i) 5.308A In the Bahamas, Barbados, Belize, Canada, Colombia, the United States and Mexico, the frequency band 614-698 MHz, or portions thereof, is identified for International Mobile Telecommunications (IMT)—see Resolution 224 (Rev.WRC-15). This identification does not preclude the use of these frequency bands by any application of the services to which they are allocated and does not establish priority in the Radio Regulations. Mobile service stations of the IMT system within the frequency band are subject to agreement obtained under No. 9.21 and shall not cause harmful interference to or claim protection from the broadcasting service of neighbouring countries. Nos. 5.43 and 5.43A apply. In Belize and Mexico, the use of IMT in this frequency band will not start before 31 December 2018 and may be extended if agreed by the neighbouring countries.

(ii) [Reserved]

(309) 5.309 Different category of service: in El Salvador, the allocation of the frequency band 614-806 MHz to the fixed service is on a primary basis (see No. 5.33), subject to agreement obtained under No. 9.21.

(310) [Reserved]

(311) 5.311A For the frequency band 620-790 MHz, see also Resolution 549 (WRC-07).

(312) 5.312 Additional allocation: in Armenia, Azerbaijan, Belarus, the Russian Federation, Georgia, Kazakhstan, Uzbekistan, Kyrgyzstan, Tajikistan, Turkmenistan and Ukraine, the frequency band 645-862 MHz, in Bulgaria the frequency bands 646-686 MHz, 726-758 MHz, 766-814 MHz and 822-862 MHz, and in Poland the frequency band 860-862 MHz until 31 December 2017, are also allocated to the aeronautical radionavigation service on a primary basis.

(i) 5.312A In Region 1, the use of the frequency band 694-790 MHz by the mobile, except aeronautical mobile, service is subject to the provisions of Resolution 760 (WRC-15). See also Resolution 224 (Rev.WRC-15).

(ii) [Reserved]

(313) 5.313A The frequency band, or portions of the frequency band 698-790 MHz, in Australia, Bangladesh, Brunei Darussalam, Cambodia, China, Korea (Rep. of), Fiji, India, Indonesia, Japan, Kiribati, Lao P.D.R., Malaysia, Myanmar (Union of), New Zealand, Pakistan, Papua New Guinea, the Philippines, Solomon Islands, Samoa, Singapore, Thailand, Tonga, Tuvalu, Vanuatu and Viet Nam, are identified for use by these administrations wishing to implement International Mobile Telecommunications (IMT). This identification does not preclude the use of these frequency bands by any application of the services to which they are allocated and does not establish priority in the Radio Regulations. In China, the use of IMT in this frequency band will not start until 2015.

(314)-(315) [Reserved]

(316) 5.316B In Region 1, the allocation to the mobile, except aeronautical mobile, service in the frequency band 790-862 MHz is subject to agreement obtained under No. 9.21 with respect to the aeronautical radionavigation service in countries mentioned in paragraph (b)(312) of this section. For countries party to the GE06 Agreement, the use of stations of the mobile service is also subject to the successful application of the procedures of that Agreement. Resolutions 224 (Rev.WRC-15) and 749 (Rev.WRC-15) shall apply, as appropriate.

(317) 5.317 Additional allocation: in Region 2 (except Brazil, the United States and Mexico), the frequency band 806-890 MHz is also allocated to the mobile-satellite service on a primary basis, subject to agreement obtained under No. 9.21. The use of this service is intended for operation within national boundaries.

(i) 5.317A The parts of the frequency band 698-960 MHz in Region 2 and the frequency bands 694-790 MHz in Region 1 and 790-960 MHz in Regions 1 and 3 which are allocated to the mobile service on a primary basis are identified for use by administrations wishing to implement International Mobile Telecommunications (IMT)—see Resolutions 224 (Rev.WRC-15), 760 (WRC-15) and 749 (Rev.WRC-15), where applicable. This identification does not preclude the use of these frequency bands by any application of the services to which they are allocated and does not establish priority in the Radio Regulations.

(ii) [Reserved]

(318) 5.318 Additional allocation: in Canada, the United States and Mexico, the bands 849-851 MHz and 894-896 MHz are also allocated to the aeronautical mobile service on a primary basis, for public correspondence with aircraft. The use of the band 849-851 MHz is limited to transmissions from aeronautical stations and the use of the band 894-896 MHz is limited to transmissions from aircraft stations.

(319) 5.319 Additional allocation: in Belarus, the Russian Federation and Ukraine, the bands 806-840 MHz (Earth-to-space) and 856-890 MHz (space-to-Earth) are also allocated to the mobile-satellite, except aeronautical mobile-satellite (R), service. The use of these bands by this service shall not cause harmful interference to, or claim protection from, services in other countries operating in accordance with the Table of Frequency Allocations and is subject to special agreements between the administrations concerned.

(320) 5.320 Additional allocation: in Region 3, the bands 806-890 MHz and 942-960 MHz are also allocated to the mobile-satellite, except aeronautical mobile-satellite (R), service on a primary basis, subject to agreement obtained under No. 9.21. The use of this service is limited to operation within national boundaries. In seeking such agreement, appropriate protection shall be afforded to services operating in accordance with the Table, to ensure that no harmful interference is caused to such services.

(321) [Reserved]

(322) 5.322 In Region 1, in the band 862-960 MHz, stations of the broadcasting service shall be operated only in the African Broadcasting Area (see Nos. 5.10 to 5.13) excluding Algeria, Burundi, Egypt, Spain, Lesotho, Libya, Morocco, Malawi, Namibia, Nigeria, South Africa, Tanzania, Zimbabwe and Zambia, subject to agreement obtained under No. 9.21.

(323) 5.323 Additional allocation: in Armenia, Azerbaijan, Belarus, the Russian Federation, Kazakhstan, Uzbekistan, Kyrgyzstan, Tajikistan, Turkmenistan and Ukraine, the band 862-960 MHz, in Bulgaria the bands 862-890.2 MHz and 900-935.2 MHz, in Poland the band 862-876 MHz until 31 December 2017, and in Romania the bands 862-880 MHz and 915-925 MHz, are also allocated to the aeronautical radionavigation service on a primary basis. Such use is subject to agreement obtained under No. 9.21 with administrations concerned and limited to ground-based radiobeacons in operation on 27 October 1997 until the end of their lifetime.

(324) [Reserved]

(325) 5.325 Different category of service: in the United States, the allocation of the band 890-942 MHz to the radiolocation service is on a primary basis (see No. 5.33), subject to agreement obtained under No. 9.21.

(i) 5.325A Different category of service: in Argentina, Brazil, Costa Rica, Cuba, Dominican Republic, El Salvador, Ecuador, the French overseas departments and communities in Region 2, Guatemala, Mexico, Paraguay, Uruguay and Venezuela, the frequency band 902-928 MHz is allocated to the land mobile service on a primary basis. In Colombia, the frequency band 902-905 MHz is allocated to the land mobile service on a primary basis.

(ii) [Reserved]

(326) 5.326 Different category of service: in Chile, the band 903-905 MHz is allocated to the mobile, except aeronautical mobile, service on a primary basis, subject to agreement obtained under No. 9.21.

(327) 5.327 Different category of service: in Australia, the allocation of the band 915-928 MHz to the radiolocation service is on a primary basis (see No. 5.33).

(i) 5.327A The use of the frequency band 960-1164 MHz by the aeronautical mobile (R) service is limited to systems that operate in accordance with recognized international aeronautical standards. Such use shall be in accordance with Resolution 417 (Rev.WRC-15).

(ii) [Reserved]

(328) 5.328 The use of the band 960-1215 MHz by the aeronautical radionavigation service is reserved on a worldwide basis for the operation and development of airborne electronic aids to air navigation and any directly associated ground-based facilities.

(i) 5.328A Stations in the radionavigation-satellite service in the band 1164-1215 MHz shall operate in accordance with the provisions of Resolution 609 (Rev.WRC-07) and shall not claim protection from stations in the aeronautical radionavigation service in the band 960-1215 MHz. No. 5.43A does not apply. The provisions of No. 21.18 shall apply.

(ii) 5.328AA The frequency band 1087.7-1092.3 MHz is also allocated to the aeronautical mobile-satellite (R) service (Earth-to-space) on a primary basis, limited to the space station reception of Automatic Dependent Surveillance-Broadcast (ADS-B) emissions from aircraft transmitters that operate in accordance with recognized international aeronautical standards. Stations operating in the aeronautical mobile-satellite (R) service shall not claim protection from stations operating in the aeronautical radionavigation service. Resolution 425 (WRC-15) shall apply.

(iii) 5.328B The use of the bands 1164-1300 MHz, 1559-1610 MHz and 5010-5030 MHz by systems and networks in the radionavigation-satellite service for which complete coordination or notification information, as appropriate, is received by the Radiocommunication Bureau after 1 January 2005 is subject to the application of the provisions of Nos. 9.12, 9.12A and 9.13. Resolution 610 (WRC-03) shall also apply; however, in the case of radionavigation-satellite service (space-to-space) networks and systems, Resolution 610 (WRC-03) shall only apply to transmitting space stations. In accordance with paragraph (b)(329)(i) of this section, for systems and networks in the radionavigation-satellite service (space-to-space) in the bands 1215-1300 MHz and 1559-1610 MHz, the provisions of Nos. 9.7, 9.12, 9.12A and 9.13 shall only apply with respect to other systems and networks in the radionavigation-satellite service (space-to-space).

(329) 5.329 Use of the radionavigation-satellite service in the band 1215-1300 MHz shall be subject to the condition that no harmful interference is caused to, and no protection is claimed from, the radionavigation service authorized under paragraph (b)(331) of this section. Furthermore, the use of the radionavigation-satellite service in the band 1215-1300 MHz shall be subject to the condition that no harmful interference is caused to the radiolocation service. No. 5.43 shall not apply in respect of the radiolocation service. Resolution 608 (Rev.WRC-15) shall apply.

(i) 5.329A Use of systems in the radionavigation-satellite service (space-to-space) operating in the bands 1215-1300 MHz and 1559-1610 MHz is not intended to provide safety service applications, and shall not impose any additional constraints on radionavigation-satellite service (space-to-Earth) systems or on other services operating in accordance with the Table of Frequency Allocations.

(ii) [Reserved]

(330) 5.330 Additional allocation: in Angola, Saudi Arabia, Bahrain, Bangladesh, Cameroon, China, Djibouti, Egypt, the United Arab Emirates, Eritrea, Ethiopia, Guyana, India, Indonesia, Iran (Islamic Republic of), Iraq, Israel, Japan, Jordan, Kuwait, Nepal, Oman, Pakistan, the Philippines, Qatar, the Syrian Arab Republic, Somalia, Sudan, South Sudan, Chad, Togo and Yemen, the band 1215-1300 MHz is also allocated to the fixed and mobile services on a primary basis.

(331) 5.331 Additional allocation: in Algeria, Germany, Saudi Arabia, Australia, Austria, Bahrain, Belarus, Belgium, Benin, Bosnia and Herzegovina, Brazil, Burkina Faso, Burundi, Cameroon, China, Korea (Rep. of), Croatia, Denmark, Egypt, the United Arab Emirates, Estonia, the Russian Federation, Finland, France, Ghana, Greece, Guinea, Equatorial Guinea, Hungary, India, Indonesia, Iran (Islamic Republic of), Iraq, Ireland, Israel, Jordan, Kenya, Kuwait, The Former Yugoslav Republic of Macedonia, Lesotho, Latvia, Lebanon, Liechtenstein, Lithuania, Luxembourg, Madagascar, Mali, Mauritania, Montenegro, Nigeria, Norway, Oman, Pakistan, the Netherlands, Poland, Portugal, Qatar, the Syrian Arab Republic, Dem. People's Rep. of Korea, Slovakia, the United Kingdom, Serbia, Slovenia, Somalia, Sudan, South Sudan, Sri Lanka, South Africa, Sweden, Switzerland, Thailand, Togo, Turkey, Venezuela and Viet Nam, the band 1215-1300 MHz is also allocated to the radionavigation service on a primary basis. In Canada and the United States, the band 1240-1300 MHz is also allocated to the radionavigation service, and use of the radionavigation service shall be limited to the aeronautical radionavigation service.

(332) 5.332 In the band 1215-1260 MHz, active spaceborne sensors in the Earth exploration-satellite and space research services shall not cause harmful interference to, claim protection from, or otherwise impose constraints on operation or development of the radiolocation service, the radionavigation-satellite service and other services allocated on a primary basis.

(333) [Reserved]

(334) 5.334 Additional allocation: in Canada and the United States, the band 1350-1370 MHz is also allocated to the aeronautical radionavigation service on a primary basis.

(335) 5.335 In Canada and the United States in the band 1240-1300 MHz, active spaceborne sensors in the Earth exploration-satellite and space research services shall not cause interference to, claim protection from, or otherwise impose constraints on operation or development of the aeronautical radionavigation service.

(i) 5.335A In the band 1260-1300 MHz, active spaceborne sensors in the Earth exploration-satellite and space research services shall not cause harmful interference to, claim protection from, or otherwise impose constraints on operation or development of the radiolocation service and other services allocated by footnotes on a primary basis.

(ii) [Reserved]

(336) [Reserved]

(337) 5.337 The use of the bands 1300-1350 MHz, 2700-2900 MHz and 9000-9200 MHz by the aeronautical radionavigation service is restricted to ground-based radars and to associated airborne transponders which transmit only on frequencies in these bands and only when actuated by radars operating in the same band.

(i) 5.337A The use of the band 1300-1350 MHz by earth stations in the radionavigation-satellite service and by stations in the radiolocation service shall not cause harmful interference to, nor constrain the operation and development of, the aeronautical-radionavigation service.

(ii) [Reserved]

(338) 5.338 In Kyrgyzstan, Slovakia and Turkmenistan, existing installations of the radionavigation service may continue to operate in the band 1350-1400 MHz.

(i) 5.338A In the frequency bands 1350-1400 MHz, 1427-1452 MHz, 22.55-23.55 GHz, 30-31.3 GHz, 49.7-50.2 GHz, 50.4-50.9 GHz, 51.4-52.6 GHz, 81-86 GHz and 92-94 GHz, Resolution 750 (Rev.WRC-15) applies.

(ii) [Reserved]

(339) 5.339 The bands 1370-1400 MHz, 2640-2655 MHz, 4950-4990 MHz and 15.20-15.35 GHz are also allocated to the space research (passive) and Earth exploration-satellite (passive) services on a secondary basis.

(340) 5.340 All emissions are prohibited in the bands 1400-1427 MHz, 2690-2700 MHz (except those provided for by paragraph (b)(422) of this section), 10.68-10.7 GHz (except those provided for by paragraph (b)(483) of this section), 15.35-15.4 GHz (except those provided for by paragraph (b)(511) of this section), 23.6-24 GHz, 31.3-31.5 GHz, 31.5-31.8 GHz (in Region 2), 48.94-49.04 GHz (from airborne stations), 50.2-50.4 GHz, 52.6-54.25 GHz, 86-92 GHz, 100-102 GHz, 109.5-111.8 GHz, 114.25-116 GHz, 148.5-151.5 GHz, 164-167 GHz, 182-185 GHz, 190-191.8 GHz, 200-209 GHz, 226-231.5 GHz, and 250-252 GHz. The allocation to the Earth exploration-satellite service (passive) and the space research service (passive) in the band 50.2-50.4 GHz should not impose undue constraints on the use of the adjacent bands by the primary allocated services in those bands.

(341) 5.341 In the bands 1400-1727 MHz, 101-120 GHz and 197-220 GHz, passive research is being conducted by some countries in a programme for the search for intentional emissions of extraterrestrial origin.

(i) 5.341A In Region 1, the frequency bands 1427-1452 MHz and 1492-1518 MHz are identified for use by administrations wishing to implement International Mobile Telecommunications (IMT) in accordance with Resolution 223 (Rev.WRC-15). This identification does not preclude the use of these frequency bands by any other application of the services to which it is allocated and does not establish priority in the Radio Regulations. The use of IMT stations is subject to agreement obtained under No. 9.21 with respect to the aeronautical mobile service used for aeronautical telemetry in accordance with paragraph (b)(342) of this section.

(ii) 5.341B In Region 2, the frequency band 1427-1518 MHz is identified for use by administrations wishing to implement International Mobile Telecommunications (IMT) in accordance with Resolution 223 (Rev.WRC-15). This identification does not preclude the use of this frequency band by any application of the services to which they are allocated and does not establish priority in the Radio Regulations.

(iii) 5.341C The frequency bands 1427-1452 MHz and 1492-1518 MHz are identified for use by administrations in Region 3 wishing to implement International Mobile Telecommunications (IMT) in accordance with Resolution 223 (Rev.WRC-15). The use of these frequency bands by the above administrations for the implementation of IMT in the frequency bands 1429-1452 MHz and 1492-1518 MHz is subject to agreement obtained under No. 9.21 from countries using stations of the aeronautical mobile service. This identification does not preclude the use of these frequency bands by any application of the services to which it is allocated and does not establish priority in the Radio Regulations.

(342) 5.342 Additional allocation: in Armenia, Azerbaijan, Belarus, the Russian Federation, Uzbekistan, Kyrgyzstan and Ukraine, the frequency band 1429-1535 MHz is also allocated to the aeronautical mobile service on a primary basis, exclusively for the purposes of aeronautical telemetry within the national territory. As of 1 April 2007, the use of the frequency band 1452-1492 MHz is subject to agreement between the administrations concerned.

(343) 5.343 In Region 2, the use of the band 1435-1535 MHz by the aeronautical mobile service for telemetry has priority over other uses by the mobile service.

(344) 5.344 Alternative allocation: in the United States, the band 1452-1525 MHz is allocated to the fixed and mobile services on a primary basis (see also paragraph (b)(343) of this section).

(345) 5.345 Use of the band 1452-1492 MHz by the broadcasting-satellite service, and by the broadcasting service, is limited to digital audio broadcasting and is subject to the provisions of Resolution 528 (Rev.WRC-15).

(346) 5.346 In Algeria, Angola, Saudi Arabia, Bahrain, Benin, Botswana, Burkina Faso, Burundi, Cameroon, Central African Republic, Congo (Rep. of the), Côte d'Ivoire, Djibouti, Egypt, United Arab Emirates, Gabon, Gambia, Ghana, Guinea, Iraq, Jordan, Kenya, Kuwait, Lesotho, Lebanon, Liberia, Madagascar, Malawi, Mali, Morocco, Mauritius, Mauritania, Mozambique, Namibia, Niger, Nigeria, Oman, Uganda, Palestine, Qatar, Dem. Rep. of the Congo, Rwanda, Senegal, Seychelles, Sudan, South Sudan, South Africa, Swaziland, Tanzania, Chad, Togo, Tunisia, Zambia, and Zimbabwe, the frequency band 1452-1492 MHz is identified for use by administrations listed above wishing to implement International Mobile Telecommunications (IMT) in accordance with Resolution 223 (Rev.WRC-15). This identification does not preclude the use of this frequency band by any other application of the services to which it is allocated and does not establish priority in the Radio Regulations. The use of this frequency band for the implementation of IMT is subject to agreement obtained under No. 9.21 with respect to the aeronautical mobile service used for aeronautical telemetry in accordance with paragraph (b)(342) of this section. See also Resolution 761 (WRC-15).

(i) 5.346A The frequency band 1452-1492 MHz is identified for use by administrations in Region 3 wishing to implement International Mobile Telecommunications (IMT) in accordance with Resolution 223 (Rev.WRC-15) and Resolution 761 (WRC-15). The use of this frequency band by the above administrations for the implementation of IMT is subject to agreement obtained under No. 9.21 from countries using stations of the aeronautical mobile service. This identification does not preclude the use of this frequency band by any application of the services to which it is allocated and does not establish priority in the Radio Regulations.

Note 1 to paragraph (b)(346)(i): The use by Palestine of the allocation to the mobile service in the frequency band 1452-1492 MHz identified for IMT is noted, pursuant to Resolution 99 (Rev. Busan, 2014) and taking into account the Israeli-Palestinian Interim Agreement of 28 September 1995.

(ii) [Reserved]

(347) [Reserved]

(348) 5.348 The use of the band 1518-1525 MHz by the mobile-satellite service is subject to coordination under No. 9.11A. In the band 1518-1525 MHz stations in the mobile-satellite service shall not claim protection from the stations in the fixed service. No. 5.43A does not apply.

(i) 5.348A In the band 1518-1525 MHz, the coordination threshold in terms of the power flux-density levels at the surface of the Earth in application of No. 9.11A for space stations in the mobile-satellite (space-to-Earth) service, with respect to the land mobile service use for specialized mobile radios or used in conjunction with public switched telecommunication networks (PSTN) operating within the territory of Japan, shall be −150 dB(W/m²) in any 4 kHz band for all angles of arrival, instead of those given in Table 5-2 of Appendix 5. In the band 1518-1525 MHz stations in the mobile-satellite service shall not claim protection from stations in the mobile service in the territory of Japan. No. 5.43A does not apply.

(ii) 5.348B In the band 1518-1525 MHz, stations in the mobile-satellite service shall not claim protection from aeronautical mobile telemetry stations in the mobile service in the territory of the United States (see paragraphs (b)(343) and (344) of this section) and in the countries listed in paragraph (b)(342) of this section. No. 5.43A does not apply.

(349) 5.349 Different category of service: in Saudi Arabia, Azerbaijan, Bahrain, Cameroon, Egypt, France, Iran (Islamic Republic of), Iraq, Israel, Kazakhstan, Kuwait, The Former Yugoslav Republic of Macedonia, Lebanon, Morocco, Qatar, Syrian Arab Republic, Kyrgyzstan, Turkmenistan and Yemen, the allocation of the band 1525-1530 MHz to the mobile, except aeronautical mobile, service is on a primary basis (see No. 5.33).

(350) 5.350 Additional allocation: in Azerbaijan, Kyrgyzstan and Turkmenistan, the band 1525-1530 MHz is also allocated to the aeronautical mobile service on a primary basis.

(351) 5.351 The bands 1525-1544 MHz, 1545-1559 MHz, 1626.5-1645.5 MHz and 1646.5-1660.5 MHz shall not be used for feeder links of any service. In exceptional circumstances, however, an earth station at a specified fixed point in any of the mobile-satellite services may be authorized by an administration to communicate via space stations using these bands.

(i) 5.351A For the use of the bands 1518-1544 MHz, 1545-1559 MHz, 1610-1645.5 MHz, 1646.5-1660.5 MHz, 1668-1675 MHz, 1980-2010 MHz, 2170-2200 MHz, 2483.5-2520 MHz and 2670-2690 MHz by the mobile-satellite service, see Resolutions 212 (Rev.WRC-15) and 225 (Rev.WRC-12).

(ii) [Reserved]

(352) 5.352A In the frequency band 1525-1530 MHz, stations in the mobile-satellite service, except stations in the maritime mobile-satellite service, shall not cause harmful interference to, or claim protection from, stations of the fixed service in Algeria, Saudi Arabia, Egypt, France and French overseas communities of Region 3, Guinea, India, Israel, Italy, Jordan, Kuwait, Mali, Morocco, Mauritania, Nigeria, Oman, Pakistan, the Philippines, Qatar, Syrian Arab Republic, Viet Nam and Yemen notified prior to 1 April 1998.

(353) 5.353A In applying the procedures of Section II of Article 9 to the mobile-satellite service in the bands 1530-1544 MHz and 1626.5-1645.5 MHz, priority shall be given to accommodating the spectrum requirements for distress, urgency and safety communications of the Global Maritime Distress and Safety System (GMDSS). Maritime mobile-satellite distress, urgency and safety communications shall have priority access and immediate availability over all other mobile satellite communications operating within a network. Mobile-satellite systems shall not cause unacceptable interference to, or claim protection from, distress, urgency and safety communications of the GMDSS. Account shall be taken of the priority of safety-related communications in the other mobile-satellite services. (The provisions of Resolution 222 (Rev.WRC-12) shall apply.)

(354) 5.354 The use of the bands 1525-1559 MHz and 1626.5-1660.5 MHz by the mobile-satellite services is subject to coordination under No. 9.11A.

(355) 5.355 Additional allocation: in Bahrain, Bangladesh, Congo (Rep. of the), Djibouti, Egypt, Eritrea, Iraq, Israel, Kuwait, Qatar, Syrian Arab Republic, Somalia, Sudan, South Sudan, Chad, Togo and Yemen, the bands 1540-1559 MHz, 1610-1645.5 MHz and 1646.5-1660 MHz are also allocated to the fixed service on a secondary basis.

(356) 5.356 The use of the band 1544-1545 MHz by the mobile-satellite service (space-to-Earth) is limited to distress and safety communications (see Article 31).

(357) 5.357 Transmissions in the band 1545-1555 MHz from terrestrial aeronautical stations directly to aircraft stations, or between aircraft stations, in the aeronautical mobile (R) service are also authorized when such transmissions are used to extend or supplement the satellite-to-aircraft links.

(i) 5.357A In applying the procedures of Section II of Article 9 to the mobile-satellite service in the frequency bands 1545-1555 MHz and 1646.5-1656.5 MHz, priority shall be given to accommodating the spectrum requirements of the aeronautical mobile-satellite (R) service providing transmission of messages with priority 1 to 6 in Article 44. Aeronautical mobile-satellite (R) service communications with priority 1 to 6 in Article 44 shall have priority access and immediate availability, by pre-emption if necessary, over all other mobile-satellite communications operating within a network. Mobile-satellite systems shall not cause unacceptable interference to, or claim protection from, aeronautical mobile-satellite (R) service communications with priority 1 to 6 in Article 44. Account shall be taken of the priority of safety-related communications in the other mobile-satellite services. (The provisions of Resolution 222 (Rev.WRC-12) shall apply.)

(ii) [Reserved]

(358) [Reserved]

(359) 5.359 Additional allocation: in Germany, Saudi Arabia, Armenia, Azerbaijan, Belarus, Benin, Cameroon, the Russian Federation, France, Georgia, Guinea, Guinea-Bissau, Jordan, Kazakhstan, Kuwait, Lithuania, Mauritania, Uganda, Uzbekistan, Pakistan, Poland, the Syrian Arab Republic, Kyrgyzstan, the Dem. People's Rep. of Korea, Romania, Tajikistan, Tunisia, Turkmenistan and Ukraine, the frequency bands 1550-1559 MHz, 1610-1645.5 MHz and 1646.5-1660 MHz are also allocated to the fixed service on a primary basis. Administrations are urged to make all practicable efforts to avoid the implementation of new fixed-service stations in these frequency bands.

(360)-(361) [Reserved]

(362) 5.362A In the United States, in the bands 1555-1559 MHz and 1656.5-1660.5 MHz, the aeronautical mobile-satellite (R) service shall have priority access and immediate availability, by pre-emption if necessary, over all other mobile-satellite communications operating within a network. Mobile-satellite systems shall not cause unacceptable interference to, or claim protection from, aeronautical mobile-satellite (R) service communications with priority 1 to 6 in Article 44. Account shall be taken of the priority of safety-related communications in the other mobile-satellite services.

(363) [Reserved]

(364) 5.364 The use of the band 1610-1626.5 MHz by the mobile-satellite service (Earth-to-space) and by the radiodetermination-satellite service (Earth-to-space) is subject to coordination under No. 9.11A. A mobile earth station operating in either of the services in this band shall not produce a peak e.i.r.p. density in excess of −15 dB(W/4 kHz) in the part of the band used by systems operating in accordance with the provisions of paragraph (b)(366) of this section (to which No. 4.10 applies), unless otherwise agreed by the affected administrations. In the part of the band where such systems are not operating, the mean e.i.r.p. density of a mobile earth station shall not exceed −3 dB(W/4 kHz). Stations of the mobile-satellite service shall not claim protection from stations in the aeronautical radionavigation service, stations operating in accordance with the provisions of paragraph (b)(366) of this section and stations in the fixed service operating in accordance with the provisions of paragraph (b)(359) of this section. Administrations responsible for the coordination of mobile-satellite networks shall make all practicable efforts to ensure protection of stations operating in accordance with the provisions of paragraph (b)(366) of this section.

(365) 5.365 The use of the band 1613.8-1626.5 MHz by the mobile-satellite service (space-to-Earth) is subject to coordination under No. 9.11A.

(366) 5.366 The band 1610-1626.5 MHz is reserved on a worldwide basis for the use and development of airborne electronic aids to air navigation and any directly associated ground-based or satellite-borne facilities. Such satellite use is subject to agreement obtained under No. 9.21.

(367) 5.367 Additional allocation: The frequency band 1610-1626.5 MHz is also allocated to the aeronautical mobile-satellite (R) service on a primary basis, subject to agreement obtained under No. 9.21.

(368) 5.368 With respect to the radiodetermination-satellite and mobile-satellite services the provisions of No. 4.10 do not apply in the band 1610-1626.5 MHz, with the exception of the aeronautical radionavigation-satellite service.

(369) 5.369 Different category of service: in Angola, Australia, China, Eritrea, Ethiopia, India, Iran (Islamic Republic of), Israel, Lebanon, Liberia, Madagascar, Mali, Pakistan, Papua New Guinea, Syrian Arab Republic, the Dem. Rep. of the Congo, Sudan, South Sudan, Togo and Zambia, the allocation of the band 1610-1626.5 MHz to the radiodetermination-satellite service (Earth-to-space) is on a primary basis (see No. 5.33), subject to agreement obtained under No. 9.21 from countries not listed in this provision.

(370) 5.370 Different category of service: in Venezuela, the allocation to the radiodetermination-satellite service in the band 1610-1626.5 MHz (Earth-to-space) is on a secondary basis.

(371) 5.371 Additional allocation: in Region 1, the band 1610-1626.5 MHz (Earth-to-space) is also allocated to the radiodetermination-satellite service on a secondary basis, subject to agreement obtained under No. 9.21.

(372) 5.372 Harmful interference shall not be caused to stations of the radio astronomy service using the band 1610.6-1613.8 MHz by stations of the radiodetermination-satellite and mobile-satellite services (No. 29.13 applies).

(373) [Reserved]

(374) 5.374 Mobile earth stations in the mobile-satellite service operating in the bands 1631.5-1634.5 MHz and 1656.5-1660 MHz shall not cause harmful interference to stations in the fixed service operating in the countries listed in paragraph (b)(359) of this section.

(375) 5.375 The use of the band 1645.5-1646.5 MHz by the mobile-satellite service (Earth-to-space) and for inter-satellite links is limited to distress and safety communications (see Article 31).

(376) 5.376 Transmissions in the band 1646.5-1656.5 MHz from aircraft stations in the aeronautical mobile (R) service directly to terrestrial aeronautical stations, or between aircraft stations, are also authorized when such transmissions are used to extend or supplement the aircraft-to-satellite links.

(i) 5.376A Mobile earth stations operating in the band 1660-1660.5 MHz shall not cause harmful interference to stations in the radio astronomy service.

(ii) [Reserved]

(377)-(378) [Reserved]

(379) 5.379 Additional allocation: in Bangladesh, India, Indonesia, Nigeria and Pakistan, the band 1660.5-1668.4 MHz is also allocated to the meteorological aids service on a secondary basis.

(i) 5.379A Administrations are urged to give all practicable protection in the band 1660.5-1668.4 MHz for future research in radio astronomy, particularly by eliminating air-to-ground transmissions in the meteorological aids service in the band 1664.4-1668.4 MHz as soon as practicable.

(ii) 5.379B The use of the band 1668-1675 MHz by the mobile-satellite service is subject to coordination under No. 9.11A. In the band 1668-1668.4 MHz, Resolution 904 (WRC-07) shall apply.

(iii) 5.379C In order to protect the radio astronomy service in the band 1668-1670 MHz, the aggregate power flux-density values produced by mobile earth stations in a network of the mobile-satellite service operating in this band shall not exceed −181 dB(W/m²) in 10 MHz and −194 dB(W/m²) in any 20 kHz at any radio astronomy station recorded in the Master International Frequency Register, for more than 2% of integration periods of 2000 s.

(iv) 5.379D For sharing of the band 1668.4-1675 MHz between the mobile-satellite service and the fixed and mobile services, Resolution 744 (Rev.WRC-07) shall apply.

(v) 5.379E In the band 1668.4-1675 MHz, stations in the mobile-satellite service shall not cause harmful interference to stations in the meteorological aids service in China, Iran (Islamic Republic of), Japan and Uzbekistan. In the band 1668.4-1675 MHz, administrations are urged not to implement new systems in the meteorological aids service and are encouraged to migrate existing meteorological aids service operations to other bands as soon as practicable.

(380) 5.380A In the band 1670-1675 MHz, stations in the mobile-satellite service shall not cause harmful interference to, nor constrain the development of, existing earth stations in the meteorological-satellite service notified before 1 January 2004. Any new assignment to these earth stations in this band shall also be protected from harmful interference from stations in the mobile-satellite service.

(381) 5.381 Additional allocation: in Afghanistan, Cuba, India, Iran (Islamic Republic of) and Pakistan, the band 1690-1700 MHz is also allocated to the fixed and mobile, except aeronautical mobile, services on a primary basis.

(382) 5.382 Different category of service: in Saudi Arabia, Armenia, Azerbaijan, Bahrain, Belarus, Congo (Rep. of the), Egypt, the United Arab Emirates, Eritrea, Ethiopia, the Russian Federation, Guinea, Iraq, Israel, Jordan, Kazakhstan, Kuwait, the Former Yugoslav Republic of Macedonia, Lebanon, Mauritania, Moldova, Mongolia, Oman, Uzbekistan, Poland, Qatar, the Syrian Arab Republic, Kyrgyzstan, Somalia, Tajikistan, Turkmenistan, Ukraine and Yemen, the allocation of the frequency band 1690-1700 MHz to the fixed and mobile, except aeronautical mobile, services is on a primary basis (see No. 5.33), and in the Dem. People's Rep. of Korea, the allocation of the frequency band 1690-1700 MHz to the fixed service is on a primary basis (see No. 5.33) and to the mobile, except aeronautical mobile, service on a secondary basis.

(383) [Reserved]

(384) 5.384 Additional allocation: in India, Indonesia and Japan, the band 1700-1710 MHz is also allocated to the space research service (space-to-Earth) on a primary basis.

(i) 5.384A The frequency bands, 1710-1885 MHz, 2300-2400 MHz and 2500-2690 MHz, or portions thereof, are identified for use by administrations wishing to implement International Mobile Telecommunications (IMT) in accordance with Resolution 223 (Rev.WRC-15). This identification does not preclude the use of these frequency bands by any application of the services to which they are allocated and does not establish priority in the Radio Regulations.

(ii) [Reserved]

(385) 5.385 Additional allocation: the band 1718.8-1722.2 MHz is also allocated to the radio astronomy service on a secondary basis for spectral line observations.

(386) 5.386 Additional allocation: the frequency band 1750-1850 MHz is also allocated to the space operation (Earth-to-space) and space research (Earth-to-space) services in Region 2 (except in Mexico), in Australia, Guam, India, Indonesia and Japan on a primary basis, subject to agreement obtained under No. 9.21, having particular regard to troposcatter systems.

(387) 5.387 Additional allocation: in Belarus, Georgia, Kazakhstan, Kyrgyzstan, Romania, Tajikistan and Turkmenistan, the band 1770-1790 MHz is also allocated to the meteorological-satellite service on a primary basis, subject to agreement obtained under No. 9.21.

(388) 5.388 The frequency bands 1885-2025 MHz and 2110-2200 MHz are intended for use, on a worldwide basis, by administrations wishing to implement International Mobile Telecommunications (IMT). Such use does not preclude the use of these frequency bands by other services to which they are allocated. The frequency bands should be made available for IMT in accordance with Resolution 212 (Rev.WRC-15) (see also Resolution 223 (Rev.WRC-15)).

(i) 5.388A In Regions 1 and 3, the bands 1885-1980 MHz, 2010-2025 MHz and 2110-2170 MHz and, in Region 2, the bands 1885-1980 MHz and 2110-2160 MHz may be used by high altitude platform stations as base stations to provide International Mobile Telecommunications (IMT), in accordance with Resolution 221 (Rev.WRC-07). Their use by IMT applications using high altitude platform stations as base stations does not preclude the use of these bands by any station in the services to which they are allocated and does not establish priority in the Radio Regulations.

(ii) 5.388B In Algeria, Saudi Arabia, Bahrain, Benin, Burkina Faso, Cameroon, Comoros, Côte d'Ivoire, China, Cuba, Djibouti, Egypt, United Arab Emirates, Eritrea, Ethiopia, Gabon, Ghana, India, Iran (Islamic Republic of), Israel, Jordan, Kenya, Kuwait, Libya, Mali, Morocco, Mauritania, Nigeria, Oman, Uganda, Pakistan, Qatar, the Syrian Arab Republic, Senegal, Singapore, Sudan, South Sudan, Tanzania, Chad, Togo, Tunisia, Yemen, Zambia and Zimbabwe, for the purpose of protecting fixed and mobile services, including IMT mobile stations, in their territories from co-channel interference, a high altitude platform station (HAPS) operating as an IMT base station in neighbouring countries, in the bands referred to in No. 5.388A, shall not exceed a co-channel power flux-density of −127 dB(W/(m² · MHz)) at the Earth's surface outside a country's borders unless explicit agreement of the affected administration is provided at the time of the notification of HAPS.

(389) 5.389A The use of the bands 1980-2010 MHz and 2170-2200 MHz by the mobile-satellite service is subject to coordination under No. 9.11A and to the provisions of Resolution 716 (Rev.WRC-12).

(i) 5.389B The use of the band 1980-1990 MHz by the mobile-satellite service shall not cause harmful interference to or constrain the development of the fixed and mobile services in Argentina, Brazil, Canada, Chile, Ecuador, the United States, Honduras, Jamaica, Mexico, Peru, Suriname, Trinidad and Tobago, Uruguay and Venezuela.

(ii) 5.389C The use of the bands 2010-2025 MHz and 2160-2170 MHz in Region 2 by the mobile-satellite service is subject to coordination under No. 9.11A and to the provisions of Resolution 716 (Rev.WRC-12).

(iii) 5.389E The use of the bands 2010-2025 MHz and 2160-2170 MHz by the mobile-satellite service in Region 2 shall not cause harmful interference to or constrain the development of the fixed and mobile services in Regions 1 and 3.

(iv) 5.389F In Algeria, Benin, Cape Verde, Egypt, Iran (Islamic Republic of), Mali, Syrian Arab Republic and Tunisia, the use of the bands 1980-2010 MHz and 2170-2200 MHz by the mobile-satellite service shall neither cause harmful interference to the fixed and mobile services, nor hamper the development of those services prior to 1 January 2005, nor shall the former service request protection from the latter services.

(390) [Reserved]

(391) 5.391 In making assignments to the mobile service in the frequency bands 2025-2110 MHz and 2200-2290 MHz, administrations shall not introduce high-density mobile systems, as described in Recommendation ITU-R SA.1154-0, and shall take that Recommendation into account for the introduction of any other type of mobile system.

(392) 5.392 Administrations are urged to take all practicable measures to ensure that space-to-space transmissions between two or more non-geostationary satellites, in the space research, space operations and Earth exploration-satellite services in the bands 2025-2110 MHz and 2200-2290 MHz, shall not impose any constraints on Earth-to-space, space-to-Earth and other space-to-space transmissions of those services and in those bands between geostationary and non-geostationary satellites.

(393) 5.393 Additional allocation: in Canada, the United States and India, the frequency band 2310-2360 MHz is also allocated to the broadcasting-satellite service (sound) and complementary terrestrial sound broadcasting service on a primary basis. Such use is limited to digital audio broadcasting and is subject to the provisions of Resolution 528 (Rev.WRC-15), with the exception of resolves 3 in regard to the limitation on broadcasting-satellite systems in the upper 25 MHz.

(394) 5.394 In the United States, the use of the band 2300-2390 MHz by the aeronautical mobile service for telemetry has priority over other uses by the mobile services. In Canada, the use of the band 2360-2400 MHz by the aeronautical mobile service for telemetry has priority over other uses by the mobile services.

(395) 5.395 In France and Turkey, the use of the band 2310-2360 MHz by the aeronautical mobile service for telemetry has priority over other uses by the mobile service.

(396) 5.396 Space stations of the broadcasting-satellite service in the band 2310-2360 MHz operating in accordance with paragraph (b)(393) of this section that may affect the services to which this band is allocated in other countries shall be coordinated and notified in accordance with Resolution 33 (Rev.WRC-15). Complementary terrestrial broadcasting stations shall be subject to bilateral coordination with neighbouring countries prior to their bringing into use.

(397) [Reserved]

(398) 5.398 In respect of the radiodetermination-satellite service in the band 2483.5-2500 MHz, the provisions of No. 4.10 do not apply.

(i) 5.398A Different category of service: in Armenia, Azerbaijan, Belarus, the Russian Federation, Kazakhstan, Uzbekistan, Kyrgyzstan, Tajikistan and Ukraine, the band 2483.5-2500 MHz is allocated on a primary basis to the radiolocation service. The radiolocation stations in these countries shall not cause harmful interference to, or claim protection from, stations of the fixed, mobile and mobile-satellite services operating in accordance with the Radio Regulations in the frequency band 2483.5-2500 MHz.

(ii) [Reserved]

(399) 5.399 Except for cases referred to in paragraph (b)(401) of this section, stations of the radiodetermination-satellite service operating in the frequency band 2483.5-2500 MHz for which notification information is received by the Bureau after 17 February 2012, and the service area of which includes Armenia, Azerbaijan, Belarus, the Russian Federation, Kazakhstan, Uzbekistan, Kyrgyzstan, Tajikistan and Ukraine, shall not cause harmful interference to, and shall not claim protection from stations of the radiolocation service operating in these countries in accordance with paragraph (b)(398)(i) of this section.

(400) [Reserved]

(401) 5.401 In Angola, Australia, Bangladesh, China, Eritrea, Ethiopia, India, Iran (Islamic Republic of), Lebanon, Liberia, Libya, Madagascar, Mali, Pakistan, Papua New Guinea, Syrian Arab Republic, Dem. Rep. of the Congo, Sudan, Swaziland, Togo and Zambia, the frequency band 2483.5-2500 MHz was already allocated on a primary basis to the radiodetermination-satellite service before WRC-12, subject to agreement obtained under No. 9.21 from countries not listed in this provision. Systems in the radiodetermination-satellite service for which complete coordination information has been received by the Radiocommunication Bureau before 18 February 2012 will retain their regulatory status, as of the date of receipt of the coordination request information.

(402) 5.402 The use of the band 2483.5-2500 MHz by the mobile-satellite and the radiodetermination-satellite services is subject to the coordination under No. 9.11A. Administrations are urged to take all practicable steps to prevent harmful interference to the radio astronomy service from emissions in the 2483.5-2500 MHz band, especially those caused by second-harmonic radiation that would fall into the 4990-5000 MHz band allocated to the radio astronomy service worldwide.

(403) 5.403 Subject to agreement obtained under No. 9.21, the band 2520-2535 MHz may also be used for the mobile-satellite (space-to-Earth), except aeronautical mobile-satellite, service for operation limited to within national boundaries. The provisions of No. 9.11A apply.

(404) 5.404 Additional allocation: in India and Iran (Islamic Republic of), the band 2500-2516.5 MHz may also be used for the radiodetermination-satellite service (space-to-Earth) for operation limited to within national boundaries, subject to agreement obtained under No. 9.21.

(405)-(406) [Reserved]

(407) 5.407 In the band 2500-2520 MHz, the power flux-density at the surface of the Earth from space stations operating in the mobile-satellite (space-to-Earth) service shall not exceed −152 dB (W/(m² · 4 kHz)) in Argentina, unless otherwise agreed by the administrations concerned.

(408)-(409) [Reserved]

(410) 5.410 The band 2500-2690 MHz may be used for tropospheric scatter systems in Region 1, subject to agreement obtained under No. 9.21. No. 9.21 does not apply to tropospheric scatter links situated entirely outside Region 1. Administrations shall make all practicable efforts to avoid developing new tropospheric scatter systems in this band. When planning new tropospheric scatter radio-relay links in this band, all possible measures shall be taken to avoid directing the antennas of these links towards the geostationary-satellite orbit.

(411) [Reserved]

(412) 5.412 Alternative allocation: in Kyrgyzstan and Turkmenistan, the band 2500-2690 MHz is allocated to the fixed and mobile, except aeronautical mobile, services on a primary basis.

(413) 5.413 In the design of systems in the broadcasting-satellite service in the bands between 2500 MHz and 2690 MHz, administrations are urged to take all necessary steps to protect the radio astronomy service in the band 2690-2700 MHz.

(414) 5.414 The allocation of the frequency band 2500-2520 MHz to the mobile-satellite service (space-to-Earth) is subject to coordination under No. 9.11A.

(i) 5.414A In Japan and India, the use of the bands 2500-2520 MHz and 2520-2535 MHz, under paragraph (b)(403) of this section, by a satellite network in the mobile-satellite service (space-to-Earth) is limited to operation within national boundaries and subject to the application of No. 9.11A. The following pfd values shall be used as a threshold for coordination under No. 9.11A, for all conditions and for all methods of modulation, in an area of 1000 km around the territory of the administration notifying the mobile-satellite service network: −136 dB(W/(m² · MHz)) for 0° ≤ θ ≤ 5°,−136 + 0.55 (θ − 5) dB(W/(m² · MHz)) for 5° < θ ≤ 25°, and −125 dB(W/(m² · MHz)) for 25° < θ ≤ 90°, where θ is the angle of arrival of the incident wave above the horizontal plane, in degrees. Outside this area Table 21-4 of Article 21 shall apply. Furthermore, the coordination thresholds in Table 5-2 of Annex 1 to Appendix 5 of the Radio Regulations (Edition of 2004), in conjunction with the applicable provisions of Articles 9 and 11 associated with No. 9.11A, shall apply to systems for which complete notification information has been received by the Radicommunication Bureau by 14 November 2007 and that have been brought into use by that date.

5.415 The use of the bands 2500-2690 MHz in Region 2 and 2500-2535 MHz and 2655-2690 MHz in Region 3 by the fixed-satellite service is limited to national and regional systems, subject to agreement obtained under No. 9.21, giving particular attention to the broadcasting-satellite service in Region 1.

(ii) [Reserved]

(415) 5.415A Additional allocation: in India and Japan, subject to agreement obtained under No. 9.21, the band 2515-2535 MHz may also be used for the aeronautical mobile-satellite service (space-to-Earth) for operation limited to within their national boundaries.

(416) 5.416 The use of the band 2520-2670 MHz by the broadcasting-satellite service is limited to national and regional systems for community reception, subject to agreement obtained under No. 9.21. The provisions of No. 9.19 shall be applied by administrations in this band in their bilateral and multilateral negotiations.

(417) [Reserved]

(418) 5.418 Additional allocation: in India, the frequency band 2535-2655 MHz is also allocated to the broadcasting-satellite service (sound) and complementary terrestrial broadcasting service on a primary basis. Such use is limited to digital audio broadcasting and is subject to the provisions of Resolution 528 (Rev.WRC-15). The provisions of paragraph (b)(416) of this section and Table 21-4 of Article 21, do not apply to this additional allocation. Use of non-geostationary-satellite systems in the broadcasting-satellite service (sound) is subject to Resolution 539 (Rev.WRC-15). Geostationary broadcasting-satellite service (sound) systems for which complete Appendix 4 coordination information has been received after 1 June 2005 are limited to systems intended for national coverage. The power flux-density at the Earth's surface produced by emissions from a geostationary broadcasting-satellite service (sound) space station operating in the frequency band 2630-2655 MHz, and for which complete Appendix 4 coordination information has been received after 1 June 2005, shall not exceed the following limits, for all conditions and for all methods of modulation: −130 dB(W/(m² · MHz)) for 0° ≤ θ ≤ 5°, −130 + 0.4 (θ-5) dB(W/(m² · MHz)) for 5° < θ ≤ 25°, and −122 dB(W/(m² · MHz)) for 25° < θ ≤ 90°, where θ is the angle of arrival of the incident wave above the horizontal plane, in degrees. These limits may be exceeded on the territory of any country whose administration has so agreed. As an exception to the limits above, the pfd value of −122 dB(W/(m² · MHz)) shall be used as a threshold for coordination under No. 9.11 in an area of 1500 km around the territory of the administration notifying the broadcasting-satellite service (sound) system. In addition, an administration listed in this provision shall not have simultaneously two overlapping frequency assignments, one under this provision and the other under paragraph (b)(416) of this section for systems for which complete Appendix 4 coordination information has been received after 1 June 2005.

(i) 5.418A In certain Region 3 countries listed in No. 5.418, use of the band 2630-2655 MHz by non-geostationary-satellite systems in the broadcasting-satellite service (sound) for which complete Appendix 4 coordination information, or notification information, has been received after 2 June 2000, is subject to the application of the provisions of No. 9.12A, in respect of geostationary-satellite networks for which complete Appendix 4 coordination information, or notification information, is considered to have been received after 2 June 2000, and No. 22.2 does not apply. No. 22.2 shall continue to apply with respect to geostationary-satellite networks for which complete Appendix 4 coordination information, or notification information, is considered to have been received before 3 June 2000.

(ii) 5.418B Use of the band 2630-2655 MHz by non-geostationary-satellite systems in the broadcasting-satellite service (sound), pursuant to this paragraph (b)(418), for which complete Appendix 4 coordination information, or notification information, has been received after 2 June 2000, is subject to the application of the provisions of No. 9.12.

(iii) 5.418C Use of the band 2630-2655 MHz by geostationary-satellite networks for which complete Appendix 4 coordination information, or notification information, has been received after 2 June 2000 is subject to the application of the provisions of No. 9.13 with respect to non-geostationary-satellite systems in the broadcasting-satellite service (sound), pursuant to this paragraph (b)(418) and No. 22.2 does not apply.

(419) 5.419 When introducing systems of the mobile-satellite service in the band 2670-2690 MHz, administrations shall take all necessary steps to protect the satellite systems operating in this band prior to 3 March 1992. The coordination of mobile-satellite systems in the band shall be in accordance with No. 9.11A.

(420) 5.420 The band 2655-2670 MHz may also be used for the mobile-satellite (Earth-to-space), except aeronautical mobile-satellite, service for operation limited to within national boundaries, subject to agreement obtained under No. 9.21. The coordination under No. 9.11A applies.

(421) [Reserved]

(422) 5.422 Additional allocation: in Saudi Arabia, Armenia, Azerbaijan, Bahrain, Belarus, Brunei Darussalam, Congo (Rep. of the), Côte d'Ivoire, Cuba, Djibouti, Egypt, the United Arab Emirates, Eritrea, Ethiopia, Gabon, Georgia, Guinea, Guinea-Bissau, Iran (Islamic Republic of), Iraq, Israel, Jordan, Kuwait, Lebanon, Mauritania, Mongolia, Montenegro, Nigeria, Oman, Pakistan, the Philippines, Qatar, Syrian Arab Republic, Kyrgyzstan, the Dem. Rep. of the Congo, Romania, Somalia, Tajikistan, Tunisia, Turkmenistan, Ukraine and Yemen, the band 2690-2700 MHz is also allocated to the fixed and mobile, except aeronautical mobile, services on a primary basis. Such use is limited to equipment in operation by 1 January 1985.

(423) 5.423 In the band 2700-2900 MHz, ground-based radars used for meteorological purposes are authorized to operate on a basis of equality with stations of the aeronautical radionavigation service.

(424) 5.424 Additional allocation: in Canada, the band 2850-2900 MHz is also allocated to the maritime radionavigation service, on a primary basis, for use by shore-based radars.

(i) 5.424A In the band 2900-3100 MHz, stations in the radiolocation service shall not cause harmful interference to, nor claim protection from, radar systems in the radionavigation service.

(ii) [Reserved]

(425) 5.425 In the band 2900-3100 MHz, the use of the shipborne interrogator-transponder (SIT) system shall be confined to the sub-band 2930-2950 MHz.

(426) 5.426 The use of the band 2900-3100 MHz by the aeronautical radionavigation service is limited to ground-based radars.

(427) 5.427 In the bands 2900-3100 MHz and 9300-9500 MHz, the response from radar transponders shall not be capable of being confused with the response from radar beacons (racons) and shall not cause interference to ship or aeronautical radars in the radionavigation service, having regard, however, to No. 4.9.

(428) 5.428 Additional allocation: in Azerbaijan, Kyrgyzstan and Turkmenistan, the frequency band 3100-3300 MHz is also allocated to the radionavigation service on a primary basis.

(429) 5.429 Additional allocation: in Saudi Arabia, Bahrain, Bangladesh, Benin, Brunei Darussalam, Cambodia, Cameroon, China, Congo (Rep. of the), Korea (Rep. of), Côte d'Ivoire, Egypt, the United Arab Emirates, India, Indonesia, Iran (Islamic Republic of), Iraq, Israel, Japan, Jordan, Kenya, Kuwait, Lebanon, Libya, Malaysia, Oman, Uganda, Pakistan, Qatar, the Syrian Arab Republic, the Dem. Rep. of the Congo, the Dem. People's Rep. of Korea, Sudan and Yemen, the frequency band 3300-3400 MHz is also allocated to the fixed and mobile services on a primary basis. The countries bordering the Mediterranean shall not claim protection for their fixed and mobile services from the radiolocation service.

(i) 5.429A Additional allocation: in Angola, Benin, Botswana, Burkina Faso, Burundi, Ghana, Guinea, Guinea-Bissau, Lesotho, Liberia, Malawi, Mauritania, Mozambique, Namibia, Niger, Nigeria, Rwanda, Sudan, South Sudan, South Africa, Swaziland, Tanzania, Chad, Togo, Zambia and Zimbabwe, the frequency band 3300-3400 MHz is allocated to the mobile, except aeronautical mobile, service on a primary basis. Stations in the mobile service operating in the frequency band 3300-3400 MHz shall not cause harmful interference to, or claim protection from, stations operating in the radiolocation service.

(ii) 5.429B In the following countries of Region 1 south of 30° parallel north: Angola, Benin, Botswana, Burkina Faso, Burundi, Cameroon, Congo (Rep. of the), Côte d'Ivoire, Egypt, Ghana, Guinea, Guinea-Bissau, Kenya, Lesotho, Liberia, Malawi, Mauritania, Mozambique, Namibia, Niger, Nigeria, Uganda, the Dem. Rep. of the Congo, Rwanda, Sudan, South Sudan, South Africa, Swaziland, Tanzania, Chad, Togo, Zambia and Zimbabwe, the frequency band 3300-3400 MHz is identified for the implementation of International Mobile Telecommunications (IMT). The use of this frequency band shall be in accordance with Resolution 223 (Rev.WRC-15). The use of the frequency band 3300-3400 MHz by IMT stations in the mobile service shall not cause harmful interference to, or claim protection from, systems in the radiolocation service, and administrations wishing to implement IMT shall obtain the agreement of neighbouring countries to protect operations within the radiolocation service. This identification does not preclude the use of this frequency band by any application of the services to which it is allocated and does not establish priority in the Radio Regulations.

(iii) 5.429C Different category of service: in Argentina, Brazil, Colombia, Costa Rica, Ecuador, Guatemala, Mexico, Paraguay and Uruguay, the frequency band 3300-3400 MHz is allocated to the mobile, except aeronautical mobile, service on a primary basis. In Argentina, Brazil, Guatemala, Mexico and Paraguay, the frequency band 3300-3400 MHz is also allocated to the fixed service on a primary basis. Stations in the fixed and mobile services operating in the frequency band 3300-3400 MHz shall not cause harmful interference to, or claim protection from, stations operating in the radiolocation service.

(iv) 5.429D In the following countries in Region 2: Argentina, Colombia, Costa Rica, Ecuador, Mexico and Uruguay, the use of the frequency band 3300-3400 MHz is identified for the implementation of International Mobile Telecommunications (IMT). Such use shall be in accordance with Resolution 223 (Rev.WRC-15). This use in Argentina and Uruguay is subject to the application of No. 9.21. The use of the frequency band 3300-3400 MHz by IMT stations in the mobile service shall not cause harmful interference to, or claim protection from, systems in the radiolocation service, and administrations wishing to implement IMT shall obtain the agreement of neighbouring countries to protect operations within the radiolocation service. This identification does not preclude the use of this frequency band by any application of the services to which it is allocated and does not establish priority in the Radio Regulations.

(v) 5.429E Additional allocation: in Papua New Guinea, the frequency band 3300-3400 MHz is allocated to the mobile, except aeronautical mobile, service on a primary basis. Stations in the mobile service operating in the frequency band 3300-3400 MHz shall not cause harmful interference to, or claim protection from, stations operating in the radiolocation service.

(vi) 5.429F In the following countries in Region 3: Cambodia, India, Lao P.D.R., Pakistan, the Philippines and Viet Nam, the use of the frequency band 3300-3400 MHz is identified for the implementation of International Mobile Telecommunications (IMT). Such use shall be in accordance with Resolution 223 (Rev.WRC-15). The use of the frequency band 3300-3400 MHz by IMT stations in the mobile service shall not cause harmful interference to, or claim protection from, systems in the radiolocation service. Before an administration brings into use a base or mobile station of an IMT system in this frequency band, it shall seek agreement under No. 9.21 with neighbouring countries to protect the radiolocation service. This identification does not preclude the use of this frequency band by any application of the services to which it is allocated and does not establish priority in the Radio Regulations.

(430) 5.430 Additional allocation: in Azerbaijan, Kyrgyzstan and Turkmenistan, the frequency band 3300-3400 MHz is also allocated to the radionavigation service on a primary basis.

(i) 5.430A The allocation of the frequency band 3400-3600 MHz to the mobile, except aeronautical mobile, service is subject to agreement obtained under No. 9.21. This frequency band is identified for International Mobile Telecommunications (IMT). This identification does not preclude the use of this frequency band by any application of the services to which it is allocated and does not establish priority in the Radio Regulations. The provisions of Nos. 9.17 and 9.18 shall also apply in the coordination phase. Before an administration brings into use a (base or mobile) station of the mobile service in this frequency band, it shall ensure that the power flux-density (pfd) produced at 3 m above ground does not exceed −154.5 dB(W/(m² · 4 kHz)) for more than 20% of time at the border of the territory of any other administration. This limit may be exceeded on the territory of any country whose administration has so agreed. In order to ensure that the pfd limit at the border of the territory of any other administration is met, the calculations and verification shall be made, taking into account all relevant information, with the mutual agreement of both administrations (the administration responsible for the terrestrial station and the administration responsible for the earth station) and with the assistance of the Bureau if so requested. In case of disagreement, calculation and verification of the pfd shall be made by the Bureau, taking into account the information referred to in this paragraph (b)(430)(i). Stations of the mobile service in the frequency band 3400-3600 MHz shall not claim more protection from space stations than that provided in Table 21-4 of the Radio Regulations (Edition of 2004). This allocation is effective from 17 November 2010.

(ii) [Reserved]

(431) 5.431 Additional allocation: in Germany and Israel, the frequency band 3400-3475 MHz is also allocated to the amateur service on a secondary basis.

(i) 5.431A In Region 2, the allocation of the frequency band 3400-3500 MHz to the mobile, except aeronautical mobile, service on a primary basis is subject to agreement obtained under No. 9.21.

(ii) 5.431B In Region 2, the frequency band 3400-3600 MHz is identified for use by administrations wishing to implement International Mobile Telecommunications (IMT). This identification does not preclude the use of this frequency band by any application of the services to which it is allocated and does not establish priority in the Radio Regulations. At the stage of coordination the provisions of Nos. 9.17 and 9.18 also apply. Before an administration brings into use a base or mobile station of an IMT system, it shall seek agreement under No. 9.21 with other administrations and ensure that the power flux-density (pfd) produced at 3 m above ground does not exceed −154.5 dB(W/(m² · 4 kHz)) for more than 20% of time at the border of the territory of any other administration. This limit may be exceeded on the territory of any country whose administration has so agreed. In order to ensure that the pfd limit at the border of the territory of any other administration is met, the calculations and verification shall be made, taking into account all relevant information, with the mutual agreement of both administrations (the administration responsible for the terrestrial station and the administration responsible for the earth station), with the assistance of the Bureau if so requested. In case of disagreement, the calculation and verification of the pfd shall be made by the Bureau, taking into account the information referred to in this paragraph (b)(431)(ii). Stations of the mobile service, including IMT systems, in the frequency band 3400-3600 MHz shall not claim more protection from space stations than that provided in Table 21-4 of the Radio Regulations (Edition of 2004).

(432) 5.432 Different category of service: in Korea (Rep. of), Japan and Pakistan, the allocation of the band 3400-3500 MHz to the mobile, except aeronautical mobile, service is on a primary basis (see No. 5.33).

(i) 5.432A In Korea (Rep. of), Japan and Pakistan, the band 3400-3500 MHz is identified for International Mobile Telecommunications (IMT). This identification does not preclude the use of this band by any application of the services to which it is allocated and does not establish priority in the Radio Regulations. At the stage of coordination the provisions of Nos. 9.17 and 9.18 also apply. Before an administration brings into use a (base or mobile) station of the mobile service in this band it shall ensure that the power flux-density (pfd) produced at 3 m above ground does not exceed −154.5 dB(W/(m² · 4 kHz)) for more than 20% of time at the border of the territory of any other administration. This limit may be exceeded on the territory of any country whose administration has so agreed. In order to ensure that the pfd limit at the border of the territory of any other administration is met, the calculations and verification shall be made, taking into account all relevant information, with the mutual agreement of both administrations (the administration responsible for the terrestrial station and the administration responsible for the earth station), with the assistance of the Bureau if so requested. In case of disagreement, the calculation and verification of the pfd shall be made by the Bureau, taking into account the information referred to in this paragraph (b)(432)(i). Stations of the mobile service in the band 3400-3500 MHz shall not claim more protection from space stations than that provided in Table 21-4 of the Radio Regulations (Edition of 2004).

(ii) 5.432B Different category of service: in Australia, Bangladesh, China, French overseas communities of Region 3, India, Iran (Islamic Republic of), New Zealand, the Philippines and Singapore, the frequency band 3400-3500 MHz is allocated to the mobile, except aeronautical mobile, service on a primary basis, subject to agreement obtained under No. 9.21 with other administrations and is identified for International Mobile Telecommunications (IMT). This identification does not preclude the use of this frequency band by any application of the services to which it is allocated and does not establish priority in the Radio Regulations. At the stage of coordination the provisions of Nos. 9.17 and 9.18 also apply. Before an administration brings into use a (base or mobile) station of the mobile service in this frequency band it shall ensure that the power flux-density (pfd) produced at 3 m above ground does not exceed −154.5 dB(W/(m² · 4 kHz)) for more than 20% of time at the border of the territory of any other administration. This limit may be exceeded on the territory of any country whose administration has so agreed. In order to ensure that the pfd limit at the border of the territory of any other administration is met, the calculations and verification shall be made, taking into account all relevant information, with the mutual agreement of both administrations (the administration responsible for the terrestrial station and the administration responsible for the earth station), with the assistance of the Bureau if so requested. In case of disagreement, the calculation and verification of the pfd shall be made by the Bureau, taking into account the information referred to in this paragraph (b)(432)(ii). Stations of the mobile service in the frequency band 3400-3500 MHz shall not claim more protection from space stations than that provided in Table 21-4 of the Radio Regulations (Edition of 2004).

(433) 5.433 In Regions 2 and 3, in the band 3400-3600 MHz the radiolocation service is allocated on a primary basis. However, all administrations operating radiolocation systems in this band are urged to cease operations by 1985. Thereafter, administrations shall take all practicable steps to protect the fixed-satellite service and coordination requirements shall not be imposed on the fixed-satellite service.

(i) 5.433A In Australia, Bangladesh, China, French overseas communities of Region 3, Korea (Rep. of), India, Iran (Islamic Republic of), Japan, New Zealand, Pakistan and the Philippines, the frequency band 3500-3600 MHz is identified for International Mobile Telecommunications (IMT). This identification does not preclude the use of this frequency band by any application of the services to which it is allocated and does not establish priority in the Radio Regulations. At the stage of coordination the provisions of Nos. 9.17 and 9.18 also apply. Before an administration brings into use a (base or mobile) station of the mobile service in this frequency band it shall ensure that the power flux-density (pfd) produced at 3 m above ground does not exceed −154.5 dB (W/(m² · 4 kHz)) for more than 20% of time at the border of the territory of any other administration. This limit may be exceeded on the territory of any country whose administration has so agreed. In order to ensure that the pfd limit at the border of the territory of any other administration is met, the calculations and verification shall be made, taking into account all relevant information, with the mutual agreement of both administrations (the administration responsible for the terrestrial station and the administration responsible for the earth station), with the assistance of the Bureau if so requested. In case of disagreement, the calculation and verification of the pfd shall be made by the Bureau, taking into account the information referred to in this paragraph (b)(433)(i). Stations of the mobile service in the frequency band 3500-3600 MHz shall not claim more protection from space stations than that provided in table 21-4 of the Radio Regulations (Edition of 2004).

(ii) [Reserved]

(434) 5.434 In Canada, Colombia, Costa Rica and the United States, the frequency band 3600-3700 MHz, or portions thereof, is identified for use by these administrations wishing to implement International Mobile Telecommunications (IMT). This identification does not preclude the use of this frequency band by any application of the services to which it is allocated and does not establish priority in the Radio Regulations. At the stage of coordination the provisions of Nos. 9.17 and 9.18 also apply. Before an administration brings into use a base or mobile station of an IMT system, it shall seek agreement under No. 9.21 with other administrations and ensure that the power flux-density (pfd) produced at 3 m above ground does not exceed −154.5 dB(W/(m² · 4 kHz)) for more than 20% of time at the border of the territory of any other administration. This limit may be exceeded on the territory of any country whose administration has so agreed. In order to ensure that the pfd limit at the border of the territory of any other administration is met, the calculations and verification shall be made, taking into account all relevant information, with the mutual agreement of both administrations (the administration responsible for the terrestrial station and the administration responsible for the earth station), with the assistance of the Bureau if so requested. In case of disagreement, the calculation and verification of the pfd shall be made by the Bureau, taking into account the information referred to in this paragraph (b)(434). Stations of the mobile service, including IMT systems, in the frequency band 3600-3700 MHz shall not claim more protection from space stations than that provided in table 21-4 of the Radio Regulations (Edition of 2004).

(435) 5.435 In Japan, in the band 3620-3700 MHz, the radiolocation service is excluded.

(436) 5.436 Use of the frequency band 4200-4400 MHz by stations in the aeronautical mobile (R) service is reserved exclusively for wireless avionics intra-communication systems that operate in accordance with recognized international aeronautical standards. Such use shall be in accordance with Resolution 424 (WRC-15).

(437) 5.437 Passive sensing in the Earth exploration-satellite and space research services may be authorized in the frequency band 4200-4400 MHz on a secondary basis.

(438) 5.438 Use of the frequency band 4200-4400 MHz by the aeronautical radionavigation service is reserved exclusively for radio altimeters installed on board aircraft and for the associated transponders on the ground.

(439) 5.439 Additional allocation: in Iran (Islamic Republic of), the band 4200-4400 MHz is also allocated to the fixed service on a secondary basis.

(440) 5.440 The standard frequency and time signal-satellite service may be authorized to use the frequency 4202 MHz for space-to-Earth transmissions and the frequency 6427 MHz for Earth-to-space transmissions. Such transmissions shall be confined within the limits of ± 2 MHz of these frequencies, subject to agreement obtained under No. 9.21.

(i) 5.440A In Region 2 (except Brazil, Cuba, French overseas departments and communities, Guatemala, Paraguay, Uruguay and Venezuela), and in Australia, the band 4400-4940 MHz may be used for aeronautical mobile telemetry for flight testing by aircraft stations (see No. 1.83). Such use shall be in accordance with Resolution 416 (WRC-07) and shall not cause harmful interference to, nor claim protection from, the fixed-satellite and fixed services. Any such use does not preclude the use of this band by other mobile service applications or by other services to which this band is allocated on a co-primary basis and does not establish priority in the Radio Regulations.

(ii) [Reserved]

(441) 5.441 The use of the bands 4500-4800 MHz (space-to-Earth), 6725-7025 MHz (Earth-to-space) by the fixed-satellite service shall be in accordance with the provisions of Appendix 30B. The use of the bands 10.7-10.95 GHz (space-to-Earth), 11.2-11.45 GHz (space-to-Earth) and 12.75-13.25 GHz (Earth-to-space) by geostationary-satellite systems in the fixed-satellite service shall be in accordance with the provisions of Appendix 30B. The use of the bands 10.7-10.95 GHz (space-to-Earth), 11.2-11.45 GHz (space-to-Earth) and 12.75-13.25 GHz (Earth-to-space) by a non-geostationary-satellite system in the fixed-satellite service is subject to application of the provisions of No. 9.12 for coordination with other non-geostationary-satellite systems in the fixed-satellite service. Non-geostationary-satellite systems in the fixed-satellite service shall not claim protection from geostationary-satellite networks in the fixed-satellite service operating in accordance with the Radio Regulations, irrespective of the dates of receipt by the Bureau of the complete coordination or notification information, as appropriate, for the non-geostationary-satellite systems in the fixed-satellite service and of the complete coordination or notification information, as appropriate, for the geostationary-satellite networks, and No. 5.43A does not apply. Non-geostationary-satellite systems in the fixed-satellite service in the above bands shall be operated in such a way that any unacceptable interference that may occur during their operation shall be rapidly eliminated.

(i) 5.441A In Uruguay, the frequency band 4800-4900 MHz, or portions thereof, is identified for the implementation of International Mobile Telecommunications (IMT). This identification does not preclude the use of this frequency band by any application of the services to which it is allocated and does not establish priority in the Radio Regulations. The use of this frequency band for the implementation of IMT is subject to agreement obtained with neighbouring countries, and IMT stations shall not claim protection from stations of other applications of the mobile service. Such use shall be in accordance with Resolution 223 (Rev.WRC-15).

(ii) 5.441B In Cambodia, Lao P.D.R. and Viet Nam, the frequency band 4800-4990 MHz, or portions thereof, is identified for use by administrations wishing to implement International Mobile Telecommunications (IMT). This identification does not preclude the use of this frequency band by any application of the services to which it is allocated and does not establish priority in the Radio Regulations. The use of this frequency band for the implementation of IMT is subject to agreement obtained under No. 9.21 with concerned administrations, and IMT stations shall not claim protection from stations of other applications of the mobile service. In addition, before an administration brings into use an IMT station in the mobile service, it shall ensure that the power flux-density produced by this station does not exceed −155 dB(W/(m² · 1 MHz)) produced up to 19 km above sea level at 20 km from the coast, defined as the low-water mark, as officially recognized by the coastal State. This criterion is subject to review at WRC-19. See Resolution 223 (Rev.WRC-15). This identification shall be effective after WRC-19.

(442) 5.442 In the frequency bands 4825-4835 MHz and 4950-4990 MHz, the allocation to the mobile service is restricted to the mobile, except aeronautical mobile, service. In Region 2 (except Brazil, Cuba, Guatemala, Mexico, Paraguay, Uruguay and Venezuela), and in Australia, the frequency band 4825-4835 MHz is also allocated to the aeronautical mobile service, limited to aeronautical mobile telemetry for flight testing by aircraft stations. Such use shall be in accordance with Resolution 416 (WRC-07) and shall not cause harmful interference to the fixed service.

(443) 5.443 Different category of service: in Argentina, Australia and Canada, the allocation of the bands 4825-4835 MHz and 4950-4990 MHz to the radio astronomy service is on a primary basis (see No. 5.33).

(i) 5.443AA In the frequency bands 5000-5030 MHz and 5091-5150 MHz, the aeronautical mobile-satellite (R) service is subject to agreement obtained under No. 9.21. The use of these bands by the aeronautical mobile-satellite (R) service is limited to internationally standardized aeronautical systems.

(ii) 5.443B In order not to cause harmful interference to the microwave landing system operating above 5030 MHz, the aggregate power flux-density produced at the Earth's surface in the frequency band 5030-5150 MHz by all the space stations within any radionavigation-satellite service system (space-to-Earth) operating in the frequency band 5010-5030 MHz shall not exceed −124.5 dB(W/m²) in a 150 kHz band. In order not to cause harmful interference to the radio astronomy service in the frequency band 4990-5000 MHz, radionavigation-satellite service systems operating in the frequency band 5010-5030 MHz shall comply with the limits in the frequency band 4990-5000 MHz defined in Resolution 741 (Rev.WRC-15).

(iii) 5.443C The use of the frequency band 5030-5091 MHz by the aeronautical mobile (R) service is limited to internationally standardized aeronautical systems. Unwanted emissions from the aeronautical mobile (R) service in the frequency band 5030-5091 MHz shall be limited to protect RNSS system downlinks in the adjacent 5010-5030 MHz band. Until such time that an appropriate value is established in a relevant ITU-R Recommendation, the e.i.r.p. density limit of −75 dBW/MHz in the frequency band 5010-5030 MHz for any AM(R)S station unwanted emission should be used.

(iv) 5.443D In the frequency band 5030-5091 MHz, the aeronautical mobile-satellite (R) service is subject to coordination under No. 9.11A. The use of this frequency band by the aeronautical mobile-satellite (R) service is limited to internationally standardized aeronautical systems.

(444) 5.444 The frequency band 5030-5150 MHz is to be used for the operation of the international standard system (microwave landing system) for precision approach and landing. In the frequency band 5030-5091 MHz, the requirements of this system shall have priority over other uses of this frequency band. For the use of the frequency band 5091-5150 MHz, paragraph (b)(444)(i) of this section and Resolution 114 (Rev.WRC-15) apply.

(i) 5.444A The use of the allocation to the fixed-satellite service (Earth-to-space) in the frequency band 5091-5150 MHz is limited to feeder links of non-geostationary satellite systems in the mobile-satellite service and is subject to coordination under No. 9.11A. The use of the frequency band 5091-5150 MHz by feeder links of non-geostationary satellite systems in the mobile-satellite service shall be subject to application of Resolution 114 (Rev.WRC-15). Moreover, to ensure that the aeronautical radionavigation service is protected from harmful interference, coordination is required for feeder-link earth stations of the non-geostationary satellite systems in the mobile-satellite service which are separated by less than 450 km from the territory of an administration operating ground stations in the aeronautical radionavigation service.

(ii) 5.444B The use of the frequency band 5091-5150 MHz by the aeronautical mobile service is limited to:

(A) systems operating in the aeronautical mobile (R) service and in accordance with international aeronautical standards, limited to surface applications at airports. Such use shall be in accordance with Resolution 748 (Rev.WRC-15); and

(B) aeronautical telemetry transmissions from aircraft stations (see No. 1.83) in accordance with Resolution 418 (Rev.WRC-15).

(445) [Reserved]

(446) 5.446 Additional allocation: in the countries listed in paragraph (b)(369) of this section, the frequency band 5150-5216 MHz is also allocated to the radiodetermination-satellite service (space-to-Earth) on a primary basis, subject to agreement obtained under No. 9.21. In Region 2 (except in Mexico), the frequency band is also allocated to the radiodetermination-satellite service (space-to-Earth) on a primary basis. In Regions 1 and 3, except those countries listed in paragraph (b)(369) of this section and Bangladesh, the frequency band is also allocated to the radiodetermination-satellite service (space-to-Earth) on a secondary basis. The use by the radiodetermination-satellite service is limited to feeder links in conjunction with the radiodetermination-satellite service operating in the frequency bands 1610-1626.5 MHz and/or 2483.5-2500 MHz. The total power flux-density at the Earth's surface shall in no case exceed −159 dB (W/m²) in any 4 kHz band for all angles of arrival.

(i) 5.446A The use of the bands 5150-5350 MHz and 5470-5725 MHz by the stations in the mobile, except aeronautical mobile, service shall be in accordance with Resolution 229 (Rev.WRC-12).

(ii) 5.446B In the band 5150-5250 MHz, stations in the mobile service shall not claim protection from earth stations in the fixed-satellite service. No. 5.43A does not apply to the mobile service with respect to fixed-satellite service earth stations.

(iii) 5.446C Additional allocation: in Region 1 (except in Algeria, Saudi Arabia, Bahrain, Egypt, United Arab Emirates, Jordan, Kuwait, Lebanon, Morocco, Oman, Qatar, Syrian Arab Republic, Sudan, South Sudan and Tunisia) and in Brazil, the band 5150-5250 MHz is also allocated to the aeronautical mobile service on a primary basis, limited to aeronautical telemetry transmissions from aircraft stations (see No. 1.83), in accordance with Resolution 418 (Rev.WRC-15). These stations shall not claim protection from other stations operating in accordance with Article 5. No. 5.43A does not apply.

(447) 5.447 Additional allocation: in Côte d'Ivoire, Egypt, Israel, Lebanon, the Syrian Arab Republic and Tunisia, the band 5150-5250 MHz is also allocated to the mobile service, on a primary basis, subject to agreement obtained under No. 9.21. In this case, the provisions of Resolution 229 (Rev.WRC-12) do not apply.

(i) 5.447A The allocation to the fixed-satellite service (Earth-to-space) in the band 5150-5250 MHz is limited to feeder links of non-geostationary-satellite systems in the mobile-satellite service and is subject to coordination under No. 9.11A.

(ii) 5.447B Additional allocation: the band 5150-5216 MHz is also allocated to the fixed-satellite service (space-to-Earth) on a primary basis. This allocation is limited to feeder links of non-geostationary-satellite systems in the mobile-satellite service and is subject to provisions of No. 9.11A. The power flux-density at the Earth's surface produced by space stations of the fixed-satellite service operating in the space-to-Earth direction in the band 5150-5216 MHz shall in no case exceed −164 dB(W/m²) in any 4 kHz band for all angles of arrival.

(iii) 5.447C Administrations responsible for fixed-satellite service networks in the band 5150-5250 MHz operated under paragraphs (b)(447)(i) and (ii) of this section shall coordinate on an equal basis in accordance with No. 9.11A with administrations responsible for non-geostationary-satellite networks operated under paragraph (b)(446) of this section and brought into use prior to 17 November 1995. Satellite networks operated under paragraph (b)(446) of this section brought into use after 17 November 1995 shall not claim protection from, and shall not cause harmful interference to, stations of the fixed-satellite service operated under paragraphs (b)(447)(i) and (ii) of this section.

(iv) 5.447D The allocation of the band 5250-5255 MHz to the space research service on a primary basis is limited to active spaceborne sensors. Other uses of the band by the space research service are on a secondary basis.

(v) 5.447E Additional allocation: The frequency band 5250-5350 MHz is also allocated to the fixed service on a primary basis in the following countries in Region 3: Australia, Korea (Rep. of), India, Indonesia, Iran (Islamic Republic of), Japan, Malaysia, Papua New Guinea, the Philippines, Dem. People's Rep. of Korea, Sri Lanka, Thailand and Viet Nam. The use of this frequency band by the fixed service is intended for the implementation of fixed wireless access systems and shall comply with Recommendation ITU-R F.1613-0. In addition, the fixed service shall not claim protection from the radiodetermination, Earth exploration-satellite (active) and space research (active) services, but the provisions of No. 5.43A do not apply to the fixed service with respect to the Earth exploration-satellite (active) and space research (active) services. After implementation of fixed wireless access systems in the fixed service with protection for the existing radiodetermination systems, no more stringent constraints should be imposed on the fixed wireless access systems by future radiodetermination implementations.

(vi) 5.447F In the frequency band 5250-5350 MHz, stations in the mobile service shall not claim protection from the radiolocation service, the Earth exploration-satellite service (active) and the space research service (active). These services shall not impose on the mobile service more stringent protection criteria, based on system characteristics and interference criteria, than those stated in Recommendations ITU-R M.1638-0 and ITU-R RS.1632-0.

(448) 5.448 Additional allocation: in Azerbaijan, Kyrgyzstan, Romania and Turkmenistan, the band 5250-5350 MHz is also allocated to the radionavigation service on a primary basis.

(i) 5.448A The Earth exploration-satellite (active) and space research (active) services in the frequency band 5250-5350 MHz shall not claim protection from the radiolocation service. No. 5.43A does not apply.

(ii) 5.448B The Earth exploration-satellite service (active) operating in the band 5350-5570 MHz and space research service (active) operating in the band 5460-5570 MHz shall not cause harmful interference to the aeronautical radionavigation service in the band 5350-5460 MHz, the radionavigation service in the band 5460-5470 MHz and the maritime radionavigation service in the band 5470-5570 MHz.

(iii) 5.448C The space research service (active) operating in the band 5350-5460 MHz shall not cause harmful interference to nor claim protection from other services to which this band is allocated.

(iv) 5.448D In the frequency band 5350-5470 MHz, stations in the radiolocation service shall not cause harmful interference to, nor claim protection from, radar systems in the aeronautical radionavigation service operating in accordance with No. 5.449.

(449) 5.449 The use of the band 5350-5470 MHz by the aeronautical radionavigation service is limited to airborne radars and associated airborne beacons.

(450) 5.450 Additional allocation: in Austria, Azerbaijan, Iran (Islamic Republic of), Kyrgyzstan, Romania, Turkmenistan and Ukraine, the band 5470-5650 MHz is also allocated to the aeronautical radionavigation service on a primary basis.

(i) 5.450A In the frequency band 5470-5725 MHz, stations in the mobile service shall not claim protection from radiodetermination services. Radiodetermination services shall not impose on the mobile service more stringent protection criteria, based on system characteristics and interference criteria, than those stated in Recommendation ITU-R M.1638-0.

(ii) 5.450B In the frequency band 5470-5650 MHz, stations in the radiolocation service, except ground-based radars used for meteorological purposes in the band 5600-5650 MHz, shall not cause harmful interference to, nor claim protection from, radar systems in the maritime radionavigation service.

(451) 5.451 Additional allocation: in the United Kingdom, the band 5470-5850 MHz is also allocated to the land mobile service on a secondary basis. The power limits specified in Nos. 21.2, 21.3, 21.4 and 21.5 shall apply in the band 5725-5850 MHz.

(452) 5.452 Between 5600 MHz and 5650 MHz, ground-based radars used for meteorological purposes are authorized to operate on a basis of equality with stations of the maritime radionavigation service.

(453) 5.453 Additional allocation: in Saudi Arabia, Bahrain, Bangladesh, Brunei Darussalam, Cameroon, China, Congo (Rep. of the), Korea (Rep. of), Côte d'Ivoire, Djibouti, Egypt, the United Arab Emirates, Gabon, Guinea, Equatorial Guinea, India, Indonesia, Iran (Islamic Republic of), Iraq, Israel, Japan, Jordan, Kenya, Kuwait, Lebanon, Libya, Madagascar, Malaysia, Niger, Nigeria, Oman, Uganda, Pakistan, the Philippines, Qatar, the Syrian Arab Republic, the Dem. People's Rep. of Korea, Singapore, Sri Lanka, Swaziland, Tanzania, Chad, Thailand, Togo, Viet Nam and Yemen, the band 5650-5850 MHz is also allocated to the fixed and mobile services on a primary basis. In this case, the provisions of Resolution 229 (Rev.WRC-12) do not apply.

(454) 5.454 Different category of service: in Azerbaijan, the Russian Federation, Georgia, Kyrgyzstan, Tajikistan and Turkmenistan, the allocation of the band 5670-5725 MHz to the space research service is on a primary basis (see No. 5.33).

(455) 5.455 Additional allocation: in Armenia, Azerbaijan, Belarus, Cuba, the Russian Federation, Georgia, Hungary, Kazakhstan, Moldova, Mongolia, Uzbekistan, Kyrgyzstan, Tajikistan, Turkmenistan and Ukraine, the band 5670-5850 MHz is also allocated to the fixed service on a primary basis.

(456) [Reserved]

(457) 5.457 In Australia, Burkina Faso, Cote d'Ivoire, Mali and Nigeria, the allocation to the fixed service in the bands 6440-6520 MHz (HAPS-to-ground direction) and 6560-6640 MHz (ground-to-HAPS direction) may also be used by gateway links for high-altitude platform stations (HAPS) within the territory of these countries. Such use is limited to operation in HAPS gateway links and shall not cause harmful interference to, and shall not claim protection from, existing services, and shall be in compliance with Resolution 150 (WRC-12). Existing services shall not be constrained in future development by HAPS gateway links. The use of HAPS gateway links in these bands requires explicit agreement with other administrations whose territories are located within 1,000 kilometres from the border of an administration intending to use the HAPS gateway links.

(i) 5.457A In the frequency bands 5925-6425 MHz and 14-14.5 GHz, earth stations located on board vessels may communicate with space stations of the fixed-satellite service. Such use shall be in accordance with Resolution 902 (WRC-03). In the frequency band 5925-6425 MHz, earth stations located on board vessels and communicating with space stations of the fixed-satellite service may employ transmit antennas with minimum diameter of 1.2 m and operate without prior agreement of any administration if located at least 330 km away from the low-water mark as officially recognized by the coastal State. All other provisions of Resolution 902 (WRC-03) shall apply.

(ii) 5.457B In the frequency bands 5925-6425 MHz and 14-14.5 GHz, earth stations located on board vessels may operate with the characteristics and under the conditions contained in Resolution 902 (WRC-03) in Algeria, Saudi Arabia, Bahrain, Comoros, Djibouti, Egypt, United Arab Emirates, Jordan, Kuwait, Libya, Morocco, Mauritania, Oman, Qatar, the Syrian Arab Republic, Sudan, Tunisia and Yemen, in the maritime mobile-satellite service on a secondary basis. Such use shall be in accordance with Resolution 902 (WRC-03).

(iii) 5.457C In Region 2 (except Brazil, Cuba, French overseas departments and communities, Guatemala, Mexico, Paraguay, Uruguay and Venezuela), the frequency band 5925-6700 MHz may be used for aeronautical mobile telemetry for flight testing by aircraft stations (see No. 1.83). Such use shall be in accordance with Resolution 416 (WRC-07) and shall not cause harmful interference to, or claim protection from, the fixed-satellite and fixed services. Any such use does not preclude the use of this frequency band by other mobile service applications or by other services to which this frequency band is allocated on a co-primary basis and does not establish priority in the Radio Regulations.

(458) 5.458 In the band 6425-7075 MHz, passive microwave sensor measurements are carried out over the oceans. In the band 7075-7250 MHz, passive microwave sensor measurements are carried out. Administrations should bear in mind the needs of the Earth exploration-satellite (passive) and space research (passive) services in their future planning of the bands 6425-7075 MHz and 7075-7250 MHz.

(i) 5.458A In making assignments in the band 6700-7075 MHz to space stations of the fixed-satellite service, administrations are urged to take all practicable steps to protect spectral line observations of the radio astronomy service in the band 6650-6675.2 MHz from harmful interference from unwanted emissions.

(ii) 5.458B The space-to-Earth allocation to the fixed-satellite service in the band 6700-7075 MHz is limited to feeder links for non-geostationary satellite systems of the mobile-satellite service and is subject to coordination under No. 9.11A. The use of the band 6700-7075 MHz (space-to-Earth) by feeder links for non-geostationary satellite systems in the mobile-satellite service is not subject to No. 22.2.

(459) 5.459 Additional allocation: in the Russian Federation, the frequency bands 7100-7155 MHz and 7190-7235 MHz are also allocated to the space operation service (Earth-to-space) on a primary basis, subject to agreement obtained under No. 9.21. In the frequency band 7190-7235 MHz, with respect to the Earth exploration-satellite service (Earth-to-space), No. 9.21 does not apply.

(460) 5.460 No emissions from space research service (Earth-to-space) systems intended for deep space shall be effected in the frequency band 7190-7235 MHz. Geostationary satellites in the space research service operating in the frequency band 7190-7235 MHz shall not claim protection from existing and future stations of the fixed and mobile services and No. 5.43A does not apply.

(i) 5.460A The use of the frequency band 7190-7250 MHz (Earth-to-space) by the Earth exploration-satellite service shall be limited to tracking, telemetry and command for the operation of spacecraft. Space stations operating in the Earth exploration-satellite service (Earth-to-space) in the frequency band 7190-7250 MHz shall not claim protection from existing and future stations in the fixed and mobile services, and No. 5.43A does not apply. No. 9.17 applies. Additionally, to ensure protection of the existing and future deployment of fixed and mobile services, the location of earth stations supporting spacecraft in the Earth exploration-satellite service in non-geostationary orbits or geostationary orbit shall maintain a separation distance of at least 10 km and 50 km, respectively, from the respective border(s) of neighbouring countries, unless a shorter distance is otherwise agreed between the corresponding administrations.

(ii) 5.460B Space stations on the geostationary orbit operating in the Earth exploration-satellite service (Earth-to-space) in the frequency band 7190-7235 MHz shall not claim protection from existing and future stations of the space research service, and No. 5.43A does not apply.

(461) 5.461 Additional allocation: the bands 7250-7375 MHz (space-to-Earth) and 7900-8025 MHz (Earth-to-space) are also allocated to the mobile-satellite service on a primary basis, subject to agreement obtained under No. 9.21.

(i) 5.461A The use of the band 7450-7550 MHz by the meteorological-satellite service (space-to-Earth) is limited to geostationary-satellite systems. Non-geostationary meteorological-satellite systems in this band notified before 30 November 1997 may continue to operate on a primary basis until the end of their lifetime.

(ii) 5.461AA The use of the frequency band 7375-7750 MHz by the maritime mobile-satellite service is limited to geostationary-satellite networks.

(iii) 5.461AB In the frequency band 7375-7750 MHz, earth stations in the maritime mobile-satellite service shall not claim protection from, nor constrain the use and development of, stations in the fixed and mobile, except aeronautical mobile, services. No. 5.43A does not apply.

(iv) 5.461B The use of the band 7750-7900 MHz by the meteorological-satellite service (space-to-Earth) is limited to non-geostationary satellite systems.

(462) 5.462A In Regions 1 and 3 (except for Japan), in the band 8025-8400 MHz, the Earth exploration-satellite service using geostationary satellites shall not produce a power flux-density in excess of the following values for angles of arrival (θ), without the consent of the affected administration: −135 dB(W/m²) in a 1 MHz band for 0 ≤ θ < 5°, −135 + 0.5 (θ−5) dB(W/m²) in a 1 MHz band for 5 ≤ θ < 25°, and −125 dB(W/m²) in a 1 MHz band for 25 ≤ θ ≤ 90°.

(463) 5.463 Aircraft stations are not permitted to transmit in the band 8025-8400 MHz.

(464) [Reserved]

(465) 5.465 In the space research service, the use of the band 8400-8450 MHz is limited to deep space.

(466) 5.466 Different category of service: in Singapore and Sri Lanka, the allocation of the band 8400-8500 MHz to the space research service is on a secondary basis (see No. 5.32).

(467) [Reserved]

(468) 5.468 Additional allocation: in Saudi Arabia, Bahrain, Bangladesh, Brunei Darussalam, Burundi, Cameroon, China, Congo (Rep. of the), Djibouti, Egypt, the United Arab Emirates, Gabon, Guyana, Indonesia, Iran (Islamic Republic of), Iraq, Jamaica, Jordan, Kenya, Kuwait, Lebanon, Libya, Malaysia, Mali, Morocco, Mauritania, Nepal, Nigeria, Oman, Uganda, Pakistan, Qatar, Syrian Arab Republic, the Dem. People's Rep. of Korea, Senegal, Singapore, Somalia, Sudan, Swaziland, Chad, Togo, Tunisia and Yemen, the frequency band 8500-8750 MHz is also allocated to the fixed and mobile services on a primary basis.

(469) 5.469 Additional allocation: in Armenia, Azerbaijan, Belarus, the Russian Federation, Georgia, Hungary, Lithuania, Mongolia, Uzbekistan, Poland, Kyrgyzstan, the Czech Rep., Romania, Tajikistan, Turkmenistan and Ukraine, the band 8500-8750 MHz is also allocated to the land mobile and radionavigation services on a primary basis.

(i) 5.469A In the band 8550-8650 MHz, stations in the Earth exploration-satellite service (active) and space research service (active) shall not cause harmful interference to, or constrain the use and development of, stations of the radiolocation service.

(ii) [Reserved]

(470) 5.470 The use of the band 8750-8850 MHz by the aeronautical radionavigation service is limited to airborne Doppler navigation aids on a centre frequency of 8800 MHz.

(471) 5.471 Additional allocation: in Algeria, Germany, Bahrain, Belgium, China, Egypt, the United Arab Emirates, France, Greece, Indonesia, Iran (Islamic Republic of), Libya, the Netherlands, Qatar and Sudan, the frequency bands 8825-8850 MHz and 9000-9200 MHz are also allocated to the maritime radionavigation service, on a primary basis, for use by shore-based radars only.

(472) 5.472 In the bands 8850-9000 MHz and 9200-9225 MHz, the maritime radionavigation service is limited to shore-based radars.

(473) 5.473 Additional allocation: in Armenia, Austria, Azerbaijan, Belarus, Cuba, the Russian Federation, Georgia, Hungary, Mongolia, Uzbekistan, Poland, Kyrgyzstan, Romania, Tajikistan, Turkmenistan and Ukraine, the bands 8850-9000 MHz and 9200-9300 MHz are also allocated to the radionavigation service on a primary basis.

(i) 5.473A In the band 9000-9200 MHz, stations operating in the radiolocation service shall not cause harmful interference to, nor claim protection from, systems identified in No. 5.337 operating in the aeronautical radionavigation service, or radar systems in the maritime radionavigation service operating in this band on a primary basis in the countries listed in No. 5.471.

(ii) [Reserved]

(474) 5.474 In the band 9200-9500 MHz, search and rescue transponders (SART) may be used, having due regard to the appropriate ITU-R Recommendation (see also Article 31).

(i) 5.474A The use of the frequency bands 9200-9300 MHz and 9900-10 400 MHz by the Earth exploration-satellite service (active) is limited to systems requiring necessary bandwidth greater than 600 MHz that cannot be fully accommodated within the frequency band 9300-9900 MHz. Such use is subject to agreement to be obtained under No. 9.21 from Algeria, Saudi Arabia, Bahrain, Egypt, Indonesia, Iran (Islamic Republic of), Lebanon and Tunisia. An administration that has not replied under No. 9.52 is considered as not having agreed to the coordination request. In this case, the notifying administration of the satellite system operating in the Earth exploration-satellite service (active) may request the assistance of the Bureau under Sub-Section IID of Article 9.

(ii) 5.474B Stations operating in the Earth exploration-satellite (active) service shall comply with Recommendation ITU-R RS.2066-0.

(iii) 5.474C Stations operating in the Earth exploration-satellite (active) service shall comply with Recommendation ITU-R RS.2065-0.

(iv) 5.474D Stations in the Earth exploration-satellite service (active) shall not cause harmful interference to, or claim protection from, stations of the maritime radionavigation and radiolocation services in the frequency band 9200-9300 MHz, the radionavigation and radiolocation services in the frequency band 9900-10 000 MHz and the radiolocation service in the frequency band 10.0-10.4 GHz.

(475) 5.475 The use of the band 9300-9500 MHz by the aeronautical radionavigation service is limited to airborne weather radars and ground-based radars. In addition, ground-based radar beacons in the aeronautical radionavigation service are permitted in the band 9300-9320 MHz on condition that harmful interference is not caused to the maritime radionavigation service.

(i) 5.475A The use of the band 9300-9500 MHz by the Earth exploration-satellite service (active) and the space research service (active) is limited to systems requiring necessary bandwidth greater than 300 MHz that cannot be fully accommodated within the 9500-9800 MHz band.

(ii) 5.475B In the band 9300-9500 MHz, stations operating in the radiolocation service shall not cause harmful interference to, nor claim protection from, radars operating in the radionavigation service in conformity with the Radio Regulations. Ground-based radars used for meteorological purposes have priority over other radiolocation uses.

(476) 5.476A In the band 9300-9800 MHz, stations in the Earth exploration-satellite service (active) and space research service (active) shall not cause harmful interference to, nor claim protection from, stations of the radionavigation and radiolocation services.

(477) 5.477 Different category of service: in Algeria, Saudi Arabia, Bahrain, Bangladesh, Brunei Darussalam, Cameroon, Djibouti, Egypt, the United Arab Emirates, Eritrea, Ethiopia, Guyana, India, Indonesia, Iran (Islamic Republic of), Iraq, Jamaica, Japan, Jordan, Kuwait, Lebanon, Liberia, Malaysia, Nigeria, Oman, Uganda, Pakistan, Qatar, Syrian Arab Republic, the Dem. People's Rep. of Korea, Singapore, Somalia, Sudan, South Sudan, Trinidad and Tobago, and Yemen, the allocation of the frequency band 9800-10 000 MHz to the fixed service is on a primary basis (see No. 5.33).

(478) 5.478 Additional allocation: in Azerbaijan, Mongolia, Kyrgyzstan, Romania, Turkmenistan and Ukraine, the band 9800-10 000 MHz is also allocated to the radionavigation service on a primary basis.

(i) 5.478A The use of the band 9800-9900 MHz by the Earth exploration-satellite service (active) and the space research service (active) is limited to systems requiring necessary bandwidth greater than 500 MHz that cannot be fully accommodated within the 9300-9800 MHz band.

(ii) 5.478B In the band 9800-9900 MHz, stations in the Earth exploration-satellite service (active) and space research service (active) shall not cause harmful interference to, nor claim protection from stations of the fixed service to which this band is allocated on a secondary basis.

(479) 5.479 The band 9975-10 025 MHz is also allocated to the meteorological-satellite service on a secondary basis for use by weather radars.

(480) 5.480 Additional allocation: in Argentina, Brazil, Chile, Cuba, El Salvador, Ecuador, Guatemala, Honduras, Paraguay, the Netherlands Antilles, Peru and Uruguay, the frequency band 10-10.45 GHz is also allocated to the fixed and mobile services on a primary basis. In Colombia, Costa Rica, Mexico and Venezuela, the frequency band 10-10.45 GHz is also allocated to the fixed service on a primary basis.

(481) 5.481 Additional allocation: in Algeria, Germany, Angola, Brazil, China, Côte d'Ivoire, El Salvador, Ecuador, Spain, Guatemala, Hungary, Japan, Kenya, Morocco, Nigeria, Oman, Uzbekistan, Pakistan, Paraguay, Peru, the Dem. People's Rep. of Korea, Romania and Uruguay, the frequency band 10.45-10.5 GHz is also allocated to the fixed and mobile services on a primary basis. In Costa Rica, the frequency band 10.45-10.5 GHz is also allocated to the fixed service on a primary basis.

(482) 5.482 In the band 10.6-10.68 GHz, the power delivered to the antenna of stations of the fixed and mobile, except aeronautical mobile, services shall not exceed −3 dBW. This limit may be exceeded, subject to agreement obtained under No. 9.21. However, in Algeria, Saudi Arabia, Armenia, Azerbaijan, Bahrain, Bangladesh, Belarus, Egypt, United Arab Emirates, Georgia, India, Indonesia, Iran (Islamic Republic of), Iraq, Jordan, Kazakhstan, Kuwait, Lebanon, Libya, Morocco, Mauritania, Moldova, Nigeria, Oman, Uzbekistan, Pakistan, Philippines, Qatar, Syrian Arab Republic, Kyrgyzstan, Singapore, Tajikistan, Tunisia, Turkmenistan and Viet Nam, this restriction on the fixed and mobile, except aeronautical mobile, services is not applicable.

(i) 5.482A For sharing of the band 10.6-10.68 GHz between the Earth exploration-satellite (passive) service and the fixed and mobile, except aeronautical mobile, services, Resolution 751 (WRC-07) applies.

(ii) [Reserved]

(483) 5.483 Additional allocation: in Saudi Arabia, Armenia, Azerbaijan, Bahrain, Belarus, China, Colombia, Korea (Rep. of), Costa Rica, Egypt, the United Arab Emirates, Georgia, Iran (Islamic Republic of), Iraq, Israel, Jordan, Kazakhstan, Kuwait, Lebanon, Mongolia, Qatar, Kyrgyzstan, the Dem. People's Rep. of Korea, Tajikistan, Turkmenistan and Yemen, the band 10.68-10.7 GHz is also allocated to the fixed and mobile, except aeronautical mobile, services on a primary basis. Such use is limited to equipment in operation by 1 January 1985.

(484) 5.484 In Region 1, the use of the band 10.7-11.7 GHz by the fixed-satellite service (Earth-to-space) is limited to feeder links for the broadcasting-satellite service.

(i) 5.484A The use of the bands 10.95-11.2 GHz (space-to-Earth), 11.45-11.7 GHz (space-to-Earth), 11.7-12.2 GHz (space-to-Earth) in Region 2, 12.2-12.75 GHz (space-to-Earth) in Region 3, 12.5-12.75 GHz (space-to-Earth) in Region 1, 13.75-14.5 GHz (Earth-to-space), 17.8-18.6 GHz (space-to-Earth), 19.7-20.2 GHz (space-to-Earth), 27.5-28.6 GHz (Earth-to-space), 29.5-30 GHz (Earth-to-space) by a non-geostationary-satellite system in the fixed-satellite service is subject to application of the provisions of No. 9.12 for coordination with other non-geostationary-satellite systems in the fixed-satellite service. Non-geostationary-satellite systems in the fixed-satellite service shall not claim protection from geostationary-satellite networks in the fixed-satellite service operating in accordance with the Radio Regulations, irrespective of the dates of receipt by the Bureau of the complete coordination or notification information, as appropriate, for the non-geostationary-satellite systems in the fixed-satellite service and of the complete coordination or notification information, as appropriate, for the geostationary-satellite networks, and No. 5.43A does not apply. Non-geostationary-satellite systems in the fixed-satellite service in the above bands shall be operated in such a way that any unacceptable interference that may occur during their operation shall be rapidly eliminated.

(ii) 5.484B Resolution 155 (WRC-15) shall apply.

(485) 5.485 In Region 2, in the band 11.7-12.2 GHz, transponders on space stations in the fixed-satellite service may be used additionally for transmissions in the broadcasting-satellite service, provided that such transmissions do not have a maximum e.i.r.p. greater than 53 dBW per television channel and do not cause greater interference or require more protection from interference than the coordinated fixed-satellite service frequency assignments. With respect to the space services, this band shall be used principally for the fixed-satellite service.

(486) 5.486 Different category of service: in the United States, the allocation of the frequency band 11.7-12.1 GHz to the fixed service is on a secondary basis (see No. 5.32).

(487) 5.487 In the band 11.7-12.5 GHz in Regions 1 and 3, the fixed, fixed-satellite, mobile, except aeronautical mobile, and broadcasting services, in accordance with their respective allocations, shall not cause harmful interference to, or claim protection from, broadcasting-satellite stations operating in accordance with the Regions 1 and 3 Plan in Appendix 30.

(i) 5.487A Additional allocation: in Region 1, the band 11.7-12.5 GHz, in Region 2, the band 12.2-12.7 GHz and, in Region 3, the band 11.7-12.2 GHz, are also allocated to the fixed-satellite service (space-to-Earth) on a primary basis, limited to non-geostationary systems and subject to application of the provisions of No. 9.12 for coordination with other non-geostationary-satellite systems in the fixed-satellite service. Non-geostationary-satellite systems in the fixed-satellite service shall not claim protection from geostationary-satellite networks in the broadcasting-satellite service operating in accordance with the Radio Regulations, irrespective of the dates of receipt by the Bureau of the complete coordination or notification information, as appropriate, for the non-geostationary-satellite systems in the fixed-satellite service and of the complete coordination or notification information, as appropriate, for the geostationary-satellite networks, and No. 5.43A does not apply. Non-geostationary-satellite systems in the fixed-satellite service in the above bands shall be operated in such a way that any unacceptable interference that may occur during their operation shall be rapidly eliminated.

(ii) [Reserved]

(488) 5.488 The use of the band 11.7-12.2 GHz by geostationary-satellite networks in the fixed-satellite service in Region 2 is subject to application of the provisions of No. 9.14 for coordination with stations of terrestrial services in Regions 1, 2 and 3. For the use of the band 12.2-12.7 GHz by the broadcasting-satellite service in Region 2, see Appendix 30.

(489) 5.489 Additional allocation: in Peru, the band 12.1-12.2 GHz is also allocated to the fixed service on a primary basis.

(490) 5.490 In Region 2, in the band 12.2-12.7 GHz, existing and future terrestrial radiocommunication services shall not cause harmful interference to the space services operating in conformity with the broadcasting-satellite Plan for Region 2 contained in Appendix 30.

(491) [Reserved]

(492) 5.492 Assignments to stations of the broadcasting-satellite service which are in conformity with the appropriate regional Plan or included in the Regions 1 and 3 List in Appendix 30 may also be used for transmissions in the fixed-satellite service (space-to-Earth), provided that such transmissions do not cause more interference, or require more protection from interference, than the broadcasting-satellite service transmissions operating in conformity with the Plan or the List, as appropriate.

(493) 5.493 The broadcasting-satellite service in the band 12.5-12.75 GHz in Region 3 is limited to a power flux-density not exceeding −111 dB(W/(m² · 27 MHz)) for all conditions and for all methods of modulation at the edge of the service area.

(494) 5.494 Additional allocation: in Algeria, Saudi Arabia, Bahrain, Cameroon, the Central African Rep., Congo (Rep. of the), Côte d'Ivoire, Djibouti, Egypt, the United Arab Emirates, Eritrea, Ethiopia, Gabon, Ghana, Guinea, Iraq, Israel, Jordan, Kuwait, Lebanon, Libya, Madagascar, Mali, Morocco, Mongolia, Nigeria, Oman, Qatar, the Syrian Arab Republic, the Dem. Rep. of the Congo, Somalia, Sudan, South Sudan, Chad, Togo and Yemen, the frequency band 12.5-12.75 GHz is also allocated to the fixed and mobile, except aeronautical mobile, services on a primary basis.

(495) 5.495 Additional allocation: in France, Greece, Monaco, Montenegro, Uganda, Romania and Tunisia, the frequency band 12.5-12.75 GHz is also allocated to the fixed and mobile, except aeronautical mobile, services on a secondary basis.

(496) 5.496 Additional allocation: in Austria, Azerbaijan, Kyrgyzstan and Turkmenistan, the band 12.5-12.75 GHz is also allocated to the fixed service and the mobile, except aeronautical mobile, service on a primary basis. However, stations in these services shall not cause harmful interference to fixed-satellite service earth stations of countries in Region 1 other than those listed in this footnote. Coordination of these earth stations is not required with stations of the fixed and mobile services of the countries listed in this footnote. The power flux-density limit at the Earth's surface given in Table 21-4 of Article 21, for the fixed-satellite service shall apply on the territory of the countries listed in this footnote.

(497) 5.497 The use of the band 13.25-13.4 GHz by the aeronautical radionavigation service is limited to Doppler navigation aids.

(498) 5.498A The Earth exploration-satellite (active) and space research (active) services operating in the band 13.25-13.4 GHz shall not cause harmful interference to, or constrain the use and development of, the aeronautical radionavigation service.

(499) 5.499 Additional allocation: in Bangladesh and India, the band 13.25-14 GHz is also allocated to the fixed service on a primary basis. In Pakistan, the band 13.25-13.75 GHz is allocated to the fixed service on a primary basis.

(i) 5.499A The use of the frequency band 13.4-13.65 GHz by the fixed-satellite service (space-to-Earth) is limited to geostationary-satellite systems and is subject to agreement obtained under No. 9.21 with respect to satellite systems operating in the space research service (space-to-space) to relay data from space stations in the geostationary-satellite orbit to associated space stations in non-geostationary satellite orbits for which advance publication information has been received by the Bureau by 27 November 2015.

(ii) 5.499B Administrations shall not preclude the deployment and operation of transmitting earth stations in the standard frequency and time signal-satellite service (Earth-to-space) allocated on a secondary basis in the frequency band 13.4-13.65 GHz due to the primary allocation to FSS (space-to-Earth).

(iii) 5.499C The allocation of the frequency band 13.4-13.65 GHz to the space research service on a primary basis is limited to: satellite systems operating in the space research service (space-to-space) to relay data from space stations in the geostationary-satellite orbit to associated space stations in non-geostationary satellite orbits for which advance publication information has been received by the Bureau by 27 November 2015; active spaceborne sensors; and satellite systems operating in the space research service (space-to-Earth) to relay data from space stations in the geostationary-satellite orbit to associated earth stations. Other uses of the frequency band by the space research service are on a secondary basis.

(iv) 5.499D In the frequency band 13.4-13.65 GHz, satellite systems in the space research service (space-to-Earth) and/or the space research service (space-to-space) shall not cause harmful interference to, nor claim protection from, stations in the fixed, mobile, radiolocation and Earth exploration-satellite (active) services.

(v) 5.499E In the frequency band 13.4-13.65 GHz, geostationary-satellite networks in the fixed-satellite service (space-to-Earth) shall not claim protection from space stations in the Earth exploration-satellite service (active) operating in accordance with these Regulations, and No. 5.43A does not apply. The provisions of No. 22.2 do not apply to the Earth exploration-satellite service (active) with respect to the fixed-satellite service (space-to-Earth) in this frequency band.

(500) 5.500 Additional allocation: in Algeria, Saudi Arabia, Bahrain, Brunei Darussalam, Cameroon, Egypt, the United Arab Emirates, Gabon, Indonesia, Iran (Islamic Republic of), Iraq, Israel, Jordan, Kuwait, Lebanon, Madagascar, Malaysia, Mali, Morocco, Mauritania, Niger, Nigeria, Oman, Qatar, the Syrian Arab Republic, Singapore, Sudan, South Sudan, Chad and Tunisia, the frequency band 13.4-14 GHz is also allocated to the fixed and mobile services on a primary basis. In Pakistan, the frequency band 13.4-13.75 GHz is also allocated to the fixed and mobile services on a primary basis.

(501) 5.501 Additional allocation: in Azerbaijan, Hungary, Japan, Kyrgyzstan, Romania and Turkmenistan, the band 13.4-14 GHz is also allocated to the radionavigation service on a primary basis.

(i) 5.501A The allocation of the frequency band 13.65-13.75 GHz to the space research service on a primary basis is limited to active spaceborne sensors. Other uses of the frequency band by the space research service are on a secondary basis.

(ii) 5.501B In the band 13.4-13.75 GHz, the Earth exploration-satellite (active) and space research (active) services shall not cause harmful interference to, or constrain the use and development of, the radiolocation service.

(502) 5.502 In the band 13.75-14 GHz, an earth station of a geostationary fixed-satellite service network shall have a minimum antenna diameter of 1.2 m and an earth station of a non-geostationary fixed-satellite service system shall have a minimum antenna diameter of 4.5 m. In addition, the e.i.r.p., averaged over one second, radiated by a station in the radiolocation or radionavigation services shall not exceed 59 dBW for elevation angles above 2° and 65 dBW at lower angles. Before an administration brings into use an earth station in a geostationary-satellite network in the fixed-satellite service in this band with an antenna diameter smaller than 4.5 m, it shall ensure that the power flux-density produced by this earth station does not exceed: −115 dB(W/(m² · 10 MHz)) for more than 1% of the time produced at 36 m above sea level at the low water mark, as officially recognized by the coastal State; and −115 dB(W/(m² · 10 MHz)) for more than 1% of the time produced 3 m above ground at the border of the territory of an administration deploying or planning to deploy land mobile radars in this band, unless prior agreement has been obtained. For earth stations within the fixed-satellite service having an antenna diameter greater than or equal to 4.5 m, the e.i.r.p. of any emission should be at least 68 dBW and should not exceed 85 dBW.

(503) 5.503 In the band 13.75-14 GHz, geostationary space stations in the space research service for which information for advance publication has been received by the Bureau prior to 31 January 1992 shall operate on an equal basis with stations in the fixed-satellite service; after that date, new geostationary space stations in the space research service will operate on a secondary basis. Until those geostationary space stations in the space research service for which information for advance publication has been received by the Bureau prior to 31 January 1992 cease to operate in this band:

(i) in the band 13.77-13.78 GHz, the e.i.r.p. density of emissions from any earth station in the fixed-satellite service operating with a space station in geostationary-satellite orbit shall not exceed:

(A) 4.7D + 28 dB (W/40 kHz), where D is the fixed-satellite service earth station antenna diameter (m) for antenna diameters equal to or greater than 1.2 m and less than 4.5 m;

(B) 49.2 + 20 log (D/4.5) dB(W/40 kHz), where D is the fixed-satellite service earth station antenna diameter (m) for antenna diameters equal to or greater than 4.5 m and less than 31.9 m;

(C) 66.2 dB(W/40 kHz) for any fixed-satellite service earth station for antenna diameters (m) equal to or greater than 31.9 m;

(D) 56.2 dB(W/4 kHz) for narrow-band (less than 40 kHz of necessary bandwidth) fixed-satellite service earth station emissions from any fixed-satellite service earth station having an antenna diameter of 4.5 m or greater;

(ii) The e.i.r.p. density of emissions from any earth station in the fixed-satellite service operating with a space station in non-geostationary-satellite orbit shall not exceed 51 dBW in the 6 MHz band from 13.772 to 13.778 GHz.

(iii) Automatic power control may be used to increase the e.i.r.p. density in these frequency ranges to compensate for rain attenuation, to the extent that the power flux-density at the fixed-satellite service space station does not exceed the value resulting from use by an earth station of an e.i.r.p. meeting the above limits in clear-sky conditions.

(504) 5.504 The use of the band 14-14.3 GHz by the radionavigation service shall be such as to provide sufficient protection to space stations of the fixed-satellite service.

(i) 5.504A In the band 14-14.5 GHz, aircraft earth stations in the secondary aeronautical mobile-satellite service may also communicate with space stations in the fixed-satellite service. The provisions of Nos. 5.29, 5.30 and 5.31 apply.

(ii) 5.504B Aircraft earth stations operating in the aeronautical mobile-satellite service in the frequency band 14-14.5 GHz shall comply with the provisions of Annex 1, Part C of Recommendation ITU-R M.1643-0, with respect to any radio astronomy station performing observations in the 14.47-14.5 GHz frequency band located on the territory of Spain, France, India, Italy, the United Kingdom and South Africa.

(iii) 5.504C In the frequency band 14-14.25 GHz, the power flux-density produced on the territory of the countries of Saudi Arabia, Bahrain, Botswana, Côte d'Ivoire, Egypt, Guinea, India, Iran (Islamic Republic of), Kuwait, Nigeria, Oman, the Syrian Arab Republic and Tunisia by any aircraft earth station in the aeronautical mobile-satellite service shall not exceed the limits given in Annex 1, Part B of Recommendation ITU-R M.1643-0, unless otherwise specifically agreed by the affected administration(s). The provisions of this footnote in no way derogate the obligations of the aeronautical mobile-satellite service to operate as a secondary service in accordance with No. 5.29.

(505) 5.505 Additional allocation: in Algeria, Saudi Arabia, Bahrain, Botswana, Brunei Darussalam, Cameroon, China, Congo (Rep. of the), Korea (Rep. of), Djibouti, Egypt, the United Arab Emirates, Gabon, Guinea, India, Indonesia, Iran (Islamic Republic of), Iraq, Israel, Japan, Jordan, Kuwait, Lebanon, Malaysia, Mali, Morocco, Mauritania, Oman, the Philippines, Qatar, the Syrian Arab Republic, the Dem. People's Rep. of Korea, Singapore, Somalia, Sudan, South Sudan, Swaziland, Chad, Viet Nam and Yemen, the frequency band 14-14.3 GHz is also allocated to the fixed service on a primary basis.

(506) 5.506 The band 14-14.5 GHz may be used, within the fixed-satellite service (Earth-to-space), for feeder links for the broadcasting-satellite service, subject to coordination with other networks in the fixed-satellite service. Such use of feeder links is reserved for countries outside Europe.

(i) 5.506A In the band 14-14.5 GHz, ship earth stations with an e.i.r.p. greater than 21 dBW shall operate under the same conditions as earth stations located on board vessels, as provided in Resolution 902 (WRC-03). This footnote shall not apply to ship earth stations for which the complete Appendix 4 information has been received by the Bureau prior to 5 July 2003.

(ii) 5.506B Earth stations located on board vessels communicating with space stations in the fixed-satellite service may operate in the frequency band 14-14.5 GHz without the need for prior agreement from Cyprus and Malta, within the minimum distance given in Resolution 902 (WRC-03) from these countries.

(507) [Reserved]

(508) 5.508 Additional allocation: in Germany, France, Italy, Libya, The Former Yugoslav Rep. of Macedonia and the United Kingdom, the band 14.25-14.3 GHz is also allocated to the fixed service on a primary basis.

(i) 5.508A In the frequency band 14.25-14.3 GHz, the power flux-density produced on the territory of the countries of Saudi Arabia, Bahrain, Botswana, China, Côte d'Ivoire, Egypt, France, Guinea, India, Iran (Islamic Republic of), Italy, Kuwait, Nigeria, Oman, the Syrian Arab Republic, the United Kingdom and Tunisia by any aircraft earth station in the aeronautical mobile-satellite service shall not exceed the limits given in Annex 1, Part B of Recommendation ITU-R M.1643-0, unless otherwise specifically agreed by the affected administration(s). The provisions of this footnote in no way derogate the obligations of the aeronautical mobile-satellite service to operate as a secondary service in accordance with No. 5.29.

(ii) [Reserved]

(509) 5.509A In the frequency band 14.3-14.5 GHz, the power flux-density produced on the territory of the countries of Saudi Arabia, Bahrain, Botswana, Cameroon, China, Côte d'Ivoire, Egypt, France, Gabon, Guinea, India, Iran (Islamic Republic of), Italy, Kuwait, Morocco, Nigeria, Oman, the Syrian Arab Republic, the United Kingdom, Sri Lanka, Tunisia and Viet Nam by any aircraft earth station in the aeronautical mobile-satellite service shall not exceed the limits given in Annex 1, Part B of Recommendation ITU-R M.1643-0, unless otherwise specifically agreed by the affected administration(s). The provisions of this footnote in no way derogate the obligations of the aeronautical mobile-satellite service to operate as a secondary service in accordance with No. 5.29.

(i) 5.509B The use of the frequency bands 14.5-14.75 GHz in countries listed in Resolution 163 (WRC-15) and 14.5-14.8 GHz in countries listed in Resolution 164 (WRC-15) by the fixed-satellite service (Earth-to-space) not for feeder links for the broadcasting-satellite service is limited to geostationary-satellites.

(ii) 5.509C For the use of the frequency bands 14.5-14.75 GHz in countries listed in Resolution 163 (WRC-15) and 14.5-14.8 GHz in countries listed in Resolution 164 (WRC-15) by the fixed-satellite service (Earth-to-space) not for feeder links for the broadcasting-satellite service, the fixed-satellite service earth stations shall have a minimum antenna diameter of 6 m and a maximum power spectral density of −44.5 dBW/Hz at the input of the antenna. The earth stations shall be notified at known locations on land.

(iii) 5.509D Before an administration brings into use an earth station in the fixed-satellite service (Earth-to-space) not for feeder links for the broadcasting-satellite service in the frequency bands 14.5-14.75 GHz (in countries listed in Resolution 163 (WRC-15)) and 14.5-14.8 GHz (in countries listed in Resolution 164 (WRC-15)), it shall ensure that the power flux-density produced by this earth station does not exceed −151.5 dB(W/(m² · 4 kHz)) produced at all altitudes from 0 m to 19000 m above sea level at 22 km seaward from all coasts, defined as the low-water mark, as officially recognized by each coastal State.

(iv) 5.509E In the frequency bands 14.50-14.75 GHz in countries listed in Resolution 163 (WRC-15) and 14.50-14.8 GHz in countries listed in Resolution 164 (WRC-15), the location of earth stations in the fixed-satellite service (Earth-to-space) not for feeder links for the broadcasting-satellite service shall maintain a separation distance of at least 500 km from the border(s) of other countries unless shorter distances are explicitly agreed by those administrations. No. 9.17 does not apply. When applying this provision, administrations should consider the relevant parts of these Regulations and the latest relevant ITU-R Recommendations.

(v) 5.509F In the frequency bands 14.50-14.75 GHz in countries listed in Resolution 163 (WRC-15) and 14.50-14.8 GHz in countries listed in Resolution 164 (WRC-15), earth stations in the fixed-satellite service (Earth-to-space) not for feeder links for the broadcasting-satellite service shall not constrain the future deployment of the fixed and mobile services.

(vi) 5.509G The frequency band 14.5-14.8 GHz is also allocated to the space research service on a primary basis. However, such use is limited to the satellite systems operating in the space research service (Earth-to-space) to relay data to space stations in the geostationary-satellite orbit from associated earth stations. Stations in the space research service shall not cause harmful interference to, or claim protection from, stations in the fixed and mobile services and in the fixed-satellite service limited to feeder links for the broadcasting-satellite service and associated space operations functions using the guardbands under Appendix 30A and feeder links for the broadcasting-satellite service in Region 2. Other uses of this frequency band by the space research service are on a secondary basis.

(510) 5.510 Except for use in accordance with Resolution 163 (WRC-15) and Resolution 164 (WRC-15), the use of the frequency band 14.5-14.8 GHz by the fixed-satellite service (Earth-to-space) is limited to feeder links for the broadcasting-satellite service. This use is reserved for countries outside Europe. Uses other than feeder links for the broadcasting-satellite service are not authorized in Regions 1 and 2 in the frequency band 14.75-14.8 GHz.

(511) 5.511 Additional allocation: in Saudi Arabia, Bahrain, Cameroon, Egypt, the United Arab Emirates, Guinea, Iran (Islamic Republic of), Iraq, Israel, Kuwait, Lebanon, Oman, Pakistan, Qatar, the Syrian Arab Republic and Somalia, the band 15.35-15.4 GHz is also allocated to the fixed and mobile services on a secondary basis.

(i) 5.511A se of the frequency band 15.43-15.63 GHz by the fixed-satellite service (Earth-to-space) is limited to feeder links of non-geostationary systems in the mobile-satellite service, subject to coordination under No. 9.11A.

(ii) 5.511C Stations operating in the aeronautical radionavigation service shall limit the effective e.i.r.p. in accordance with Recommendation ITU-R S.1340-0. The minimum coordination distance required to protect the aeronautical radionavigation stations (No. 4.10 applies) from harmful interference from feeder-link earth stations and the maximum e.i.r.p. transmitted towards the local horizontal plane by a feeder-link earth station shall be in accordance with Recommendation ITU-R S.1340-0.

(iii) 5.511E In the frequency band 15.4-15.7 GHz, stations operating in the radiolocation service shall not cause harmful interference to, or claim protection from, stations operating in the aeronautical radionavigation service.

(iv) 5.511F In order to protect the radio astronomy service in the frequency band 15.35-15.4 GHz, radiolocation stations operating in the frequency band 15.4-15.7 GHz shall not exceed the power flux-density level of −156 dB(W/m²) in a 50 MHz bandwidth in the frequency band 15.35-15.4 GHz, at any radio astronomy observatory site for more than 2 per cent of the time.

(512) 5.512 Additional allocation: in Algeria, Saudi Arabia, Austria, Bahrain, Bangladesh, Brunei Darussalam, Cameroon, Congo (Rep. of the), Egypt, El Salvador, the United Arab Emirates, Eritrea, Finland, Guatemala, India, Indonesia, Iran (Islamic Republic of), Jordan, Kenya, Kuwait, Lebanon, Libya, Malaysia, Mali, Morocco, Mauritania, Montenegro, Nepal, Nicaragua, Niger, Oman, Pakistan, Qatar, Syrian Arab Republic, the Dem. Rep. of the Congo, Singapore, Somalia, Sudan, South Sudan, Chad, Togo and Yemen, the frequency band 15.7-17.3 GHz is also allocated to the fixed and mobile services on a primary basis.

(513) 5.513 Additional allocation: in Israel, the band 15.7-17.3 GHz is also allocated to the fixed and mobile services on a primary basis. These services shall not claim protection from or cause harmful interference to services operating in accordance with the Table in countries other than those included in No. 5.512.

(i) 5.513A Spaceborne active sensors operating in the band 17.2-17.3 GHz shall not cause harmful interference to, or constrain the development of, the radiolocation and other services allocated on a primary basis.

(ii) [Reserved]

(514) 5.514 Additional allocation: in Algeria, Saudi Arabia, Bahrain, Bangladesh, Cameroon, El Salvador, the United Arab Emirates, Guatemala, India, Iran (Islamic Republic of), Iraq, Israel, Italy, Japan, Jordan, Kuwait, Libya, Lithuania, Nepal, Nicaragua, Nigeria, Oman, Uzbekistan, Pakistan, Qatar, Kyrgyzstan, Sudan and South Sudan, the frequency band 17.3-17.7 GHz is also allocated to the fixed and mobile services on a secondary basis. The power limits given in Nos. 21.3 and 21.5 shall apply.

(515) 5.515 In the band 17.3-17.8 GHz, sharing between the fixed-satellite service (Earth-to-space) and the broadcasting-satellite service shall also be in accordance with the provisions of section 1 of Annex 4 of Appendix 30A.

(516) 5.516 The use of the band 17.3-18.1 GHz by geostationary-satellite systems in the fixed-satellite service (Earth-to-space) is limited to feeder links for the broadcasting-satellite service. The use of the band 17.3-17.8 GHz in Region 2 by systems in the fixed-satellite service (Earth-to-space) is limited to geostationary satellites. For the use of the band 17.3-17.8 GHz in Region 2 by feeder links for the broadcasting-satellite service in the band 12.2-12.7 GHz, see Article 11. The use of the bands 17.3-18.1 GHz (Earth-to-space) in Regions 1 and 3 and 17.8-18.1 GHz (Earth-to-space) in Region 2 by non-geostationary-satellite systems in the fixed-satellite service is subject to application of the provisions of No. 9.12 for coordination with other non-geostationary-satellite systems in the fixed-satellite service. Non-geostationary-satellite systems in the fixed-satellite service shall not claim protection from geostationary-satellite networks in the fixed-satellite service operating in accordance with the Radio Regulations, irrespective of the dates of receipt by the Bureau of the complete coordination or notification information, as appropriate, for the non-geostationary-satellite systems in the fixed-satellite service and of the complete coordination or notification information, as appropriate, for the geostationary-satellite networks, and No. 5.43A does not apply. Non-geostationary-satellite systems in the fixed-satellite service in the above bands shall be operated in such a way that any unacceptable interference that may occur during their operation shall be rapidly eliminated.

(i) 5.516A In the band 17.3-17.7 GHz, earth stations of the fixed-satellite service (space-to-Earth) in Region 1 shall not claim protection from the broadcasting-satellite service feeder-link earth stations operating under Appendix 30A, nor put any limitations or restrictions on the locations of the broadcasting-satellite service feeder-link earth stations anywhere within the service area of the feeder link.

(ii) 5.516B The following bands are identified for use by high-density applications in the fixed-satellite service: 17.3-17.7 GHz (space-to-Earth) in Region 1, 18.3-19.3 GHz (space-to-Earth) in Region 2, 19.7-20.2 GHz (space-to-Earth) in all Regions, 39.5-40 GHz (space-to-Earth) in Region 1, 40-40.5 GHz (space-to-Earth) in all Regions, 40.5-42 GHz (space-to-Earth) in Region 2, 47.5-47.9 GHz (space-to-Earth) in Region 1, 48.2-48.54 GHz (space-to-Earth) in Region 1, 49.44-50.2 GHz (space-to-Earth) in Region 1, and 27.5-27.82 GHz (Earth-to-space) in Region 1, 28.35-28.45 GHz (Earth-to-space) in Region 2, 28.45-28.94 GHz (Earth-to-space) in all Regions, 28.94-29.1 GHz (Earth-to-space) in Region 2 and 3, 29.25-29.46 GHz (Earth-to-space) in Region 2, 29.46-30 GHz (Earth-to-space) in all Regions, 48.2-50.2 GHz (Earth-to-space) in Region 2. This identification does not preclude the use of these bands by other fixed-satellite service applications or by other services to which these bands are allocated on a co-primary basis and does not establish priority in these Radio Regulations among users of the bands. Administrations should take this into account when considering regulatory provisions in relation to these bands. See Resolution 143 (Rev.WRC-07).

(517) 5.517 In Region 2, use of the fixed-satellite (space-to-Earth) service in the band 17.7-17.8 GHz shall not cause harmful interference to nor claim protection from assignments in the broadcasting-satellite service operating in conformity with the Radio Regulations.

(518) [Reserved]

(519) 5.519 Additional allocation: the bands 18-18.3 GHz in Region 2 and 18.1-18.4 GHz in Regions 1 and 3 are also allocated to the meteorological-satellite service (space-to-Earth) on a primary basis. Their use is limited to geostationary satellites.

(520) 5.520 The use of the band 18.1-18.4 GHz by the fixed-satellite service (Earth-to-space) is limited to feeder links of geostationary-satellite systems in the broadcasting-satellite service.

(521) 5.521 Alternative allocation: in the United Arab Emirates and Greece, the frequency band 18.1-18.4 GHz is allocated to the fixed, fixed-satellite (space-to-Earth) and mobile services on a primary basis (see No. 5.33). The provisions of No. 5.519 also apply.

(522) 5.522A The emissions of the fixed service and the fixed-satellite service in the band 18.6-18.8 GHz are limited to the values given in Nos. 21.5A and 21.16.2, respectively.

(i) 5.522B The use of the band 18.6-18.8 GHz by the fixed-satellite service is limited to geostationary systems and systems with an orbit of apogee greater than 20 000 km.

(ii) 5.522C In the band 18.6-18.8 GHz, in Algeria, Saudi Arabia, Bahrain, Egypt, the United Arab Emirates, Jordan, Lebanon, Libya, Morocco, Oman, Qatar, the Syrian Arab Republic, Tunisia and Yemen, fixed-service systems in operation at the date of entry into force of the Final Acts of WRC-2000 are not subject to the limits of No. 21.5A.

(523) 5.523A The use of the bands 18.8-19.3 GHz (space-to-Earth) and 28.6-29.1 GHz (Earth-to-space) by geostationary and non-geostationary fixed-satellite service networks is subject to the application of the provisions of No. 9.11A and No. 22.2 does not apply. Administrations having geostationary-satellite networks under coordination prior to 18 November 1995 shall cooperate to the maximum extent possible to coordinate pursuant to No. 9.11A with non-geostationary-satellite networks for which notification information has been received by the Bureau prior to that date, with a view to reaching results acceptable to all the parties concerned. Non-geostationary-satellite networks shall not cause unacceptable interference to geostationary fixed-satellite service networks for which complete Appendix 4 notification information is considered as having been received by the Bureau prior to 18 November 1995.

(i) 5.523B The use of the band 19.3-19.6 GHz (Earth-to-space) by the fixed-satellite service is limited to feeder links for non-geostationary-satellite systems in the mobile-satellite service. Such use is subject to the application of the provisions of No. 9.11A, and No. 22.2 does not apply.

(ii) 5.523C No. 22.2 shall continue to apply in the bands 19.3-19.6 GHz and 29.1-29.4 GHz, between feeder links of non-geostationary mobile-satellite service networks and those fixed-satellite service networks for which complete Appendix 4 coordination information, or notification information, is considered as having been received by the Bureau prior to 18 November 1995.

(iii) 5.523D The use of the band 19.3-19.7 GHz (space-to-Earth) by geostationary fixed-satellite service systems and by feeder links for non-geostationary-satellite systems in the mobile-satellite service is subject to the application of the provisions of No. 9.11A, but not subject to the provisions of No. 22.2. The use of this band for other non-geostationary fixed-satellite service systems, or for the cases indicated in Nos. 5.523C and 5.523E, is not subject to the provisions of No. 9.11A and shall continue to be subject to Articles 9 (except No. 9.11A) and 11 procedures, and to the provisions of No. 22.2.

(iv) 5.523E No. 22.2 shall continue to apply in the bands 19.6-19.7 GHz and 29.4-29.5 GHz, between feeder links of non-geostationary mobile-satellite service networks and those fixed-satellite service networks for which complete Appendix 4 coordination information, or notification information, is considered as having been received by the Bureau by 21 November 1997.

(524) 5.524 Additional allocation: in Afghanistan, Algeria, Saudi Arabia, Bahrain, Brunei Darussalam, Cameroon, China, Congo (Rep. of the), Costa Rica, Egypt, the United Arab Emirates, Gabon, Guatemala, Guinea, India, Iran (Islamic Republic of), Iraq, Israel, Japan, Jordan, Kuwait, Lebanon, Malaysia, Mali, Morocco, Mauritania, Nepal, Nigeria, Oman, Pakistan, the Philippines, Qatar, the Syrian Arab Republic, the Dem. Rep. of the Congo, the Dem. People's Rep. of Korea, Singapore, Somalia, Sudan, South Sudan, Chad, Togo and Tunisia, the frequency band 19.7-21.2 GHz is also allocated to the fixed and mobile services on a primary basis. This additional use shall not impose any limitation on the power flux- density of space stations in the fixed-satellite service in the frequency band 19.7-21.2 GHz and of space stations in the mobile-satellite service in the frequency band 19.7-20.2 GHz where the allocation to the mobile-satellite service is on a primary basis in the latter frequency band.

(525) 5.525 In order to facilitate interregional coordination between networks in the mobile-satellite and fixed-satellite services, carriers in the mobile-satellite service that are most susceptible to interference shall, to the extent practicable, be located in the higher parts of the bands 19.7-20.2 GHz and 29.5-30 GHz.

(526) 5.526 In the bands 19.7-20.2 GHz and 29.5-30 GHz in Region 2, and in the bands 20.1-20.2 GHz and 29.9-30 GHz in Regions 1 and 3, networks which are both in the fixed-satellite service and in the mobile-satellite service may include links between earth stations at specified or unspecified points or while in motion, through one or more satellites for point-to-point and point-to-multipoint communications.

(527) 5.527 In the bands 19.7-20.2 GHz and 29.5-30 GHz, the provisions of No. 4.10 do not apply with respect to the mobile-satellite service.

(i) 5.527A The operation of earth stations in motion communicating with the FSS is subject to Resolution 156 (WRC-15).

(ii) [Reserved]

(528) 5.528 The allocation to the mobile-satellite service is intended for use by networks which use narrow spot-beam antennas and other advanced technology at the space stations. Administrations operating systems in the mobile-satellite service in the band 19.7-20.1 GHz in Region 2 and in the band 20.1-20.2 GHz shall take all practicable steps to ensure the continued availability of these bands for administrations operating fixed and mobile systems in accordance with the provisions of No. 5.524.

(529) 5.529 The use of the bands 19.7-20.1 GHz and 29.5-29.9 GHz by the mobile-satellite service in Region 2 is limited to satellite networks which are both in the fixed-satellite service and in the mobile-satellite service as described in No. 5.526.

(530) 5.530A Unless otherwise agreed between the administrations concerned, any station in the fixed or mobile services of an administration shall not produce a power flux-density in excess of −120.4 dB(W/(m² · MHz)) at 3 m above the ground of any point of the territory of any other administration in Regions 1 and 3 for more than 20% of the time. In conducting the calculations, administrations should use the most recent version of Recommendation ITU-R P.452 (see also the most recent version of Recommendation ITU-R BO.1898).

(i) 5.530B In the band 21.4-22 GHz, in order to facilitate the development of the broadcasting-satellite service, administrations in Regions 1 and 3 are encouraged not to deploy stations in the mobile service and are encouraged to limit the deployment of stations in the fixed service to point-to-point links.

(ii) 5.530D See Resolution 555 (Rev.WRC-15).

(531) 5.531 Additional allocation: in Japan, the band 21.4-22 GHz is also allocated to the broadcasting service on a primary basis.

(532) 5.532 The use of the band 22.21-22.5 GHz by the Earth exploration-satellite (passive) and space research (passive) services shall not impose constraints upon the fixed and mobile, except aeronautical mobile, services.

(i) 5.532A The location of earth stations in the space research service shall maintain a separation distance of at least 54 km from the respective border(s) of neighbouring countries to protect the existing and future deployment of fixed and mobile services unless a shorter distance is otherwise agreed between the corresponding administrations. Nos. 9.17 and 9.18 do not apply.

(ii) 5.532B Use of the band 24.65-25.25 GHz in Region 1 and the band 24.65-24.75 GHz in Region 3 by the fixed-satellite service (Earth-to-space) is limited to earth stations using a minimum antenna diameter of 4.5 m.

(533) 5.533 The inter-satellite service shall not claim protection from harmful interference from airport surface detection equipment stations of the radionavigation service.

(534) [Reserved]

(535) 5.535 In the band 24.75-25.25 GHz, feeder links to stations of the broadcasting-satellite service shall have priority over other uses in the fixed-satellite service (Earth-to-space). Such other uses shall protect and shall not claim protection from existing and future operating feeder-link networks to such broadcasting satellite stations.

(i) 5.535A The use of the band 29.1-29.5 GHz (Earth-to-space) by the fixed-satellite service is limited to geostationary-satellite systems and feeder links to non-geostationary-satellite systems in the mobile-satellite service. Such use is subject to the application of the provisions of No. 9.11A, but not subject to the provisions of No. 22.2, except as indicated in Nos. 5.523C and 5.523E where such use is not subject to the provisions of No. 9.11A and shall continue to be subject to Articles 9 (except No. 9.11A) and 11 procedures, and to the provisions of No. 22.2.

(ii) [Reserved]

(536) 5.536 Use of the 25.25-27.5 GHz band by the inter-satellite service is limited to space research and Earth exploration-satellite applications, and also transmissions of data originating from industrial and medical activities in space.

(i) 5.536A Administrations operating earth stations in the Earth exploration-satellite service or the space research service shall not claim protection from stations in the fixed and mobile services operated by other administrations. In addition, earth stations in the Earth exploration-satellite service or in the space research service should be operated taking into account the most recent version of Recommendation ITU-R SA.1862.

(ii) 5.536B In Saudi Arabia, Austria, Bahrain, Belgium, Brazil, China, Korea (Rep. of), Denmark, Egypt, United Arab Emirates, Estonia, Finland, Hungary, India, Iran (Islamic Republic of), Ireland, Israel, Italy, Jordan, Kenya, Kuwait, Lebanon, Libya, Lithuania, Moldova, Norway, Oman, Uganda, Pakistan, the Philippines, Poland, Portugal, the Syrian Arab Republic, Dem. People's Rep. of Korea, Slovakia, the Czech Rep., Romania, the United Kingdom, Singapore, Sweden, Tanzania, Turkey, Viet Nam and Zimbabwe, earth stations operating in the Earth exploration-satellite service in the frequency band 25.5-27 GHz shall not claim protection from, or constrain the use and deployment of, stations of the fixed and mobile services.

(iii) 5.536C In Algeria, Saudi Arabia, Bahrain, Botswana, Brazil, Cameroon, Comoros, Cuba, Djibouti, Egypt, United Arab Emirates, Estonia, Finland, Iran (Islamic Republic of), Israel, Jordan, Kenya, Kuwait, Lithuania, Malaysia, Morocco, Nigeria, Oman, Qatar, Syrian Arab Republic, Somalia, Sudan, South Sudan, Tanzania, Tunisia, Uruguay, Zambia and Zimbabwe, earth stations operating in the space research service in the band 25.5-27 GHz shall not claim protection from, or constrain the use and deployment of, stations of the fixed and mobile services.

(537) 5.537 Space services using non-geostationary satellites operating in the inter-satellite service in the band 27-27.5 GHz are exempt from the provisions of No. 22.2.

(i) 5.537A In Bhutan, Cameroon, Korea (Rep. of), the Russian Federation, India, Indonesia, Iran (Islamic Republic of), Iraq, Japan, Kazakhstan, Malaysia, Maldives, Mongolia, Myanmar, Uzbekistan, Pakistan, the Philippines, Kyrgyzstan, the Dem. People's Rep. of Korea, Sudan, Sri Lanka, Thailand and Viet Nam, the allocation to the fixed service in the band 27.9-28.2 GHz may also be used by high altitude platform stations (HAPS) within the territory of these countries. Such use of 300 MHz of the fixed-service allocation by HAPS in the above countries is further limited to operation in the HAPS-to-ground direction and shall not cause harmful interference to, nor claim protection from, other types of fixed-service systems or other co-primary services. Furthermore, the development of these other services shall not be constrained by HAPS. See Resolution 145 (Rev.WRC-12).

(ii) [Reserved]

(538) 5.538 Additional allocation: the bands 27.500-27.501 GHz and 29.999-30.000 GHz are also allocated to the fixed-satellite service (space-to-Earth) on a primary basis for the beacon transmissions intended for up-link power control. Such space-to-Earth transmissions shall not exceed an equivalent isotropically radiated power (e.i.r.p.) of +10 dBW in the direction of adjacent satellites on the geostationary-satellite orbit.

(539) 5.539 The band 27.5-30 GHz may be used by the fixed-satellite service (Earth-to-space) for the provision of feeder links for the broadcasting-satellite service.

(540) 5.540 Additional allocation: the band 27.501-29.999 GHz is also allocated to the fixed-satellite service (space-to-Earth) on a secondary basis for beacon transmissions intended for up-link power control.

(541) 5.541 In the band 28.5-30 GHz, the earth exploration-satellite service is limited to the transfer of data between stations and not to the primary collection of information by means of active or passive sensors.

(i) 5.541A Feeder links of non-geostationary networks in the mobile-satellite service and geostationary networks in the fixed-satellite service operating in the band 29.1-29.5 GHz (Earth-to-space) shall employ uplink adaptive power control or other methods of fade compensation, such that the earth station transmissions shall be conducted at the power level required to meet the desired link performance while reducing the level of mutual interference between both networks. These methods shall apply to networks for which Appendix 4 coordination information is considered as having been received by the Bureau after 17 May 1996 and until they are changed by a future competent world radiocommunication conference. Administrations submitting Appendix 4 information for coordination before this date are encouraged to utilize these techniques to the extent practicable.

(ii) [Reserved]

(542) 5.542 Additional allocation: in Algeria, Saudi Arabia, Bahrain, Brunei Darussalam, Cameroon, China, Congo (Rep. of the), Egypt, the United Arab Emirates, Eritrea, Ethiopia, Guinea, India, Iran (Islamic Republic of), Iraq, Japan, Jordan, Kuwait, Lebanon, Malaysia, Mali, Morocco, Mauritania, Nepal, Oman, Pakistan, Philippines, Qatar, the Syrian Arab Republic, the Dem. People's Rep. of Korea, Somalia, Sudan, South Sudan, Sri Lanka and Chad, the band 29.5-31 GHz is also allocated to the fixed and mobile services on a secondary basis. The power limits specified in Nos. 21.3 and 21.5 shall apply.

(543) 5.543 The band 29.95-30 GHz may be used for space-to-space links in the Earth exploration-satellite service for telemetry, tracking, and control purposes, on a secondary basis.

(i) 5.543A In Bhutan, Cameroon, Korea (Rep. of), the Russian Federation, India, Indonesia, Iran (Islamic Republic of), Iraq, Japan, Kazakhstan, Malaysia, Maldives, Mongolia, Myanmar, Uzbekistan, Pakistan, the Philippines, Kyrgyzstan, the Dem. People's Rep. of Korea, Sudan, Sri Lanka, Thailand and Viet Nam, the allocation to the fixed service in the frequency band 31-31.3 GHz may also be used by systems using high altitude platform stations (HAPS) in the ground-to-HAPS direction. The use of the frequency band 31-31.3 GHz by systems using HAPS is limited to the territory of the countries listed above and shall not cause harmful interference to, nor claim protection from, other types of fixed-service systems, systems in the mobile service and systems operated under paragraph (b)(545) of this section. Furthermore, the development of these services shall not be constrained by HAPS. Systems using HAPS in the frequency band 31-31.3 GHz shall not cause harmful interference to the radio astronomy service having a primary allocation in the frequency band 31.3-31.8 GHz, taking into account the protection criterion as given in the most recent version of Recommendation ITU-R RA.769. In order to ensure the protection of satellite passive services, the level of unwanted power density into a HAPS ground station antenna in the frequency band 31.3-31.8 GHz shall be limited to −106 dB(W/MHz) under clear-sky conditions, and may be increased up to −100 dB(W/MHz) under rainy conditions to mitigate fading due to rain, provided the effective impact on the passive satellite does not exceed the impact under clear-sky conditions. See Resolution 145 (Rev.WRC-12).

(ii) [Reserved]

(544) 5.544 In the band 31-31.3 GHz the power flux-density limits specified in Article 21, Table 21-4 shall apply to the space research service.

(545) 5.545 Different category of service: in Armenia, Georgia, Kyrgyzstan, Tajikistan and Turkmenistan, the allocation of the band 31-31.3 GHz to the space research service is on a primary basis (see No. 5.33).

(546) 5.546 Different category of service: in Saudi Arabia, Armenia, Azerbaijan, Belarus, Egypt, the United Arab Emirates, Spain, Estonia, the Russian Federation, Georgia, Hungary, Iran (Islamic Republic of), Israel, Jordan, Lebanon, Moldova, Mongolia, Oman, Uzbekistan, Poland, the Syrian Arab Republic, Kyrgyzstan, Romania, the United Kingdom, South Africa, Tajikistan, Turkmenistan and Turkey, the allocation of the band 31.5-31.8 GHz to the fixed and mobile, except aeronautical mobile, services is on a primary basis (see No. 5.33).

(547) 5.547 The bands 31.8-33.4 GHz, 37-40 GHz, 40.5-43.5 GHz, 51.4-52.6 GHz, 55.78-59 GHz and 64-66 GHz are available for high-density applications in the fixed service (see Resolution 75 (WRC-12)). Administrations should take this into account when considering regulatory provisions in relation to these bands. Because of the potential deployment of high-density applications in the fixed-satellite service in the bands 39.5-40 GHz and 40.5-42 GHz (see No. 5.516B), administrations should further take into account potential constraints to high-density applications in the fixed service, as appropriate.

(i) 5.547A Administrations should take practical measures to minimize the potential interference between stations in the fixed service and airborne stations in the radionavigation service in the 31.8-33.4 GHz band, taking into account the operational needs of the airborne radar systems.

(ii) 5.547B Alternative allocation: in the United States, the band 31.8-32 GHz is allocated to the radionavigation and space research (deep space) (space-to-Earth) services on a primary basis.

(iii) 5.547C Alternative allocation: in the United States, the band 32-32.3 GHz is allocated to the radionavigation and space research (deep space) (space-to-Earth) services on a primary basis.

(iv) 5.547D Alternative allocation: in the United States, the band 32.3-33 GHz is allocated to the inter-satellite and radionavigation services on a primary basis.

(v) 5.547E Alternative allocation: in the United States, the band 33-33.4 GHz is allocated to the radionavigation service on a primary basis.

(548) 5.548 In designing systems for the inter-satellite service in the band 32.3-33 GHz, for the radionavigation service in the band 32-33 GHz, and for the space research service (deep space) in the band 31.8-32.3 GHz, administrations shall take all necessary measures to prevent harmful interference between these services, bearing in mind the safety aspects of the radionavigation service (see Recommendation 707).

(549) 5.549 Additional allocation: in Saudi Arabia, Bahrain, Bangladesh, Egypt, the United Arab Emirates, Gabon, Indonesia, Iran (Islamic Republic of), Iraq, Israel, Jordan, Kuwait, Lebanon, Libya, Malaysia, Mali, Morocco, Mauritania, Nepal, Nigeria, Oman, Pakistan, the Philippines, Qatar, the Syrian Arab Republic, the Dem. Rep. of the Congo, Singapore, Somalia, Sudan, South Sudan, Sri Lanka, Togo, Tunisia and Yemen, the band 33.4-36 GHz is also allocated to the fixed and mobile services on a primary basis.

(i) 5.549A In the band 35.5-36.0 GHz, the mean power flux-density at the Earth's surface, generated by any spaceborne sensor in the Earth exploration-satellite service (active) or space research service (active), for any angle greater than 0.8° from the beam centre shall not exceed −73.3 dB(W/m²) in this band.

(ii) [Reserved]

(550) 5.550 Different category of service: in Armenia, Azerbaijan, Belarus, the Russian Federation, Georgia, Kyrgyzstan, Tajikistan and Turkmenistan, the allocation of the band 34.7-35.2 GHz to the space research service is on a primary basis (see No. 5.33).

(i) 5.550A For sharing of the band 36-37 GHz between the Earth exploration-satellite (passive) service and the fixed and mobile services, Resolution 752 (WRC-07) shall apply.

(ii) [Reserved]

(551) 5.551F Different category of service: in Japan, the allocation of the band 41.5-42.5 GHz to the mobile service is on a primary basis (see No. 5.33).

(i) 5.551H The equivalent power flux-density (epfd) produced in the frequency band 42.5-43.5 GHz by all space stations in any non-geostationary-satellite system in the fixed-satellite service (space-to-Earth), or in the broadcasting-satellite service operating in the frequency band 42-42.5 GHz, shall not exceed the following values at the site of any radio astronomy station for more than 2% of the time: −230 dB(W/m²) in 1 GHz and −246 dB(W/m²) in any 500 kHz of the frequency band 42.5-43.5 GHz at the site of any radio astronomy station registered as a single-dish telescope; and −209 dB(W/m²) in any 500 kHz of the frequency band 42.5-43.5 GHz at the site of any radio astronomy station registered as a very long baseline interferometry station. These epfd values shall be evaluated using the methodology given in Recommendation ITU-R S.1586-1 and the reference antenna pattern and the maximum gain of an antenna in the radio astronomy service given in Recommendation ITU-R RA.1631-0 and shall apply over the whole sky and for elevation angles higher than the minimum operating angle θmin of the radiotelescope (for which a default value of 5° should be adopted in the absence of notified information). These values shall apply at any radio astronomy station that either: was in operation prior to 5 July 2003 and has been notified to the Bureau before 4 January 2004; or was notified before the date of receipt of the complete Appendix 4 information for coordination or notification, as appropriate, for the space station to which the limits apply. Other radio astronomy stations notified after these dates may seek an agreement with administrations that have authorized the space stations. In Region 2, Resolution 743 (WRC-03) shall apply. The limits in this footnote may be exceeded at the site of a radio astronomy station of any country whose administration so agreed.

(ii) 5.551I The power flux-density in the band 42.5-43.5 GHz produced by any geostationary space station in the fixed-satellite service (space-to-Earth), or the broadcasting-satellite service operating in the 42-42.5 GHz band, shall not exceed the following values at the site of any radio astronomy station: −137 dB(W/m²) in 1 GHz and −153 dB(W/m²) in any 500 kHz of the 42.5-43.5 GHz band at the site of any radio astronomy station registered as a single-dish telescope; and−116 dB(W/m²) in any 500 kHz of the 42.5-43.5 GHz band at the site of any radio astronomy station registered as a very long baseline interferometry station. These values shall apply at the site of any radio astronomy station that either: was in operation prior to 5 July 2003 and has been notified to the Bureau before 4 January 2004; or was notified before the date of receipt of the complete Appendix 4 information for coordination or notification, as appropriate, for the space station to which the limits apply. Other radio astronomy stations notified after these dates may seek an agreement with administrations that have authorized the space stations. In Region 2, Resolution 743 (WRC-03) shall apply. The limits in this footnote may be exceeded at the site of a radio astronomy station of any country whose administration so agreed.

(552) 5.552 The allocation of the spectrum for the fixed-satellite service in the bands 42.5-43.5 GHz and 47.2-50.2 GHz for Earth-to-space transmission is greater than that in the band 37.5-39.5 GHz for space-to-Earth transmission in order to accommodate feeder links to broadcasting satellites. Administrations are urged to take all practicable steps to reserve the band 47.2-49.2 GHz for feeder links for the broadcasting-satellite service operating in the band 40.5-42.5 GHz.

(i) 5.552A The allocation to the fixed service in the bands 47.2-47.5 GHz and 47.9-48.2 GHz is designated for use by high altitude platform stations. The use of the bands 47.2-47.5 GHz and 47.9-48.2 GHz is subject to the provisions of Resolution 122 (Rev. WRC-07).

(ii) [Reserved]

(553) 5.553 In the bands 43.5-47 GHz and 66-71 GHz, stations in the land mobile service may be operated subject to not causing harmful interference to the space radiocommunication services to which these bands are allocated (see No. 5.43).

(554) 5.554 In the bands 43.5-47 GHz, 66-71 GHz, 95-100 GHz, 123-130 GHz, 191.8-200 GHz and 252-265 GHz, satellite links connecting land stations at specified fixed points are also authorized when used in conjunction with the mobile-satellite service or the radionavigation-satellite service.

(i) 5.554A The use of the bands 47.5-47.9 GHz, 48.2-48.54 GHz and 49.44-50.2 GHz by the fixed-satellite service (space-to-Earth) is limited to geostationary satellites.

(ii) [Reserved]

(555) 5.555 Additional allocation: the band 48.94-49.04 GHz is also allocated to the radio astronomy service on a primary basis.

(i) 5.555B The power flux-density in the band 48.94-49.04 GHz produced by any geostationary space station in the fixed-satellite service (space-to-Earth) operating in the bands 48.2-48.54 GHz and 49.44-50.2 GHz shall not exceed −151.8 dB(W/m²) in any 500 kHz band at the site of any radio astronomy station.

(ii) [Reserved]

(556) 5.556 In the bands 51.4-54.25 GHz, 58.2-59 GHz and 64-65 GHz, radio astronomy observations may be carried out under national arrangements.

(i) 5.556A Use of the bands 54.25-56.9 GHz, 57-58.2 GHz and 59-59.3 GHz by the inter-satellite service is limited to satellites in the geostationary-satellite orbit. The single-entry power flux-density at all altitudes from 0 km to 1000 km above the Earth's surface produced by a station in the inter-satellite service, for all conditions and for all methods of modulation, shall not exceed −147 dB(W/(m² · 100 MHz)) for all angles of arrival.

(ii) 5.556B Additional allocation: in Japan, the band 54.25-55.78 GHz is also allocated to the mobile service on a primary basis for low-density use.

(557) 5.557 Additional allocation: in Japan, the band 55.78-58.2 GHz is also allocated to the radiolocation service on a primary basis.

(i) 5.557A In the band 55.78-56.26 GHz, in order to protect stations in the Earth exploration-satellite service (passive), the maximum power density delivered by a transmitter to the antenna of a fixed service station is limited to −26 dB(W/MHz).

(ii) [Reserved]

(558) 5.558 In the bands 55.78-58.2 GHz, 59-64 GHz, 66-71 GHz, 122.25-123 GHz, 130-134 GHz, 167-174.8 GHz and 191.8-200 GHz, stations in the aeronautical mobile service may be operated subject to not causing harmful interference to the inter-satellite service (see No. 5.43).

(i) 5.558A Use of the band 56.9-57 GHz by inter-satellite systems is limited to links between satellites in geostationary-satellite orbit and to transmissions from non-geostationary satellites in high-Earth orbit to those in low-Earth orbit. For links between satellites in the geostationary-satellite orbit, the single entry power flux-density at all altitudes from 0 km to 1000 km above the Earth's surface, for all conditions and for all methods of modulation, shall not exceed −147 dB(W/(m² · 100 MHz)) for all angles of arrival.

(ii) [Reserved]

(559) 5.559 In the band 59-64 GHz, airborne radars in the radiolocation service may be operated subject to not causing harmful interference to the inter-satellite service (see No. 5.43).

(i) 5.559B The use of the frequency band 77.5-78 GHz by the radiolocation service shall be limited to short-range radar for ground-based applications, including automotive radars. The technical characteristics of these radars are provided in the most recent version of Recommendation ITU-R M.2057. The provisions of No. 4.10 do not apply.

(ii) [Reserved]

(560) 5.560 In the band 78-79 GHz radars located on space stations may be operated on a primary basis in the Earth exploration-satellite service and in the space research service.

(561) 5.561 In the band 74-76 GHz, stations in the fixed, mobile and broadcasting services shall not cause harmful interference to stations of the fixed-satellite service or stations of the broadcasting-satellite service operating in accordance with the decisions of the appropriate frequency assignment planning conference for the broadcasting-satellite service.

(i) 5.561A The 81-81.5 GHz band is also allocated to the amateur and amateur-satellite services on a secondary basis.

(ii) 5.561B In Japan, use of the band 84-86 GHz, by the fixed-satellite service (Earth-to-space) is limited to feeder links in the broadcasting-satellite service using the geostationary-satellite orbit.

(562) 5.562 The use of the band 94-94.1 GHz by the Earth exploration-satellite (active) and space research (active) services is limited to spaceborne cloud radars.

(i) 5.562A In the bands 94-94.1 GHz and 130-134 GHz, transmissions from space stations of the Earth exploration-satellite service (active) that are directed into the main beam of a radio astronomy antenna have the potential to damage some radio astronomy receivers. Space agencies operating the transmitters and the radio astronomy stations concerned should mutually plan their operations so as to avoid such occurrences to the maximum extent possible.

(ii) 5.562B In the bands 105-109.5 GHz, 111.8-114.25 GHz, 155.5-158.5 GHz and 217-226 GHz, the use of this allocation is limited to space-based radio astronomy only.

(iii) 5.562C Use of the band 116-122.25 GHz by the inter-satellite service is limited to satellites in the geostationary-satellite orbit. The single-entry power flux-density produced by a station in the inter-satellite service, for all conditions and for all methods of modulation, at all altitudes from 0 km to 1000 km above the Earth's surface and in the vicinity of all geostationary orbital positions occupied by passive sensors, shall not exceed −148 dB(W/(m² · MHz)) for all angles of arrival.

(iv) 5.562D Additional allocation: In Korea (Rep. of), the frequency bands 128-130 GHz, 171-171.6 GHz, 172.2-172.8 GHz and 173.3-174 GHz are also allocated to the radio astronomy service on a primary basis. Radio astronomy stations in Korea (Rep. of) operating in the frequency bands referred to in this footnote shall not claim protection from, or constrain the use and development of, services in other countries operating in accordance with the Radio Regulations.

(v) 5.562E The allocation to the Earth exploration-satellite service (active) is limited to the band 133.5-134 GHz.

(vi) 5.562F In the band 155.5-158.5 GHz, the allocation to the Earth exploration-satellite (passive) and space research (passive) services shall terminate on 1 January 2018.

(vii) 5.562G The date of entry into force of the allocation to the fixed and mobile services in the band 155.5-158.5 GHz shall be 1 January 2018.

(viii) 5.562H Use of the bands 174.8-182 GHz and 185-190 GHz by the inter-satellite service is limited to satellites in the geostationary-satellite orbit. The single-entry power flux-density produced by a station in the inter-satellite service, for all conditions and for all methods of modulation, at all altitudes from 0 to 1000 km above the Earth's surface and in the vicinity of all geostationary orbital positions occupied by passive sensors, shall not exceed −144 dB(W/(m² · MHz)) for all angles of arrival.

(563) 5.563A In the bands 200-209 GHz, 235-238 GHz, 250-252 GHz and 265-275 GHz, ground-based passive atmospheric sensing is carried out to monitor atmospheric constituents.

(i) 5.563B The band 237.9-238 GHz is also allocated to the Earth exploration-satellite service (active) and the space research service (active) for spaceborne cloud radars only.

(ii) [Reserved]

(564) [Reserved]

(565) 5.565 The following frequency bands in the range 275-1000 GHz are identified for use by administrations for passive service applications:

(i) Radio astronomy service: 275-323 GHz, 327-371 GHz, 388-424 GHz, 426-442 GHz, 453-510 GHz, 623-711 GHz, 795-909 GHz and 926-945 GHz; and

(ii) Earth exploration-satellite service (passive) and space research service (passive): 275-286 GHz, 296-306 GHz, 313-356 GHz, 361-365 GHz, 369-392 GHz, 397-399 GHz, 409-411 GHz, 416-434 GHz, 439-467 GHz, 477-502 GHz, 523-527 GHz, 538-581 GHz, 611-630 GHz, 634-654 GHz, 657-692 GHz, 713-718 GHz, 729-733 GHz, 750-754 GHz, 771-776 GHz, 823-846 GHz, 850-854 GHz, 857-862 GHz, 866-882 GHz, 905-928 GHz, 951-956 GHz, 968-973 GHz and 985-990 GHz.

(iii) The use of the range 275-1000 GHz by the passive services does not preclude use of this range by active services. Administrations wishing to make frequencies in the 275-1000 GHz range available for active service applications are urged to take all practicable steps to protect these passive services from harmful interference until the date when the Table of Frequency Allocations is established in the above-mentioned 275-1000 GHz frequency range.

(iv) All frequencies in the range 1000-3000 GHz may be used by both active and passive services.

(c) United States Footnotes. United States footnotes, each in the format “US” followed by one or more digits, denote stipulations applicable to both Federal and non-Federal operations and thus appear in both the Federal Table and the non-Federal Table. The list of United States footnotes follows:

(1) US1 The bands 2501-2502 kHz, 5003-5005 kHz, 10 003-10 005 kHz, 15 005-15 010 kHz, 19 990-19 995 kHz, 20 005-20 010 kHz, and 25 005-25 010 kHz are also allocated to the space research service on a secondary basis for Federal use. In the event of interference to the reception of the standard frequency and time broadcasts, these space research transmissions are subject to immediate temporary or permanent shutdown.

(2) US2 In the band 9-490 kHz, electric utilities operate Power Line Carrier (PLC) systems on power transmission lines for communications important to the reliability and security of electric service to the public. These PLC systems operate under the provisions of part 15 of this chapter, or Chapter 8 of the NTIA Manual, on an unprotected and non-interference basis with respect to authorized radio users. Notification of intent to place new or revised radio frequency assignments or PLC frequency uses in the band 9-490 kHz is to be made in accordance with the Rules and Regulations of the FCC and NTIA, and users are urged to minimize potential interference to the extent practicable. This footnote does not provide any allocation status to PLC radio frequency uses.

(3)-(7) [Reserved]

(8) US8 The use of the frequencies 170.475, 171.425, 171.575, and 172.275 MHz east of the Mississippi River, and 170.425, 170.575, 171.475, 172.225 and 172.375 MHz west of the Mississippi River may be authorized to fixed, land and mobile stations operated by non-Federal forest firefighting agencies. In addition, land stations and mobile stations operated by non-Federal conservation agencies, for mobile relay operation only, may be authorized to use the frequency 172.275 MHz east of the Mississippi River and the frequency 171.475 MHz west of the Mississippi River. The use of any of the foregoing nine frequencies shall be on the condition that no harmful interference will be caused to Government stations.

(9)-(10) [Reserved]

(11) US11 On the condition that harmful interference is not caused to present or future Federal stations in the band 162-174 MHz, the frequencies 166.25 MHz and 170.15 MHz may be authorized to non-Federal stations, as follows:

(i) Eligibles in the Public Safety Radio Pool may be authorized to operate in the fixed and land mobile services for locations within 150 miles (241.4 kilometers) of New York City; and

(ii) Remote pickup broadcast stations may be authorized to operate in the land mobile service for locations within the conterminous United States, excluding locations within 150 miles of New York City and the Tennessee Valley Authority Area (TVA Area). The TVA Area is bounded on the west by the Mississippi River, on the north by the parallel of latitude 37°30′ N, and on the east and south by that arc of the circle with center at Springfield, IL, and radius equal to the airline distance between Springfield, IL and Montgomery, AL, subtended between the foregoing west and north boundaries.

(12) [Reserved]

(13) US13 The center frequencies in table 2 to paragraph (c)(13)(i) of this section, each with a channel bandwidth not greater than 12.5 kHz, are available for assignment to non-Federal fixed stations for the specific purpose of transmitting hydrological and meteorological data in cooperation with Federal agencies, subject to the condition that harmful interference will not be caused to Federal stations:

(i) New assignments on the frequencies 406.125 MHz and 406.175 MHz are to be primarily for paired operations with the frequencies 415.125 MHz and 415.175 MHz, respectively.

Table 2 to Paragraph (c)(13)(i)
Hydro channels (MHz)
171.1000 | 406.1250
171.1125 | 406.1750
171.1250 | 412.6625
171.8250 | 412.6750
171.8375 | 412.6875
171.8500 | 412.7125
171.8625 | 412.7250
171.8750 | 412.7375
171.8875 | 412.7625
171.9000 | 412.7750
171.9125 | 415.1250
171.9250 | 415.1750

(ii) [Reserved]

(14) US14 When 500 kHz is being used for distress purposes, ship and coast stations using morse telegraph may use 512 kHz for calling.

(15)-(17) [Reserved]

(18) US18 In the bands 9-14 kHz, 90-110 kHz, 190-415 kHz, 510-535 kHz, and 2700-2900 MHz, navigation aids in the U.S. and its insular areas are normally operated by the Federal Government. However, authorizations may be made by the FCC for non-Federal operations in these bands subject to the conclusion of appropriate arrangements between the FCC and the Federal agencies concerned and upon special showing of need for service which the Federal Government is not yet prepared to render.

(19)-(21) [Reserved]

(22) US22 The following provisions denoted in table 3 to this paragraph (c)(22) shall apply to non-Federal use of 68 carrier frequencies in the range 2-8 MHz, which are not coordinated with NTIA:

(i) The frequencies authorized pursuant to §§ 90.264 (Disaster Communications) and 90.266 (Long Distance Communications) of this chapter are listed in columns 1-2 and columns 3-5, respectively. All stations are restricted to emission designator 2K80J3E, upper sideband transmissions, a maximum transmitter output power of 1 kW PEP, and to the class of station(s) listed in the column heading (i.e., fixed (FX) for all frequencies; base and mobile (FB and ML) for the frequencies in column 1 and 3; itinerant FX for the frequencies in columns 4-5).

(ii) Letter(s) to the right of a frequency indicate that the frequency is available only for the following purpose(s):

(A) A or I: Alternate channel or Interstate coordination.

(B) C, E, M, or W: For stations located in the Conterminous U.S., East of 108° West Longitude (WL), West of the Mississippi River, or West of 90° WL.

Note 2 to paragraph (c)(22)(ii)(B): To determine the assigned frequency, add 1.4 kHz to the carrier frequency. Other emission designators may be authorized within the 2.8 kHz maximum necessary bandwidth pursuant to §§ 90.264 and 90.266 of this chapter.

(C) D or N: From two hours after local sunrise until two hours before local sunset (i.e., Day only operations) or from two hours prior to local sunset until two hours after local sunrise (i.e., Night only operations).

Table 3 to Paragraph (c)(22)
Preferred carrier frequencies (kHz)
Disaster communications | Long distance communications
FX, FB, ML | FX | FX, FB, ML | FX (including itinerant)
2326 . . . I | 5135 . . . A | 2289 | 5046.6 . . . E | 7480.1
2411 | 5140 . . . A, I | 2292 | 5052.6 . . . E | 7483.1
2414 |  | 2395 | 5055.6 . . . E | 7486.1 . . . E
2419 | 5192 . . . I | 2398 | 5061.6 . . . W | 7549.1 . . . D
2422 | 5195 . . . I |  | 5067.6 | 7552.1
2439 | 7477 . . . A | 3170 | 5074.6 . . . E | 7555.1 . . . W
2463 | 7480 . . . A | 4538.6 . . . N | 5099.1 | 7558.1 . . . W
2466 | 7802 . . . D |  | 5102.1 | 7559.1 . . . W
2471 | 7805 . . . I | 4548.6 . . . N | 5313.6 | 7562.1 . . . W
2474 | 7932 |  | 6800.1 . . . N | 7697.1
2487 | 7935 . . . C, D | 4575 | 6803.1 |
2511 |  | 4610.5 | 6806.1 . . . W |
2535 |  | 4613.5 | 6855.1 . . . N, M |
2569 |  | 4634.5 |  |
2587 |  | 4637.5 | 6858.1 . . . N |
2801 |  | 4647 | 6861.1 . . . W |
2804 . . . A |  |  | 6885.1 . . . N |
2812 |  |  | 6888.1 . . . N |

(23) US23 In the band 5330.5-5406.4 kHz (60 m band), the assigned frequencies 5332, 5348, 5358.5, 5373, and 5405 kHz are allocated to the amateur service on a secondary basis. Amateur service use of the 60 m band frequencies is restricted to a maximum effective radiated power of 100 W PEP and to the following emission types and designators: phone (2K80J3E), data (2K80J2D), RTTY (60H0J2B), and CW (150HA1A). Amateur operators using the data and RTTY emissions must exercise care to limit the length of transmissions so as to avoid causing harmful interference to Federal stations.

(24) [Reserved]

(25) US25 The use of frequencies in the band 25.85-26.175 MHz may be authorized in any area to non-Federal remote pickup broadcast base and mobile stations on the condition that harmful interference is not caused to stations of the broadcasting service in the band 25.85-26.1 MHz and to stations of the maritime mobile service in the band 26.1-26.175 MHz. Frequencies within the band 26.1-26.175 MHz may also be assigned for use by low power auxiliary stations.

(26) US26 The bands 117.975-121.4125 MHz, 123.5875-128.8125 MHz and 132.0125-136.0 MHz are for air traffic control communications.

(27) [Reserved]

(28) US28 The band 121.5875-121.9375 MHz is for use by aeronautical utility land and mobile stations, and for air traffic control communications.

(29) [Reserved]

(30) US30 The band 121.9375-123.0875 MHz is available to FAA aircraft for communications pursuant to flight inspection functions in accordance with the Federal Aviation Act of 1958.

(31) US31 The frequencies 122.700, 122.725, 122.750, 122.800, 122.950, 122.975, 123.000, 123.050 and 123.075 MHz may be assigned to aeronautical advisory stations. In addition, at landing areas having a part-time or no airdrome control tower or FAA flight service station, these frequencies may be assigned on a secondary non-interference basis to aeronautical utility mobile stations, and may be used by FAA ground vehicles for safety related communications during inspections conducted at such landing areas.

(i) The frequencies 122.850, 122.900 and 122.925 MHz may be assigned to aeronautical multicom stations. In addition, 122.850 MHz may be assigned on a secondary noninterference basis to aeronautical utility mobile stations. In case of 122.925 MHz, paragraph (c)(213) of this section applies.

(ii) Air carrier aircraft stations may use 122.000 and 122.050 MHz for communication with aeronautical stations of the Federal Aviation Administration and 122.700, 122.800, 122.900 and 123.000 MHz for communications with aeronautical stations pertaining to safety of flight with and in the vicinity of landing areas not served by a control tower.

(iii) Frequencies in the band 121.9375-122.6875 MHz may be used by aeronautical stations of the Federal Aviation Administration for communication with aircraft stations.

(32) US32 Except for the frequencies 123.3 and 123.5 MHz, which are not authorized for Federal use, the band 123.1125-123.5875 MHz is available for FAA communications incident to flight test and inspection activities pertinent to aircraft and facility certification on a secondary basis.

(33) US33 The band 123.1125-123.5875 MHz is for use by flight test and aviation instructional stations. The frequency 121.950 MHz is available for aviation instructional stations.

(34)-(35) [Reserved]

(36) US36 In Hawaii, the bands 120.647-120.653 MHz and 127.047-127.053 MHz are also allocated to the aeronautical mobile service on a primary basis for non-Federal aircraft air-to-air communications on 120.65 MHz (Maui) and 127.05 MHz (Hawaii and Kauai) as specified in § 87.187 of this chapter.

(37)-(40) [Reserved]

(41) US41 In the band 2450-2500 MHz, the Federal radiolocation service is permitted on condition that harmful interference is not caused to non-Federal services.

(42)-(43) [Reserved]

(44) US44 In the band 2900-3100 MHz, the non-Federal radiolocation service may be authorized on the condition that no harmful interference is caused to Federal services.

(45)-(48) [Reserved]

(49) US49 In the band 5460-5470 MHz, the non-Federal radiolocation service may be authorized on the condition that it does not cause harmful interference to the aeronautical or maritime radionavigation services or to the Federal radiolocation service.

(50) US50 In the band 5470-5650 MHz, the radiolocation service may be authorized for non-Federal use on the condition that harmful interference is not caused to the maritime radionavigation service or to the Federal radiolocation service.

(51) [Reserved]

(52) US52 In the VHF maritime mobile band (156-162 MHz), the following provisions shall apply:

(i) Except as provided for below, the use of the bands 161.9625-161.9875 MHz (AIS 1 with center frequency 161.975 MHz) and 162.0125-162.0375 MHz (AIS 2 with center frequency 162.025 MHz) by the maritime mobile and mobile-satellite (Earth-to-space) services is restricted to Automatic Identification Systems (AIS). The use of these bands by the aeronautical mobile (OR) service is restricted to AIS emissions from search and rescue aircraft operations. Frequencies in the AIS 1 band may continue to be used by non-Federal base, fixed, and land mobile stations until March 2, 2024.

(ii) Except as provided for below, the use of the bands 156.7625-156.7875 MHz (AIS 3 with center frequency 156.775 MHz) and 156.8125-156.8375 MHz (AIS 4 with center frequency 156.825 MHz) by the mobile-satellite service (Earth-to-space) is restricted to the reception of long-range AIS broadcast messages from ships (Message 27; see most recent version of Recommendation ITU-R M.1371). The frequencies 156.775 MHz and 156.825 MHz may continue to be used by non-Federal ship and coast stations for navigation-related port operations or ship movement until August 26, 2019.

(iii) The frequency 156.3 MHz may also be used by aircraft stations for the purpose of search and rescue operations and other safety-related communication.

(iv) Federal stations in the maritime mobile service may also be authorized as follows:

(A) Vessel traffic services under the control of the U.S. Coast Guard on a simplex basis by coast and ship stations on the frequencies 156.25, 156.55, 156.6 and 156.7 MHz;

(B) Inter-ship use of the frequency 156.3 MHz on a simplex basis;

(C) Navigational bridge-to-bridge and navigational communications on a simplex basis by coast and ship stations on the frequencies 156.375 and 156.65 MHz;

(D) Port operations use on a simplex basis by coast and ship stations on the frequencies 156.6 and 156.7 MHz;

(E) Environmental communications on the frequency 156.75 MHz in accordance with the national plan; and

(F) Duplex port operations use of the frequencies 157 MHz for ship stations and 161.6 MHz for coast stations.

(53) US53 In view of the fact that the band 13.25-13.4 GHz is allocated to doppler navigation aids, Federal and non-Federal airborne doppler radars in the aeronautical radionavigation service are permitted in the band 8750-8850 MHz only on the condition that they must accept any interference that may be experienced from stations in the radiolocation service in the band 8500-10000 MHz.

(54) [Reserved]

(55) US55 In the bands 162.0375-173.2 MHz and 406.1-420 MHz, the FCC may authorize public safety applicants to use the 40 Federal Interoperability Channels that are designated for joint Federal/non-Federal operations for law enforcement, public safety, emergency response and disaster response in Section 4.3.16 of the NTIA Manual, subject to the condition that that these non-Federal mobile (including portable) interoperability communications shall conform to the national plans specified therein, and in particular, shall not cause harmful interference to Federal stations. The procedure for authorizing such use is set forth in § 90.25 of this chapter.

(56)-(58) [Reserved]

(59) US59 The band 10.5-10.55 GHz is restricted to systems using type NON (AO) emission with a power not to exceed 40 watts into the antenna.

(60)-(63) [Reserved]

(64) US64

(i) In the band 401-406 MHz, the mobile, except aeronautical mobile, service is allocated on a secondary basis and is limited to, with the exception of military tactical mobile stations, Medical Device Radiocommunication Service (MedRadio) operations. MedRadio stations are authorized by rule on the condition that harmful interference is not caused to stations in the meteorological aids, meteorological-satellite, and Earth exploration-satellite services, and that MedRadio stations accept interference from stations in the meteorological aids, meteorological-satellite, and Earth exploration-satellite services.

(ii) The bands 413-419 MHz, 426-432 MHz, 438-444 MHz, and 451-457 MHz are also allocated on a secondary basis to the mobile, except aeronautical mobile, service. The use of this allocation is limited to MedRadio operations. MedRadio stations are authorized by rule and operate in accordance with part 95 of this chapter.

(65) US65 The use of the band 5460-5650 MHz by the maritime radionavigation service is limited to shipborne radars.

(66) [Reserved]

(67) US67 The use of the band 9300-9500 MHz by the meteorological aids service is limited to ground-based radars. Radiolocation installations will be coordinated with the meteorological aids service and, insofar as practicable, will be adjusted to meet the requirements of the meteorological aids service.

(68) [Reserved]

(69) US69 In the band 31.8-33.4 GHz, ground-based radionavigation aids are not permitted except where they operate in cooperation with airborne or shipborne radionavigation devices.

(70) US70 The meteorological aids service allocation in the band 400.15-406.0 MHz does not preclude the operation therein of associated ground transmitters.

(71) US71 In the band 9300-9320 MHz, low-powered maritime radionavigation stations shall be protected from harmful interference caused by the operation of land-based equipment.

(72) [Reserved]

(73) US73 The frequencies 150.775, 150.79, 152.0075, and 163.25 MHz, and the bands 462.94-463.19675 and 467.94-468.19675 MHz shall be authorized for the purpose of delivering or rendering medical services to individuals (medical radiocommunication systems), and shall be authorized on a primary basis for Federal and non-Federal use. The frequency 152.0075 MHz may also be used for the purpose of conducting public safety radio communications that include, but are not limited to, the delivering or rendering of medical services to individuals.

(i) The use of the frequencies 150.775 and 150.79 MHz is restricted to mobile stations operating with a maximum e.r.p. of 100 watts. Airborne operations are prohibited.

(ii) The use of the frequencies 152.0075 and 163.25 MHz is restricted to base stations that are authorized only for one-way paging communications to mobile receivers. Transmissions for the purpose of activating or controlling remote objects on these frequencies shall not be authorized.

(iii) Non-Federal licensees in the Public Safety Radio Pool holding a valid authorization on May 27, 2005, to operate on the frequencies 150.7825 and 150.7975 MHz may, upon proper renewal application, continue to be authorized for such operation; provided that harmful interference is not caused to present or future Federal stations in the band 150.05-150.8 MHz and, should harmful interference result, that the interfering non-Federal operation shall immediately terminate.

(74) US74 In the bands 25.55-25.67, 73-74.6, 406.1-410, 608-614, 1400-1427, 1660.5-1670, 2690-2700, and 4990-5000 MHz, and in the bands 10.68-10.7, 15.35-15.4, 23.6-24.0, 31.3-31.5, 86-92, 100-102, 109.5-111.8, 114.25-116, 148.5-151.5, 164-167, 200-209, and 250-252 GHz, the radio astronomy service shall be protected from unwanted emissions only to the extent that such radiation exceeds the level which would be present if the offending station were operating in compliance with the technical standards or criteria applicable to the service in which it operates. Radio astronomy observations in these bands are performed at the locations listed in paragraph (c)(385) of this section.

(75)-(78) [Reserved]

(79) US79 In the bands 1390-1400 MHz and 1427-1432 MHz, the following provisions shall apply:

(i) Airborne and space-to-Earth operations are prohibited.

(ii) Federal operations (except for devices authorized by the FCC for the Wireless Medical Telemetry Service) are on a non-interference basis to non-Federal operations and shall not constrain implementation of non-Federal operations.

(80) US80 Federal stations may use the frequency 122.9 MHz subject to the following conditions:

(i) All operations by Federal stations shall be restricted to the purpose for which the frequency is authorized to non-Federal stations, and shall be in accordance with the appropriate provisions of part 87 (Aviation Services) of this chapter;

(ii) Use of the frequency is required for coordination of activities with Commission licensees operating on this frequency; and

(iii) Federal stations will not be authorized for operation at fixed locations.

(81) US81 The band 38-38.25 MHz is used by both Federal and non-Federal radio astronomy observatories. No new fixed or mobile assignments are to be made and Federal stations in the band 38-38.25 MHz will be moved to other bands on a case-by-case basis, as required, to protect radio astronomy observations from harmful interference. As an exception, however, low powered military transportable and mobile stations used for tactical and training purposes will continue to use the band. To the extent practicable, the latter operations will be adjusted to relieve such interference as may be caused to radio astronomy observations. In the event of harmful interference from such local operations, radio astronomy observatories may contact local military commands directly, with a view to effecting relief. A list of military commands, areas of coordination, and points of contact for purposes of relieving interference may be obtained upon request from the Office of Engineering and Technology, FCC, Washington, DC 20554.

(82) US82 In the bands 4146-4152 kHz, 6224-6233 kHz, 8294-8300 kHz, 12 353-12 368 kHz, 16 528-16 549 kHz, 18 825-18 846 kHz, 22 159-22 180 kHz, and 25 100-25 121 kHz, the assignable frequencies may be authorized on a shared non-priority basis to Federal and non-Federal ship and coast stations (SSB telephony, with peak envelope power not to exceed 1 kW).

(83) US83 In the 1432-1435 MHz band, Federal stations in the fixed and mobile services may operate indefinitely on a primary basis at the 22 sites listed in table 4 to this paragraph (c)(83). The first 21 sites are in the United States and the last site is in Guam (GU). All other Federal stations in the fixed and mobile services shall operate in the band 1432-1435 MHz on a primary basis until reaccommodated in accordance with the National Defense Authorization Act of 1999.

Table 4 to Paragraph (c)(83)
State | Site | North | West | Radius
AK | Fort Greely | 63°47′ | 145°52′ | 80
AL | Redstone Arsenal | 34°35′ | 086°35′ | 80
AZ | Fort Huachuca | 31°33′ | 110°18′ | 80
AZ | Yuma Proving Ground | 32°29′ | 114°20′ | 160
CA | China Lake/Edwards AFB | 35°29′ | 117°16′ | 100
CA | Lemoore | 36°20′ | 119°57′ | 120
FL | Eglin AFB/Ft Rucker, AL | 30°28′ | 086°31′ | 140
FL | NAS Cecil Field | 30°13′ | 081°52′ | 160
MD | Patuxent River | 38°17′ | 076°24′ | 70
ME | Naval Space Operations Center | 44°24′ | 068°01′ | 80
MI | Alpene Range | 44°23′ | 083°20′ | 80
MS | Camp Shelby | 31°20′ | 089°18′ | 80
NC | MCAS Cherry Point | 34°54′ | 076°53′ | 100
NM | White Sands Missile Range/Holloman AFB | 32°11′ | 106°20′ | 160
NV | NAS Fallon | 39°30′ | 118°46′ | 100
NV | Nevada Test and Training Range (NTTR) | 37°29′ | 114°14′ | 130
SC | Beaufort MCAS | 32°26′ | 080°40′ | 160
SC | Savannah River | 33°15′ | 081°39′ | 3
UT | Utah Test and Training Range/Dugway Proving Ground, Hill AFB | 40°57′ | 113°05′ | 160
VA | NAS Oceana | 36°49′ | 076°01′ | 100
WA | NAS Whidbey Island | 48°21′ | 122°39′ | 70
GU | NCTAMS | 13°35′ | 144°51′ | 80

Note 3 to table 4 to paragraph (c)(83): The coordinates (North latitude and West longitude) are listed under the headings North and West. The Guam entry under the West heading is actually 144°51′ East longitude. The operating radii in kilometers are listed under the heading Radius.

(84) US84 In the bands 941.5-944 MHz and 1435-1525 MHz, low power auxiliary stations may be authorized on a secondary basis, subject to the terms and conditions set forth in part 74, subpart H of this chapter.

(85) US85 Differential-Global-Positioning-System (DGPS) Stations, limited to ground-based transmitters, may be authorized on a primary basis in the band 1559-1610 MHz for the specific purpose of transmitting DGPS information intended for aircraft navigation.

(86) [Reserved]

(87) US87 The band 449.75-450.25 MHz may be used by Federal and non-Federal stations for space telecommand (Earth-to-space) at specific locations, subject to such conditions as may be applied on a case-by-case basis. Operators shall take all practical steps to keep the carrier frequency close to 450 MHz.

(88) US88 In the bands 1675-1695 MHz and 1695-1710 MHz, the following provisions shall apply:

(i) Non-Federal use of the band 1695-1710 MHz by the fixed and mobile except aeronautical mobile services is restricted to stations in the Advanced Wireless Service (AWS). Base stations that enable AWS mobile and portable stations to operate in the band 1695-1710 MHz must be successfully coordinated prior to operation as follows:

(A) All base stations within the 27 protection zones listed in paragraph (ii) that enable mobiles to operate at a maximum e.i.r.p. of 20 dBm; and

(B) Nationwide for base stations that enable mobiles to operate with a maximum e.i.r.p. greater than 20 dBm, up to a maximum e.i.r.p. of 30 dBm, unless otherwise specified by Commission rule, order, or notice.

(ii) Forty-seven Federal earth stations located within the protection zones listed below operate on a co-equal, primary basis with AWS operations. All other Federal earth stations operate on a secondary basis.

Table 5 to Paragraph (c)(88)(ii)—Protection Zones for Federal Earth Stations Receiving in the Band 1695-1710 MHz
State | Location | Latitude | Longitude | Radius (km)
AK | Barrow | 71°19′22″ | 156°36′41″ | 35
AK | Elmendorf AFB | 61°14′08″ | 149°55′31″ | 98
AK | Fairbanks | 64°58′22″ | 147°30′02″ | 20
AZ | Yuma | 32°39′24″ | 114°36′22″ | 95
CA | Monterey | 36°35′34″ | 121°51′20″ | 76
CA | Twenty-Nine Palms | 34°17′46″ | 116°09′44″ | 80
FL | Miami | 25°44′05″ | 080°09′45″ | 51
HI | Hickam AFB | 21°19′18″ | 157°57′30″ | 28
MD | Suitland | 38°51′07″ | 076°56′12″ | 98
MS | Stennis Space Center | 30°21′23″ | 089°36′41″ | 57
SD | Sioux Falls | 43°44′09″ | 096°37′33″ | 42
VA | Wallops Island | 37°56′45″ | 075°27′45″ | 30
GU | Andersen AFB | 13°34′52″ | 144°55′28″ | 42

Table 6 to paragraph (c)(88)(ii)—Protection Zones For Federal Earth Stations Receiving in the Band 1675-1695 MHz
State | Location | Latitude | Longitude | Radius (km)
CA | Sacramento | 38°35′50″ | 121°32′34″ | 55
CO | Boulder | 39°59′26″ | 105°15′51″ | 02
ID | Boise | 43°35′42″ | 116°13′49″ | 39
IL | Rock Island | 41°31′04″ | 090°33′46″ | 19
MO | Kansas City | 39°16′40″ | 094°39′44″ | 40
MO | St. Louis | 38°35′26″ | 090°12′25″ | 34
MS | Columbus Lake | 33°32′04″ | 088°30′06″ | 03
MS | Vicksburg | 32°20′47″ | 090°50′10″ | 16
NE | Omaha | 41°20′56″ | 095°57′34″ | 30
OH | Cincinnati | 39°06′10″ | 084°30′35″ | 32
OK | Norman | 35°10′52″ | 097°26′21″ | 03
TN | Knoxville | 35°57′58″ | 083°55′13″ | 50
WV | Fairmont | 39°26′02″ | 080°11′33″ | 04
PR | Guaynabo | 18°25′26″ | 066°06′50″ | 48

Note 4 to paragraph (c)(88)(ii): The coordinates are specified in the conventional manner (North latitude, West longitude), except that the Guam (GU) entry is specified in terms of East longitude.

(89) [Reserved]

(90) US90 In the band 2025-2110 MHz, the power flux-density at the Earth's surface produced by emissions from a space station in the space operation, Earth exploration-satellite, or space research service that is transmitting in the space-to-space direction, for all conditions and all methods of modulation, shall not exceed the following values in any 4 kHz sub-band: −154 dBW/m² for angles of arrival above the horizontal plane (δ) of 0° to 5°, −154 + 0.5(δ-5) dBW/m² for δ of 5° to 25°, and −144 dBW/m² for δ of 25° to 90°.

(91) US91 In the band 1755-1780 MHz, the following provisions shall apply:

(i) Non-Federal use of the band 1755-1780 MHz by the fixed and mobile services is restricted to stations in the Advanced Wireless Service (AWS). Base stations that enable AWS mobile and portable stations to operate in the band 1755-1780 MHz must be successfully coordinated on a nationwide basis prior to operation, unless otherwise specified by Commission rule, order, or notice.

(ii) In the band 1755-1780 MHz, the Federal systems listed below operate on a co-equal, primary basis with AWS stations. All other Federal stations in the fixed and mobile services identified in an approved Transition Plan will operate on a primary basis until reaccommodated in accordance with part 301 of this chapter.

(A) Joint Tactical Radio Systems (JTRS) may operate indefinitely at the locations provided in table 7.

Table 7 to Paragraph (c)(91)(ii)(A)
State | Training area | Latitude | Longitude
AZ | Yuma Proving Ground | 33°12′14″ | 114°13′47″
CA | Fort Irwin | 35°23′19″ | 116°37′43″
LA | Fort Polk | 31°08′38″ | 093°06′52″
NC | Fort Bragg (including Camp MacKall) | 35°09′04″ | 078°59′13″
NM | White Sands Missile Range | 32°52′50″ | 106°23′10″
TX | Fort Hood | 31°13′50″ | 097°45′23″

(B) Air combat training system (ACTS) stations may operate on two frequencies within two geographic zones that are defined by the coordinates provided in table 8.

Table 8 to Paragraph (c)(91)(ii)(B)
Geographic Zone | Latitude | Longitude
Polygon 1 | 41°52′00″ | 117°49′00″
| 42°00′00″ | 115°05′00″
| 43°31′13″ | 115°47′18″
Polygon 2 | 47°29′00″ | 111°22′00″
| 48°13′00″ | 110°00′00″
| 47°30′00″ | 107°00′00″
| 44°11′00″ | 103°06′00″

Note 5 to paragraph (c)(91)(ii)(B): ACTS transmitters may cause interference to AWS base stations between separation distances of 285 km (minimum) and 415 km (maximum).

(C) In the sub-band 1761-1780 MHz, Federal earth stations in the space operation service (Earth-to-space) may transmit at the 25 sites identified in table 9 and non-Federal base stations must accept harmful interference caused by the operation of these earth stations.

Table 9 to Paragraph (c)(91)(ii)(C)
State | Site | Latitude | Longitude
AK | Fairbanks | 64°58′20″ | 147°30′59″
CA | Camp Parks | 37°43′51″ | 121°52′50″
CA | Huntington Beach | 33°44′50″ | 118°02′04″
CA | Laguna Peak | 34°06′31″ | 119°03′53″
CA | Monterey | 36°35′42″ | 121°52′28″
CA | Sacramento | 38°39′59″ | 121°23′33″
CA | Vandenberg AFB | 34°49′23″ | 120°30′07″
CO | Buckley | 39°42′55″ | 104°46′29″
CO | Schriever AFB | 38°48′22″ | 104°31′41″
FL | Cape Canaveral AFS | 28°29′09″ | 080°34′33″
FL | Cape GA, CCAFB | 28°29′03″ | 080°34′21″
FL | JIATF-S Key West | 24°32′36″ | 081°48′17″
HI | Kaena Point, Oahu | 21°33′43″ | 158°14′31″
MD | Annapolis | 38°59′27″ | 076°29′25″
MD | Blossom Point | 38°25′53″ | 077°05′06″
MD | Patuxent River NAS | 38°16′28″ | 076°24′45″
ME | Prospect Harbor | 44°24′16″ | 068°00′46″
NC | Ft Bragg | 35°09′04″ | 078°59′13″
NH | New Boston AFS | 42°56′46″ | 071°37′44″
NM | Kirtland AFB | 34°59′06″ | 106°30′28″
TX | Ft Hood | 31°08′57″ | 097°46′12″
VA | Fort Belvoir | 38°44′04″ | 077°09′12″
WA | Joint Base Lewis-McChord | 47°06′11″ | 122°33′11″
GU | Andersen AFB | 13°36′54″ | 144°51′22″
GU | NAVSOC Det. Charlie | 13°34′58″ | 144°50′32″

Note 6 to paragraph (c)(91)(ii)(C): The coordinates are specified in the conventional manner (North latitude, West longitude), except that the Guam (GU) entries are specified in terms of East longitude. Use at Cape Canaveral AFS is restricted to launch support only. If required, successfully coordinated with all affected AWS licensees, and authorized by NTIA, reasonable modifications of these grandfathered Federal systems beyond their current authorizations or the addition of new earth station locations may be permitted. The details of the coordination must be filed with NTIA and FCC.

(iii) In the band 1755-1780 MHz, the military services may conduct Electronic Warfare (EW) operations on Federal ranges and within associated airspace on a non-interference basis with respect to non-Federal AWS operations and shall not constrain implementation of non-Federal AWS operations. This use is restricted to Research, Development, Test and Evaluation (RDT&E), training, and Large Force Exercise (LFE) operations.

(92) US92 In the band 2025-2110 MHz, Federal use of the co-primary fixed and mobile services is restricted to the military services and the following provisions apply:

(i) Federal use shall not cause harmful interference to, nor constrain the deployment and use of the band by, the Television Broadcast Auxiliary Service, the Cable Television Relay Service, or the Local Television Transmission Service. To facilitate compatible operations, coordination is required in accordance with a Memorandum of Understanding between Federal and non-Federal fixed and mobile operations. Non-Federal licensees shall make all reasonable efforts to accommodate military mobile and fixed operations; however, the use of the band 2025-2110 MHz by the non-Federal fixed and mobile services has priority over military fixed and mobile operations.

(ii) Military stations should, to the extent practicable, employ frequency agile technologies and techniques, including the capability to tune to other frequencies and the use of a modular retrofit capability, to facilitate sharing of this band with incumbent Federal and non-Federal operations.

(93) US93 In the conterminous United States, the frequency 108.0 MHz may be authorized for use by VOR test facilities, the operation of which is not essential for the safety of life or property, subject to the condition that no interference is caused to the reception of FM broadcasting stations operating in the band 88-108 MHz. In the event that such interference does occur, the licensee or other agency authorized to operate the facility shall discontinue operation on 108 MHz and shall not resume operation until the interference has been eliminated or the complaint otherwise satisfied. VOR test facilities operating on 108 MHz will not be protected against interference caused by FM broadcasting stations operating in the band 88-108 MHz nor shall the authorization of a VOR test facility on 108 MHz preclude the Commission from authorizing additional FM broadcasting stations.

(94)-(95) [Reserved]

(96) US96 The band 2200-2290 MHz is allocated to the space operation service (space-to-Earth) on a secondary basis for non-Federal use subject to the following conditions. Non-Federal stations shall be:

(i) Restricted to transmissions from the launch vehicle in the sub-bands 2208.5-2213.5 MHz, 2212.5-2217.5 MHz, 2270-2275 MHz, and 2285-2290 MHz (necessary bandwidth shall be contained within these ranges);

(ii) Restricted to use for pre-launch testing and space launch operations, except as provided under US303; and

(iii) Subject to coordination with NTIA prior to each launch.

(97) US97 The following provisions shall apply in the band 2305-2320 MHz:

(i) In the sub-band 2305-2310 MHz, space-to-Earth operations are prohibited.

(ii) Within 145 km of Goldstone, CA (35°25′33″ N, 116°53′23″ W), Wireless Communications Service (WCS) licensees operating base stations in the band 2305-2320 MHz shall, prior to operation of those base stations, achieve a mutually satisfactory coordination agreement with the National Aeronautics and Space Administration (NASA).

Note 7 to paragraph (c)(97): NASA operates a deep space facility in Goldstone in the band 2290-2300 MHz.

(98) [Reserved]

(99) US99 In the band 1668.4-1670 MHz, the meteorological aids service (radiosonde) will avoid operations to the maximum extent practicable. Whenever it is necessary to operate radiosondes in the band 1668.4-1670 MHz within the United States, notification of the operations shall be sent as far in advance as possible to the National Science Foundation, Division of Astronomical Sciences, Electromagnetic Spectrum Management Unit, 2415 Eisenhower Avenue, Alexandria, VA 22314; Email: esm@nsf.gov.

(100) US100′ The following provisions shall apply to the bands 2310-2320 MHz and 2345-2360 MHz:

(i) The bands 2310-2320 and 2345-2360 MHz are available for Federal aeronautical telemetering and associated telecommand operations for flight testing of manned or unmanned aircraft, missiles, or major components thereof, on a secondary basis to the Wireless Communications Service (WCS). The frequencies 2312.5 MHz and 2352.5 MHz are shared on a co-equal basis by Federal stations for telemetering and associated telecommand operations of expendable and reusable launch vehicles, irrespective of whether such operations involve flight testing. Other Federal mobile telemetering uses may be provided in the bands 2310-2320 and 2345-2360 MHz on a non-interference basis to all other uses authorized pursuant to this paragraph (c)(100)(i).

(ii) The band 2345-2360 MHz is available for non-Federal aeronautical telemetering and associated telecommand operations for flight testing of manned or unmanned aircraft, missiles, or major components thereof, on a secondary basis to the WCS until January 1, 2020. The use of this allocation is restricted to non-Federal licensees in the Aeronautical and Fixed Radio Service holding a valid authorization on April 23, 2015.

(101) US101 The band 2360-2400 MHz is also allocated on a secondary basis to the mobile, except aeronautical mobile, service. The use of this allocation is limited to MedRadio operations. MedRadio stations are authorized by rule and operate in accordance with part 95 of this chapter.

(102) US102 In Alaska only, the frequency 122.1 MHz may also be used for air carrier air traffic control purposes at locations where other frequencies are not available to air carrier aircraft stations for air traffic control.

(103) US103 In the band 3300-3550 MHz, non-Federal stations in the radiolocation service that were licensed (or licensed pursuant to applications accepted for filing) before February 22, 2019 may continue to operate on a secondary basis until 180 days after the issuance of the first flexible-use licenses in the 3.45 GHz Service. No new assignments shall be made. In the band 3300-3500 MHz, stations in the amateur service may continue to operate on a secondary basis until new flexible-use licenses are issued for operation in the band in which they operate. Amateur operations between 3450 MHz and 3500 MHz must cease within 90 days of the public notice announcing the close of the auction for the 3.45 GHz Service. Stations in the amateur service may continue to operate in the band 3300-3450 MHz on a secondary basis while the band's future uses are finalized, but stations in the amateur service may be required to cease operations in the band 3300-3450 MHz at any time if the amateur service causes harmful interference to flexible-use operations.

(104) US104 In the band 90-110 kHz, the LORAN radionavigation system has priority in the United States and its insular areas. Radiolocation land stations making use of LORAN type equipment may be authorized to both Federal and non-Federal licensees on a secondary basis for offshore radiolocation activities only at specific locations and subject to such technical and operational conditions (e.g., power, emission, pulse rate and phase code, hours of operation), including on-the-air testing, as may be required on a case-by-case basis to ensure protection of the LORAN radionavigation system from harmful interference and to ensure mutual compatibility among radiolocation operators. Such authorizations to stations in the radiolocation service are further subject to showing of need for service which is not currently provided and which the Federal Government is not yet prepared to render by way of the radionavigation service.

(105) US105 In the band 3550-3650 MHz, non-Federal stations in the radiolocation service that were licensed or applied for prior to July 23, 2015 may continue to operate on a secondary basis until the end of the equipment's useful lifetime.

(106) [Reserved]

(107) US107 In the band 3600-3650 MHz, the following provisions shall apply to earth stations in the fixed-satellite service (space-to-Earth):

(i) Earth stations authorized prior to, or granted as a result of an application filed prior to, July 23, 2015 and constructed within 12 months of initial authorization may continue to operate on a primary basis. Applications for modifications to such earth station facilities filed after July 23, 2015 shall not be accepted, except for changes in polarization, antenna orientation, or ownership; and increases in antenna size for interference mitigation purposes.

(ii) The assignment of frequencies to new earth stations after July 23, 2015 shall be authorized on a secondary basis.

(108) US108 In the band 10-10.5 GHz, survey operations, using transmitters with a peak power not to exceed five watts into the antenna, may be authorized for Federal and non-Federal use on a secondary basis to other Federal radiolocation operations.

(109) US109 The band 3650-3700 MHz is also allocated to the Federal radiolocation service on a primary basis at the following sites: St. Inigoes, MD (38°10′ N, 76°23′ W); Pascagoula, MS (30°22′ N, 88°29′ W); and Pensacola, FL (30°21′28″ N, 87°16′26″ W). The FCC shall coordinate all non-Federal operations authorized under part 90 of this chapter within 80 km of these sites with NTIA on a case-by-case basis. For stations in the Citizens Broadband Radio Service these sites shall be protected consistent with the procedures set forth in §§ 96.15(b) and 96.67 of this chapter.

(110) US110 In the band 9200-9300 MHz, the use of the radiolocation service by non-Federal licensees may be authorized on the condition that harmful interference is not caused to the maritime radionavigation service or to the Federal radiolocation service.

(111) US111 In the band 5091-5150 MHz, aeronautical mobile telemetry operations for flight testing are conducted at the locations specified in table 10 to this paragraph (c)(111). Flight testing at additional locations may be authorized on a case-by-case basis.

Table 10 to Paragraph (c)(111)
Location | Test sites | Lat. (N) | Long. (W)
Gulf Area Ranges Complex (GARC) | Eglin AFB, Tyndall AFB, FL; Gulfport ANG Range, MS; Ft. Rucker, Redstone, NASA Marshall Space Flight Center, AL | 30°28′ | 86°31′
Utah Ranges Complex (URC) | Dugway PG; Utah Test & Training Range (Hill AFB), UT | 40°57′ | 113°05′
Western Ranges Complex (WRC) | Pacific Missile Range; Vandenberg AFB, China Lake NAWS, Pt. Mugu NAWS, Edwards AFB, Thermal, Nellis AFB, Ft. Irwin, NASA Dryden Flight Research Center, Victorville, CA | 35°29′ | 117°16′
Southwest Ranges Complex (SRC) | Ft. Huachuca, Tucson, Phoenix, Mesa, Yuma, AZ | 31°33′ | 110°18′
Mid-Atlantic Ranges Complex (MARC) | Patuxent River, Aberdeen PG, NASA Langley Research Center, NASA Wallops Flight Facility, MD | 38°17′ | 76°24′
New Mexico Ranges Complex (NMRC) | White Sands Missile Range, Holloman AFB, Albuquerque, Roswell, NM; Amarillo, TX | 32°11′ | 106°20′
Colorado Ranges Complex (CoRC) | Alamosa, Leadville, CO | 37°26′ | 105°52′
Texas Ranges Complex (TRC) | Dallas/Ft. Worth, Greenville, Waco, Johnson Space Flight Center/Ellington Field, TX | 32°53′ | 97°02′
Cape Ranges Complex (CRC) | Cape Canaveral, Palm Beach-Dade, FL | 28°33′ | 80°34′
Northwest Range Complex (NWRC) | Seattle, Everett, Spokane, Moses Lake, WA; Klamath Falls, Eugene, OR | 47°32′ | 122°18′
St. Louis | St Louis, MO | 38°45′ | 90°22′
Wichita | Wichita, KS | 37°40′ | 97°26′
Marietta | Marietta, GA | 33°54′ | 84°31′
Glasgow | Glasgow, MT | 48°25′ | 106°32′
Wilmington/Ridley | Wilmington, DE/Ridley, PA | 39°49′ | 75°26′
San Francisco Bay Area (SFBA) | NASA Ames Research Center, CA | 37°25′ | 122°03′
Charleston | Charleston, SC | 32°52′ | 80°02′

(112) US112 The frequency 123.1 MHz is for search and rescue communications. This frequency may be assigned for air traffic control communications at special aeronautical events on the condition that no harmful interference is caused to search and rescue communications during any period of search and rescue operations in the locale involved.

(113) US113 Radio astronomy observations of the formaldehyde line frequencies 4825-4835 MHz and 14.47-14.5 GHz may be made at certain radio astronomy observatories as indicated in table 11 to paragraph (c)(113). Every practicable effort will be made to avoid the assignment of frequencies to stations in the fixed or mobile services in these bands. Should such assignments result in harmful interference to these observations, the situation will be remedied to the extent practicable.

Table 11 to Paragraph (c)(113)—Bands To Be Observed
4 GHz | 14 GHz | Observatory
X |  | National Astronomy and Ionosphere Center (NAIC), Arecibo, PR.
X | X | National Radio Astronomy Observatory (NRAO), Green Bank, WV.
X | X | NRAO, Socorro, NM.
X |  | Allen Telescope Array (ATA), Hat Creek, CA.
X | X | Owens Valley Radio Observatory (OVRO), Big Pine, CA.
X | X | NRAO's ten Very Long Baseline Array (VLBA) stations (see US131).
X | X | University of Michigan Radio Astronomy Observatory, Stinchfield Woods, MI.
X |  | Pisgah Astronomical Research Institute, Rosman, NC.

(114) [Reserved]

(115) US1157 In the bands 5000-5010 MHz and 5010-5030 MHz, the following provisions shall apply:

(i) In the band 5000-5010 MHz, systems in the aeronautical mobile (R) service (AM(R)S) are limited to surface applications at airports that operate in accordance with international aeronautical standards (i.e., AeroMACS).

(ii) The band 5010-5030 MHz is also allocated on a primary basis to the AM(R)S, limited to surface applications at airports that operate in accordance with international aeronautical standards. In making assignments for this band, attempts shall first be made to satisfy the AM(R)S requirements in the bands 5000-5010 MHz and 5091-5150 MHz. AM(R)S systems used in the band 5010-5030 MHz shall be designed and implemented to be capable of operational modification if receiving harmful interference from the radionavigation-satellite service. Finally, notwithstanding Radio Regulation No. 4.10, stations in the AM(R)S operating in this band shall be designed and implemented to be capable of operational modification to reduce throughput and/or preclude the use of specific frequencies in order to ensure protection of radionavigation-satellite service systems operating in this band.

(iii) Aeronautical fixed communications that are an integral part of the AeroMACS system in the bands 5000-5010 MHz and 5010-5030 MHz are also authorized on a primary basis.

(116) US116 In the bands 890-902 MHz and 935-941 MHz, no new assignments are to be made to Federal radio stations after July 10, 1970, except on case-by-case basis to experimental stations. Federal assignments existing prior to July 10, 1970, shall be on a secondary basis to stations in the non-Federal land mobile service and shall be subject to adjustment or removal from the bands 890-902 MHz, 928-932 MHz, and 935-941 MHz at the request of the FCC.

(117) US117 In the band 406.1-410 MHz, the following provisions shall apply:

(i) Stations in the fixed and mobile services are limited to a transmitter output power of 125 watts, and new authorizations for stations, other than mobile stations, are subject to prior coordination by the applicant in the following areas:

(A) Within Puerto Rico and the U.S. Virgin Islands, contact Spectrum Manager, Arecibo Observatory, HC3 Box 53995, Arecibo, PR 00612. Phone: 787-878-2612, Fax: 787-878-1861, Email: prcz@naic.edu.

(B) Within 350 km of the Very Large Array (34°04′44″ N, 107°37′06″ W), contact Spectrum Manager, National Radio Astronomy Observatory, P.O. Box O, 1003 Lopezville Road, Socorro, NM 87801. Phone: 505-835-7000, Fax: 505-835-7027, Email: nrao-rfi@nrao.edu.

(C) Within 10 km of the Table Mountain Observatory (40°08′02″ N, 105°14′40″ W) and for operations only within the sub-band 407-409 MHz, contact Radio Frequency Manager, Department of Commerce, 325 Broadway, Boulder, CO 80305. Phone: 303-497-4619, Fax: 303-497-6982, Email: frequencymanager@its.bldrdoc.gov.

(ii) Non-Federal use is limited to the radio astronomy service and as provided by footnote US13.

(118)-(127) [Reserved]

(128) US128 In the band 10-10.5 GHz, pulsed emissions are prohibited, except for weather radars on board meteorological satellites in the sub-band 10-10.025 GHz. The amateur service, the amateur-satellite service, and the non-Federal radiolocation service, which shall not cause harmful interference to the Federal radiolocation service, are the only non-Federal services permitted in this band. The non-Federal radiolocation service is limited to survey operations as specified in footnote US108.

(129) [Reserved]

(130) US130 The band 10.6-10.68 GHz is also allocated on a primary basis to the radio astronomy service. However, the radio astronomy service shall not receive protection from stations in the fixed service which are licensed to operate in the one hundred most populous urbanized areas as defined by the 1990 U.S. Census. For the list of observatories operating in this band, see paragraph (c)(131) of this section.

(131) US131 In the band 10.7-11.7 GHz, non-geostationary satellite orbit licensees in the fixed-satellite service (space-to-Earth), prior to commencing operations, shall coordinate with the radio astronomy observatories listed in table 12 to this paragraph (c)(131) to achieve a mutually acceptable agreement regarding the protection of the radio telescope facilities operating in the band 10.6-10.7 GHz:

Table 12 to Paragraph (c)(131)
Observatory | North latitude | West longitude | Elevation (in meters)
Arecibo Observatory, PR | 18°20′37″ | 66°45′11″ | 497
Green Bank Telescope (GBT), WV | 38°25′59″ | 79°50′23″ | 807
Very Large Array (VLA), Socorro, NM | 34°04′44″ | 107°37′06″ | 2115
Very Long Baseline Array (VLBA) Stations:
Brewster, WA | 48°07′52″ | 119°41′00″ | 250
Fort Davis, TX | 30°38′ 06″ | 103°56′ 41″ | 1606
Hancock, NH | 42°56′01″ | 71°59′12″ | 296
Kitt Peak, AZ | 31°57′23″ | 111°36′45″ | 1902
Los Alamos, NM | 35°46′30″ | 106°14′44″ | 1962
Mauna Kea, HI | 19°48′05″ | 155°27′20″ | 3763
North Liberty, IA | 41°46′17″ | 91°34′27″ | 222
Owens Valley, CA | 37°13′54″ | 118°16′37″ | 1196
Pie Town, NM | 34°18′04″ | 108°07′09″ | 2365
St. Croix, VI | 17°45′24″ | 64°35′01″ | 16

(132) US132A In the bands 26.2-26.42 MHz, 41.015-41.665 MHz, and 43.35-44 MHz, applications of radiolocation service are limited to oceanographic radars operating in accordance with ITU Resolution 612 (Rev.WRC-12). Oceanographic radars shall not cause harmful interference to, or claim protection from, non-Federal stations in the land mobile service in the bands 26.2-26.42 MHz and 43.69-44 MHz, Federal stations in the fixed or mobile services in the band 41.015-41.665 MHz, and non-Federal stations in the fixed or land mobile services in the band 43.35-43.69 MHz.

(133) US133 In the bands 14-14.2 GHz and 14.47-14.5 GHz, the following provisions shall apply to the operations of Earth Stations Aboard Aircraft (ESAA):

(i) In the band 14-14.2 GHz, ESAA licensees proposing to operate within radio line-of-sight of the coordinates specified in § 25.228(j)(1) of this chapter are subject to prior coordination with NTIA in order to minimize harmful interference to the ground terminals of NASA's Tracking and Data Relay Satellite System (TDRSS).

(ii) In the band 14.47-14.5 GHz, operations within radio line-of-sight of the radio astronomy stations specified in § 25.228(j)(3) of this chapter are subject to coordination with the National Science Foundation in accordance with the requirements set forth in that rule section.

(134)-(135) [Reserved]

(136) US136 The following provisions shall apply in eight HF bands that are allocated to the broadcasting service (HFBC) on a primary basis in all Regions.

(i) In Alaska, the assigned frequency band 7368.48-7371.32 kHz is allocated exclusively to the fixed service (FS) on a primary basis for non-Federal use in accordance with § 80.387 of this chapter.

(ii) On the condition that harmful interference is not caused to the broadcasting service (NIB operations), Federal and non-Federal stations that communicate wholly within the United States and its insular areas may operate as specified in table 13 to this paragraph (c)(136)(ii). All such stations must take account of the seasonal use of frequencies by the broadcasting service published in accordance with Article 12 of the ITU Radio Regulations and are limited to the minimum power needed for reliable communications.

(A) Federal stations. Frequencies in the 13 HF bands/sub-bands listed in the table below (HF NIB Bands) may be authorized to Federal stations in the FS. In the bands 5.9-5.95, 7.3-7.4, 13.57-13.6, and 13.80-13.87 MHz (6, 7, 13.6, and 13.8 MHz bands), frequencies may also be authorized to Federal stations in the mobile except aeronautical mobile route (R) service (MS except AM(R)S). Federal use of the bands 9.775-9.9, 11.65-11.7, and 11.975-12.05 MHz is restricted to stations in the FS that were authorized as of June 12, 2003, and each grandfathered station is restricted to a total radiated power of 24 dBW. In all other HF NIB Bands (*), new Federal stations may be authorized.

(B) Non-Federal stations. Non-Federal use of the HF NIB Bands is restricted to stations in the FS, land mobile service (LMS), and maritime mobile service (MMS) that were licensed prior to March 25, 2007, except that, in the sub-band 7.35-7.4 MHz, use is restricted to stations that were licensed prior to March 29, 2009.

Table 13 to Paragraph (c)(136)(ii)—NIB Operations in Eight HFBC Bands (MHz)
HF NIB band | Federal (*new stations permitted) | Non-Federal | HFBC band
5.90-5.95 | *FS and MS except AM(R)S | MMS | 5.90-6.20
7.30-7.40 | *FS and MS except AM(R)S | FS, LMS and MMS | 7.30-7.40
9.40-9.50 | *9 MHz: FS | FS and LMS | 9.40-9.90
9.775-9.90 | FS (Grandfathered, restricted to 24 dBW)
11.60-11.65 | *11 MHz: FS | FS | 11.60-12.10
11.65-11.70 | FS (Grandfathered, restricted to 24 dBW)
11.975-12.05 | FS (Grandfathered, restricted to 24 dBW)
12.05-12.10 | *12 MHz: FS | FS
13.57-13.60 | *FS and MS except AM(R)S | MMS | 13.57-13.87
13.80-13.87 | *FS and MS except AM(R)S | MMS
15.60-15.80 | *15 MHz: FS | FS | 15.10-15.80
17.48-17.55 | *17 MHz: FS |  | 17.48-17.90
18.90-19.02 | *19 MHz: FS | MMS | 18.90-19.02

Note 8 to paragraph (c)(136)(ii): Non-Federal stations may continue to operate in nine HF NIB Bands as follows: in the 6, 7, 13.6, 13.8, and 19 MHz bands, stations in the MMS; in the 7 and 9 MHz bands, stations in the FS and LMS; and in the 11, 12, and 15 MHz band, stations in the FS.

(137)-(138) [Reserved]

(139) US139 Fixed stations authorized in the band 18.3-19.3 GHz under the provisions of §§ 74.502(c), 74.602(g), 78.18(a)(4), and 101.147(r) of this chapter may continue operations consistent with the provisions of those sections.

(140)-(141) [Reserved]

(142) US142 In the bands 7.2-7.3 and 7.4-7.45 MHz, the following provisions shall apply:

(i) In the U.S. Pacific insular areas located in Region 3 (see § 2.105(a), note 3), the bands 7.2-7.3 and 7.4-7.45 MHz are alternatively allocated to the broadcasting service on a primary basis. Use of this allocation is restricted to international broadcast stations that transmit to geographical zones and areas of reception in Region 1 or Region 3.

(ii) The use of the band 7.2-7.3 MHz in Region 2 by the amateur service shall not impose constraints on the broadcasting service intended for use within Region 1 and Region 3.

(143)-(144) [Reserved]

(145) US145 The following unwanted emissions power limits for non-geostationary satellites operating in the inter-satellite service that transmit in the band 22.55-23.55 GHz shall apply in any 200 MHz of the passive band 23.6-24 GHz, based on the date that complete advance publication information is received by the ITU's Radiocommunication Bureau:

(i) For information received before January 1, 2020: −36 dBW/200 MHz.

(ii) For information received on or after January 1, 2020: −46 dBW/200 MHz.

(146)-(150) [Reserved]

(151) US151 In the band 37-38 GHz, stations in the fixed and mobile services shall not cause harmful interference to Federal earth stations in the space research service (space-to-Earth) at the following sites: Goldstone, CA; Socorro, NM; and White Sands, NM. Applications for non-Federal use of this band shall be coordinated with NTIA in accordance with § 30.205 of this chapter.

(152)-(155) [Reserved]

(156) US156 In the bands 49.7-50.2 GHz and 50.4-50.9 GHz, for earth stations in the fixed-satellite service (Earth-to-space), the unwanted emissions power in the band 50.2-50.4 GHz shall not exceed −20 dBW/200 MHz (measured at the input of the antenna), except that the maximum unwanted emissions power may be increased to −10 dBW/200 MHz for earth stations having an antenna gain greater than or equal to 57 dBi. These limits apply under clear-sky conditions. During fading conditions, the limits may be exceeded by earth stations when using uplink power control.

(157) US157 In the band 51.4-52.6 GHz, for stations in the fixed service, the unwanted emissions power in the band 52.6-54.25 GHz shall not exceed −33 dBW/100 MHz (measured at the input of antenna).

(158)-(160) [Reserved]

(161) US161 In the bands 81-86 GHz, 92-94 GHz, and 94.1-95 GHz and within the coordination distances indicated below, assignments to allocated services shall be coordinated with the following radio astronomy observatories. New observatories shall not receive protection from fixed stations that are licensed to operate in the one hundred most populous urbanized areas as defined by the U.S. Census Bureau for the year 2000.

(i) Within 25 km of the National Radio Astronomy Observatory's (NRAO's) Very Long Baseline Array (VLBA) Stations listed in table 14 to this paragraph (c)(161)(i).

Table 14 to Paragraph (c)(161)(i)
State | VLBA station | Lat. (N) | Long. (W)
AZ | Kitt Peak | 31°57′23″ | 111°36′45″
CA | Owens Valley | 37°13′54″ | 118°16′37″
HI | Mauna Kea | 19°48′05″ | 155°27′20″
IA | North Liberty | 41°46′17″ | 091°34′27″
NH | Hancock | 42°56′01″ | 071°59′12″
NM | Los Alamos | 35°46′30″ | 106°14′44″
NM | Pie Town | 34°18′04″ | 108°07′09″
TX | Fort Davis | 30°38′06″ | 103°56′41″
VI | Saint Croix | 17°45′24″ | 064°35′01″
WA | Brewster | 48°07′52″ | 119°41′00″

(ii) Within 150 km of the observatories in table 15 to this paragraph (c)(161)(ii):

Table 15 to Paragraph (c)(161)(ii)
State | Telescope and site | Lat. (N) | Long. (W)
AZ | Heinrich Hertz Submillimeter Observatory, Mt. Graham | 32°42′06″ | 109°53′28″
AZ | University of Arizona 12-m Telescope, Kitt Peak | 31°57′12″ | 111°36′53″
CA | Caltech Telescope, Owens Valley | 37°13′54″ | 118°17′36″
CA | Combined Array for Research in Millimeter-wave Astronomy (CARMA) | 37°16′43″ | 118°08′32″
HI | James Clerk Maxwell Telescope, Mauna Kea | 19°49′33″ | 155°28′47″
MA | Haystack Observatory, Westford | 42°37′24″ | 071°29′18″
NM | NRAO's Very Large Array, Socorro | 34°04′44″ | 107°37′06″
WV | NRAO's Robert C. Byrd Telescope, Green Bank | 38°25′59″ | 079°50′23″

Note 9 to paragraph (c)(161)(ii): Satisfactory completion of the coordination procedure utilizing the automated mechanism, see § 101.1523 of this chapter, will be deemed to establish sufficient separation from radio astronomy observatories, regardless of whether the distances set forth above are met.

(162)-(204) [Reserved]

(205) US205 Tropospheric scatter systems are prohibited in the band 2500-2690 MHz.

(206)-(207) [Reserved]

(208) US208 Planning and use of the band 1559-1626.5 MHz necessitate the development of technical and/or operational sharing criteria to ensure the maximum degree of electromagnetic compatibility with existing and planned systems within the band.

(209) US209 The use of frequencies 460.6625, 460.6875, 460.7125, 460.7375, 460.7625, 460.7875, 460.8125, 460.8375, 460.8625, 465.6625, 465.6875, 465.7125, 465.7375, 465.7625, 465.7875, 465.8125, 465.8375, and 465.8625 MHz may be authorized, with 100 mW or less output power, to Federal and non-Federal radio stations for one-way, non-voice bio-medical telemetry operations in hospitals, or medical or convalescent centers.

(210) US210 In the bands 40.66-40.7 MHz and 216-220 MHz, frequencies may be authorized to Federal and non-Federal stations on a secondary basis for the tracking of, and telemetering of scientific data from, ocean buoys and wildlife. Operation in these bands is subject to the technical standards specified in Section 8.2.42 of the NTIA Manual for Federal use, or § 90.248 of this chapter for non-Federal use. After January 1, 2002, no new assignments shall be authorized in the band 216-217 MHz.

(211) US211 In the bands 1670-1690, 5000-5250 MHz and 10.7-11.7, 15.1365-15.35, 15.4-15.7, 22.5-22.55, 24-24.05, 31.0-31.3, 31.8-32.0, 40.5-42.5, 116-122.25, 123-130, 158.5-164, 167-168, 191.8-200, and 252-265 GHz, applicants for airborne or space station assignments are urged to take all practicable steps to protect radio astronomy observations in the adjacent bands from harmful interference; however, US74 applies.

(212) US212 In, or within 92.6 km (50 nautical miles) of, the State of Alaska, the carrier frequency 5167.5 kHz (assigned frequency 5168.9 kHz) is designated for emergency communications. This frequency may also be used in the Alaska-Private Fixed Service for calling and listening, but only for establishing communications before switching to another frequency. The maximum power is limited to 150 watts peak envelope power (PEP).

(213) US213 The frequency 122.925 MHz is for use only for communications with or between aircraft when coordinating natural resources programs of Federal or State natural resources, agencies, including forestry management and fire suppression, fish and game management and protection and environmental monitoring and protection.

(214) US214 The frequency 157.1 MHz is the primary frequency for liaison communications between ship stations and stations of the United States Coast Guard.

(215)-(217) [Reserved]

(218) US218 The band 902-928 MHz is available for Location and Monitoring Service (LMS) systems subject to not causing harmful interference to the operation of all Federal stations authorized in this band. These systems must tolerate interference from the operation of industrial, scientific, and medical (ISM) equipment and the operation of Federal stations authorized in this band.

(219) [Reserved]

(220) US220 The frequencies 36.25 and 41.71 MHz may be authorized to Federal stations and non-Federal stations in the petroleum radio service, for oil spill containment and cleanup operations. The use of these frequencies for oil spill containment or cleanup operations is limited to the inland and coastal waterway regions.

(221) US221 Use of the mobile service in the bands 525-535 kHz and 1605-1615 kHz is limited to distribution of public service information from Travelers Information stations operating on 530 kHz and 1610 kHz.

(222) US222 In the band 2025-2035 MHz, geostationary operational environmental satellite (GOES) earth stations in the space research and Earth exploration-satellite services may be authorized on a coequal basis for Earth-to-space transmissions for tracking, telemetry, and telecommand at Honolulu, HI (21°21′12″ N, 157°52′36″ W); Seattle, WA (47°34′15″ N, 122°33′10″ W); and Wallops Island, VA (37°56′44″ N, 75°27′42″ W).

(223) [Reserved]

(224) US224 Federal systems utilizing spread spectrum techniques for terrestrial communication, navigation and identification may be authorized to operate in the band 960-1215 MHz on the condition that harmful interference will not be caused to the aeronautical radionavigation service. These systems will be handled on a case-by-case basis. Such systems shall be subject to a review at the national level for operational requirements and electromagnetic compatibility prior to development, procurement or modification.

(225) US225 In addition to its present Federal use, the band 510-525 kHz is available to Federal and non-Federal aeronautical radionavigation stations inland of the Territorial Base Line as coordinated with the military services. In addition, the frequency 510 kHz is available for non-Federal ship-helicopter operations when beyond 100 nautical miles from shore and required for aeronautical radionavigation.

(226) [Reserved]

(227) US227 The bands 156.4875-156.5125 MHz and 156.5375-156.5625 MHz are also allocated to the fixed and land mobile services on a primary basis for non-Federal use in VHF Public Coast Station Areas 10-42. The use of these bands by the fixed and land mobile services shall not cause harmful interference to, nor claim protection from, the maritime mobile VHF radiocommunication service.

(228)-(229) [Reserved]

(230) US230 The bands 422.1875-425.4875 MHz and 427.1875-429.9875 MHz are allocated to the land mobile service on a primary basis for non-Federal use within 80.5 kilometers (50 miles) of Cleveland, OH (41°29′51.2″ N, 81°41′49.5″ W) and Detroit, MI (42°19′48.1″ N, 83°02′56.7″ W). The bands 423.8125-425.4875 MHz and 428.8125-429.9875 MHz are allocated to the land mobile service on a primary basis for non-Federal use within 80.5 kilometers of Buffalo, NY (42°52′52.2″ N, 78°52′20.1″ W).

(231) US231 When an assignment cannot be obtained in the bands between 200 kHz and 525 kHz, which are allocated to aeronautical radionavigation, assignments may be made to aeronautical radiobeacons in the maritime mobile bands at 435-472 kHz and 479-490 kHz, on a secondary basis, subject to the coordination and agreement of those agencies having assignments within the maritime mobile bands which may be affected. Assignments to Federal aeronautical radionavigation radiobeacons in the bands 435-472 kHz and 479-490 kHz shall not be a bar to any required changes to the maritime mobile radio service and shall be limited to non-voice emissions.

(232)-(238) [Reserved]

(239) US239 Aeronautical radionavigation stations (radiobeacons) may be authorized, primarily for off-shore use, in the band 525-535 kHz on a non-interference basis to travelers information stations.

(240) US240 The bands 1715-1725 and 1740-1750 kHz are allocated on a primary basis and the bands 1705-1715 kHz and 1725-1740 kHz on a secondary basis to the aeronautical radionavigation service (radiobeacons).

(241) US241 The following provision shall apply to Federal operations in the band 216-220.035 MHz:

(i) Use of the fixed and land mobile services in the band 216-220 MHz and of the aeronautical mobile service in the sub-band 217-220 MHz is restricted to telemetry and associated telecommand operations. New stations in the fixed and land mobile services shall not be authorized in the sub-band 216-217 MHz.

(ii) The sub-band 216.965-216.995 MHz is also allocated to the Federal radiolocation service on a primary basis and the use of this allocation is restricted to the Air Force Space Surveillance System (AFSSS) radar system.

(A) AFSSS stations transmit on the frequency 216.98 MHz and other operations may be affected within:

(1) 250 km of Lake Kickapoo (Archer City), TX (33°2′48″ N, 98°45′46″ W); and

(2) 150 km of Gila River (Phoenix), AZ (33°6′32″ N, 112°1′45″ W) and Jordan Lake (Wetumpka), AL (32°39′33″ N, 86°15′52″ W).

(B) AFSSS reception shall be protected from harmful interference within 50 km of:

(1) Elephant Butte, NM (33°26′35″ N, 106°59′50″ W);

(2) Fort Stewart, GA (31°58′36″ N, 81°30′34″ W);

(3) Hawkinsville, GA (32°17′20″ N, 83°32′10″ W);

(4) Red River, AR (33°19′48″ N, 93°33′1″ W);

(5) San Diego, CA (32°34′42″ N, 116°58′11″ W); and

(6) Silver Lake, MS (33°8′42″ N, 91°1′16″ W).

(iii) The sub-band 219.965-220.035 MHz is also allocated to the Federal radiolocation service on a secondary basis and the use of this allocation is restricted to air-search radars onboard Coast Guard vessels.

(242) US242 Use of the fixed and land mobile services in the band 220-222 MHz shall be in accordance with the following plan:

(i) Frequencies are assigned in pairs, with base station transmit frequencies taken from the sub-band 220-221 MHz and with corresponding mobile and control station transmit frequencies being 1 MHz higher and taken from the sub-band 221-222 MHz.

(ii) In the non-Federal exclusive sub-bands, temporary fixed geophysical telemetry operations are also permitted on a secondary basis.

(iii) The use of Channels 161-170 is restricted to public safety/mutual aid communications.

(iv) The use of Channels 181-185 is restricted to emergency medical communications.

Table 16 to Paragraph (c)(242)—220 MHz Plan
Use | Base transmit | Mobile transmit | Channel Nos.
Non-Federal exclusive | 220.00-220.55 | 221.00-221.55 | 001-110
Federal exclusive | 220.55-220.60 | 221.55-221.60 | 111-120
Non-Federal exclusive | 220.60-220.80 | 221.60-221.80 | 121-160
Shared | 220.80-220.85 | 221.80-221.85 | 161-170
Non-Federal exclusive | 220.85-220.90 | 221.85-221.90 | 171-180
Shared | 220.90-220.925 | 221.90-221.925 | 181-185
Non-Federal exclusive | 220.925-221 | 221.925-222 | 186-200

(243) [Reserved]

(244) US244 The band 136-137 MHz is allocated to the non-Federal aeronautical mobile (R) service on a primary basis, and is subject to pertinent international treaties and agreements. The frequencies 136, 136.025, 136.05, 136.075, 136.1, 136.125, 136.15, 136.175, 136.2, 136.225, 136.25, 136.275, 136.3, 136.325, 136.35, 136.375, 136.4, 136.425, 136.45, and 136.475 MHz are available on a shared basis to the Federal Aviation Administration for air traffic control purposes, such as automatic weather observation stations (AWOS), automatic terminal information services (ATIS), flight information services-broadcast (FIS-B), and airport control tower communications.

(245) US245 In the bands 3600-3650 MHz (space-to-Earth), 4500-4800 MHz (space-to-Earth), and 5850-5925 MHz (Earth-to-space), the use of the non-Federal fixed-satellite service is limited to international inter-continental systems and is subject to case-by-case electromagnetic compatibility analysis. The FCC's policy for these bands is codified at § 2.108.

(246) US246 No station shall be authorized to transmit in the following bands: 73-74.6 MHz, 608-614 MHz, except for medical telemetry equipment and white space devices, 1400-1427 MHz, 1660.5-1668.4 MHz, 2690-2700 MHz, 4990-5000 MHz, 10.68-10.7 GHz, 15.35-15.4 GHz, 23.6-24 GHz, 31.3-31.8 GHz, 50.2-50.4 GHz, 52.6-54.25 GHz, 86-92 GHz, 100-102 GHz, 109.5-111.8 GHz, 114.25-116 GHz, 148.5-151.5 GHz, 164-167 GHz, 182-185 GHz, 190-191.8 GHz, 200-209 GHz, 226-231.5 GHz, 250-252 GHz. Medical telemetry equipment shall not cause harmful interference to radio astronomy operations in the band 608-614 MHz and shall be coordinated under the requirements found in § 95.1119 of this chapter. White space devices shall not cause harmful interference to radio astronomy operations in the band 608-614 MHz and shall not operate within the areas described in § 15.712(h) of this chapter.

(247) US247 The band 10 100-10 150 kHz is allocated to the fixed service on a primary basis outside the United States and its insular areas. Transmissions from stations in the amateur service shall not cause harmful interference to this fixed service use and stations in the amateur service shall make all necessary adjustments (including termination of transmission) if harmful interference is caused.

(248)-(250) [Reserved]

(251) US251 The band 12.75-13.25 GHz is also allocated to the space research (deep space) (space-to-Earth) service for reception only at Goldstone, CA (35°20′ N, 116°53′ W).

(252) US252 The band 2110-2120 MHz is also allocated to the space research service (deep space) (Earth-to-space) on a primary basis at Goldstone, CA (35°20′ N, 116°53′ W).

(253) [Reserved]

(254) US254 In the band 18.6-18.8 GHz the fixed and mobile services shall be limited to a maximum equivalent isotropically radiated power of +35 dBW and the power delivered to the antenna shall not exceed −3 dBW.

(255) US255 In addition to any other applicable limits, the power flux-density across the 200 MHz band 18.6-18.8 GHz produced at the surface of the Earth by emissions from a space station under assumed free-space propagation conditions shall not exceed −95 dB(W/m²) for all angles of arrival. This limit may be exceeded by up to 3 dB for no more than 5% of the time.

(256)-(257) [Reserved]

(258) US258 In the bands 8025-8400 MHz and 25.5-27 GHz, the Earth exploration-satellite service (space-to-Earth) is allocated on a primary basis for non-Federal use. Authorizations are subject to a case-by-case electromagnetic compatibility analysis.

(259) US259 In the band 17.3-17.7 GHz, Federal stations in the radiolocation service shall operate with an e.i.r.p. of less than 51 dBW.

(260) US260 Aeronautical mobile communications which are an integral part of aeronautical radionavigation systems may be satisfied in the bands 1559-1626.5 MHz, 5000-5250 MHz and 15.4-15.7 GHz.

(261) US261 The use of the band 4200-4400 MHz by the aeronautical radionavigation service is reserved exclusively for airborne radio altimeters. Experimental stations will not be authorized to develop equipment for operational use in this band other than equipment related to altimeter stations. However, passive sensing in the Earth-exploration satellite and space research services may be authorized in this band on a secondary basis (no protection is provided from the radio altimeters).

(262) US262 The band 7145-7190 MHz is also allocated to the space research service (deep space) (Earth-to-space) on a secondary basis for non-Federal use. Federal and non-Federal use of the bands 7145-7190 MHz and 34.2-34.7 GHz by the space research service (deep space) (Earth-to-space) and of the band 31.8-32.3 GHz by the space research service (deep space) (space-to-Earth) is limited to Goldstone, CA (35°20′ N, 116°53′ W).

(263) [Reserved]

(264) US264 In the band 48.94-49.04 GHz, airborne stations shall not be authorized.

(265) [Reserved]

(266) US266 Non-Federal licensees in the Public Safety Radio Pool holding a valid authorization on June 30, 1958, to operate in the frequency band 156.27-157.45 MHz or on the frequencies 161.85 MHz or 161.91 MHz may, upon proper application, continue to be authorized for such operation, including expansion of existing systems, until such time as harmful interference is caused to the operation of any authorized station other than those licensed in the Public Safety Radio Pool.

(267) US267 In the band 902-928 MHz, amateur stations shall transmit only in the sub-bands 902-902.4, 902.6-904.3, 904.7-925.3, 925.7-927.3, and 927.7-928 MHz within the States of Colorado and Wyoming, bounded by the area of latitudes 39° N and 42° N and longitudes 103° W and 108° W.

(268) US268 The bands 890-902 MHz and 928-942 MHz are also allocated to the radiolocation service for Federal ship stations (off-shore ocean areas) on the condition that harmful interference is not caused to non-Federal land mobile stations. The provisions of footnote US116 apply.

(269) US269 In the band 420-450 MHz, the following provisions shall apply to the non-Federal radiolocation service:

(i) Pulse-ranging radiolocation systems may be authorized for use along the shoreline of the conterminous United States and Alaska.

(ii) In the sub-band 420-435 MHz, spread spectrum radiolocation systems may be authorized within the conterminous United States and Alaska.

(iii) All stations operating in accordance with this provision shall be secondary to stations operating in accordance with the Table of Frequency Allocations in this section.

(iv) Authorizations shall be granted on a case-by-case basis; however, operations proposed to be located within the areas listed in paragraph (i) of US270 should not expect to be accommodated.

(270) US270 In the band 420-450 MHz, the following provisions shall apply to the amateur service:

(i) The peak envelope power of an amateur station shall not exceed 50 watts in the following areas, unless expressly authorized by the FCC after mutual agreement, on a case-by-case basis, between the Regional Director of the applicable field office and the military area frequency coordinator at the applicable military base. For areas (E) through (G), the appropriate military coordinator is located at Peterson AFB, CO.

(A) Arizona, Florida and New Mexico.

(B) Within those portions of California and Nevada that are south of latitude 37°10′ N.

(C) Within that portion of Texas that is west of longitude 104° W.

(D) Within 322 km of Eglin AFB, FL (30°30′ N, 86°30′ W); Patrick AFB, FL (28°21′ N, 80°43′ W); and the Pacific Missile Test Center, Point Mugu, CA (34°09′ N, 119°11′ W).

(E) Within 240 km of Beale AFB, CA (39°08′ N, 121°26′ W).

(F) Within 200 km of Goodfellow AFB, TX (31°25′ N, 100°24′ W) and Warner Robins AFB, GA (32°38′ N, 83°35′ W).

(G) Within 160 km of Clear AFS, AK (64°17′ N, 149°10′ W); Concrete, ND (48°43′ N, 97°54′ W); and Otis AFB, MA (41°45′ N, 70°32′ W).

(ii) In the sub-band 420-430 MHz, the amateur service is not allocated north of Line A (def. § 2.1).

(271)-(272) [Reserved]

(273) US273 In the bands 74.6-74.8 MHz and 75.2-75.4 MHz, stations in the fixed and mobile services are limited to a maximum power of 1 watt from the transmitter into the antenna transmission line.

(274) [Reserved]

(275) US275 The band 902-928 MHz is allocated on a secondary basis to the amateur service subject to not causing harmful interference to the operations of Federal stations authorized in this band or to Location and Monitoring Service (LMS) systems. Stations in the amateur service must tolerate any interference from the operations of industrial, scientific, and medical (ISM) devices, LMS systems, and the operations of Federal stations authorized in this band. Further, the amateur service is prohibited in those portions of Texas and New Mexico bounded on the south by latitude 31°41′ North, on the east by longitude 104°11′ West, and on the north by latitude 34°30′ North, and on the west by longitude 107°30′ West; in addition, outside this area but within 150 miles of these boundaries of White Sands Missile Range the service is restricted to a maximum transmitter peak envelope power output of 50 watts.

(276) US276 Except as otherwise provided for herein, use of the band 2360-2395 MHz by the mobile service is limited to aeronautical telemetering and associated telecommand operations for flight testing of aircraft, missiles or major components thereof. The following three frequencies are shared on a co-equal basis by Federal and non-Federal stations for telemetering and associated telecommand operations of expendable and reusable launch vehicles, whether or not such operations involve flight testing: 2364.5 MHz, 2370.5 MHz, and 2382.5 MHz. All other mobile telemetering uses shall not cause harmful interference to, or claim protection from interference from, the above uses.

(277) [Reserved]

(278) US278 In the bands 22.55-23.55 GHz and 32.3-33 GHz, non-geostationary inter-satellite links may operate on a secondary basis to geostationary inter-satellite links.

(279) US279 The frequency 2182 kHz may be authorized to fixed stations associated with the maritime mobile service for the sole purpose of transmitting distress calls and distress traffic, and urgency and safety signals and messages.

(280) [Reserved]

(281) US281 In the band 25 070-25 210 kHz, non-Federal stations in the Industrial/Business Pool shall not cause harmful interference to, and must accept interference from, stations in the maritime mobile service operating in accordance with the Table of Frequency Allocations in this section.

(282) US282 In the band 4650-4700 kHz, frequencies may be authorized for non-Federal communication with helicopters in support of off-shore drilling operations on the condition that harmful interference will not be caused to services operating in accordance with the Table of Frequency Allocations in this section.

(283) US283 In the bands 2850-3025 kHz, 3400-3500 kHz, 4650-4700 kHz, 5450-5680 kHz, 6525-6685 kHz, 10 005-10 100 kHz, 11 275-11 400 kHz, 13 260-13 360 kHz, and 17 900-17 970 kHz, frequencies may be authorized for non-Federal flight test purposes on the condition that harmful interference will not be caused to services operating in accordance with the Table of Frequency Allocations in this section.

(284) [Reserved]

(285) US285 Under exceptional circumstances, the carrier frequencies 2635 kHz, 2638 kHz, and 2738 kHz may be authorized to coast stations.

(286) [Reserved]

(287) US287 In the maritime mobile service, the frequencies 457.525 MHz, 457.550 MHz, 457.575 MHz, 467.525 MHz, 467.550 MHz and 467.575 MHz may be used by on-board communication stations. Where needed, equipment designed for 12.5 kHz channel spacing using also the additional frequencies 457.5375 MHz, 457.5625 MHz, 467.5375 MHz and 467.5625 MHz may be introduced for on-board communications. The use of these frequencies in territorial waters may be subject to the national regulations of the administration concerned. The characteristics of the equipment used shall conform to those specified in Recommendation ITU-R M.1174-2.

(288) US288 In the territorial waters of the United States, the preferred frequencies for use by on-board communication stations shall be 457.525 MHz, 457.550 MHz, 457.575 MHz and 457.600 MHz paired, respectively, with 467.750 MHz, 467.775 MHz, 467.800 MHz and 467.825 MHz. Where needed, equipment designed for 12.5 kHz channel spacing using also the additional frequencies 457.5375 MHz, 457.5625 MHz, 467.5375 MHz and 467.5625 MHz may be introduced for on-board communications. The characteristics of the equipment used shall conform to those specified in Recommendation ITU-R M.1174-2.

(289) US289 In the bands 460-470 MHz and 1690-1695 MHz, the following provisions shall apply:

(i) In the band 460-470 MHz, space stations in the Earth exploration-satellite service (EESS) may be authorized for space-to-Earth transmissions on a secondary basis with respect to the fixed and mobile services. When operating in the meteorological-satellite service, such stations shall be protected from harmful interference from other EESS applications. The power flux density produced at the Earth's surface by any space station in this band shall not exceed −152 dBW/m²/4 kHz.

(ii) In the band 1690-1695 MHz, EESS applications, other than the meteorological-satellite service, may also be used for space-to-Earth transmissions subject to not causing harmful interference to stations operating in accordance with the Table of Frequency Allocations in this section.

(290)-(295) [Reserved]

(296) US296 In the bands designated for ship wide-band telegraphy, facsimile and special transmission systems, the following assignable frequencies are available to non-Federal stations on a shared basis with Federal stations: 2070.5 kHz, 2072.5 kHz, 2074.5 kHz, 2076.5 kHz, 4154 kHz, 4170 kHz, 6235 kHz, 6259 kHz, 8302 kHz, 8338 kHz, 12 370 kHz, 12 418 kHz, 16 551 kHz, 16 615 kHz, 18 848 kHz, 18 868 kHz, 22 182 kHz, 22 238 kHz, 25 123 kHz, and 25 159 kHz.

(297) US297 The bands 47.2-49.2 GHz and 81-82.5 GHz are also available for feeder links for the broadcasting-satellite service.

(298) US298 The assigned frequencies 27.555, 27.615, 27.635, 27.655, 27.765, and 27.860 MHz are available for use by forest product licensees on a secondary basis to Federal operations including experimental stations. Non-Federal operations on these frequencies will not exceed 150 watts output power and are limited to the states of Washington, Oregon, Maine, North Carolina, South Carolina, Tennessee, Georgia, Florida, Alabama, Mississippi, Louisiana, and Texas (eastern portion).

(299) US299 In Alaska, the band 1615-1705 kHz is also allocated to the maritime mobile and Alaska fixed services on a secondary basis to Region 2 broadcast operations.

(300) US300 The frequencies 169.445, 169.505, 169.545, 169.575, 169.605, 169.995, 170.025, 170.055, 170.245, 170.305, 171.045, 171.075, 171.105, 171.845, 171.875, and 171.905 MHz are available for wireless microphone operations on a secondary basis to Federal and non-Federal operations. On center frequencies 169.575 MHz, 170.025 MHz, 171.075 MHz, and 171.875 MHz, the emission bandwidth shall not exceed 200 kHz. On the other center frequencies, the emission bandwidth shall not exceed 54 kHz.

(301) US301 Except as provided in NG30, broadcast auxiliary stations licensed as of November 21, 1984, to operate in the band 942-944 MHz may continue to operate on a co-equal primary basis to other stations and services operating in the band in accordance with the Table of Frequency Allocations in this section.

(302) [Reserved]

(303) US303 In the band 2285-2290 MHz, non-Federal space stations in the space research, space operations and Earth exploration-satellite services may be authorized to transmit to the Tracking and Data Relay Satellite System subject to such conditions as may be applied on a case-by-case basis. Such transmissions shall not cause harmful interference to authorized Federal stations. The power flux-density at the Earth's surface from such non-Federal stations shall not exceed −144 to −154 dBW/m²/4 kHz, depending on angle of arrival, in accordance with ITU Radio Regulation 21.16.

(304)-(306) [Reserved]

(307) US307 The band 5150-5216 MHz is also allocated to the fixed-satellite service (space-to-Earth) for feeder links in conjunction with the radiodetermination-satellite service operating in the bands 1610-1626.5 MHz and 2483.5-2500 MHz. The total power flux-density at the Earth's surface shall in no case exceed −159 dBW/m² per 4 kHz for all angles of arrival.

(308) US308 In the bands 1549.5-1558.5 MHz and 1651-1660 MHz, those requirements of the aeronautical mobile-satellite (R) service that cannot be accommodated in the bands 1545-1549.5 MHz, 1558.5-1559 MHz, 1646.5-1651 MHz and 1660-1660.5 MHz shall have priority access with real-time preemptive capability for communications in the mobile-satellite service. Systems not interoperable with the aeronautical mobile-satellite (R) service shall operate on a secondary basis. Account shall be taken of the priority of safety-related communications in the mobile-satellite service.

(309) US309 In the bands 1545-1559 MHz, transmissions from terrestrial aeronautical stations directly to aircraft stations, or between aircraft stations, in the aeronautical mobile (R) service are also authorized when such transmissions are used to extend or supplement the satellite-to-aircraft links. In the band 1646.5-1660.5 MHz, transmissions from aircraft stations in the aeronautical mobile (R) service directly to terrestrial aeronautical stations, or between aircraft stations, are also authorized when such transmissions are used to extend or supplement the aircraft-to-satellite links.

(310) US310 In the band 14.896-15.121 GHz, non-Federal space stations in the space research service may be authorized on a secondary basis to transmit to Tracking and Data Relay Satellites subject to such conditions as may be applied on a case-by-case basis. Such transmissions shall not cause harmful interference to authorized Federal stations. The power flux-density (pfd) produced by such non-Federal stations at the Earth's surface in any 1 MHz band for all conditions and methods of modulation shall not exceed:

(i) −124 dB(W/m²) for 0° < θ < 5°, (ii) −124 + (θ−5)/2 dB(W/m²) for 5° < θ < 25°, (iii) and −114 dB(W/m²) for 25° < θ < 90, where θ is the angle of arrival of the radio-frequency wave (degrees above the horizontal). These limits relate to the pfd and angles of arrival which would be obtained under free-space propagation conditions.

(ii) [Reserved]

(311) [Reserved]

(312) US312 The frequency 173.075 MHz may also be authorized on a primary basis to non-Federal stations in the Public Safety Radio Pool, limited to police licensees, for stolen vehicle recovery systems (SVRS). As of May 27, 2005, new SVRS licenses shall be issued for an authorized bandwidth not to exceed 12.5 kHz. Stations that operate as part of a stolen vehicle recovery system that was authorized and in operation prior to May 27, 2005 may operate with an authorized bandwidth not to exceed 20 kHz until May 27, 2019. After that date, all SVRS shall operate with an authorized bandwidth not to exceed 12.5 kHz.

(313)-(314) [Reserved]

(315) US315 In the bands 1530-1544 MHz and 1626.5-1645.5 MHz, maritime mobile-satellite distress and safety communications, e.g., GMDSS, shall have priority access with real-time preemptive capability in the mobile-satellite service. Communications of mobile-satellite system stations not participating in the GMDSS shall operate on a secondary basis to distress and safety communications of stations operating in the GMDSS. Account shall be taken of the priority of safety-related communications in the mobile-satellite service.

(316) US316 The band 2900-3000 MHz is also allocated to the meteorological aids service on a primary basis for Federal use. Operations in this service are limited to Next Generation Weather Radar (NEXRAD) systems where accommodation in the band 2700-2900 MHz is not technically practical and are subject to coordination with existing authorized stations.

(317)-(318) [Reserved]

(319) US319 In the bands 137-138 MHz, 148-149.9 MHz, 149.9-150.05 MHz, 399.9-400.05 MHz, 400.15-401 MHz, 1610-1626.5 MHz, and 2483.5-2500 MHz, Federal stations in the mobile-satellite service shall be limited to earth stations operating with non-Federal space stations.

(320) US320 The use of the bands 137-138 MHz, 148-150.05 MHz, 399.9-400.05 MHz, and 400.15-401 MHz by the mobile-satellite service is limited to non-voice, non-geostationary satellite systems and may include satellite links between land earth stations at fixed locations.

(321)-(322) [Reserved]

(323) US323 In the band 148-149.9 MHz, no individual mobile earth station shall transmit on the same frequency being actively used by fixed and mobile stations and shall transmit no more than 1% of the time during any 15 minute period; except, individual mobile earth stations in this band that do not avoid frequencies actively being used by the fixed and mobile services shall not exceed a power density of −16 dBW/4 kHz and shall transmit no more than 0.25% of the time during any 15 minute period. Any single transmission from any individual mobile earth station operating in this band shall not exceed 450 ms in duration and consecutive transmissions from a single mobile earth station on the same frequency shall be separated by at least 15 seconds. Land earth stations in this band shall be subject to electromagnetic compatibility analysis and coordination with terrestrial fixed and mobile stations.

(324) US324 In the band 400.15-401 MHz, Federal and non-Federal satellite systems shall be subject to electromagnetic compatibility analysis and coordination.

(325) US325 In the band 148-149.9 MHz fixed and mobile stations shall not claim protection from land earth stations in the mobile-satellite service that have been previously coordinated; Federal fixed and mobile stations exceeding 27 dBW EIRP, or an emission bandwidth greater than 38 kHz, will be coordinated with existing mobile-satellite service space stations.

(326) [Reserved]

(327) US327 The band 2310-2360 MHz is allocated to the broadcasting-satellite service (sound) and complementary terrestrial broadcasting service on a primary basis. Such use is limited to digital audio broadcasting and is subject to the provisions of Resolution 528.

(328)-(333) [Reserved]

(334) US334 In the bands between 17.7 GHz and 20.2 GHz, the following provisions shall apply:

(i) In the bands between 17.8 GHz and 20.2 GHz, Federal space stations in both geostationary (GSO) and non-geostationary satellite orbits (NGSO) and associated earth stations in the fixed-satellite service (FSS) (space-to-Earth) may be authorized on a primary basis. For a Federal GSO FSS network to operate on a primary basis, the space station shall be located outside the arc, measured from east to west, 70-120° West longitude. Coordination between Federal FSS systems and non-Federal space and terrestrial systems operating in accordance with the United States Table of Frequency Allocations in this section is required.

(ii) In the bands between 17.8 GHz and 20.2 GHz, Federal earth stations operating with Federal space stations shall be authorized on a primary basis only in the following areas: Denver, Colorado; Washington, DC; San Miguel, California; and Guam. Prior to the commencement of non-Federal terrestrial operations in these areas, the FCC shall coordinate with NTIA all applications for new stations and modifications to existing stations as specified in §§ 1.924(f), 74.32, and 78.19(f) of this chapter. In the band 17.7-17.8 GHz, the FCC shall also coordinate with NTIA all applications for new stations and modifications to existing stations that support the operations of Multichannel Video Programming Distributors (MVPD) in these areas, as specified in §§ 1.924(f), 74.32, and 78.19(f).

(iii) In the bands between 17.8 GHz and 19.7 GHz, the power flux-density (pfd) at the surface of the Earth produced by emissions from a Federal GSO space station or from a Federal space station in a NGSO constellation of 50 or fewer satellites, for all conditions and for all methods of modulation, shall not exceed the following values in any 1 MHz band:

(A) −115 dB(W/m²) for angles of arrival above the horizontal plane (δ) between 0° and 5°,

(B) −115 + 0.5(δ-5) dB(W/m²) for δ between 5° and 25°, and

(C) −105 dB(W/m²) for δ between 25° and 90°.

(iv) In the bands between 17.8 GHz and 19.3 GHz, the pfd at the surface of the Earth produced by emissions from a Federal space station in an NGSO constellation of 51 or more satellites, for all conditions and for all methods of modulation, shall not exceed the following values in any 1 MHz band:

(A) −115 − X dB(W/m²) for δ between 0° and 5°,

(B) −115 − X + ((10 + X)/20)(δ − 5) dB(W/m²) for δ between 5° and 25°, and

(C) −105 dB(W/m²) for δ between 25° and 90°; where X is defined as a function of the number of satellites, n, in an NGSO constellation as follows:

For n ≤ 288, X = (5/119) (n − 50) dB; and

For n > 288, X = (1/69) (n + 402) dB.

(335)-(336) [Reserved]

(337) US337 In the band 13.75-13.8 GHz, the FCC shall coordinate earth stations in the fixed-satellite service with NTIA on a case-by-case basis in order to minimize harmful interference to the Tracking and Data Relay Satellite System's forward space-to-space link (TDRSS forward link-to-LEO).

(338) US338A In the band 1435-1452 MHz, operators of aeronautical telemetry stations are encouraged to take all reasonable steps to ensure that the unwanted emissions power does not exceed −28 dBW/27 MHz in the band 1400-1427 MHz. Operators of aeronautical telemetry stations that do not meet this limit shall first attempt to operate in the band 1452-1525 MHz prior to operating in the band 1435-1452 MHz.

(339) [Reserved]

(340) US340 The band 2-30 MHz is available on a non-interference basis to Federal and non-Federal maritime and aeronautical stations for the purposes of measuring the quality of reception on radio channels. See § 87.149 of this chapter for the list of protected frequencies and bands within this frequency range. Actual communications shall be limited to those frequencies specifically allocated to the maritime mobile and aeronautical mobile services.

(341) [Reserved]

(342) US342 In making assignments to stations of other services to which the bands in table 17 to this paragraph (c)(342) are allocated (* indicates radio astronomy use for spectral line observations), all practicable steps shall be taken to protect the radio astronomy service from harmful interference. Emissions from spaceborne or airborne stations can be particularly serious sources of interference to the radio astronomy service (see ITU Radio Regulations at Nos. 4.5 and 4.6 and Article 29).

Table 17 to Paragraph (c)(342)
13 360-13 410 kHz | 42.77-42.87 GHz*.
25 550-25 670 kHz | 43.07-43.17 GHz*.
37.5-38.25 MHz | 43.37-43.47 GHz*.
322-328.6 MHz* | 48.94-49.04 GHz*.
1330-1400 MHz* | 76-86 GHz.
1610.6-1613.8 MHz* | 92-94 GHz.
1660-1660.5 MHz* | 94.1-100 GHz.
1668.4-1670 MHz* | 102-109.5 GHz.
3260-3267 MHz* | 111.8-114.25 GHz.
3332-3339 MHz* | 128.33-128.59 GHz*.
3345.8-3352.5 MHz* | 129.23-129.49 GHz*.
4825-4835 MHz* | 130-134 GHz.
4950-4990 MHz | 136-148.5 GHz.
6650-6675.2 MHz* | 151.5-158.5 GHz.
14.47-14.5 GHz* | 168.59-168.93 GHz*.
22.01-22.21 GHz* | 171.11-171.45 GHz*.
22.21-22.5 GHz | 172.31-172.65 GHz*.
22.81-22.86 GHz* | 173.52-173.85 GHz*.
23.07-23.12 GHz* | 195.75-196.15 GHz*.
31.2-31.3 GHz | 209-226 GHz.
36.43-36.5 GHz* | 241-250 GHz.
42.5-43.5 GHz | 252-275 GHz.

(343) US343 In the mobile service, the frequencies between 1435 and 1525 MHz will be assigned for aeronautical telemetry and associated telecommand operations for flight testing of manned or unmanned aircraft and missiles, or their major components. Permissible usage includes telemetry associated with launching and reentry into the Earth's atmosphere as well as any incidental orbiting prior to reentry of manned objects undergoing flight tests. The following frequencies are shared on a co-equal basis with flight telemetering mobile stations: 1444.5, 1453.5, 1501.5, 1515.5, and 1524.5 MHz.

(344) US344 In the band 5091-5250 MHz, the FCC shall coordinate earth stations in the fixed-satellite service (Earth-to-space) with NTIA (see Recommendation ITU-R S.1342). In order to better protect the operation of the international standard system (microwave landing system) in the band 5000-5091 MHz, non-Federal tracking and telecommand operations should be conducted in the band 5150-5250 MHz.

(345) [Reserved]

(346) US346 Except as provided for in table 18 to this paragraph (c)(346) and by US222, Federal use of the band 2025-2110 MHz by the space operation service (Earth-to-space), Earth exploration-satellite service (Earth-to-space), and space research service (Earth-to-space) shall not constrain the deployment of the Television Broadcast Auxiliary Service, the Cable Television Relay Service, or the Local Television Transmission Service. To facilitate compatible operations between non-Federal terrestrial receiving stations at fixed sites and Federal earth station transmitters, coordination is required. To facilitate compatible operations between non-Federal terrestrial transmitting stations and Federal spacecraft receivers, the terrestrial transmitters in the band 2025-2110 MHz shall not be high-density systems (see Recommendations ITU-R SA.1154 and ITU-R F.1247). Military satellite control stations at the following sites shall operate on a co-equal, primary basis with non-Federal operations:

Table 18 to Paragraph (c)(346)
Facility | Coordinates
Naval Satellite Control Network, Prospect Harbor, ME | 44°24′16″ N | 068°00′46″ W
New Hampshire Tracking Station, New Boston AFS, NH | 42°56′52″ N | 071°37′36″ W
Eastern Vehicle Check-out Facility & GPS Ground Antenna & Monitoring Station, Cape Canaveral, FL | 28°29′09″ N | 080°34′33″ W
Buckley AFB, CO | 39°42′55″ N | 104°46′36″ W
Colorado Tracking Station, Schriever AFB, CO | 38°48′21″ N | 104°31′43″ W
Kirtland AFB, NM | 34°59′46″ N | 106°30′28″ W
Camp Parks Communications Annex, Pleasanton, CA | 37°43′51″ N | 121°52′50″ W
Naval Satellite Control Network, Laguna Peak, CA | 34°06′31″ N | 119°03′53″ W
Vandenberg Tracking Station, Vandenberg AFB, CA | 34°49′21″ N | 120°30′07″ W
Hawaii Tracking Station, Kaena Pt, Oahu, HI | 21°33′44″ N | 158°14′31″ W
Guam Tracking Stations, Anderse n AFB, and Naval CTS, Guam | 13°36′54″ N | 144°51′18″ E

(347) US347 In the band 2025-2110 MHz, non-Federal Earth-to-space and space-to-space transmissions may be authorized in the space research and Earth exploration-satellite services subject to such conditions as may be applied on a case-by-case basis. Such transmissions shall not cause harmful interference to Federal and non-Federal stations operating in accordance with the Table of Frequency Allocations in this section.

(348) [Reserved]

(349) US349 The band 3650-3700 MHz is also allocated to the Federal radiolocation service on a non-interference basis for use by ship stations located at least 44 nautical miles in off-shore ocean areas on the condition that harmful interference is not caused to non-Federal operations.

(350) US350 In the band 1427-1432 MHz, Federal use of the land mobile service and non-Federal use of the fixed and land mobile services is limited to telemetry and telecommand operations as described further:

(i) Medical operations. The use of the band 1427-1432 MHz for medical telemetry and telecommand operations (medical operations) shall be authorized for both Federal and non-Federal stations.

(A) Medical operations shall be authorized in the band 1427-1429.5 MHz in the United States and its insular areas, except in the following locations: Austin/Georgetown, Texas; Detroit and Battle Creek, Michigan; Pittsburgh, Pennsylvania; Richmond/Norfolk, Virginia; Spokane, Washington; and Washington DC metropolitan area (collectively, the “carved-out” locations). See Section 47 CFR 90.259(b)(4) for a detailed description of these areas.

(B) In the carved-out locations, medical operations shall be authorized in the band 1429-1431.5 MHz.

(C) Medical operations may operate on frequencies in the band 1427-1432 MHz other than those described in paragraphs (c)(350)(i)(A) and (B) of this section only if the operations were registered with a designated frequency coordinator prior to April 14, 2010.

(ii) Non-medical operations. The use of the band 1427-1432 MHz for non-medical telemetry and telecommand operations (non-medical operations) shall be limited to non-Federal stations.

(A) Non-medical operations shall be authorized on a secondary basis to the Wireless Medical Telemetry Service (WMTS) in the band 1427-1429.5 MHz and on a primary basis in the band 1429.5-1432 MHz in the United States and its insular areas, except in the carved-out locations.

(B) In the carved-out locations, non-medical operations shall be authorized on a secondary basis in the band 1429-1431.5 MHz and on a primary basis in the bands 1427-1429 MHz and 1431.5-1432 MHz.

(351)-(352) [Reserved]

(353) US353 In the bands 56.24-56.29 GHz, 58.422-58.472 GHz, 59.139-59.189 GHz, 59.566-59.616 GHz, 60.281-60.331 GHz, 60.41-60.46 GHz, and 62.461-62.511 GHz, space-based radio astronomy observations may be made on an unprotected basis.

(354) US354 In the band 58.422-58.472 GHz, airborne stations and space stations in the space-to-Earth direction shall not be authorized.

(355) [Reserved]

(356) US356 In the band 13.75-14 GHz, an earth station in the fixed-satellite service shall have a minimum antenna diameter of 4.5 m and the e.i.r.p. of any emission should be at least 68 dBW and should not exceed 85 dBW. In addition the e.i.r.p., averaged over one second, radiated by a station in the radiolocation service shall not exceed 59 dBW. Receiving space stations in the fixed-satellite service shall not claim protection from radiolocation transmitting stations operating in accordance with the United States Table of Frequency Allocations in this section. ITU Radio Regulation No. 5.43A does not apply.

(357) US357 In the band 13.75-14 GHz, geostationary space stations in the space research service for which information for advance publication has been received by the ITU Radiocommunication Bureau (Bureau) prior to 31 January 1992 shall operate on an equal basis with stations in the fixed-satellite service; after that date, new geostationary space stations in the space research service will operate on a secondary basis.

(i) Until those geostationary space stations in the space research service for which information for advance publication has been received by the Bureau prior to 31 January 1992 cease to operate in this band:

(A) The e.i.r.p. density of emissions from any earth station in the fixed-satellite service operating with a space station in geostationary-satellite orbit shall not exceed 71 dBW in any 6 MHz band from 13.77 to 13.78 GHz;

(B) The e.i.r.p. density of emissions from any earth station in the fixed-satellite service operating with a space station in non-geostationary-satellite orbit shall not exceed 51 dBW in any 6 MHz band from 13.77 to 13.78 GHz.

(ii) Automatic power control may be used to increase the e.i.r.p. density in any 6 MHz band in these frequency ranges to compensate for rain attenuation, to the extent that the power flux-density at the fixed-satellite service space station does not exceed the value resulting from use by an earth station of an e.i.r.p. of 71 dBW or 51 dBW, as appropriate, in any 6 MHz band in clear-sky conditions.

(358) [Reserved]

(359) US359 In the band 15.43-15.63 GHz, use of the fixed-satellite service (Earth-to-space) is limited to non-Federal feeder links of non-geostationary systems in the mobile-satellite service. The FCC shall coordinate earth stations in this band with NTIA (see Annex 3 of Recommendation ITU-R S.1340).

(360) US360 The band 33-36 GHz is also allocated to the fixed-satellite service (space-to-Earth) on a primary basis for Federal use. Coordination between Federal fixed-satellite service systems and non-Federal systems operating in accordance with the United States Table of Frequency Allocations in this section is required.

(361) [Reserved]

(362) US362 The band 1670-1675 MHz is allocated to the meteorological-satellite service (space-to-Earth) on a primary basis for Federal use. Earth station use of this allocation is limited to Wallops Island, VA (37°56′44″ N, 75°27′37″ W), Fairbanks, AK (64°58′22″ N, 147°30′04″ W), and Greenbelt, MD (39°00′02″ N, 76°50′29″ W). Applicants for non-Federal stations within 100 kilometers of the Wallops Island or Fairbanks coordinates and within 65 kilometers of the Greenbelt coordinates shall notify NOAA in accordance with the procedures specified in § 1.924 of this chapter.

(363) [Reserved]

(364) US364 Consistent with US18, stations may be authorized on a primary basis in the band 285-325 kHz for the specific purpose of transmitting differential global positioning system information.

(365)-(377) [Reserved]

(378) US378 In the band 1710-1755 MHz, the following provisions apply:

(i) Federal fixed and tactical radio relay stations may operate indefinitely on a primary basis within 80 km of Cherry Point, NC (34°58′ N, 76°56′ W) and Yuma, AZ (32°32′ N, 113°58′ W).

(ii) Federal fixed and tactical radio relay stations shall operate on a secondary basis to primary non-Federal operations at the 14 sites listed in table 19 to this paragraph (c)(378).

(iii) In the sub-band 1710-1720 MHz, precision guided munitions shall operate on a primary basis until inventory is exhausted or until December 31, 2008, whichever is earlier.

(iv) All other Federal stations in the fixed and mobile services shall operate on a primary basis until reaccommodated in accordance with the Commercial Spectrum Enhancement Act.

Table 19 to Paragraph (c)(378)
State | Location | Coordinates
80 km radius of operation centered on:
CA | China Lake | 35°41′ N, 117°41′ W
CA | Pacific Missile Test Range/Point Mugu | 34°07′ N, 119°30′ W
FL | Eglin AFB | 30°29′ N, 086°31′ W
MD | Patuxent River | 38°17′ N, 076°25′ W
NM | White Sands Missile Range | 33°00′ N, 106°30′ W
NV | Nellis AFB | 36°14′ N, 115°02′ W
UT | Hill AFB | 41°07′ N, 111°58′ W
50 km radius of operation centered on:
AL | Fort Rucker | 31°13′ N, 085°49′ W
CA | Fort Irwin | 35°16′ N, 116°41′ W
GA | Fort Benning | 32°22′ N, 084°56′ W
GA | Fort Stewart | 31°52′ N, 081°37′ W
KY | Fort Campbell | 36°41′ N, 087°28′ W
NC | Fort Bragg | 35°09′ N, 079°01′ W
WA | Fort Lewis | 47°05′ N, 122°36′ W

(379) US379 In the band 55.78-56.26 GHz, in order to protect stations in the Earth exploration-satellite service (passive), the maximum power density delivered by a transmitter to the antenna of a fixed service station is limited to −28.5 dB(W/MHz).

(380) US380 In the bands 1525-1544 MHz, 1545-1559 MHz, 1610-1645.5 MHz, 1646.5-1660.5 MHz, and 2483.5-2500 MHz, a non-Federal licensee in the mobile-satellite service (MSS) may also operate an ancillary terrestrial component in conjunction with its MSS network, subject to the Commission′s rules for ancillary terrestrial components and subject to all applicable conditions and provisions of its MSS authorization.

(381) [Reserved]

(382) US382 In the band 39.5-40 GHz, Federal earth stations in the mobile-satellite service (space-to-Earth) shall not claim protection from non-Federal stations in the fixed and mobile services. ITU Radio Regulation No. 5.43A does not apply.

(383) [Reserved]

(384) US384 In the band 401-403 MHz, the non-Federal Earth exploration-satellite (Earth-to-space) and meteorological-satellite (Earth-to-space) services are limited to earth stations transmitting to Federal space stations.

(385) US385 Radio astronomy observations may be made in the bands 1350-1400 MHz, 1718.8-1722.2 MHz, and 4950-4990 MHz on an unprotected basis, and in the band 2655-2690 MHz on a secondary basis, at the radio astronomy observatories in table 20 to paragraph (c)(385)(ii) of this section.

(i) In the bands 1350-1400 MHz and 4950-4990 MHz, every practicable effort will be made to avoid the assignment of frequencies to stations in the fixed and mobile services that could interfere with radio astronomy observations within the geographic areas given in table 20 to paragraph (c)(385)(ii) of this section. In addition, every practicable effort will be made to avoid assignment of frequencies in these bands to stations in the aeronautical mobile service which operate outside of those geographic areas, but which may cause harmful interference to the listed observatories. Should such assignments result in harmful interference to these observatories, the situation will be remedied to the extent practicable.

(ii) In the band 2655-2690 MHz, for radio astronomy observations performed at the locations listed in table 20 to this paragraph (c)(385)(ii), licensees are urged to coordinate their systems through the National Science Foundation, Division of Astronomical Sciences, Electromagnetic Spectrum Management Unit, 2415 Eisenhower Avenue, Alexandria, VA 22314; Email: esm@nsf.gov.

Table 20 to Paragraph (c)(385)(ii)
Allen Telescope Array, Hat Creek, CA | Rectangle between latitudes 40°00′ N and 42°00′ N and between longitudes 120°15′ W and 122°15′ W.
NASA Goldstone Deep Space Communications Complex, Goldstone, CA | 80 kilometers (50 mile) radius centered on 35°20′ N, 116°53′ W.
National Astronomy and Ionosphere Center, Arecibo, PR | Rectangle between latitudes 17°30′ N and 19°00′ N and between longitudes 65°10′ W and 68°00′ W.
National Radio Astronomy Observatory, Socorro, NM | Rectangle between latitudes 32°30′ N and 35°30′ N and between longitudes 106°00′ W and 109°00′ W.
National Radio Astronomy Observatory, Green Bank, WV | Rectangle between latitudes 37°30′ N and 39°15′ N and between longitudes 78°30′ W and 80°30′ W.

National Radio Astronomy Observatory, Very Long Baseline Array Stations | 80 kilometer radius centered on:: North latitude | 80 kilometer radius centered on:: West longitude
Brewster, WA | 48°08′ | 119°41′
Fort Davis, TX | 30°38′ | 103°57′
Hancock, NH | 42°56′ | 71°59′
Kitt Peak, AZ | 31°57′ | 111°37′
Los Alamos, NM | 35°47′ | 106°15′
Mauna Kea, HI | 19°48′ | 155°27′
North Liberty, IA | 41°46′ | 91°34′
Owens Valley, CA | 37°14′ | 118°17′
Pie Town, NM | 34°18′ | 108°07′
Saint Croix, VI | 17°45′ | 64°35′
Owens Valley Radio Observatory, Big Pine, CA | Two contiguous rectangles, one between latitudes 36°00′ N and 37°00′ N and between longitudes 117°40′ W and 118°30′ W and the second between latitudes 37°00′ N and 38°00′ N and between longitudes 118°00′ W and 118°50′ W.

(386)-(388) [Reserved]

(389) US389 In the bands 71-76 GHz and 81-86 GHz, stations in the fixed, mobile, and broadcasting services shall not cause harmful interference to, nor claim protection from, Federal stations in the fixed-satellite service at any of the 28 military installations in table 21 to this paragraph (c)(389).

Table 21 to Paragraph (c)(389)
Military installation | State | Nearby city
Redstone Arsenal | AL | Huntsville.
Fort Huachuca | AZ | Sierra Vista.
Yuma Proving Ground | AZ | Yuma.
Beale AFB | CA | Marysville.
Camp Parks Reserve Forces Training Area | CA | Dublin.
China Lake Naval Air Weapons Station | CA | Ridgecrest.
Edwards AFB | CA | Rosamond.
Fort Irwin | CA | Barstow.
Marine Corps Air Ground Combat Center | CA | Twentynine Palms.
Buckley AFB | CO | Aurora (Denver).
Schriever AFB | CO | Colorado Springs.
Fort Gordon | GA | Augusta.
Naval Satellite Operations Center | GU | Finegayan (Guam).
Naval Computer and Telecommunications Area Master Station, Pacific | HI | Wahiawa (Oahu Is.).
Fort Detrick | MD | Frederick.
Nellis AFB | NV | Las Vegas.
Nevada Test Site | NV | Amargosa Valley.
Tonapah Test Range Airfield | NV | Tonapah.
Cannon AFB | NM | Clovis.
White Sands Missile Range | NM | White Sands.
Dyess AFB | TX | Abilene.
Fort Bliss | TX | El Paso.
Fort Sam Houston | TX | San Antonio.
Goodfellow AFB | TX | San Angelo.
Kelly AFB | TX | San Antonio.
Utah Test and Training Range | UT |
Fort Belvoir | VA | Alexandria.
Naval Satellite Operations Center | VA | Chesapeake.

(390) US390 Federal stations in the space research service (active) operating in the band 5350-5460 MHz shall not cause harmful interference to, nor claim protection from, Federal and non-Federal stations in the aeronautical radionavigation service nor Federal stations in the radiolocation service.

(391) US391 In the band 2495-2500 MHz, the mobile-satellite service (space-to-Earth) shall not receive protection from non-Federal stations in the fixed and mobile except aeronautical mobile services operating in that band.

(392)-(396) [Reserved]

(397) US397 In the band 432-438 MHz, the Earth exploration-satellite service (active) is allocated on a secondary basis for Federal use. Stations in the Earth exploration-satellite service (active) shall not be operated within line-of-sight of the United States except for the purpose of short duration pre-operational testing. Operations under this allocation shall not cause harmful interference to, nor claim protection from, any other services allocated in the band 432-438 MHz in the United States, including secondary services and the amateur-satellite service.

(398)-(401) [Reserved]

(402) US402 In the band 17.3-17.7 GHz, existing Federal satellites and associated earth stations in the fixed-satellite service (Earth-to-space) are authorized to operate on a primary basis in the frequency bands and areas listed below. Non-Federal receiving earth stations in the broadcasting-satellite and fixed-satellite services within the bands and areas listed below shall not claim protection from Federal earth stations in the fixed-satellite service.

(i) 17.600-17.700 GHz for stations within a 120 km radius of 38°49′ N latitude and 76°52′ W longitude.

(ii) 17.375-17.475 GHz for stations within a 160 km radius of 39°42′ N latitude and 104°45′ W longitude.

(403)-(430) [Reserved]

(431) US431B The band 3450-3550 MHz is allocated on a primary basis to the Federal radiolocation service and to the non-Federal fixed and mobile, except aeronautical mobile, services on a nationwide basis. Federal operations in the band 3450-3550 MHz shall not cause harmful interference to non-Federal operations, except under the following circumstances.

(i) Cooperative Planning Areas. Cooperative Planning Areas (CPAs) are geographic locations in which non-Federal operations shall coordinate with Federal systems in the band to deploy non-Federal operations in a manner that shall not cause harmful interference to Federal systems operating in the band. In addition, operators of non-Federal stations may be required to modify their operations (e.g., reduce power, filtering, adjust antenna pointing angles, shielding, etc.) to protect Federal operations against harmful interference and to avoid, where possible, interference and potential damage to the non-Federal operators' systems. In these areas, non-Federal operations may not claim interference protection from Federal systems. Federal and non-Federal operators may reach mutually acceptable operator-to-operator agreements to permit more extensive non-Federal use by identifying and mutually agreeing upon a technical approach that mitigates the interference risk to Federal operations. To the extent possible, Federal use in CPAs will be chosen to minimize operational impact on non-Federal users. Table 22 to this paragraph (c)(431) identifies the locations of CPAs, including, for information, those with high powered Federal operations. CPAs may also be Periodic Use Areas as described below. Coordination between Federal users and non-Federal licensees in CPAs shall be consistent with rules and procedures established by the FCC and NTIA.

(ii) Periodic Use Areas. Periodic Use Areas (PUAs) are geographic locations in which non-Federal operations in the band shall not cause harmful interference to Federal systems operating in the band for episodic periods. During these times and in these areas, Federal users will require interference protection from non-Federal operations. Operators of non-Federal stations may be required to temporarily modify their operations (e.g., reduce power, filtering, adjust antenna pointing angles, shielding, etc.) to protect Federal operations from harmful interference, which may include restrictions on non-Federal stations' ability to radiate at certain locations during specific periods of time. During such episodic use, non-Federal users in PUAs must alter their operations to avoid harmful interference to Federal systems' temporary use of the band, and during such times, non-Federal operations may not claim interference protection from Federal systems. Federal and non-Federal operators may reach mutually acceptable operator-to-operator agreements such that a Federal operator may not need to activate a PUA if a mutually agreeable technical approach mitigates the interference risk to Federal operations. To the extent possible, Federal use in PUAs will be chosen to minimize operational impact on non-Federal users. Coordination between Federal users and non-Federal licensees in PUAs shall be consistent with rules and procedures established by the FCC and NTIA. While all PUAs are co-located with CPAs, the exact geographic area used during periodic use may differ from the co-located CPA. The geographic locations of PUAs are identified in table 18 to this paragraph (c)(431). Restrictions and authorizations for the CPAs remain in effect during periodic use unless specifically relieved in the coordination process.

(iii) For the CPA at Little Rock, AR, after approximately 12 months from the close of the auction, non-Federal operations shall coordinate with Federal systems in only the 3450-3490 MHz band segment and the 3490-3550 MHz band segment will be available for non-federal use without coordination. At Fort Bragg, NC, non-Federal operations shall coordinate with Federal systems in only the 3450-3490 MHz band segment.

(iv) Table 22 to this paragraph (c)(431) identifies the coordinates for the location of each CPA and PUA. An area may be represented as either a polygon made up of several corresponding coordinates or a circle represented by a center point and a radius. If a CPA has a corresponding PUA, the PUA coordinates are provided. A location marked with an asterisk (*) indicates a high-power federal radiolocation facility. If a location includes a Shipboard Electronic Systems Evaluation Facility (SESEF) attached to a homeport, it specifies the associated SESEF.

Table 22 to Paragraph (c)(431)—Department of Defense Cooperative Planning Areas and Periodic Use Areas
Location name | State | CPA | PUA | Latitude | Longitude | Radius (km)
Little Rock | AR | Yes |  | 37°28′34″, 37°42′55″, 36°38′29″, 34°57′57″, 32°09′36″, 31°51′52″, 32°12′11″, 33°42′22″, 35°17′35″, 36°12′18″ | 94°28′24″, 88°54′36″, 87°52′34″, 88°09′26″, 92°06′54″, 93°10′35″, 94°37′07″, 95°49′52″, 96°23′06″, 96°08′46″ | N/A
Yuma Complex (includes Yuma Proving Grounds and MCAS Yuma) | AZ | Yes | Yes | 33°36′44″, 34°03′08″, 34°03′56″, 33°26′54″, 32°51′17″, 32°16′54″, 32°14′39″, 32°20′06″, 32°28′30″, 32°53′20″ | 115°10′44″, 114°41′08″, 114°05′56″, 113°03′54″, 113°02′17″, 113°45′54″, 114°40′39″, 114°55′06″, 115°02′30″, 115°09′20″ | N/A
Camp Pendleton | CA | Yes |  | 33°21′46″ | 117°25′25″ | 50
Edwards Air Force Base | CA | Yes | Yes | 35°19′16″, 35°17′54″, 35°11′43″, 35°00′52″, 34°44′17″, 34°34′16″, 34°26′55″, 34°28′59″, 34°41′36″, 35°07′32″ | 118°03′16″, 117°26′54″, 117°15′43″, 117°10′52″, 117°10′17″, 117°19′16″, 117°47′55″, 118°16′59″, 118°28′36″, 118°25′32″ | N/A
National Training Center | CA | Yes | Yes | 36°03′31″, 36°03′09″, 35°41′46″, 35°07′24″, 34°42′43″, 34°44′22″, 35°02′28″, 35°34′49″ | 117°00′45″, 116°20′43″, 115°44′31″, 115°44′09″, 116°17′58″, 117°05′19″, 117°35′18″, 117°27′37″ | N/A
Naval Air Weapons Station, China Lake * | CA | Yes | Yes | 36°36′42″, 35°54′45″, 35°00′01″, 34°54′34″, 35°44′22″, 36°30′18″ | 117°20′42″, 116°31′45″, 116°39′01″, 117°26′34″, 118°17′22″, 118°07′18″ | N/A
Point Mugu | CA | Yes | Yes | 34°06′44″ | 119°06′36″ | 38
San Diego * (includes Point Loma SESEF range) | CA | Yes |  | 33°4′10″, 32°27′19″, 32°33′29″, 32°47′16″, 33°1′20″, 33°20′36″, 33°24′36″, 32°52′54″, 33°04′10″ | 117°35′40″, 118°0′37″, 116°51′8″, 116°28′5″, 116°31′5″, 116°47′10″, 117°0′51″, 117°9′35″, 117°35′40″ | N/A
Twentynine Palms | CA | Yes |  | 34°06′44″ | 116°06′36″ | 75
Eglin Air Force Base (includes Santa Rosa Island & Cape San Blas site) | FL | Yes | Yes | Eglin and Santa Rosa Island: 30°29′28.5″ Cape San Blas: 29°40′37″ | Eglin and Santa Rosa Island: 86°45′00″ Cape San Blas: 85°20′50″ | 35
Mayport * (includes Mayport SESEF range) | FL | Yes |  | 30°23′42″ | 81°24′41″ | 64
Pensacola * | FL | Yes | Yes | 30°20′50″ | 87°18′40″ | 93
Joint Readiness Training Center | LA | Yes | Yes | 31°54′23″, 31°50′54″, 31°18′13″, 30°46′33″, 30°29′14″, 30°46′22″, 31°25′16″ | 93°20′53″, 92°52′46″, 92°26′31″, 92°28′32″, 93°4′1″, 93°41′26″, 94°3′19″ | N/A
Chesapeake Beach * | MD | Yes | Yes | 38°39′24″ | 76°31′41″ | 95
Naval Air Station, Patuxent River | MD | Yes | Yes | 38°26′22″, 38°51′51″, 38°28′11″, 38°03′40″ | 76°14′12″, 75°48′34″, 75°28′53″, 75°30′31″ | N/A
CPA |  |  |  | 37°45′33″, 37°34′34″, 37°38′10″, 38°09′32″, 38°18′46″, 38°26′59″ | 75°45′50″, 76°20′09″, 76°44′37″, 76°29′28″, 76°34′36″, 76°26′27″
PUA |  |  |  | 38°33′38″, 39°11′10″, 38°38′51″, 37°52′13″, 37°29′44″, 37°10′24″, 37°20′05″, 38°01′11″, 38°20′54″, 38°35′47″ | 76°07′29″, 75°29′28″, 75°00′40″, 75°03′24″, 75°22′25″, 76°16′42″, 77°06′52″, 76°36′06″, 76°46′41″, 76°30′02″
St. Inigoes * | MD | Yes | Yes | 38°08′41″ | 76°26′03″ | 87
Bath * | ME | Yes | Yes | 44°02′29″, 43°52′27″, 43°48′53″, 43°32′50″, 43°27′16″, 43°44′26″, 43°54′57″, 44°06′56″, 44°17′2″, 44°26′54″, 44°36′16″, 44°33′45″, 44°57′05″, 44°56′27″, 44°32′13″, 44°24′08″, 44°02′29″ | 70°10′41″, 70°10′29″, 70°01′6″, 69°57′30″, 69°42′52″, 69°13′52″, 69°24′50″, 69°25′13″, 69°16′56″, 69°45′13″, 69°56′50″, 70°04′01″, 70°14′55″, 70°19′38″, 70°08′17″, 70°36′36″, 70°10′41″ | N/A
Pascagoula * | MS | Yes | Yes | 30°20′42″ | 88°34′17″ | 80
Camp Lejeune | NC | Yes |  | 34°37′51″ | 77°24′28″ | 54
Cherry Point | NC | Yes |  | 34°54′57″ | 76°53′24″ | 38
Fort Bragg | NC | Yes |  | 37°35′01″, 37°45′56″, 37°22′33″, 36°38′56″, 34°43′13″, 33°29′44″, 33°24′04″, 34°01′05″, 35°27′24″, 36°27′46″ | 79°31′19″, 77°14′14″, 76°18′30″, 75°51′26″, 76°15′37″, 78°29′53″, 80°29′07″, 81°23′49″, 81°37′00″, 81°22′49″ | N/A
Portsmouth * | NH | Yes | Yes | 42°23′06″, 42°25′05″, 42°21′36″, 42°18′28″, 42°13′01″, 42°06′30″, 42°02′54″, 42°08′03″, 42°10′25″, 42°15′39″, 42°22′44″, 42°34′56″, 42°52′26″, 43°13′48″, 43°31′21″, 43°45′21″, 43°59′20″, 43°36′10″, 43°49′27″, 43°27′40″, 43°00′57″, 42°44′40″, 42°51′47″, 42°33′46″, 42°24′24″, 42°23′06″ | 71°10′23″, 71°05′43″, 71°00′54″, 70°54′35″, 70°44′53″, 70°41′11″, 70°37′44″, 70°33′35″, 70°20′54″, 70°02′39″, 69°48′42″, 69°36′01″, 69°26′24″, 69°28′18″, 69°40′13″, 70°01′31″, 70°30′21″, 70°52′5″, 71°15′22″, 71°24′47″, 71°53′01″, 71°56′37″, 71°27′07″, 71°27′12″, 71°21′10″, 71°10′23″ | N/A
Moorestown * | NJ | Yes | Yes | 40°27′26″, 40°02′54″, 39°48′19″, 39°38′27″, 39°24′59″, 39°17′18″, 39°22′16″, 39°29′35″, 39°54′43″, 40°15′03″, 40°23′29″, 40°42′46″, 40°50′59″, 40°52′49″, 40°47′42″, 40°33′25″, 40°27′26″ | 75°42′60″, 75°55′12″, 75°55′55″, 75°51′48″, 75°21′41″, 74°54′09″, 74°27′56″, 74°12′59″, 74°00′05″, 74°06′20″, 74°08′28″, 74°21′54″, 74°31′36″, 74°42′53″, 75°03′00″, 75°28′15″, 75°42′60″ | N/A
White Sands Missile Range | NM | Yes | Yes | 34°35′05″, 34°43′50″, 34°43′17″, 34°26′28″, 32°36′02″, 31°45′47″, 31°18′18″, 31°27′23″, 32°38′49″, 33°32′40″ | 107°06′05″, 106°46′50″, 106°03′17″, 105°26′28″, 104°55′02″, 105°22′47″, 106°06′18″, 106°54′23″, 107°25′49″, 107°27′40″ | N/A
Nevada Test and Training Range | NV | Yes | Yes | 35°58′48″, 36°38′22″, 36°22′37″, 36°54′03″, 37°58′01″, 38°59′48″, 38°58′35″, 37°52′34″, 36°20′30″, 36°21′15″ | 115°31′55″, 116°23′51″, 117°41′35″, 117°59′18″, 118°01′17″, 116°46′01″, 114°49′25″, 113°35′46″, 113°39′51″, 115°14′23″ | N/A
Fort Sill | OK | Yes | Yes | 35°03′39″, 35°10′31″, 34°42′54″, 34°13′49″, 34°13′46″, 34°38′26″ | 99°02′38″, 98°05′47″, 97°45′20″, 98°05′49″, 98°56′09″, 99°16′57″ | N/A
Tobyhanna Army Depot | PA | Yes |  | 41°30′25″, 41°38′51″, 41°31′41″, 41°11′31″, 40°52′07″, 40°44′53″, 40°51′43″, 41°07′40″ | 75°51′60″, 75°26′33″, 75°1′39″, 74°50′07″, 75°1′2″, 75°23′50″, 75°48′52″, 76°00′38″ | N/A
Dahlgren * | VA | Yes | Yes | 38°23′10″, 38°41′25″, 38°46′14″, 38°49′37″, 38°50′16″, 38°46′30″, 38°49′42″, 38°54′42″, 38°55′37″, 38°56′05″, 38°44′45″, 38°44′22″, 38°35′14″, 38°51′04″, 38°26′52″, 38°22′59″, 37°59′27″, 37°47′08″, 37°54′01″, 38°23′10″ | 76°23′21″, 76°35′56″, 76°44′44″, 76°54′57″, 76°58′18″, 77°01′57″, 77°04′08″, 77°7′35″, 77°12′04″, 77°23′5″, 77°25′23″, 77°28′48″, 77°36′11″, 78°12′06″, 78°29′02″, 77°42′19″, 77°28′26″, 76°53′47″, 76°06′14″, 76°23′21″ | N/A
Newport News * | VA | Yes | Yes | 36°58′24″ | 76°26′07″ | 93
Norfolk * (includes Fort Story SESEF range) | VA | Yes |  | 36°56′24″ | 76°19′55″ | 74
Wallops Island * | VA | Yes | Yes | 37°51′25″ | 75°27′59″ | 76
Bremerton * | WA | Yes | Yes | 47°28′40″, 47°31′16″, 47°31′13″, 47°34′12″, 47°45′36″, 47°59′07″, 48°12′20″, 47°39′46″, 47°39′12″, 47°45′23″, 47°44′48″, 47°57′40″, 47°31′15″, 47°35′53″, 47°27′33″, 47°27′07″, 47°24′25″, 47°23′07″, 47°28′33″, 46°50′25″, 46°53′09″, 47°28′40″ | 122°31′22″, 122°31′26″, 122°32′37″, 122°31′52″, 121°32′28″, 121°34′09″, 121°44′51″, 122°29′60″, 122°34′35″, 122°38′09″, 122°45′18″, 122°59′06″, 123°16′23″, 122°49′28″, 122°55′25″, 122°46′16″, 122°42′48″, 122°39′18″, 122°33′44″, 121°49′24″, 121°44′01″, 122°31′22″ | N/A
Everett * (includes Ediz Hook SESEF range) | WA | Yes |  | 47°51′11″, 47°25′13″, 47°54′45″, 47°36′60″, 47°51′57″, 48°35′49″, 48°00′8″, 47°51′10″ | 122°57′47″, 123°18′6″, 122°10′13″, 121°37′60″, 121°22′57″, 122°08′13″, 123°29′33″, 122°57′47″ | N/A

(432) [Reserved]

(433) US433 In the band 3550-3650 MHz, the following provisions shall apply to Federal use of the aeronautical radionavigation (ground-based) and radiolocation services and to non-Federal use of the fixed and mobile except aeronautical mobile services:

(i) Non-Federal stations in the fixed and mobile except aeronautical mobile services are restricted to stations in the Citizens Broadband Radio Service and shall not cause harmful interference to, or claim protection from, Federal stations in the aeronautical radionavigation (ground-based) and radiolocation services at the locations listed at: ntia.doc.gov/category/3550-3650-mhz. New and modified Federal stations shall be allowed at current or new locations, subject only to approval through the National Telecommunications and Information Administration frequency assignment process with new locations added to the list at: ntia.doc.gov/category/3550-3650-mhz. Coordination of the Federal stations with Citizens Broadband Radio Service licensees or users is not necessary. Federal operations, other than airborne radiolocation systems, shall be protected consistent with the procedures set forth in §§ 96.15 and 96.67 of this chapter.

(ii) Non-Federal fixed and mobile stations shall not claim protection from Federal airborne radar systems.

(iii) Federal airborne radar systems shall not claim protection from non-Federal stations in the fixed and mobile except aeronautical mobile services operating in the band.

(434)-(443) [Reserved]

(444) US444 The frequency band 5030-5150 MHz is to be used for the operation of the international standard system (microwave landing system) for precision approach and landing. In the frequency band 5030-5091 MHz, the requirements of this system shall have priority over other uses of this band. For the use of the frequency band 5091-5150 MHz, paragraph (c)(444(i) of this section and Resolution 114 (Rev.WRC-12) of the ITU Radio Regulations apply.

(i) US444A The band 5091-5150 MHz is also allocated to the fixed-satellite service (Earth-to-space) on a primary basis for non-Federal use. This allocation is limited to feeder links of non-geostationary satellite systems in the mobile-satellite service and is subject to coordination under No. 9.11A of the ITU Radio Regulations. In the band 5091-5150 MHz, the following conditions also apply:

(A) Prior to January 1, 2018, the use of the band 5091-5150 MHz by feeder links of non-geostationary-satellite systems in the mobile-satellite service shall be made in accordance with Resolution 114 (Rev.WRC-12);

(B) After January 1, 2016, no new assignments shall be made to earth stations providing feeder links of non-geostationary mobile-satellite systems; and

(C) After January 1, 2018, the fixed-satellite service will become secondary to the aeronautical radionavigation service.

(ii) US444B In the band 5091-5150 MHz, the following provisions shall apply to the aeronautical mobile service:

(A) Use is restricted to:

(1) Systems operating in the aeronautical mobile (R) service (AM(R)S) in accordance with international aeronautical standards, limited to surface applications at airports, and in accordance with Resolution 748 (Rev.WRC-12) (i.e., AeroMACS); and

(2) Aeronautical telemetry transmissions from aircraft stations (AMT) in accordance with Resolution 418 (Rev.WRC-12).

(B) Consistent with Radio Regulation No. 4.10, airport surface wireless systems operating in the AM(R)S have priority over AMT systems in the band.

(C) Operators of AM(R)S and AMT systems at the following airports are urged to cooperate with each other in the exchange of information about planned deployments of their respective systems so that the prospects for compatible sharing of the band are enhanced:

(1) Boeing Field/King County Intl Airport, Seattle, WA;

(2) Lambert-St. Louis Intl Airport, St. Louis, MO;

(3) Charleston AFB/Intl Airport, Charleston, SC;

(4) Wichita Dwight D. Eisenhower National Airport, Wichita, KS;

(5) Roswell Intl Air Center Airport, Roswell, NM; and

(6) William P. Gwinn Airport, Jupiter, FL. Other airports may be addressed on a case-by-case basis.

(D) Aeronautical fixed communications that are an integral part of the AeroMACS system authorized in paragraph (c)(444)(ii)(A)(1) of this section are also authorized on a primary basis.

(445)-(474) [Reserved]

(475) US475 The use of the band 9300-9500 MHz by the aeronautical radionavigation service is limited to airborne radars and associated airborne beacons. In addition, ground-based radar beacons in the aeronautical radionavigation service are permitted in the band 9300-9320 MHz on the condition that harmful interference is not caused to the maritime radionavigation service.

(476) US476A In the band 9300-9500 MHz, Federal stations in the Earth exploration-satellite service (active) and space research service (active) shall not cause harmful interference to, nor claim protection from, stations of the radionavigation and Federal radiolocation services.

(477)-(481) [Reserved]

(482) US482 In the band 10.6-10.68 GHz, the following provisions and urgings apply:

(i) Non-Federal use of the fixed service shall be restricted to point-to-point stations, with each station supplying not more than −3 dBW of transmitter power to the antenna, producing not more than 40 dBW of EIRP, and radiating at an antenna main beam elevation angle of 20° or less. Licensees holding a valid authorization on August 6, 2015 to operate in this band may continue to operate as authorized, subject to proper license renewal.

(ii) In order to minimize interference to the Earth exploration-satellite service (passive) receiving in this band, licensees of stations in the fixed service are urged to: (A) limit the maximum transmitter power supplied to the antenna to −15 dBW; and (B) employ automatic transmitter power control (ATPC). The maximum transmitter power supplied to the antenna of stations using ATPC may be increased by a value corresponding to the ATPC range, up to a maximum of −3 dBW.

(483)-(510) [Reserved]

(511) US511E The use of the band 15.4-15.7 GHz by the radiolocation service is limited to Federal systems requiring a necessary bandwidth greater than 1600 MHz that cannot be accommodated within the band 15.7-17.3 GHz except as described below. In the band 15.4-15.7 GHz, stations operating in the radiolocation service shall not cause harmful interference to, nor claim protection from, radars operating in the aeronautical radionavigation service. Radar systems operating in the radiolocation service shall not be developed solely for operation in the band 15.4-15.7 GHz. Radar systems requiring use of the band 15.4-15.7 GHz for testing, training, and exercises may be accommodated on a case-by-case basis.

(512)-(518) [Reserved]

(519) US519 The band 18-18.3 GHz is also allocated to the meteorological-satellite service (space-to-Earth) on a primary basis. Its use is limited to geostationary satellites and shall be in accordance with the provisions of Article 21, Table 21-4 of the ITU Radio Regulations.

(520)-(531) [Reserved]

(532) US532 In the bands 21.2-21.4 GHz, 22.21-22.5 GHz, and 56.26-58.2 GHz, the space research and Earth exploration-satellite services shall not receive protection from the fixed and mobile services operating in accordance with the Table of Frequency Allocations in this section.

(533)-(549) [Reserved]

(550) US550A In the band 36-37 GHz, the following provisions shall apply:

(i) For stations in the mobile service, the transmitter power supplied to the antenna shall not exceed −10 dBW, except that the maximum transmitter power may be increased to −3 dBW for stations used for public safety and disaster management.

(ii) For stations in the fixed service, the elevation angle of the antenna main beam shall not exceed 20° and the transmitter power supplied to the antenna shall not exceed:

(A) −5 dBW for hub stations of point-to-multipoint systems; or

(B) −10 dBW for all other stations, except that the maximum transmitter power of stations using automatic transmitter power control (ATPC) may be increased by a value corresponding to the ATPC range, up to a maximum of −7 dBW.

(551)-(564) [Reserved]

(565) US565 The following frequency bands in the range 275-1000 GHz are identified for passive service applications:

(i) Radio astronomy service: 275-323 GHz, 327-371 GHz, 388-424 GHz, 426-442 GHz, 453-510 GHz, 623-711 GHz, 795-909 GHz and 926-945 GHz;

(ii) Earth exploration-satellite service (passive) and space research service (passive): 275-286 GHz, 296-306 GHz, 313-356 GHz, 361-365 GHz, 369-392 GHz, 397-399 GHz, 409-411 GHz, 416-434 GHz, 439-467 GHz, 477-502 GHz, 523-527 GHz, 538-581 GHz, 611-630 GHz, 634-654 GHz, 657-692 GHz, 713-718 GHz, 729-733 GHz, 750-754 GHz, 771-776 GHz, 823-846 GHz, 850-854 GHz, 857-862 GHz, 866-882 GHz, 905-928 GHz, 951-956 GHz, 968-973 GHz and 985-990 GHz.

Note 10 to paragraph (c)(565): The use of the range 275-1000 GHz by the passive services does not preclude use of this range by active services. This provision does not establish priority of use in the United States Table of Frequency Allocations in this section, and does not preclude or constrain any active service use or future allocation of frequency bands in the 275-3000 GHz range.

(d) Non-Federal Government (NG) Footnotes. Non-Federal Government (non-Federal) footnotes, each in the format “NG” followed by one or more digits, denote stipulations applicable only to non-Federal operations and thus appear solely in the non-Federal Table. The list of non-Federal footnotes follows:

(1) NG1 The band 535-1705 kHz is also allocated to the mobile service on a secondary basis for the distribution of public service information from Travelers Information Stations operating in accordance with the provisions of § 90.242 of this chapter on 10 kilohertz spaced channels from 540 kHz to 1700 kHz.

(2) NG2 Facsimile broadcasting stations may be authorized in the band 88-108 MHz.

(3) NG3 Control stations in the domestic public mobile radio service may be authorized frequencies in the band 72-73 and 75.4-76 MHz on the condition that harmful interference will not be caused to operational fixed stations.

(4) NG4 The use of the frequencies in the band 152.84-153.38 MHz may be authorized, in any area, to remote pickup broadcast base and mobile stations on the condition that harmful interference will not be caused to stations operating in accordance with the Table of Frequency Allocations in this section.

(5) NG5 In the band 535-1705 kHz, AM broadcast licensees and permittees may use their AM carrier on a secondary basis to transmit signals intended for both broadcast and non-broadcast purposes. In the band 88-108 MHz, FM broadcast licensees and permittees are permitted to use subcarriers on a secondary basis to transmit signals intended for both broadcast and non-broadcast purposes. In the bands 54-72, 76-88, 174-216, 470-608, and 614-698 MHz, TV broadcast licensees and permittees are permitted to use subcarriers on a secondary basis for both broadcast and non-broadcast purposes. Use of the band 614-698 MHz is subject to the provisions specified in paragraph (d)(33) of this section.

(6) NG6 Stations in the public safety radio services authorized as of June 30, 1958, to use frequencies in the band 159.51-161.79 MHz in areas other than Puerto Rico and the Virgin Islands may continue such operation, including expansion of existing systems, on the condition that harmful interference will not be caused to stations in the services to which these bands are allocated. In Puerto Rico and the Virgin Islands this authority is limited to frequencies in the band 160.05-161.37 MHz. No new public radio service system will be authorized to operate on these frequencies.

(7) NG7 In the bands 2000-2065, 2107-2170, and 2194-2495 kHz, fixed stations associated with the maritime mobile service may be authorized, for purposes of communication with coast stations, to use frequencies assignable to ship stations in these bands on the condition that harmful interference will not be caused to services operating in accordance with the Table of Frequency Allocations in this section. See § 80.371(a) of this chapter for the list of available carrier frequencies.

(8) NG8 In the band 472-479 kHz, non-Federal stations in the maritime mobile service that were licensed or applied for prior to July 14, 2017 may continue to operate on a primary basis, subject to periodic license renewals.

(9)-(13) [Reserved]

(14) NG14 TV broadcast stations authorized to operate in the bands 54-72, 76-88, 174-216, 470-608, and 614-698 MHz may use a portion of the television vertical blanking interval for the transmission of telecommunications signals, on the condition that harmful interference will not be caused to the reception of primary services, and that such telecommunications services must accept any interference caused by primary services operating in these bands. Use of the band 614-698 MHz is subject to the provisions specified in paragraph (d)(33) of this section.

(15) [Reserved]

(16) NG16 In the bands 72-73 MHz and 75.4-76 MHz, frequencies may be authorized for mobile operations in the Industrial/Business Radio Pool, subject to not causing interference to the reception of broadcast television signals on channels 4 and 5.

(17) NG17 Stations in the land transportation radio services authorized as of May 15, 1958 to operate on the frequency 161.61 MHz may, upon proper application, continue to be authorized for such operation, including expansion of existing systems, on the condition that harmful interference will not be caused to the operation of any authorized station in the maritime mobile service. No new land transportation radio service system will be authorized to operate on 161.61 MHz.

(18)-(21) [Reserved]

(22) NG22 The frequencies 156.050 and 156.175 MHz may be assigned to stations in the maritime mobile service for commercial and port operations in the New Orleans Vessel Traffic Service (VTS) area and the frequency 156.250 MHz may be assigned to stations in the maritime mobile service for port operations in the New Orleans and Houston VTS areas.

(23)-(27) [Reserved]

(28) NG28 In Puerto Rico and the United States Virgin Islands, the band 160.86-161.4 MHz is available for assignment to remote pickup broadcast stations on a shared basis with stations in the Industrial/Business Pool.

(29) [Reserved]

(30) NG30 In Puerto Rico, the band 942-944 MHz is alternatively allocated to the fixed service (aural broadcast auxiliary stations).

(31) [Reserved]

(32) NG32 Frequencies in the bands 454.6625-454.9875 MHz and 459.6625-459.9875 MHz may be assigned to domestic public land and mobile stations to provide a two-way air-ground public radiotelephone service.

(33) NG33 In the band 614-698 MHz, the following provisions shall apply:

(i) Until July 13, 2020, stations in the broadcasting service and other authorized uses may operate as follows:

(A) Full power and Class A television (TV) stations, i.e., broadcast TV stations, may operate on a co-equal, primary basis with stations in the fixed and mobile services until such stations terminate operations on their pre-auction television channels in accordance with § 73.3700(b)(4) of this chapter.

(B) Low power TV (LPTV) and TV translator stations may operate on a secondary basis to stations in the fixed and mobile services and to broadcast TV stations, and fixed TV broadcast auxiliary stations may operate on a secondary basis to LPTV and TV translator stations, unless such stations are required to terminate their operations earlier in accordance with § 73.3700(g)(4) or § 74.602(h)(5) and (6) of this chapter.

(C) Low power auxiliary stations (LPAS), including wireless assist video devices (WAVDs), may operate on a secondary basis to all other authorized stations in accordance with §§ 74.802(f) and 74.870(i) of this chapter.

(D) Unlicensed wireless microphones and white space devices (WSDs) may operate on a non-interference basis, unless such devices are required to terminate operations earlier in accordance with § 15.236(c)(2) or § 15.707(a)(1), (2), and (5) of this chapter, respectively.

(ii) After July 13, 2020, only the following types of radiofrequency devices that are authorized in paragraph (d)(33)(i) of this section may continue to operate:

(A) LPTV and TV translator stations may operate on a secondary basis to stations in the fixed and mobile services in the sub-bands 617-652 MHz and 663-698 MHz until required to terminate their operations in accordance with § 73.3700(g)(4) of this chapter.

(B) LPAS may operate in the sub-band 653-657 MHz and unlicensed wireless microphones may operate in the sub-bands 614-616 MHz and 657-663 MHz.

(C) WSDs may operate in:

(1) The sub-bands 617-652 MHz and 663-698 MHz, except in those areas where their use is prohibited in accordance with §§ 15.707(a)(5) and 15.713(b)(2)(iv) of this chapter, and

(2) The sub-band 657-663 MHz, in accordance with § 15.707(a)(4) of this chapter.

(34) NG34 The bands 758-775 MHz and 788-805 MHz are available for assignment to the public safety services, as described in part 90 of this chapter.

(35) NG35 Frequencies in the bands 928-929 MHz, 932-932.5 MHz, 941-941.5 MHz, and 952-960 MHz may be assigned for multiple address systems and associated mobile operations on a primary basis.

(36)-(40) [Reserved]

(41) NG41 In the band 2120-2180 MHz, the following provisions shall apply to grandfathered stations in the fixed service:

(i) In the sub-band 2160-2162 MHz, authorizations in the Broadband Radio Service (BRS) applied for after January 16, 1992 shall be granted on a secondary basis to Advanced Wireless Services (AWS). In the band 2150-2162 MHz, all other BRS stations shall operate on a primary basis until December 9, 2021, and may continue to operate on a secondary basis thereafter, unless said facility is relocated in accordance with §§ 27.1250 through 27.1255 of this chapter.

(ii) In the sub-band 2160-2180 MHz, fixed stations authorized pursuant to part 101 of this chapter may continue to operate on a secondary basis to AWS.

(42)-(49) [Reserved]

(50) NG50 In the band 10-10.5 GHz, non-Federal stations in the radiolocation service shall not cause harmful interference to the amateur service; and in the sub-band 10.45-10.5 GHz, these stations shall not cause harmful interference to the amateur-satellite service.

(51) NG51 In Puerto Rico and the United States Virgin Islands, the use of band 150.8-151.49 MHz by the fixed and land mobile services is limited to stations in the Industrial/Business Pool.

(52) NG52 Except as provided for by paragraph (d)(527) of this section, use of the bands 10.7-11.7 GHz (space-to-Earth) and 12.75-13.25 GHz (Earth-to-space) by geostationary satellites in the fixed-satellite service (FSS) shall be limited to international systems, i.e., other than domestic systems.

(53) NG53 In the band 13.15-13.25 GHz, the following provisions shall apply:

(i) The sub-band 13.15-13.2 GHz is reserved for television pickup (TVPU) and cable television relay service (CARS) pickup stations inside a 50 km radius of the 100 television markets delineated in § 76.51 of this chapter; and outside these areas, TVPU stations, CARS stations and non-geostationary satellite orbit fixed-satellite service (NGSO FSS) gateway earth stations operate on a co-primary basis.

(ii) The sub-band 13.2-13.2125 GHz is reserved for TVPU stations on a primary basis and for CARS pickup stations on a secondary basis inside a 50 km radius of the 100 television markets delineated in § 76.51 of this chapter; and outside these areas, TVPU stations and NGSO FSS gateway earth stations operate on a co-primary basis and CARS stations operate on a secondary basis.

(iii) In the band 13.15-13.25 GHz, fixed television auxiliary stations licensed pursuant to applications accepted for filing before September 1, 1979, may continue operation, subject to periodic license renewals.

(iv) In the sub-band 13.15-13.2125 GHz, NGSO FSS gateway uplink transmissions shall be limited to a maximum e.i.r.p. of 3.2 dBW towards 0° on the radio horizon.

Note 11 to paragraph (d)(53): The provisions of paragraphs (d)(53)(i) through (iii) of this section shall not apply to geostationary satellite orbit (GSO) FSS operations in the band 12.75-13.25 GHz.

(54)-(55) [Reserved]

(56) NG56 In the bands 72-73 and 75.4-76 MHz, the use of mobile radio remote control of models is on a secondary basis to all other fixed and mobile operations. Such operations are subject to the condition that interference will not be caused to common carrier domestic public stations, to remote control of industrial equipment operating in the band 72-76 MHz, or to the reception of television signals on channels 4 (66-72 MHz) or 5 (76-82 MHz). Television interference shall be considered to occur whenever reception of regularly used television signals is impaired or destroyed, regardless of the strength of the television signal or the distance to the television station.

(57) NG57 The use of the band 12.75-13.25 GHz by non-geostationary-satellite systems in the fixed-satellite service is limited to communications with individually licensed earth stations.

(58) NG58 In the band 17.3-17.8 GHz, the following provisions shall apply to the broadcasting-satellite, fixed, and fixed-satellite services:

(i) The use of the band 17.3-17.8 GHz by the broadcasting-satellite and fixed-satellite (space-to-Earth) services is limited to geostationary satellites.

(ii) The use of the band 17.3-17.8 GHz by the fixed-satellite service (Earth-to-space) is limited to feeder links for broadcasting-satellite service.

(iii) The use of the band 17.7-17.8 GHz by the broadcasting-satellite service is limited to receiving earth stations located outside of the United States and its insular areas.

(iv) In the band 17.7-17.8 GHz, earth stations in the fixed-satellite service may be authorized for the reception of FSS emissions from geostationary satellites, subject to the condition that these earth stations shall not claim protection from transmissions of non-Federal stations in the fixed service that operate in that band.

(59) NG59 The frequencies 37.60 and 37.85 MHz may be authorized only for use by base, mobile, and operational fixed stations participating in an interconnected or coordinated power service utility system.

(60) NG60 In the band 31-31.3 GHz, for stations in the fixed service authorized after August 6, 2018, the unwanted emissions power in any 100 MHz of the 31.3-31.5 GHz Earth exploration-satellite service (passive) band shall be limited to −38 dBW (−38 dBW/100 MHz), as measured at the input to the antenna.

(61) [Reserved]

(62) NG62 In the bands 28.5-29.1 GHz and 29.25-29.5 GHz, stations in the fixed-satellite service shall not cause harmful interference to, or claim protection from, stations in the fixed service operating under the following call signs: KEB35, KGB72, KGC79, KIL20, KME49, KQG58, KQH74, KSA96, KSE73, KVH83, KYJ33, KZS88, WAX78, WLT380, WMK817, WML443, WMP367, and WSL69.

(63) NG63 In the band 37.5-40 GHz, earth station operations in the fixed-satellite service (space-to-Earth) shall not claim protection from stations in the fixed and mobile services, except where individually licensed earth stations are authorized pursuant to § 25.136 of this chapter.

(64) [Reserved]

(65) NG65 In the bands 24.75-25.25 GHz, 47.2-48.2 GHz, and 50.4-51.4 GHz, stations in the fixed and mobile services may not claim protection from individually licensed earth stations authorized pursuant to § 25.136 of this chapter. However, nothing in this footnote shall limit the right of Upper Microwave Flexible Use Service licensees to operate in conformance with the technical rules contained in part 30 of this chapter. The Commission reserves the right to monitor developments and to undertake further action concerning interference between Upper Microwave Flexible Use Service and Fixed-Satellite Service, including aggregate interference to satellite receivers, if appropriate.

(66) NG66 The band 470-512 MHz (TV channels 14-20) is allocated to the broadcasting service on an exclusive basis throughout the United States and its insular areas, except as described in paragraphs (d)(66)(i) through (iv) of this section:

(i) In the urbanized areas listed in table 23 to this paragraph (d)(66)(i), the indicated frequency bands are allocated to the land mobile service on an exclusive basis for assignment to eligibles in the Public Mobile Services, the Public Safety Radio Pool, and the Industrial/Business Radio Pool, except that:

(A) Licensees in the land mobile service that are regulated as Commercial Mobile Radio Service (CMRS) providers may also use their assigned spectrum to provide fixed service on a primary basis.

(B) The use of the band 482-488 MHz (TV channel 16) is limited to eligibles in the Public Safety Radio Pool in or near:

(1) The Los Angeles urbanized area; and

(2) New York City; Nassau, Suffolk, and Westchester Counties in New York State; and Bergen County, NJ.

Table 23 to Paragraph (d)(66)(i)
Urbanized area | Bands (MHz) | TV channels
Boston, MA | 470-476, 482-488 | 14, 16
Chicago, IL-Northwestern IN | 470-476, 476-482 | 14, 15
Cleveland, OH | 470-476, 476-482 | 14, 15
Dallas-Fort Worth, TX | 482-488 | 16
Detroit, MI | 476-482, 482-488 | 15, 16
Houston, TX | 488-494 | 17
Los Angeles, CA | 470-476, 482-488, 506-512 | 14, 16, 20
Miami, FL | 470-476 | 14
New York, NY-Northeastern NJ | 470-476, 476-482, 482-488 | 14, 15, 16
Philadelphia, PA-NJ | 500-506, 506-512 | 19, 20
Pittsburgh, PA | 470-476, 494-500 | 14, 18
San Francisco-Oakland, CA | 482-488, 488-494 | 16, 17
Washington, DC-MD-VA | 488-494, 494-500 | 17, 18

(ii) In the Gulf of Mexico offshore from the Louisiana-Texas coast, the band 476-494 MHz (TV channels 15-17) is allocated to the fixed and mobile services on a primary basis for assignment to eligibles in the Public Mobile and Private Land Mobile Radio Services.

(iii) In Hawaii, the band 488-494 MHz (TV channel 17) is allocated exclusively to the fixed service for use by common carrier control and repeater stations for point-to-point inter-island communications only.

(iv) The use of these allocations is further subject to the conditions set forth in parts 22 and 90 of this chapter.

(67)-(69) [Reserved]

(70) NG70 In Puerto Rico and the Virgin Islands only, the bands 159.240-159.435 and 160.410-160.620 MHz are also available for assignment to base stations and mobile stations in the special industrial radio service.

(71)-(91) [Reserved]

(92) NG92 The band 1900-2000 kHz is also allocated on a primary basis to the maritime mobile service in Regions 2 and 3 and to the radiolocation service in Region 2, and on a secondary basis to the radiolocation service in Region 3. The use of these allocations is restricted to radio buoy operations on the open sea and the Great Lakes. Stations in the amateur, maritime mobile, and radiolocation services in Region 2 shall be protected from harmful interference only to the extent that the offending station does not operate in compliance with the technical rules applicable to the service in which it operates.

(93)-(110) [Reserved]

(111) NG111 The band 157.4375-157.4625 MHz may be used for one way paging operations in the special emergency radio service.

(112) NG112 The frequencies 25.04, 25.08, 150.980, 154.585, 158.445, 159.480, 454.000 and 459.000 MHz may be authorized to stations in the Industrial/Business Pool for use primarily in oil spill containment and cleanup operations and secondarily in regular land mobile communication.

(113)-(114) [Reserved]

(115) NG115 In the bands 54-72 MHz, 76-88 MHz, 174-216 MHz, 470-608 MHz, and 614-698 MHz, wireless microphones and wireless assist video devices may be authorized on a non-interference basis, subject to the terms and conditions set forth in part 74, subpart H of this chapter.

(116)-(117) [Reserved]

(118) NG118 In the bands 2025-2110 MHz, 6875-7125 MHz, and 12.7-13.25 GHz, television translator relay stations may be authorized to use frequencies on a secondary basis to other stations in the Television Broadcast Auxiliary Service that are operating in accordance with the Table of Frequency Allocations in this section.

(119)-(123) [Reserved]

(124) NG124 In the bands 30.85-34, 37-38, 39-40, 42-47.41, 150.995-156.25, 158.715-159.465, 453.0125-453.9875, 458.0125-458.9875, 460.0125-465.6375, and 467.9375-467.9875 MHz, police licensees are authorized to operate low power transmitters on a secondary basis in accordance with the provisions of §§ 2.803 and 90.20(e)(5) of this chapter.

(125)-(140) [Reserved]

(141) NG141 In Alaska, the frequencies 42.4 MHz and 44.1 MHz are authorized on a primary basis for meteor burst communications by fixed stations in the Rural Radio Service operating under the provisions of part 22 of this chapter. In Alaska, the frequencies 44.2 MHz and 45.9 MHz are authorized on a primary basis for meteor burst communications by fixed private radio stations operating under the provisions of part 90 of this chapter. The private radio station frequencies may be used by Common Carrier stations on a secondary, noninterference basis and the Common Carrier frequencies may be used by private radio stations for meteor burst communications on a secondary, noninterference basis. Users shall cooperate to the extent practical to minimize potential interference. Stations utilizing meteor burst communications shall not cause harmful interference to stations of other radio services operating in accordance with the Table of Frequency Allocations in this section.

(142) [Reserved]

(143) NG143 In the band 11.7-12.2 GHz, protection from harmful interference shall be afforded to transmissions from space stations not in conformance with ITU Radio Regulation No. 5.488 only if the operations of such space stations impose no unacceptable constraints on operations or orbit locations of space stations in conformance with No. 5.488.

(144)-(146) [Reserved]

(147) NG147 In the band 2483.5-2500 MHz, non-Federal stations in the fixed and mobile services that are licensed under part 74, 90, or 101 of this chapter, which were licensed as of July 25, 1985, and those whose initial applications were filed on or before July 25, 1985, may continue to operate on a primary basis with the mobile-satellite and radiodetermination-satellite services, and in the sub-band 2495-2500 MHz, these grandfathered stations may also continue to operate on a primary basis with stations in the fixed and mobile except aeronautical mobile services that are licensed under part 27 of this chapter.

(148) NG148 The frequencies 154.585 MHz, 159.480 MHz, 160.725 MHz, 160.785 MHz, 454.000 MHz and 459.000 MHz may be authorized to maritime mobile stations for offshore radiolocation and associated telecommand operations.

(149) NG149 The bands 54-72 MHz, 76-88 MHz, 174-216 MHz, 470-512 MHz, 512-608 MHz, and 614-698 MHz are also allocated to the fixed service to permit subscription television operations in accordance with part 73 of this chapter. Use of the band 614-698 MHz is subject to the provisions specified in paragraph (d)(33) of this section.

(150)-(151) [Reserved]

(152) NG152 The use of the band 219-220 MHz by the amateur service is limited to stations participating, as forwarding stations, in point-to-point fixed digital message forwarding systems, including intercity packet backbone networks.

(153)-(154) [Reserved]

(155) NG155 The bands 159.500-159.675 MHz and 161.375-161.550 MHz are allocated to the maritime service as described in part 80 of this chapter. Additionally, the frequencies 159.550, 159.575 and 159.600 MHz are available for low-power intership communications.

(156)-(158) [Reserved]

(159) NG159 In the band 698-806 MHz, stations authorized under part 74, subparts F and G of this chapter may continue to operate indefinitely on a secondary basis to all other stations operating in that band.

(160) NG160 In the band 5895-5925 MHz, the use of the non-Federal mobile service is limited to operations in the Intelligent Transportation System radio service.

(161)-(163) [Reserved]

(164) NG164 The use of the band 18.6-18.8 GHz by the fixed-satellite service is limited to geostationary-satellite networks.

(165) NG165 In the bands 18.8-19.3 GHz and 28.6-29.1 GHz, geostationary-satellite networks in the fixed-satellite service shall not cause harmful interference to, or claim protection from, non-geostationary-satellite systems in the fixed-satellite service.

(166) NG166 The use of the bands 19.4-19.6 GHz and 29.1-29.25 GHz by the fixed-satellite service is limited to feeder links for non-geostationary-satellite systems in the mobile-satellite service.

(167)-(168) [Reserved]

(169) NG169 After December 1, 2000, operations on a primary basis by the fixed-satellite service (space-to-Earth) in the band 3650-3700 MHz shall be limited to grandfathered earth stations. All other fixed-satellite service earth station operations in the band 3650-3700 MHz shall be on a secondary basis. Grandfathered earth stations are those authorized prior to December 1, 2000, or granted as a result of an application filed prior to December 1, 2000, and constructed within 12 months of initial authorization. License applications for primary operations for new earth stations, major amendments to pending earth station applications, or applications for major modifications to earth station facilities filed on or after December 18, 1998, and prior to December 1, 2000, shall not be accepted unless the proposed facilities are within 16.1 kilometers (10 miles) of an authorized primary earth station operating in the band 3650-3700 MHz. License applications for primary operations by new earth stations, major amendments to pending earth station applications, and applications for major modifications to earth station facilities, filed after December 1, 2000, shall not be accepted, except for changes in polarization, antenna orientation or ownership of a grandfathered earth station.

(170) [Reserved]

(171) NG171 In the band 6875-7125 MHz, the following two channels should be used for airborne TV pickup stations, wherever possible: 7075-7100 MHz and 7100-7125 MHz.

(172) NG172 In the band 7025-7075 MHz, use of the primary fixed-satellite service (space-to-Earth) allocation shall be limited to two grandfathered satellite systems. Associated earth stations located within 300 meters of the following locations shall be grandfathered:

(i) In the band 7025-7075 MHz, Brewster, WA (48°08′46.7″ N, 119°42′8.0″ W); and

(ii) In the sub-band 7025-7055 MHz, Clifton, TX (31° 47′58.5″ N, 97°36′46.7″ W) and Finca Pascual, PR (17°58′41.8″ N, 67°8′12.6″ W).

(173) NG173 In the band 216-220 MHz, secondary telemetry operations are permitted subject to the requirements of § 90.259 of this chapter. After January 1, 2002, no new assignments shall be authorized in the sub-band 216-217 MHz.

(174) [Reserved]

(175) NG175 In the band 38.6-40 GHz, television pickup stations that were authorized on or before April 16, 2003, may continue to operate on a secondary basis to stations operating in accordance with the Table of Frequency Allocations in this section.

(176)-(181) [Reserved]

(182) NG182 In the band 3700-4200 MHz, the following provisions shall apply:

(i) Except as provided in paragraph (d)(182)(iii)(A) of this section, any currently authorized space stations serving the contiguous United States may continue to operate on a primary basis, but no applications for new space station authorizations or new petitions for market access shall be accepted for filing after June 21, 2018, other than applications by existing operators in the band seeking to make more efficient use of the band 4000-4200 MHz. Applications for extension, cancellation, replacement, or modification of existing space station authorizations in the band will continue to be accepted and processed normally.

(ii) In areas outside the contiguous United States, the band 3700-4000 MHz is also allocated to the fixed-satellite service (space-to-Earth) on a primary basis.

(iii) In the contiguous United States, i.e., the contiguous 48 states and the District of Columbia as defined by Partial Economic Areas Nos. 1-41, 43-211, 213-263, 265-297, 299-359, and 361-411, which includes areas within 12 nautical miles of the U.S. Gulf coastline (see § 27.6(m) of this chapter), the following provisions apply:

(A) Incumbent use of the fixed-satellite service (space-to-Earth) in the band 3700-4000 MHz is subject to the provisions of §§ 25.138, 25.147, 25.203(n) and part 27, subpart O of this chapter;

(B) Fixed service licensees authorized as of April 19, 2018, pursuant to part 101 of this chapter, must self-relocate their point-to-point links out of the band 3700-4200 MHz by December 5, 2023;

(C) In the band 3980-4000 MHz, no new fixed or mobile operations will be permitted until specified by Commission rule, order, or notice.

(183)-(184) [Reserved]

(185) NG185 In the band 3650-3700 MHz, the use of the non-Federal fixed-satellite service (space-to-Earth) is limited to international inter-continental systems.

(186)-(337) [Reserved]

(338) NG338A In the bands 1390-1395 MHz and 1427-1435 MHz, licensees are encouraged to take all reasonable steps to ensure that unwanted emissions power does not exceed the following levels in the band 1400-1427 MHz:

(i) For stations of point-to-point systems in the fixed service: −45 dBW/27 MHz.

(ii) For stations in the mobile service (except for devices authorized by the FCC for the Wireless Medical Telemetry Service): −60 dBW/27 MHz.

(339)-(456) [Reserved]

(457) NG457A Earth stations on vessels (ESVs), as regulated under part 25 of this chapter, are an application of the fixed-satellite service and the following provisions shall apply:

(i) In the band 3700-4200 MHz, ESVs may be authorized to receive FSS signals from geostationary satellites. ESVs in motion are subject to the condition that these earth stations may not claim protection from transmissions of non-Federal stations in the fixed and mobile except aeronautical mobile services. While docked, ESVs receiving in the band 4000-4200 MHz may be coordinated for up to 180 days, renewable. Paragraph d(182) of this section applies to incumbent licensees that provide service to ESVs in the band 3700-4000 MHz.

(ii) In the band 5925-6425 MHz, ESVs may be authorized to transmit to geostationary satellites on a primary basis.

(458)-(526) [Reserved]

(527) NG527A Earth Stations in Motion (ESIMs), as regulated under part 25 of this chapter, are an application of the fixed-satellite service (FSS) and the following provisions shall apply:

(i) In the bands 10.7-11.7 GHz, 19.3-19.4 GHz, and 19.6-19.7 GHz, ESIMs may be authorized for the reception of FSS emissions from geostationary and non-geostationary satellites, subject to the conditions that these earth stations may not claim protection from transmissions of non-Federal stations in the fixed service and that non-geostationary-satellite systems not cause unacceptable interference to, or claim protection from, geostationary-satellite networks.

(ii) In the bands 11.7-12.2 GHz (space-to-Earth), 14.0-14.5 GHz (Earth-to-space), 18.3-18.8 GHz (space-to-Earth), 19.7-20.2 GHz (space-to-Earth), 28.35-28.6 GHz (Earth-to-space), and 29.25-30.0 GHz (Earth-to-space), ESIMs may be authorized to communicate with geostationary satellites on a primary basis.

(iii) In the bands 11.7-12.2 GHz (space-to-Earth), 14.0-14.5 GHz (Earth-to-space), 18.3-18.6 GHz (space-to-Earth), 19.7-20.2 GHz (space-to-Earth), 28.4-28.6 GHz (Earth-to-space), and 29.5-30.0 GHz (Earth-to-space), ESIMs may be authorized to communicate with non-geostationary satellites, subject to the condition that non-geostationary-satellite systems may not cause unacceptable interference to, or claim protection from, geostationary-satellite networks.

(iv) In the band 17.8-18.3 GHz, ESIMs may be authorized for the reception of FSS emissions from geostationary and non-geostationary satellites on a secondary basis, subject to the condition that non-geostationary-satellite systems not cause unacceptable interference to, or claim protection from, geostationary-satellite networks.

(v) In the bands 18.8-19.3 GHz (space-to-Earth) and 28.6-29.1 GHz (Earth-to-space), ESIMs may be authorized to communicate with geostationary and non-geostationary satellites, subject to the condition that geostationary-satellite networks may not cause unacceptable interference to, or claim protection from, non-geostationary satellite systems in the fixed-satellite service.

(vi) In the band 17.3-17.8 GHz, ESIMs may be authorized for the reception of FSS emissions from geostationary satellites on an unprotected basis.

(528)-(534) [Reserved]

(535) NG535A The use of the band 29.25-29.5 GHz by the fixed-satellite service is limited to geostationary-satellite networks and to feeder links for non-geostationary-satellite systems in the mobile-satellite service.

(e) Federal Government (G) footnotes. Federal Government (Federal) footnotes, each in the format ”G” followed by one or more digits, denote stipulations applicable only to Federal operations and thus appear solely in the Federal Table. The list of Federal footnotes follows:

(1) [Reserved]

(2) G2 In the bands 216.965-216.995 MHz, 420-450 MHz (except as provided for in G129), 890-902 MHz, 928-942 MHz, 1300-1390 MHz, 2310-2390 MHz, 2417-2450 MHz, 2700-2900 MHz, 3300-3500 MHz, 5650-5925 MHz, and 9000-9200 MHz, use of the Federal radiolocation service is restricted to the military services.

(3)-(4) [Reserved]

(5) G5 In the bands 162.0125-173.2, 173.4-174, 406.1-410 and 410-420 MHz, use by the military services is limited by the provisions specified in the channeling plans shown in Sections 4.3.7 and 4.3.9 of the NTIA Manual.

(6) G6 Military tactical fixed and mobile operations may be conducted nationally on a secondary basis:

(i) To the meteorological aids service in the band 403-406 MHz; and

(ii) To the radio astronomy service in the band 406.1-410 MHz. Such fixed and mobile operations are subject to local coordination to ensure that harmful interference will not be caused to the services to which the bands are allocated.

(7) [Reserved]

(8) G8 Low power Federal radio control operations are permitted in the band 420-450 MHz.

(9)-(10) [Reserved]

(11) G11 Federal fixed and mobile radio services, including low power radio control operations, are permitted in the band 902-928 MHz on a secondary basis.

(12)-(14) [Reserved]

(15) G15 Use of the band 2700-2900 MHz by the military fixed and shipborne air defense radiolocation installations will be fully coordinated with the meteorological aids and aeronautical radionavigation services. The military air defense installations will be moved from the band 2700-2900 MHz at the earliest practicable date. Until such time as military air defense installations can be accommodated satisfactorily elsewhere in the spectrum, such operations will, insofar as practicable, be adjusted to meet the requirements of the aeronautical radionavigation service.

(16)-(18) [Reserved]

(19) G19 Use of the band 9000-9200 MHz by military fixed and shipborne air defense radiolocation installations will be fully coordinated with the aeronautical radionavigation service, recognizing fully the safety aspects of the latter. Military air defense installations will be accommodated ultimately out-side this band. Until such time as military defense installations can be accommodated satisfactorily elsewhere in the spectrum such operations will, insofar as practicable, be adjusted to meet the requirements of the aeronautical radionavigation services.

(20)-(26) [Reserved]

(27) G27 In the bands 225-328.6 MHz, 335.4-399.9 MHz, and 1350-1390 MHz, the fixed and mobile services are limited to the military services.

(28)-(29) [Reserved]

(30) G30 In the bands 138-144 MHz, 148-149.9 MHz, and 150.05-150.8 MHz, the fixed and mobile services are limited primarily to operations by the military services.

(31) [Reserved]

(32) G32 Except for weather radars on meteorological satellites in the band 9.975-10.025 GHz and for Federal survey operations (see footnote US108), Federal radiolocation in the band 10-10.5 GHz is limited to the military services.

(33) [Reserved]

(34) G34 In the band 34.4-34.5 GHz, weather radars on board meteorological satellites for cloud detection are authorized to operate on the basis of equality with military radiolocation devices. All other non-military radiolocation in the band 33.4-36.0 GHz shall be secondary to the military services.

(35)-(41) [Reserved]

(42) G42 The space operation service (Earth-to-space) is limited to the band 1761-1842 MHz, and is limited to space command, control, range and range rate systems.

(43)-(55) [Reserved]

(56) G56 Federal radiolocation in the bands 1215-1300, 2900-3100, 5350-5650 and 9300-9500 MHz is primarily for the military services; however, limited secondary use is permitted by other Federal agencies in support of experimentation and research programs. In addition, limited secondary use is permitted for survey operations in the band 2900-3100 MHz.

(57)-(58) [Reserved]

(59) G59 In the bands 902-928 MHz, 3100-3300 MHz, 3500-3650 MHz, 5250-5350 MHz, 8500-9000 MHz, 9200-9300 MHz, 13.4-14.0 GHz, 15.7-17.7 GHz and 24.05-24.25 GHz, all Federal non-military radiolocation shall be secondary to military radiolocation, except in the sub-band 15.7-16.2 GHz airport surface detection equipment (ASDE) is permitted on a co-equal basis subject to coordination with the military departments.

(60)-(99) [Reserved]

(100) G100 The bands 235-322 MHz and 335.4-399.9 MHz are also allocated on a primary basis to the mobile-satellite service, limited to military operations.

(101)-(103) [Reserved]

(104) G104 In the bands 7450-7550 and 8175-8215 MHz, it is agreed that although the military space radio communication systems, which include earth stations near the proposed meteorological-satellite installations will precede the meteorological-satellite installations, engineering adjustments to either the military or the meteorological-satellite systems or both will be made as mutually required to assure compatible operations of the systems concerned.

(105)-(108) [Reserved]

(109) G109 All assignments in the band 157.0375-157.1875 MHz are subject to adjustment to other frequencies in this band as long term U.S. maritime VHF planning develops, particularly that planning incident to support of the National VHF-FM Radiotelephone Safety and Distress System (See Doc. 15624/1-1.9.111/1.9.125).

(110) G110 Federal ground-based stations in the aeronautical radionavigation service may be authorized between 3500-3650 MHz when accommodation in the band 2700-2900 MHz is not technically and/or economically feasible.

(111)-(113) [Reserved]

(114) G114 The band 1369.05-1390 MHz is also allocated to the fixed-satellite service (space-to-Earth) and to the mobile-satellite service (space-to-Earth) on a primary basis for the relay of nuclear burst data.

(115) G115 In the band 13 360-13 410 kHz, the fixed service is allocated on a primary basis outside the conterminous United States. Within the conterminous United States, assignments in the fixed service are permitted, and will be protected for national defense purposes or, if they are to be used only in an emergency jeopardizing life, public safety, or important property under conditions calling for immediate communication where other means of communication do not exist.

(116) G116 The band 7125-7155 MHz is also allocated for Earth-to-space transmissions in the Space Operations Service at a limited number of sites (not to exceed two), subject to established coordination procedures.

(117) G117 In the bands 7.25-7.75 GHz, 7.9-8.4 GHz, 17.375-17.475 GHz, 17.6-21.2 GHz, 30-31 GHz, 33-36 GHz, 39.5-41 GHz, 43.5-45.5 GHz and 50.4-51.4 GHz, the Federal fixed-satellite and mobile-satellite services are limited to military systems.

(118)-(119) [Reserved]

(120) G120 Development of airborne primary radars in the band 2360-2390 MHz with peak transmitter power in excess of 250 watts for use in the United States is not permitted.

(121) [Reserved]

(122) G122 In the bands 2300-2310 MHz, 2395-2400 MHz, 2400-2417 MHz, and 4940-4990 MHz, Federal operations may be authorized on a non-interference basis to authorized non-Federal operations, and shall not constrain the implementation of any non-Federal operations.

(123)-(126) [Reserved]

(127) G127 Federal Travelers Information Stations (TIS) on 1610 kHz have co-primary status with AM Broadcast assignments. Federal TIS authorized as of August 4, 1994, preclude subsequent assignment for conflicting allotments.

(128) G128 Use of the band 56.9-57 GHz by inter-satellite systems is limited to transmissions between satellites in geostationary orbit, to transmissions between satellites in geostationary satellite orbit and those in high-Earth orbit, to transmissions from satellites in geostationary satellite orbit to those in low-Earth orbit, and to transmissions from non-geostationary satellites in high-Earth orbit to those in low-Earth orbit. For links between satellites in the geostationary satellite orbit, the single entry power flux-density at all altitudes from 0 km to 1000 km above the Earth's surface, for all conditions and for all methods of modulation, shall not exceed −147 dB (W/m²/100 MHz) for all angles of arrival.

(129) G129 Federal wind profilers are authorized to operate on a primary basis in the radiolocation service in the frequency band 448-450 MHz with an authorized bandwidth of no more than 2 MHz centered on 449 MHz, subject to the following conditions:

(i) Wind profiler locations must be pre-coordinated with the military services to protect fixed military radars; and

(ii) Wind profiler operations shall not cause harmful interference to, nor claim protection from, military mobile radiolocation stations that are engaged in critical national defense operations.

(130) G130 Federal stations in the radiolocation service operating in the band 5350-5470 MHz, shall not cause harmful interference to, nor claim protection from, Federal stations in the aeronautical radionavigation service operating in accordance with ITU Radio Regulation No. 5.449.

(131) G131 Federal stations in the radiolocation service operating in the band 5470-5650 MHz, with the exception of ground-based radars used for meteorological purposes operating in the band 5600-5650 MHz, shall not cause harmful interference to, nor claim protection from, Federal stations in the maritime radionavigation service.

(132) G132 Use of the radionavigation-satellite service in the band 1215-1240 MHz shall be subject to the condition that no harmful interference is caused to, and no protection is claimed from, the radionavigation service authorized under ITU Radio Regulation No. 5.331. Furthermore, the use of the radionavigation-satellite service in the band 1215-1240 MHz shall be subject to the condition that no harmful interference is caused to the radiolocation service. ITU Radio Regulation No. 5.43 shall not apply in respect of the radiolocation service. ITU Resolution 608 (Rev.WRC-15) shall apply.

(133) [Reserved]

(134) G134 In the band 7190-7235 MHz, Federal earth stations operating in the meteorological-satellite service (Earth-to-space) may be authorized subject to the following conditions:

(i) Earth stations are limited to those communicating with the Department of Commerce Geostationary Operational Environmental Satellites (GOES).

(ii) There shall not be more than five earth stations authorized at one time.

(iii) The GOES satellite receiver shall not claim protection from existing and future stations in the fixed service (ITU Radio Regulation No. 5.43A does not apply).

[FR Doc. 2023-11972 Filed 6-6-23; 8:45 am]

BILLING CODE 6712-01-P